DEPARTMENT OF HEALTH AND HUMAN SERVICES

Centers for Medicare & Medicaid Services

42 CFR Part 424

[CMS-1282-P]

RIN 0938-AN65

Medicare Program; Prospective Payment System and Consolidated Billing for Skilled Nursing Facilities for FY 2006

AGENCY: Centers for Medicare & Medicaid Services (CMS), HHS.

ACTION: Proposed rule.

SUMMARY: This proposed rule would update the payment rates used under the prospective payment system (PPS) for skilled nursing facilities (SNFs), for fiscal year (FY) 2006, as required by statute. Annual updates to the PPS rates are required by section 1888(e) of the Social Security Act (the Act), as amended by the Medicare, Medicaid, and SCHIP Balanced Budget Refinement Act of 1999 (BBRA), the Medicare, Medicaid, and State Children's Health Insurance Program (SCHIP) Benefits Improvement and Protection Act of 2000 (BIPA), and the Medicare Prescription Drug, Improvement, and Modernization Act of 2003 (MMA), relating to Medicare payments and consolidated billing for SNFs. As part of this year's annual update, we are proposing to introduce refinements in the Resource Utilization Groups, version III (RUG-III), the case-mix classification system used under the SNF PPS.

DATES: To be assured consideration, comments must be received at one of the addresses provided below, no later than 5 p.m. on July 12, 2005.

ADDRESSES: In commenting, please refer to file code CMS-1282-P. Because of staff and resource limitations, we cannot accept comments by facsimile (FAX) transmission.

You may submit comments in one of three ways (no duplicates, please):

1. Electronically. You may submit electronic comments on specific issues in this regulation to http://www.cms.hhs.gov/regulations/ecomments. (Attachments should be in Microsoft Word, WordPerfect, or Excel; however, we prefer Microsoft Word.)

2. By mail. You may mail written comments (one original and two copies) to the following address ONLY: Centers for Medicare & Medicaid Services, Department of Health and Human Services, Attention: CMS-1282-P, P.O. Box 8016, Baltimore, MD 21244-8016.

Please allow sufficient time for mailed comments to be received before the close of the comment period.

3. By hand or courier. If you prefer, you may deliver (by hand or courier) your written comments (one original and two copies) before the close of the comment period to one of the following addresses. If you intend to deliver your comments to the Baltimore, Maryland address, please call telephone number (410) 786-9994 in advance to schedule your arrival with one of our staff members. Room 445-G, Hubert H. Humphrey Building, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT: Ellen Gay, (410) 786-4528 (for information related to the case-mix classification methodology, and for information related to swing-bed providers).

Jeanette Kranacs, (410) 786-9385 (for information related to the development of the payment rates, and for information related to the wage index).

Bill Ullman, (410) 786-5667 (for information related to coverage requirements, level of care determinations, consolidated billing, and general information).

SUPPLEMENTARY INFORMATION: Submitting Comments: We welcome comments from the public on all issues set forth in this rule to assist us in fully considering issues and developing policies. You can assist us by referencing the file code CMS-1282-P and the specific “issue identifier” that precedes the section on which you choose to comment.

Inspection of Public Comments: All comments received before the close of the comment period are available for viewing by the public, including any personally identifiable or confidential business information that is included in a comment. CMS posts all electronic comments received before the close of the comment period on its public Web site as soon as possible after they have been received. Hard copy comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

To assist readers in referencing sections contained in this document, we are providing the following Table of Contents.

Table of Contents

I. Background

A. Current System for Payment of Skilled Nursing Facility Services Under Part A of the Medicare Program

B. Requirements of the Balanced Budget Act of 1997 (the BBA) for Updating the Prospective Payment System for Skilled Nursing Facilities

C. The Medicare, Medicaid, and SCHIP Balanced Budget Refinement Act of 1999 (the BBRA)

D. The Medicare, Medicaid, and SCHIP Benefits Improvement and Protection Act of 2000 (the BIPA)

E. The Medicare Prescription Drug, Improvement, and Modernization Act of 2003 (the MMA)

F. Skilled Nursing Facility Prospective Payment—General Overview

1. Payment Provisions—Federal Rates

2. Payment Provisions—Initial Transition Period

G. Use of the Skilled Nursing Facility Market Basket Index

II. Update of Payment Rates Under the Prospective Payment System for Skilled Nursing Facilities

A. Federal Prospective Payment System

1. Costs and Services Covered by the Federal Rates

2. Methodology Used for the Calculation of the Federal Rates

B. Case-Mix Adjustment and Other Clinical Issues

1. Background

2. Case-Mix Refinement Research

a. Data Sources and Analyses

b. Constructing the New RUG-III Groups

c. Development of the Case-Mix Indexes

3. Proposed Refinements to the Case-Mix Classification System

4. Implementation Issues

5. Assessment Timeframes

6. SNF Certifications and Recertifications Performed by Nurse Practitioners and Clinical Nurse Specialists

7. Concurrent Therapy

C. Wage Index Adjustment to Federal Rates

D. Proposed Area Wage Index

1. Proposed Revision of SNF PPS Geographic Classifications

2. Current SNF PPS Labor Market Areas Based on MSAs

3. Core-Based Statistical Areas

4. Proposed Revisions to the SNF PPS Labor Market Areas

a. New England MSAs

b. Metropolitan Divisions

c. Micropolitan Areas

5. Implementation of the Revised Labor Market Areas

6. Wage Index Data

E. Updates to the Federal Rates

F. Relationship of RUG-III Classification System to Existing Skilled Nursing Facility Level-of-Care Criteria

G. Initial Three-Year Transition Period From Facility Specific to Federal Rates

H. Example of Computation of Adjusted PPS Rates and SNF Payment

III. The Skilled Nursing Facility Market Basket Index

A. Use of the Skilled Nursing Facility Market Basket Percentage

B. Market Basket Forecast Error Adjustment

C. Federal Rate Update Factor

IV. Consolidated Billing

V. Application of the SNF PPS to SNF Services Furnished by Swing-Bed Hospitals

VI. Qualifying Three-Day Inpatient Hospital Stay Requirement

VII. Provisions of the Proposed Rule

VIII. Collection of Information Requirements

IX. Regulatory Impact Analysis

A. Overall Impact

B. Anticipated Effects

C. Accounting Statement

D. Alternatives Considered

Regulation Text

Addendum: Table 8 (Proposed Wage Index For Urban Areas Based On Core-Based Statistical Area (CBSA) Labor Market Areas); Table 9 (Proposed Wage Index For Rural Areas Based On CBSA Labor Market Areas); and Table A (Metropolitan Statistical Area (MSA)/CBSA Crosswalk)

In addition, because of the many terms to which we refer by abbreviation in this proposed rule, we are listing these abbreviations and their corresponding terms in alphabetical order below:

ADL Activity of Daily Living

AHE Average Hourly Earnings

ARD Assessment Reference Date

BBA Balanced Budget Act of 1997, Pub. L. 105-33

BBRA Medicare, Medicaid and SCHIP Balanced Budget Refinement Act of 1999, Pub. L. 106-113

BEA (U.S. Department of Commerce) Bureau of Economic Analysis

BIPA Medicare, Medicaid, and SCHIP Benefits Improvement and Protection Act of 2000, Pub. L. 106-554

CAH Critical Access Hospital

CBSA Core-Based Statistical Area

CFR Code of Federal Regulations

CMS Centers for Medicare & Medicaid Services

CMSA Consolidated Metropolitan Statistical Area

CPT (Physicians') Current Procedural Terminology

DRG Diagnosis Related Group

FI Fiscal Intermediary

FR Federal Register

FY Fiscal Year

GAO Government Accountability Office

HCPCS Healthcare Common Procedure Coding System

ICD-9-CM International Classification of Diseases, Ninth Edition, Clinical Modification

IFC Interim Final Rule with Comment Period

MDS Minimum Data Set

MEDPAR Medicare Provider Analysis and Review File

MIP Medicare Integrity Program

MMA Medicare Prescription Drug, Improvement, and Modernization Act of 2003, Pub. L. 108-173

MSA Metropolitan Statistical Area

NECMA New England County Metropolitan Area

OIG Office of Inspector General

OMRA Other Medicare Required Assessment

PCE Personal Care Expenditures

PMSA Primary Metropolitan Statistical Area

PPI Producer Price Index

PPS Prospective Payment System

PRM Provider Reimbursement Manual

RAI Resident Assessment Instrument

RAP Resident Assessment Protocol

RAVEN Resident Assessment Validation Entry

RFA Regulatory Flexibility Act, Pub. L. 96-354

RIA Regulatory Impact Analysis

RUG Resource Utilization Groups

SCHIP State Children's Health Insurance Program

SNF Skilled Nursing Facility

STM Staff Time Measure

UMRA Unfunded Mandates Reform Act, Pub. L. 104-4

I. Background

On July 30, 2004, we published a notice in the Federal Register (69 FR 45775) that set forth updates to the payment rates used under the prospective payment system (PPS) for skilled nursing facilities (SNFs), for fiscal year (FY) 2005. Annual updates to the PPS rates are required by section 1888(e) of the Social Security Act (the Act), as amended by the Medicare, Medicaid, and SCHIP Balanced Budget Refinement Act of 1999 (the BBRA) and the Medicare, Medicaid, and SCHIP Benefits Improvement and Protection Act of 2000 (the BIPA), relating to Medicare payments and consolidated billing for SNFs.

A. Current System for Payment of Skilled Nursing Facility Services Under Part A of the Medicare Program

Section 4432 of the Balanced Budget Act of 1997 (the BBA) amended section 1888 of the Act to provide for the implementation of a per diem PPS for SNFs, covering all costs (routine, ancillary, and capital-related) of covered SNF services furnished to Medicare beneficiaries under Part A of the Medicare program, effective for cost reporting periods beginning on or after July 1, 1998. In this proposed rule, we propose to update the per diem payment rates for SNFs for FY 2006. Major elements of the SNF PPS include:

• Rates. Per diem Federal rates were established for urban and rural areas using allowable costs from FY 1995 cost reports. These rates also included an estimate of the cost of services that, before July 1, 1998, had been paid under Part B but were furnished to Medicare beneficiaries in a SNF during a Part A covered stay. The rates were adjusted annually using a SNF market basket index. Rates were case-mix adjusted using a classification system (Resource Utilization Groups, version III (RUG-III)) based on beneficiary assessments (using the Minimum Data Set (MDS) 2.0). The rates were also adjusted by the hospital wage index to account for geographic variation in wages. (In section II.C of this preamble, we discuss the wage index adjustment in detail.)

Correction notices were published in the Federal Register on October 7, 2004 (69 FR 60158) and on December 30, 2004 (69 FR 78445), announcing corrections to several of the wage factors. Additionally, as noted in sections I.C through I.E of this proposed rule, section 101 of the BBRA, sections 311, 312, and 314 of the BIPA, and section 511 of the MMA also affect the payment rate.

• Transition. The SNF PPS included an initial 3-year, phased transition that blended a facility-specific payment rate with the Federal case-mix adjusted rate. For each cost reporting period after a facility migrated to the new system, the facility-specific portion of the blend decreased and the Federal portion increased in 25 percentage point increments. For most facilities, the facility-specific rate was based on allowable costs from FY 1995; however, since the last year of the transition was FY 2001, all facilities were paid at the full Federal rate by the following fiscal year (FY 2002). Therefore, as discussed in section I.F.2 of this proposed rule, we are no longer including adjustment factors related to facility-specific rates for the coming fiscal year.

• Coverage. The establishment of the SNF PPS did not change Medicare's fundamental requirements for SNF coverage. However, because RUG-III classification is based, in part, on the beneficiary's need for skilled nursing care and therapy, we have attempted, where possible, to coordinate claims review procedures involving level of care determinations with the outputs of beneficiary assessment and RUG-III classifying activities. We discuss this coordination in greater detail in section II.F of this preamble. Moreover, the Part A SNF benefit has not only level of care requirements, but also a set of technical, or “posthospital” requirements as well. In section VI of this preamble, we discuss one aspect of the technical requirement for a qualifying prior inpatient hospital stay of at least 3 consecutive days, on which we invite comment.

• Consolidated Billing. The SNF PPS includes a consolidated billing provision (described in greater detail in section IV of this proposed rule) that requires a SNF to submit consolidated Medicare bills for almost all of the services that its residents receive during the course of a covered Part A stay. (In addition, this provision places the Medicare billing responsibility for physical, occupational, and speech-language therapy that the resident receives during a noncovered stay with the SNF.) The statute excludes from the consolidated billing provision a small list of services—primarily those of physicians and certain other types of practitioners—which remain separately billable to Part B by the outside entity that furnishes them.

• Application of the SNF PPS to SNF services furnished by swing-bed hospitals. Section 1883 of the Act permits certain small, rural hospitals to enter into a Medicare swing-bed agreement, under which the hospital can use its beds to provide either acute or SNF care, as needed. For critical access hospitals (CAHs), Part A pays on a reasonable cost basis for SNF services furnished under a swing-bed agreement. However, in accordance with section 1888(e)(7) of the Act, those swing-bed SNF services furnished by non-CAH rural hospitals are paid under the SNF PPS, effective with cost reporting periods beginning on or after July 1, 2002. A more detailed discussion of this provision appears in section V of this proposed rule.

B. Requirements of the Balanced Budget Act of 1997 (the BBA) for Updating the Prospective Payment System for Skilled Nursing Facilities

Section 1888(e)(4)(H) of the Act requires that we publish in the Federal Register:

1. The unadjusted Federal per diem rates to be applied to days of covered SNF services furnished during the FY.

2. The case-mix classification system to be applied with respect to these services during the FY.

3. The factors to be applied in making the area wage adjustment with respect to these services.

In the July 30, 1999 final rule (64 FR 41670), we indicated that we would announce any changes to the guidelines for Medicare level of care determinations related to modifications in the RUG-III classification structure (see section II.F of this proposed rule).

Along with a number of other revisions discussed later in this preamble, this proposed rule provides the annual updates to the Federal rates as mandated by the Act.

C. The Medicare, Medicaid, and SCHIP Balanced Budget Refinement Act of 1999 (the BBRA)

There were several provisions in the BBRA that resulted in adjustments to the SNF PPS. These provisions were described in detail in the final rule that we published in the Federal Register on July 31, 2000 (65 FR 46770). In particular, section 101 of the BBRA provided for a temporary 20 percent increase in the per diem adjusted payment rates for 15 specified RUG-III groups (SE3, SE2, SE1, SSC, SSB, SSA, CC2, CC1, CB2, CB1, CA2, CA1, RHC, RMC, and RMB). Under the law, this temporary increase remains in effect until the later of October 1, 2000, or the implementation of case-mix refinements in the PPS. A discussion of the case-mix refinements that we are proposing to implement appears in section II.B of this proposed rule. Section 101 also included a 4 percent across-the-board increase in the adjusted Federal per diem payment rates each year for FYs 2001 and 2002, exclusive of the 20 percent increase.

We included further information on all of the provisions of the BBRA that affect the SNF PPS in Program Memoranda A-99-53 and A-99-61 (December 1999), and Program Memorandum AB-00-18 (March 2000). In addition, for swing-bed hospitals with more than 49 (but less than 100) beds, section 408 of the BBRA provided for the repeal of certain statutory restrictions on length of stay and aggregate payment for patient days, effective with the end of the SNF PPS transition period described in section 1888(e)(2)(E) of the Act. In the July 31, 2001 final rule (66 FR 39562), we made conforming changes to the regulations in 42 CFR section 413.114(d), effective for services furnished in cost reporting periods beginning on or after July 1, 2002, to reflect section 408 of the BBRA.

D. The Medicare, Medicaid, and SCHIP Benefits Improvement and Protection Act of 2000 (the BIPA)

The BIPA also included several provisions that resulted in adjustments to the PPS for SNFs. These provisions were described in detail in the final rule that we published in the Federal Register on July 31, 2001 (66 FR 39562) as follows:

• Section 203 of the BIPA exempted critical access hospital (CAH) swing-beds from the SNF PPS; we included further information on this provision in Program Memorandum A-01-09 (January 16, 2001).

• Section 311 of the BIPA eliminated the 1 percent reduction in the SNF market basket that the statutory update formula had previously specified for FY 2001, and changed the 1 percent reduction specified for FYs 2002 and 2003 to a 0.5 percent reduction. As discussed in section II.B of this proposed rule, this provision also required us to conduct a study of alternative case-mix classification systems for the SNF PPS, and to submit a report to the Congress on the results of the study.

• Section 312 of the BIPA provided for a temporary 16.66 percent increase in the nursing component of the case-mix adjusted Federal rate for services furnished on or after April 1, 2001, and before October 1, 2002. This section also required the Government Accountability Office (GAO) to conduct an audit of SNF nursing staff ratios and submit a report to the Congress on whether the temporary increase in the nursing component should be continued. GAO issued this report (GAO-03-176) in November 2002.

• Section 313 of the BIPA repealed the consolidated billing requirement for services (other than physical, occupational, and speech-language therapy) furnished to SNF residents during noncovered stays, effective January 1, 2001.

• Section 314 of the BIPA adjusted the payment rates for all of the 14 rehabilitation RUGs (RUC, RUB, RUA, RVC, RVB, RVA, RHC, RHB, RHA, RMC, RMB, RMA, RLB, and RLA), in order to correct an anomaly under which the existing payment rates for three particular rehabilitation RUGs—RHC, RMC, and RMB—were higher than the rates for some other, more intensive rehabilitation RUGs. Under the BIPA adjustment, the temporary increase that section 101(a) of the BBRA had applied to the RHC, RMC, and RMB rehabilitation RUGs was revised from 20 percent to 6.7 percent, and the BIPA adjustment also applied this temporary 6.7 percent increase to each of the other 11 rehabilitation RUGs.

• Section 315 of the BIPA authorized us to establish a geographic reclassification procedure that is specific to SNFs, but only after collecting the data necessary to establish a SNF wage index that is based on wage data from nursing homes.

We included further information on several of these provisions in Program Memorandum A-01-08 (January 16, 2001).

E. The Medicare Prescription Drug, Improvement, and Modernization Act of 2003 (the MMA)

A provision of the Medicare Prescription Drug, Improvement, and Modernization Act of 2003 (MMA) resulted in a further adjustment to the PPS for SNFs. Specifically, section 511 of the MMA amended paragraph (12) of section 1888(e) of the Act to provide for a temporary 128 percent increase in the PPS per diem payment for any SNF resident with Acquired Immune Deficiency Syndrome (AIDS), effective with services furnished on or after October 1, 2004. As discussed in Transmittal #160 (Change Request #3291, April 30, 2004), this add-on applies to claims with diagnosis code 042. Like the temporary add-on payments created by section 101(a) of the BBRA (as amended by section 314 of the BIPA), this special AIDS add-on was not intended to remain in effect indefinitely. As amended by section 511 of the MMA, section 1888(e)(12)(B) of the Act specifies that this temporary increase for patients with AIDS is to remain in effect only until “* * * such date as the Secretary certifies that there is an appropriate adjustment in the case mix * * * to compensate for the increased costs associated with [such] residents * * *.” As discussed elsewhere in this proposed rule, we are not proposing at this time to address the issue of such certification and, accordingly, the temporary add-on payments created by section 511 of the MMA will remain in effect during FY 2006.

The law further provided that the 128 percent increase in payment under the AIDS add-on is to be “ * * * determined without regard to any increase” under section 101 of the BBRA (as amended by section 314 of the BIPA). As explained in the MMA Conference report, this means that if a resident qualifies for the temporary 128 percent increase in payment under the special AIDS add-on, “the BBRA temporary RUG add-on does not apply in this case * * *.” (H.R. Conf. Rep. No. 108-391 at 662). The AIDS add-on was also discussed in Transmittal #160 (Change Request #3291), issued on April 30, 2004, which is available online at http://www.cms.hhs.gov/manuals/pm_trans/2004/transmittals/comm_date_dsc.asp.

In addition, section 410 of the MMA contained a provision that affects the consolidated billing requirement, which we discuss in section IV of this proposed rule.

F. Skilled Nursing Facility Prospective Payment—General Overview

The Medicare SNF PPS was implemented for cost reporting periods beginning on or after July 1, 1998. Under the PPS, we pay SNFs through prospective, case-mix adjusted per diem payment rates applicable to all covered SNF services. These payment rates cover all the costs of furnishing covered skilled nursing services (routine, ancillary, and capital-related costs) other than costs associated with approved educational activities. Covered SNF services include post-hospital services for which benefits are provided under Part A and all items and services that, before July 1, 1998, had been paid under Part B (other than physician and certain other services specifically excluded under the BBA) but furnished to Medicare beneficiaries in a SNF during a covered Part A stay. A complete discussion of these provisions appears in the May 12, 1998 interim final rule (63 FR 26252).

1. Payment Provisions—Federal Rate

The PPS uses per diem Federal payment rates based on mean SNF costs in a base year updated for inflation to the first effective period of the PPS. We developed the Federal payment rates using allowable costs from hospital-based and freestanding SNF cost reports for reporting periods beginning in FY 1995. The data used in developing the Federal rates also incorporated an estimate of the amounts that would be payable under Part B for covered SNF services furnished to individuals during the course of a covered Part A stay in a SNF.

In developing the rates for the initial period, we updated costs to the first effective year of PPS (the 15-month period beginning July 1, 1998) using a SNF market basket, and then standardized for the costs of facility differences in case-mix and for geographic variations in wages. Providers that received new provider exemptions from the routine cost limits were excluded from the database used to compute the Federal payment rates, as well as costs related to payments for exceptions to the routine cost limits. In accordance with the formula prescribed in the BBA, we set the Federal rates at a level equal to the weighted mean of freestanding costs plus 50 percent of the difference between the freestanding mean and weighted mean of all SNF costs (hospital-based and freestanding) combined. We computed and applied separately the payment rates for facilities located in urban and rural areas. In addition, we adjusted the portion of the Federal rate attributable to wage-related costs by a wage index.

The Federal rate also incorporates adjustments to account for facility case-mix, using a classification system that accounts for the relative resource utilization of different patient types. This classification system, Resource Utilization Groups, version III (RUG-III), uses beneficiary assessment data from the Minimum Data Set (MDS) completed by SNFs to assign beneficiaries to one of 44 RUG-III groups. The May 12, 1998 interim final rule (63 FR 26252) included a complete and detailed description of the RUG-III classification system, and a further discussion appears in section II.B of this proposed rule.

The Federal rates in this proposed rule reflect an update to the rates that we published for FY 2005 equal to the full change in the SNF market basket index. According to section 1888(e)(4)(E)(ii)(IV) of the Act, for FY 2006, we would update the rate by adjusting the current rates by the full SNF market basket index.

2. Payment Provisions—Initial Transition Period

The SNF PPS included an initial, phased transition from a facility-specific rate (which reflected the individual facility's historical cost experience) to the Federal case-mix adjusted rate. The transition extended through the facility's first three cost reporting periods under the PPS, up to and including the one that began in FY 2001. Accordingly, starting with cost reporting periods beginning in FY 2002, we base payments entirely on the Federal rates and, as indicated in section II.G of this proposed rule, we no longer include adjustment factors related to facility-specific rates for the coming fiscal year.

G. Use of the Skilled Nursing Facility Market Basket Index

Section 1888(e)(5) of the Act requires us to establish a SNF market basket index that reflects changes over time in the prices of an appropriate mix of goods and services included in the covered SNF services. The SNF market basket index is used to update the Federal rates on an annual basis. The final rule published on July 31, 2001 (66 FR 39562) revised and rebased the market basket to reflect 1997 total cost data.

In addition, as explained in the FY 2004 final rule (68 FR 46058, August 4, 2003) and in section III.B of this proposed rule, the annual update of the payment rates includes, as appropriate, an adjustment to account for market basket forecast error. This adjustment takes into account the forecast error from the most recently available fiscal year for which there are final data, and is applied whenever the difference between the forecasted and actual change in the market basket exceeds a 0.25 percentage point threshold. For FY 2004 (the most recently available fiscal year for which there are final data), the estimated increase in the market basket index was 3.0 percentage points, while the actual increase was 3.1 percentage points. Therefore, the payment rates for FY 2006 do not include a forecast error adjustment, as the difference between the estimated and actual amounts of change does not exceed the 0.25 percentage point threshold. Table 1 below shows the forecasted and actual market basket amounts for FY 2004.

Table 1.—FY 2004 Forecast Error Correction for CMS SNF Market Basket
Index | Forecasted FY 2004 increase * | Actual FY 2004 increase ** | FY 2004 forecast error correction ***
SNF | 3.0 | 3.1 | 0.0
* Published in August 4, 2003 Federal Register; based on second quarter 2003 Global Insight/DRI-WEFA forecast.
** Based on the fourth quarter 2004 Global Insight/DRI-WEFA forecast.
*** The FY 2004 forecast error correction will be applied to the FY 2006 PPS update. Any forecast error less than 0.25 percentage points is not reflected in the update.

II. Update of Payment Rates Under the Prospective Payment System for Skilled Nursing Facilities

A. Federal Prospective Payment System

This proposed rule sets forth a schedule of Federal prospective payment rates applicable to Medicare Part A SNF services beginning October 1, 2005. The schedule incorporates per diem Federal rates that provide Part A payment for all costs of services furnished to a beneficiary in a SNF during a Medicare-covered stay.

1. Costs and Services Covered by the Federal Rates

The Federal rates apply to all costs (routine, ancillary, and capital-related costs) of covered SNF services other than costs associated with approved educational activities as defined in § 413.85. Under section 1888(e)(2) of the Act, covered SNF services include post-hospital SNF services for which benefits are provided under Part A (the hospital insurance program), as well as all items and services (other than those services excluded by statute) that, before July 1, 1998, were paid under Part B (the supplementary medical insurance program) but furnished to Medicare beneficiaries in a SNF during a Part A covered stay. (These excluded service categories are discussed in greater detail in section V.B.2 of the May 12, 1998 interim final rule (63 FR 26295 through 63 FR 26297)).

2. Methodology Used for the Calculation of the Federal Rates

The proposed FY 2006 rates would reflect an update using the full amount of the latest market basket index. The FY 2006 market basket increase factor is estimated to be 3.0 percent. Consistent with previous years, this factor may be revised in the final rule when later forecast data are available. For a complete description of the multi-step process, see the May 12, 1998 interim final rule (63 FR 26252). We note that in accordance with section 101(a) of the BBRA and section 314 of the BIPA, the existing, temporary increase in the per diem adjusted payment rates of 20 percent for certain specified clinically complex RUGs (and 6.7 percent for rehabilitation RUGs) remains in effect until the implementation of case-mix refinements. (A discussion of the case-mix refinements that we now propose to implement appears in section II.B of this preamble.)

We used the SNF market basket to adjust each per diem component of the Federal rates forward to reflect cost increases occurring between the midpoint of the Federal fiscal year beginning October 1, 2004, and ending September 30, 2005, and the midpoint of the Federal fiscal year beginning October 1, 2005, and ending September 30, 2006, to which the payment rates apply. In accordance with section 1888(e)(4)(E)(ii)(IV) of the Act, the payment rates for FY 2006 are updated by a factor equal to the full market basket index percentage. The rates would be further adjusted by a wage index budget neutrality factor, described later in this section. The unadjusted rates are the same under both the existing 44 group RUG classification system and the proposed RUG-53 classification system. Tables 2 and 3 reflect the updated components of the unadjusted Federal rates for FY 2006.

Table 2.—FY 2006 Unadjusted Federal Rate Per Diem—Urban
Rate component | Nursing—case-mix | Therapy—case-mix | Therapy—non-case-mix | Non-case-mix
Per Diem Amount | $137.44 | $103.53 | $13.63 | $70.15

Table 3.—FY 2006 Unadjusted Federal Rate Per Diem—Rural
Rate component | Nursing—case-mix | Therapy—case-mix | Therapy—non-case-mix | Non-case-mix
Per Diem Amount | $131.30 | $119.38 | $14.56 | $71.45

B. Case-Mix Adjustment and Other Clinical Issues

[If you choose to comment on issues in this section, please include the caption “Case-Mix Adjustment and Other Clinical Issues” at the beginning of your comments.]

Under the BBA, we must publish the SNF PPS case-mix classification methodology applicable for the next Federal FY before August 1 of each year. As discussed in the following sections, we propose to begin utilizing a refinement to the RUG-III case-mix classification system applicable to the SNF PPS during FY 2006, and we specifically solicit comments on the proposed refinement.

1. Background

The SNF PPS replaced the cost-based structure that had been in effect since the inception of the Medicare program. Under the SNF PPS, providers have more flexibility in the use of Medicare funds but are responsible not only for furnishing the full range of services to Medicare beneficiaries, but for the cost effectiveness of their purchasing decisions. Like the inpatient hospital PPS, reimbursement for all services, including therapy and other ancillaries such as diagnostic tests, supplies, and pharmacy, were for the first time included in the SNF Part A “bundle of services” and reimbursed directly to the SNF rather than to the actual entity furnishing the service.

In addition, in response to over a decade of rapidly rising Medicare SNF payments, the SNF PPS instituted controls to adjust for identified overutilization and inflated charge structures for therapy and other ancillary services. By restructuring the payment system to reflect a more appropriate expenditure level, there was an aggregate decrease in Medicare expenditure levels for the first SNF PPS year. Providers responded to the SNF PPS by restructuring their operations and practice patterns in an effort to adapt to the new payment structure and incentives.

These rapid changes in facility practices and Medicare payment also generated significant concerns that the transition to a prospective payment system would impede access for beneficiaries with complex medical needs and, by decreasing aggregate payments to SNFs, negatively affect the quality of care in nursing homes across the country. The research presented in this proposed rule was initiated as part of a broad-based effort to investigate and respond to access, quality, and payment concerns raised by industry, advocates, and other stakeholders.

During the course of this effort, CMS developed tools to monitor and evaluate quality of care that are now integral components of our program oversight activities, including the use of Quality Indicators, Quality Measures, and Nursing Home Compare. As discussed later in this section, the development of these new capabilities has also positioned us to move forward in new areas. The refinements discussed in this section are based on research originally conducted by Abt Associates (and later validated by the Urban Institute) that was initiated immediately after the introduction of the SNF PPS in 1999.

In the BBRA, the Congress acted to address these access and quality concerns by enacting a series of temporary payment adjustments. At present, only one of these payment adjustments is still in effect, a 20 percent increase in the per diem adjusted payment rates for 12 complex medical RUG-III groups (SE3, SE2, SE1, SSC, SSB, SSA, CC2, CC1, CB2, CB1, CA2, and CA1,) and a 6.7 percent increase to all 14 rehabilitation groups. This legislation specified that the payment adjustments would continue until the later of: (1) October 1, 2000, or (2) implementation of a refined case-mix classification system under section 1888(e)(4)(G)(i) of the Act that would better account for medically complex patients.

As we noted in the SNF PPS proposed rule for FY 2001 (65 FR 19190, April 10, 2000), this mandated rate increase was intended to serve as a temporary, interim adjustment to the payment rates and RUG-III case-mix classification system as published in the final rule of July 30, 1999, until implementation of the case-mix refinements described in the legislation. In that FY 2001 proposed rule, we included a proposal for an extensive, comprehensive set of refinements to the existing case-mix classification system that collectively would have resulted in expanding the existing 44-group structure to well over 150 groups.

The speed with which we conducted this initial evaluation of the SNF PPS demonstrated our commitment to ensuring the accuracy and equity of the new payment system, but the evaluation had important limitations. Comprehensive SNF PPS data were not yet available, and the research was conducted using 1995-1997 data housed in a large, cross-linked research database collected from only six states that had implemented a RUG-III payment system prior to July 1998 (either through the Federal case-mix demonstration project or for state Medicaid payment). These limitations were explained in the proposed rule along with our plans to validate the data using a national SNF PPS database (65 FR 19193, April 10, 2000).

In conducting the validation analyses, it became clear that the introduction of the SNF PPS and SNF consolidated billing had caused changes in facility practice patterns and billing. Some of these changes could also have been related to the use of a national database and to changing industry practices during the early stages of the SNF PPS implementation. While it was still true that beneficiaries requiring both rehabilitation and extensive medical services used greater amounts of ancillary services, the distribution patterns for those high-cost ancillaries (such as medications and respiratory therapy) had changed from the patterns in the six-state data. These results, in conjunction with the high degree of intra-group and inter-group variability in ancillary utilization identified in both the initial and validation analyses, raised new questions that needed to be addressed prior to implementing refinements. For these reasons, we decided not to implement such refinements at that time. (See the FY 2001 final rule, 65 FR 46773, July 31, 2000.)

Several months later, the Congress enacted the BIPA. Of the various provisions of this legislation that addressed the SNF PPS, one directive also addressed the future development of the SNF PPS. Specifically, section 311(e) of the BIPA directed us to conduct a study of the different systems for categorizing patients in Medicare SNFs in a manner that accounts for the relative resource utilization of different patient types and to issue a report with any appropriate recommendations to the Congress.

Based upon the broad language describing the purpose of this study, and the multi-year timeframe provided for conducting it, we believe that the Congress clearly intended for this study to address comprehensive changes, by evaluating a number of different classification systems and considering the full range of patient types. In contrast, since the BBRA specifically ties the duration of its temporary payment increases to the implementation of a case-mix refinement that would “better account for medically complex patients,” we believe that even case-mix refinements of a more incremental nature would meet this more targeted mandate to better account for medically complex patients, and need not await the completion of the broader changes envisioned in the BIPA provision.

Moreover, ongoing analysis of the SNF PPS showed that providers have adjusted to it, and that the SNF PPS rates have generally covered the cost of care to Medicare beneficiaries. For example, in its March 2005 report, MedPAC estimated 2005 profit margins for freestanding SNFs of 13 percent. In this environment, it is appropriate to reevaluate the need for maintaining payment adjustments that were always intended to be temporary.

2. Case-Mix Refinement Research

a. Data Sources and Analyses

In July 2001, we awarded a contract to the Urban Institute (Urban) for performance of research to aid us in making refinements to the case-mix classification system under section 1888(e)(4)(G)(i) of the Act and starting the case-mix study mandated by section 311(e) of the BIPA. The first phase of the contract focused on developing options for refining the case-mix classification system under section 1888(e)(4)(G)(i) of the Act to account for medically complex patients. As part of this research, Urban updated and broadened the database created for the previous refinement analyses by using 1999 matched MDS and SNF claims, and applied the latest cost report data (1998 and 1999) to estimate costs more accurately for non-therapy ancillary and other services.

We then used this updated and broadened database to replicate and validate the earlier studies conducted by Abt. The study used Medicare SNF claims data for calendar year 1999 and MDS data from our National MDS Repository. We matched the claims to the MDS assessments upon which they were based, yielding approximately 2.7 million MDS segments, resulting in every national facility that billed Medicare for a Part A SNF stay in 1999 being represented in the database. We allocated the non-therapy ancillary costs to the portion of the stay in which they were most likely to have been incurred according to a set of decision rules. We performed comparative analyses of cost and charge data to other existing administrative data sets in order to establish the validity of these data. We also performed a further regression analysis of costs and RUG-III groups.

In addition, we constructed anew the case-mix indexes using our Staff Time Measurement (STM) study data. The STM data were collected in 1990, 1995, and 1997, and are described in the May 12, 1998 interim final rule (63 FR 26252) that implemented the SNF PPS.

Urban then analyzed 270,215 records, a 10 percent sample of this updated and broadened database. As expected, our analyses again verified that non-therapy ancillary costs are higher for Medicare beneficiaries who classify into the Extensive Services category than for those who classify to other categories. In these analyses, Urban found that the addition of a combined Rehabilitation plus Extensive group improved the predictive power of the model. These results were very similar to the preliminary Abt results discussed in our FY 2001 proposed rule, and provided validation for the preliminary Abt analyses (that is, both studies showed an increase in the R-square (explanation of variance) for non-therapy ancillaries from approximately 4.1 percent in the 44-group model to 8 percent in the 58-group model that added nine Rehabilitation plus Extensive groups).

Urban then replicated its results with 2001 data using the same analytic protocols. In this study, Urban found that the addition of a new RUG-III Rehabilitation plus Extensive category was consistent with the prior research. Urban used a 163,386 record test sample and found that the R-square for non-therapy ancillaries improved to 9.5 percent from the previous result of 4.1 percent mentioned above. The analyses were repeated on a 170,253 record validation sample with a comparable result; that is, an R-square of 10.3 percent.

While maintaining the general structure of the RUG-III system, we found that the most viable way to refine the system at the present time would be to add groups to the top of the hierarchy to capture beneficiaries who qualify for both the Extensive Services category and the Rehabilitation Therapy category. In addition, beneficiaries who qualify for Extensive Services and receive rehabilitation services have assumed a larger percentage of the Medicare patient population in SNFs in recent years. Therefore, we believe that the RUG-III case-mix classification system can provide even more accurate payment for these beneficiaries if refined to create a new RUG-III category for beneficiaries who qualify for both the Extensive Services and Rehabilitation Therapy categories.

b. Constructing the New RUG-III Groups

Our research findings showed little or no correlation between the groups within the Extensive Services category (that is, SE1, SE2, SE3) and the level of rehabilitation services used. For this reason, the structure for this new hierarchy level would closely mirror that of the existing Rehabilitation Therapy groups. Normally, this methodology would result in the creation of 14 new groups, the number that was originally proposed in the FY 2001 proposed rule. However, for the reasons discussed below, the more recent research (Urban 2003) has shown that a smaller number of RUG-III groups are sufficient to address the needs of beneficiaries eligible for a new RUG-III category, Combined Rehabilitation and Extensive Care.

First, we found that several of the groups had very few beneficiaries assigned to them. In fact, no beneficiaries at all were assigned to several of the lowest ADL score rehabilitation groups. Second, under the present structure, each Rehabilitation group is sub-divided into three levels based on the activities of daily living (ADL) score. The lowest level ADL score for the Rehabilitation groups is either 4-7 or 4-8, and very few beneficiaries currently classify into those groups. No beneficiaries who would qualify for the proposed newly created groups would classify into such a low ADL score level, as a minimum ADL score of seven is required for classification into an Extensive Care group.

Therefore, it appears that stratification for the lowest level ADL scores for the proposed new groups would add needless complexity and, thus, would not be warranted. Instead, we propose to combine that level with the next higher level, and would no longer use the ADL scores lower than 7. Thus, the proposed new groups would be stratified only by two levels of ADL score. For example, the Rehabilitation High plus Extensive Services group would be subdivided into only two ADL levels, ADL scores of 7-12 and 13-18. This left us with only one level for Rehabilitation Low plus Extensive Services and with only two levels at each of the other sub-categories in the new category, for a total of 9 new groups. As a result, we are proposing the addition of 9 new RUG-III groups.

Table 3a.—Crosswalk Between Existing RUG-III Rehabilitation Groups and the Proposed Extensive Plus Rehabilitation Groups
| Current rehabilitation groups | New combined extensive plus rehabilitation groups
Rehab Ultra | • RUC-ADL 16-18. • RUB-ADL 9-15 • RUA-ADL 4-8 | • RUX-ADL 16-18. • RUL-ADL 7-15.
Rehab Very High | • RVC-ADL 16-18. • RVB-ADL 9-15. • RVA-ADL 4-8 | • RVX-ADL 16-18. • RVL-ADL 7-15.
Rehab High | • RHC-ADL 13-18. • RHB-ADL 8-12 . • RHA-ADL 4-7 | • RUX-ADL 13-18. • RUL-ADL 7-12.
Rehab Medium | • RHC-ADL 15-18 • RHB-ADL 8-14. • RHA-ADL 4-7 | • RUX-ADL 15-18. • RUL-ADL 7-14.
Rehab Low | • RLB-ADL 14-18 • RLA-ADL 4-13 | • RUX-ADL 7-18

c. Development of the Case-Mix Indexes

We developed the case-mix indexes for the proposed refined RUG-III system using the same method used for calculating the initial SNF PPS case-mix indexes. The original staff time studies conducted in 1990, 1995, and 1997 resulted in the assignment of resident-specific and non-resident specific time (minutes) to individual SNF residents. In the initial determination of the case-mix indexes, the residents were classified into the 44-group system and the minutes of staff time, nursing, and therapy services, where appropriate, remained associated with those residents. All of the staff time was stratified by type of staff providing the minutes of time (for example, RN, LPN, etc.), and the minutes were weighted for salary.

In order to calculate weights for the proposed refined system, we used the minutes as originally assigned at the individual patient level. We reclassified the patients into the proposed 53 groups with their associated wage-weighted minutes of resident-specific and nonresident-specific staff time. The next step was to apply these wage-weighted minutes to the entire sample population of 26 million days. We multiplied the population in each group by the wage-weighted minutes for each of the staff types. We then derived an average for the group using the sum of the wage-weighted minutes for all staff (nursing and therapy staff minutes were calculated separately) xxdivided by the total population for that group. The relative weight was then calculated by dividing that average by the average minutes across all of the RUG-III groups.

The nursing weights changed more than the therapy weights, due to the redistribution of patients from existing groups to the newly created proposed groups. Even though many of the beneficiaries who move into one of the proposed new groups are from an existing therapy group, the therapy weights are affected only slightly. This is because the amount of therapy time does not change significantly between the existing groups and the proposed new groups. The therapy groups were already narrowly stratified by minutes of therapy provided. The groups' weights would be affected only to the extent that the individual beneficiaries who are reclassified into one of the proposed new groups have unusually high or low minutes of therapy within the specific limits. The nursing weights are more affected by the reclassifications, as those are based on a much broader scope of possible minute values.

The therapy weights for the nine proposed Rehabilitation Therapy plus Extensive Services groups were identical to those for the comparable existing RUG-III rehabilitation therapy groups. Although we are capturing increased medical/clinical complexity with the proposed new groups, the therapy contribution remains the same as for the existing therapy groups. In this way, the Rehabilitation High therapy weight is identical to the new Rehabilitation High plus Extensive Services sub-category.

The effect of the increased number of groups and changes in the case-mix indexes should be distributional. By this we mean that the relative weights assigned to each RUG-III group would shift so that the proposed new Rehabilitation plus Extensive groups would have the highest relative weights and the weights for other RUG-III groups would decrease proportionally.

The results of applying these methods to index calculation worked well and yielded hierarchically sound indexes for all of the groups; that is, the indexes for the highest groups in the hierarchy are higher than for those below it, and this pattern holds throughout the proposed new category.

The nursing indexes in the new category, as well as in the existing rehabilitation category, are naturally more compressed (that is, encompass a smaller range) than those in the 44-group RUG-III rehabilitation groups. The groups within the new Rehabilitation plus Extensive category are more homogeneous than were the rehabilitation groups of the 44-group system. By removing the most clinically complex cases and better accounting for them by putting them in rehabilitation groups of their own, both the resulting proposed new category and the remaining rehabilitation category groups would be more homogeneous and, therefore, the relative weights for each set of groups would exhibit less variance.

Next, we simulated payments using the existing weights compared to the new weights to ensure that the refinement did not result in greater or lesser aggregate payments. The simulation results showed an almost exact match in payments under both case-mix models. However, the proposed new 53-group model did yield a slight decrease (less than 1 percent) in aggregate Medicare payments. To remove this minor variance, we then applied a factor of +.02 to calibrate the nursing indexes and re-ran the simulation. Using this calibration factor of +.02, we are able to ensure absolute parity of aggregate payment under the 53-group RUG-III system compared to the 44-group system.

Finally, we propose to provide for an additional adjustment to the nursing component of the case-mix weights (which includes non-therapy ancillary services) for all RUG-53 groups. As discussed further in section II.B.3 of this proposed rule, we have reviewed data that show a high degree of variability in non-therapy ancillary utilization, not only within but across RUG groups. Therefore, we believe that it is appropriate to adjust the case-mix weights for all 53 groups (that is, the existing 44 RUG-III groups plus the 9 new groups that we are proposing to create in this proposed rule) to better account for non-therapy ancillary variability. We would do this under our authority in section 1888(e)(4)(G)(i) of the Act to establish an “appropriate adjustment to account for case mix * * * *”

In determining the size of this adjustment, we considered not only the high degree of variability in non-therapy ancillary costs, but also the absence of an outlier policy under the SNF PPS. Accordingly, we looked at the outlier pool established under another post-acute care PPS, the one for inpatient rehabilitation facility (IRF) services, which is set at 3 percent of aggregate expenditures. For the purpose of this refinement, our calculations employed a comparable funding level that could be targeted toward payment of non-therapy ancillaries. Based on this analysis, we are proposing an increase to the nursing component of the case-mix weights (the component that includes non-therapy ancillaries) of approximately 8.4 percent, which equates to approximately 3 percent of aggregate expenditures under the SNF PPS. The final RUG-53 nursing indexes are presented in Tables 4a and 5a. Further information regarding this adjustment can be found in section II.B.3 of this proposed rule.

3. Proposed Refinements to the Case-Mix Classification System

[If you choose to comment on issues in this section, please include the caption “Proposed Refinements to the Case-Mix Classification System” at the beginning of your comments.]

We note that, of the various individual refinements that were collectively set forth in the FY 2001 proposed rule (65 FR 19194), the particular refinement that entailed the least amount of added complexity (yet addressed the medically complex patient) involved the creation of several additional groups that would comprise a new, combined Rehabilitation plus Extensive Services category. As we noted in that proposed rule:

There are * * * a significant number of beneficiaries who would classify into the Extensive Services category based on clinical conditions but who, because they are also receiving rehabilitation services, classify into one of the Rehabilitation groups instead (due to the hierarchical logic of the RUG-III classification system). These beneficiaries carry with them the same non-therapy ancillary costs associated with their complex clinical needs even though they are classified into a RUG-III Rehabilitation category. The high costs for beneficiaries in the Extensive Services category suggest that the payment rate for Extensive Services should be increased. However, increasing the payment rate without further adjustments could adversely affect provider incentives to provide therapy to beneficiaries requiring Extensive Services. Therefore, we expanded the scope of the proposed refinement to include new categories for beneficiaries who qualify for both Extensive Services and a RUG-III Rehabilitation category.

Further, as our subsequent research (discussed in the previous section) confirmed, the creation of a proposed new Rehabilitation plus Extensive category would be a means of accounting more accurately for the costs of certain medically complex patients, with the added benefit of a minimal degree of added complexity. We note that, in the past, some support has been expressed for making this particular type of modification to the existing case-mix classification system.

Therefore, we propose to refine the case-mix classification system under section 1888(e)(4)(G)(i) of the Act by creating a new, combined Rehabilitation plus Extensive category, that better accounts for medically complex patients, as required in section 101 of the BBRA. Accordingly, the payment rates set forth in this proposed rule reflect the use of the refined 53-group RUG classification system that we are proposing. The nine groups that we propose to add to the existing RUG-III system are as follows:

RUX Rehabilitation Ultra High plus Extensive Services, High

RUL Rehabilitation Ultra High plus Extensive Services, Low

RVX Rehabilitation Very High plus Extensive Services, High

RVL Rehabilitation Very High plus Extensive Services, Low

RHX Rehabilitation High plus Extensive Services, High

RHL Rehabilitation High plus Extensive Services, Low

RMX Rehabilitation Medium plus Extensive Services, High

RML Rehabilitation Medium plus Extensive Services, Low

RLX Rehabilitation Low plus Extensive Services

We note that, like our current proposal, the case-mix refinement that we considered in our FY 2001 proposed rule would have reconfigured the RUGs themselves, in a general effort to allocate payments more accurately under the SNF PPS. However, that earlier proposal also included an additional element, which was intended to help ensure more accurate allocation of payments specifically with regard to non-therapy ancillaries (such as drugs and medications, laboratory services, supplies and other equipment). For example, it proposed moving the non-therapy ancillary costs used in establishing the nursing case-mix component of the payment rates to a separate, newly created “medical ancillary” component (65 FR 19192, April 10, 2000). In addition, it suggested a number of possible models, both weighted and unweighted, for a new non-therapy ancillary index (65 FR 19248ff). As noted in the FY 2001 final rule, these elements ultimately were not adopted when subsequent research indicated that their added complexity would outweigh their increased predictive power (65 FR 46774, July 31, 2000).

Following the publication of that final rule, further research in this area revealed a high degree of variability in non-therapy ancillary utilization, both within and across the various RUG-III groups. This finding suggested that using an index model to address non-therapy ancillary services might require the creation of such a high number of groups as to be impractical.

In fact, the ability of the SNF PPS to account adequately for non-therapy ancillary services has been the subject of attention (and a focus of our research) since the very inception of the system. When the Congress originally enacted the SNF PPS in the BBA, it expressed concern in the accompanying legislative history “* * * that under a prospective payment system that includes all services there may be incentives to decrease the use of ancillary services' (H. Rep. No. 105-149 at 1318). Subsequent legislative initiatives, such as the BBRA mandate to develop case-mix refinements that better account for “medically complex” patients, and the directive in section 311(d) of the BIPA for the GAO to conduct a study of the adequacy of Medicare's SNF payment rates, can all be viewed in the context of an ongoing Congressional concern in this area.

For those reasons, and because the data that we have show wide variability in non-therapy ancillary utilization within each RUG, we believe the refinement that we now propose should include not only a reconfiguration of the RUGs that addresses the accuracy of payment allocation in general terms, but also an additional element that improves the accuracy of payment allocation and accounts more directly for cost variations related to non-therapy ancillary services. Accordingly, as part of our proposed refinement, we propose to increase the case-mix indexes of the existing 44 RUG-III groups (as well as those of the nine proposed new Rehabilitation plus Extensive Services RUGs), by calculating a percentage increase that would increase aggregate payments.

As noted previously, we have reviewed data that show great variability in the ancillary services (such as pharmacy) utilized by different SNF residents who are classified into the same RUG-III group. For example, two different patients, both classified into the SE3 group, might utilize markedly different amounts of ancillary services for reasons that are not captured within the current RUG-III classification methodology. Our data show that the same is true across all of the existing 44 RUG-III groups. The addition of the 9 new groups does not, in itself, compensate for this discrepancy. Although the SNF payment system is designed as a prospective payment system, under which SNFs that treat patients grouped into the same clinical condition should receive the same base payment, the variability in ancillary usage that our data show makes it difficult to account fully for non-therapy ancillary costs by adjusting the number of groups. Therefore, we believe that it is appropriate, considering the data that we have available to us, to provide for an adjustment to each RUG case-mix weight to account for the variability in non-therapy ancillaries, using the authority that we have under section 1888(e)(4)(G)(i) of the Act.

Additionally, we have found a high degree of variability in non-therapy ancillaries not only within but across RUG groups. We have reviewed data showing that an individual patient who is classified into a less intensive RUG may nonetheless be significantly more expensive to treat in terms of non-therapy ancillaries than an individual patient in a more intensive RUG. The data that we have do not adequately explain these discrepancies, and the addition of the 9 new RUGs does not eliminate them. Our data show that the same is true across all 44 RUG-III groups. We note that in creating the SNF PPS, the Congress enacted the only PPS legislation in the Medicare program that does not establish an outlier policy to capture high variability in resource utilization. Therefore, in view of the data that we have available to us that demonstrates wide disparities in non-therapy ancillary resources consumed by patients both within and across RUG-III groups, we believe that it is appropriate to adjust the case-mix weights for all 53 groups (that is, the existing 44 RUG-III groups plus the 9 new groups that we are proposing to create in this proposed rule) to better account for non-therapy ancillary variability. We would do this by exercising our authority under section 1888(e)(4)(G)(i) of the Act to establish an “appropriate adjustment to account for case mix,” in order to maintain access and quality of care for heavy-care patients.

In determining the size of this adjustment, we considered the high degree of variability in non-therapy ancillary costs (which was not yet known at the time that the BBA and the BBRA were enacted), and the absence of an outlier policy under the SNF PPS. Accordingly, we looked at the outlier pool established under another PPS for post-acute care, the inpatient rehabilitation facility prospective payment system (IRF PPS), which is set at 3 percent of aggregate expenditures. For the purpose of this refinement, we calculated the SNF dollars needed to achieve a comparable funding level that could be targeted towards payment of non-therapy ancillaries. Based on this analysis, we are proposing an increase to the nursing component of the case-mix weights (the component that includes non-therapy ancillaries) of approximately 8.4 percent, which equates to approximately 3 percent of aggregate expenditures under the SNF PPS.

Moreover, we believe that this type of adjustment can essentially serve as a proxy for the non-therapy ancillary index that we proposed previously as a means of achieving more appropriate payment for these services, without the potential drawbacks of our earlier proposal in terms of complexity and addressing variability in utilization. In fact, while we are confident that the decision to maintain a relatively small number of RUG groups is correct in terms of the overall operation of the SNF PPS, it is still true that this number of groups made it extremely difficult to distinguish different levels of non-therapy ancillary use. The problem may be less severe in other PPSs that use a greater number of groups. For example, the IRF PPS was initially structured to have 100 groups, and the inpatient hospital PPS (IPPS) has over 500 diagnosis-related groups. Similarly, there are over 7,000 relative value units under the resource-based relative value scale that determines the payment rates for physician and other Part B services. By contrast, under this proposed rule, there will be only 53 RUGs. By definition, then, there will be wider variation in the resource needs of patients classified into a particular RUG. We, therefore, believe that it is appropriate to provide for a further adjustment to the case-mix index to compensate for these broad discrepancies.

We note that we are advancing these proposed changes under our authority in section 101(a) of the BBRA to establish case-mix refinements, and that the changes we are hereby proposing will represent the final adjustments made under this authority. Accordingly, any future changes to the case-mix weights or other components of the SNF PPS would be accomplished through staff time measures and other validated analytical studies.

As further explained in section II.B.4 of this proposed rule, these additional payments would partially offset the expiration of the temporary add-on payments that will occur, under the terms of section 101(c) of the BBRA, upon the implementation of this proposed case-mix refinement. We believe that implementing the proposed case-mix refinement in this manner will carry out Congressional intent that the BBRA's temporary payment add-ons should not continue indefinitely into the future, while at the same time ensuring that payments under the SNF PPS continue to support the quality of care furnished in this setting.

Further, the creation of the proposed new Rehabilitation plus Extensive Services groups underscores the importance of ensuring the accuracy of patient classifications, particularly with regard to those categories, such as Extensive Services, that encompass medically complex patients. One way to accomplish this could be by ensuring that the MDS data used in making such classifications reflect only those services that are actually furnished during the SNF stay itself rather than during the preadmission period (for example, during the prior qualifying hospital stay). In the July 30, 1999 SNF PPS final rule (64 FR 41668 through 41669), we noted a public comment that questioned the appropriateness of the MDS's 14-day “look-back” provision in the specific context of the SNF level of care presumption. While we made no revisions to the look-back provision at that time, we specifically reserved the right to reconsider the continued use of this mechanism in the future.

Subsequent analysis in this area has focused on the four items contained in the Special Service section of the MDS (P1a—IV medications, suctioning, tracheostomy care, and use of a ventilator/respirator) that serve to classify residents into Extensive Care, the category used for the most medically complex SNF patients under the RUG-III classification system. This analysis indicates that the use of the look-back provision has caused a significant number of residents to classify to the Extensive Services category based solely on services (such as intravenous medications) that were furnished exclusively during the period before SNF admission. Depending on how such a proposal was formulated, it has the potential to reduce overall SNF payments by better aligning them with the services actually provided. Therefore, we seek comment on the potential savings and other impacts of revising the MDS Manual instructions to include only those special care treatments and programs (MDS Section P1a) furnished to the resident since admission or re-admission to the SNF, similar to the requirement for P1b. We anticipate that this change can be accomplished through an update to the MDS Manual instructions, and will not involve system changes at the facility, State agency, or Federal level.

In addition, we are inviting comments on other policy options that could enhance the accuracy of the payment system and improve the quality of care provided to Medicare beneficiaries during an SNF stay, without limiting access to post-acute care. For example, we have received recommendations to decrease or eliminate the grace day period specifically for the 5-day PPS MDS assessment. We invite comments on this specific recommendation as well as decreasing or eliminating the grace periods associated with all PPS MDS assessments. Another example of a possible policy change on which we invite comment would be whether it might be appropriate to eliminate the projection of anticipated therapy services during the 5-day PPS assessment. We invite comments on these and other existing SNF policies that may have an impact on the quality of care in this setting.

In accordance with section 101 of the BBRA, implementing these proposed refinements to the case-mix system means that the payment rates set forth in this proposed rule would no longer reflect the temporary add-ons to the Federal rates for specified RUG-III groups. We understand that the expiration of the temporary payment increases, provided for in that legislation, results in a significant reduction in Medicare's payments between FY 2005 and FY 2006. In fact, MedPAC has consistently urged that, until CMS can design a new payment methodology, some or all of the temporary add-on payments be retained and allocated towards beneficiaries with complex medical needs.

While this proposed rule sets forth refinements to the existing case-mix classification system and RUG-III categories, we are soliciting comments on the economic impact of the resulting payment changes, as well as their potential impact on beneficiaries' access to quality SNF care. We also invite comments on possible ways in which the case-mix classification system itself might be further modified to help mitigate the effect of the payment changes.

We note that the expiration of the BBRA add-on payments would not necessarily affect the temporary 128 percent increase in the per diem adjusted payment rates for SNF residents with AIDS. In enacting that temporary increase, the Congress cited past research indicating that “* * * AIDS patients have much higher costs than other patients in the same resource utilization groups in skilled nursing facilities” (H. Rep. No. 108-178, Part 2, at 221). This underscored the Congress' view that AIDS patients are unique among SNF residents in that they incur significantly higher care costs than residents with other diagnoses, including those who classify to the same RUG-III group. We believe that even if a case-mix refinement can meet the BBRA criterion of better accounting for the needs of medically complex patients generally, this still might not enable the Secretary to certify under section 1888(e)(12)(B) of the Act “* * * that there is an appropriate adjustment in the case mix * * * to compensate for the increased costs” specifically associated with this particular group of patients. Thus, while the implementation of case-mix refinements will trigger the expiration of the 20 percent and 6.7 percent add-on payments under section 101(a) of the BBRA (as amended by section 314 of the BIPA), this may not necessarily be the case for the AIDS add-on payments under section 511 of the MMA. Accordingly, pending further examination of this issue, we believe that it would be premature at this time for the Secretary to make the required certification under section 1888(e)(12)(B) of the Act with respect to the unique conditions that pertain to the care of SNF residents with AIDS. As a result, the 128 percent add-on payments for SNF residents with AIDS will remain in effect during FY 2006.

The case-mix adjusted payment rates are listed separately for urban and rural SNFs for the existing 44 group RUG and proposed RUG-53 classification systems in Tables 4, 4a, 5, and 5a, with the corresponding case-mix index values.

We also remain committed to our long-term efforts to monitor the RUG-III case-mix classification system and to an ongoing effort to increase the accuracy and efficiency of the SNF PPS. A series of analyses, including the studies used to develop the refinements discussed above, will be discussed in a forthcoming report to the Congress. In this report, we will discuss the findings and put forth a series of next steps that will provide a framework for future progress. In addition, we have posted data describing the research conducted by ABT and the Urban Institute on our SNF PPS Web site at http://www.cms.hhs.gov/providers/SNF PPS. Commenters may wish to consult this material to facilitate a more in depth understanding of the proposals contained in this document.

Moreover, we would like to take this opportunity to discuss our thinking related to broader initiatives in this area related to quality of care. Through the Nursing Home Quality Initiative, the Long Term Care Task Force and other forums for collaborative action, CMS has worked with the SNF industry on the development of valid quality measures, and a variety of quality improvement efforts focused on nursing homes. These efforts and others have resulted in improvements in the quality of care, particularly in facilities that adopt a culture that promotes quality through continuous quality initiatives (CQI), culture change, and other similar programs. Pay for performance is a tool that could provide additional support to improve the quality of care provided in nursing homes. In this way, we could recognize and support the ongoing efforts of nursing homes to improve quality.

Designing Pay for Performance programs for the SNF setting presents some significant issues. While Medicare beneficiaries are the primary users of SNF services, only a small percentage of these beneficiaries (that is, approximately 10 percent) receive services that are reimbursed under Medicare Part A. The majority of beneficiaries receive services that are reimbursed by multiple payers, including Medicare Part B, Medicaid, and private insurance, and that are delivered within different parts of a nursing facility. Therefore, it is not enough to change practice patterns in just a part of a nursing home (that is, skilled units), as Medicare beneficiaries can be placed anywhere in the facility. In addition, the focus of the nursing, rehabilitative, and medical interventions will typically vary for persons who are receiving short-term skilled nursing facility services versus those persons who are long-term residents in nursing facilities.

For these reasons, quality measures must be carefully constructed; that is, broad-based and designed to effect change across the mix of patients residing in the facility. Similarly, we need to consider how to design effective incentives; that is, superior performance measured against pre-established benchmarks and/or performance improvements.

In addition, while our efforts to develop the various post-acute care PPSs (including the SNF PPS) have generated substantial improvements over the preexisting cost-based systems, each of these individual systems was developed independently. As a result, we have focused on phases of a patient's illness as defined by a specific site of service, rather than on the entirety of the post-acute episode from the standpoint of the patient rather than the facility. As the various provider types (such as SNFs and inpatient rehabilitation facilities (IRFs)) provide similar types of services in some cases, and as the opportunities to provide similar services in different settings increase, we need to investigate a more coordinated approach to payment and delivery of post-acute services that focuses on the overall post-acute episode.

This could entail a strategy of developing payment policy that is as neutral as possible regarding provider and patient decisions about the use of particular post-acute services. That is, Medicare should provide payments sufficient to ensure that beneficiaries receive high quality care in the most appropriate setting, so that admissions and any transfers between settings occur only when consistent with good care, rather than to generate additional revenues. In order to accomplish this objective, we need to collect and compare clinical data across different sites of service.

In fact, in the long run, our ability to compare clinical data across care settings is one of the benefits that will be realized as a basic component of our interest in the use of standardized electronic health records (EHRs) and other steps to promote continuity of care across all settings, including nursing homes. It is also important to recognize the complexity of the effort, not only in developing an integrated assessment tool that is designed using health information standards, but in examining the various provider-centric prospective payment methodologies and considering patient-centric payment approaches that are based on patient characteristics and outcomes. MedPAC has recently taken a preliminary look at the challenges in improving the coordination of our post-acute care payment methods, and suggested that it may be appropriate to explore additional options for reimbursing post-acute services. We agree that CMS, in conjunction with MedPAC and other stakeholders, should consider a full range of options in analyzing our post-acute care payment methods, including the SNF PPS.

We also want to encourage incremental changes that will help us build toward these longer-term objectives. For example, several automated medical record tools are now available that could allow hospitals and SNFs to coordinate discharge planning procedures more closely. These tools can be used to ensure communication of a standardized data set that can also be used to establish a comprehensive SNF care plan. Improved communications may reduce the incidence of potentially avoidable re-hospitalizations and other negative effects on quality of care that occur when patients are transferred to SNFs without a full understanding of their care needs. CMS is looking at ways that Medicare providers can use these tools to generate timely data to support continuity across settings. We are also interested in comments on payment reforms that could promote and reward such continuity, and avoid the medical complications and additional costs associated with re-hospitalization.

Some of the ideas discussed here may exceed CMS's current statutory authority. However, we believe that it is useful to encourage discussion of a broad range of ideas for debate of the relative advantages and disadvantages of the various policies affecting this important component of the health care sector, to ensure that our administrative actions provide maximum support for further steps toward higher quality post-acute care. We welcome comments on these and other approaches.

4. Implementation Issues

[If you choose to comment on issues in this section, please include the caption “Implementation Issues” at the beginning of your comments.]

As noted previously in this proposed rule, the temporary add-on payments enacted by section 101(a) of the BBRA expire upon the implementation of case-mix refinements. Section 101(c) of the BBRA specifies that the actual date on which these temporary add-on payments are to expire is “the later of—(1) October 1, 2000; or (2) the date on which the Secretary implements a refined case mix classification system under section 1888(e)(4)(G)(i) of the Social Security Act (42 U.S.C. 1395yy(e)(4)(G)(i)) to better account for medically complex patients”. Section 1888(e)(4)(G)(i) of the Act, in turn, specifies that the Secretary shall provide for an “appropriate adjustment” to account for case mix.

While this proposed rule sets forth proposed updates to the SNF PPS payment rates that are to take effect as of October 1, 2005, we recognize that adopting the proposed refinements to the case-mix classification system will likely entail significant changes for SNFs as well as for Medicare contractors. Therefore, in order to allow sufficient time for preparation and to ease the transition to the proposed refinements, we believe that it would be appropriate under section 1888(e)(4)(G)(i) of the Act to make a case-mix adjustment that reflects the implementation of the refinements described below.

Accordingly, from October 1, 2005, through December 31, 2005, we propose to make payment based entirely on the existing 44-group RUG-III classification system. Beginning on January 1, 2006, we propose to make payment based entirely on the proposed new RUG-53 classification system. This means that under the terms of section 101(c) of the BBRA, the temporary add-on payments for certain designated RUG-III groups will expire as of January 1, 2006. We note that the resulting reduction in payment will be partially offset by the increase in the RUG case-mix indexes, as explained previously in section II.B.3 of this proposed rule. We invite comments on all aspects of implementing the proposed case-mix refinements, including our plan to defer implementation until January 1, 2006.

Further, along with those matters relating specifically to the case-mix classification system, we have identified a number of broader clinical issues that we are also taking this opportunity to address:

5. Assessment Timeframes

We would like to take this opportunity to clarify existing requirements regarding completion of Other Medicare Required Assessments (OMRAs) for beneficiaries reimbursed under the SNF PPS. An OMRA is due 8 to 10 days after the cessation of all therapy (occupational and physical therapies and speech-language pathology services) in all situations where the beneficiary was assigned a rehabilitation RUG-III group on the previous assessment.

The “last day of therapy” is the last day on which a therapy service was furnished. It is not the day the discharge order for therapy was received and/or written on the resident's medical record. Therefore, when the last day that therapy was provided falls on a Friday, the Saturday and Sunday directly following are counted as days 1 and 2, respectively, toward the total 8 to 10 days of the OMRA window. The same principles apply when the “midnight rule” is initiated during a beneficiary's Part A SNF stay.

In addition, in the relatively uncommon situations where a resident starts a leave of absence after the therapy services have been discontinued and is out of the facility for part of the 8 to 10 day period during which the OMRA must be completed, those therapeutic leave days are to be counted when determining the OMRA due date. While this information is not new, we determined that it would be beneficial to clarify and remind the public of these specific issues involving the OMRA.

6. SNF Certifications and Recertifications Performed by Nurse Practitioners and Clinical Nurse Specialists

[If you choose to comment on issues in this section, please include the caption “SNF Certifications and Recertifications Performed by Nurse Practitioners and Clinical Nurse Specialists” at the beginning of your comments.]

We are taking this opportunity to clarify the requirement for physician signature on the certification and recertification of the need for SNF care (§ 424.20(e)(2)) as it relates to nurse practitioners (NPs) and clinical nurse specialists (CNSs). In section 6028 of the Omnibus Budget Reconciliation Act of 1989, the Congress amended section 1814(a)(2) of the Act. As amended, the Act specifies that an NP or CNS “* * * who does not have a direct or indirect employment relationship” with the facility but is working in collaboration with a physician may sign the required certification (or recertification) for a beneficiary's SNF stay. (Section 1819(b)(6)(A) of the Act further specifies that the medical care of each SNF resident must be under the supervision of a physician (see also the regulations at 42 CFR 483.40(a)(1)).) This provision that bars NPs and CNSs from having a direct or indirect employment relationship with a SNF in order to sign a certification or recertification of the need for care is very restrictive. By contrast, a similar statutory limitation (see section 1919(b)(6)(A) of the Act) on the delegation of physician tasks in Medicaid nursing facilities only bars NPs, CNSs, and physician assistants (PAs) from performing delegated tasks if they are actually employed by the facility.

Following the enactment of this legislation, we received numerous inquiries asking us to define “direct” and “indirect” employment relationships in greater detail. In the July 26, 1995 final rule (60 FR 38268), we stated that factors indicating whether a NP or CNS has a direct or indirect employment relationship include, but are not limited to the following:

• The facility or someone on its medical staff has the authority to hire or fire the nurse;

• The facility or someone on its medical staff furnishes the equipment or place to work, sets the hours, and pays the nurse by the hour, week, or month;

• The facility or someone on its medical staff restricts the nurse's ability to work for someone else or provides training and requires the nurse to follow instructions.

We note that the longstanding common law test, as set forth in regulations at 20 CFR 404.1005, 404.1007, and 404.1009, continues to determine the presence of a direct employment relationship for the purposes of this provision. However, numerous inquiries from providers and other stakeholders continue to request that we specifically clarify the definition of an “indirect” employment relationship in those situations where no direct employment relationship exists. Accordingly, we propose to revise the regulations at § 424.20(e)(2) to identify the existence of an indirect employment relationship in terms of the type of services that the practitioner performs in the SNF. We note that NPs and CNSs who are employed by SNFs not only perform the types of delegated physician tasks that are permitted under the long-term care facility requirements for participation at 42 CFR 483.40(e), but typically perform general nursing services as well. We believe that, even in the absence of a direct employment relationship, an SNF that has an NP or CNS perform these general nursing services is essentially utilizing the NP or CNS in the same manner as it would an employee, so that an indirect employment relationship can be considered to exist. Accordingly, in situations where there is no direct employment relationship between the SNF and the NP or CNS, we propose that an indirect employment relationship exists whenever the NP or CNS not only performs delegated physician tasks, but also provides nursing services under the regulations at 42 CFR 409.21, which include such services within the scope of coverage under the Part A SNF benefit. We believe that this criterion is appropriate, because there would be a potential conflict of interest if an NP or CNS who is engaged in furnishing covered Part A nursing services to an SNF's resident were also permitted to certify as to that resident's need for Part A SNF care. We invite comments on the effects of establishing our proposed distinction in this context.

7. Concurrent Therapy

[If you choose to comment on issues in this section, please include the caption “Concurrent Therapy” at the beginning of your comments.]

The SNF PPS proposed rule for FY 2002 (66 FR 23991, May 10, 2001) included a discussion of concurrent therapy, a practice also known as “dovetailing.” In that discussion, we noted that this practice involves a single professional therapist treating more than one Medicare beneficiary at a time—in some cases, many more than one individual at a time. In contrast to group therapy, in which all participants are working on some common skill development, each beneficiary who receives concurrent therapy likely is not receiving services that relate to those needed by any of the other participants. Although the care that each beneficiary receives may be prescribed in his or her individual plan of treatment, it may not conform to Medicare coverage guidelines; that is, the therapy is not being provided individually, and it is unlikely that the services being delivered are at the complex skill level required for coverage by Medicare. We expressed particular concern over instances in which facility management might inappropriately attempt to increase productivity by coercing a therapist, against his or her own professional judgment, to perform concurrent therapy.

In the SNF PPS final rule for FY 2002 (66 FR 39567, July 31, 2001), we noted that most of the public comments that we received on this discussion urged us to continue to recognize concurrent therapy as skilled therapy, and contended that therapists are treating more than one beneficiary concurrently only when appropriate. However, others indicated that our concerns regarding concurrent therapy were, in fact, warranted. They reported that since the implementation of the SNF PPS, professional therapists are encountering increased pressure to be more productive than they have in the past, including the need to see more than one patient at a time, and performing documentation and collaboration with other members of the care team as non-reimbursed time. In response to the comments, we acknowledged that concurrent therapy can have a legitimate place in the spectrum of care options available to therapists treating Medicare beneficiaries, as long as its use is driven by valid clinical considerations. However, while we declined to make any specific policy changes at that time, we reiterated that it is inappropriate for a facility to require, as a condition of employment, that a therapist agree to treat more than one beneficiary at a time in situations where providing treatment in such a manner would compromise the therapist's professional judgment. We also noted that we might revisit this issue in the future should the need to do so arise.

Since that time, we have continued to encounter reports of facilities that attempt to override the therapist's professional judgment and have concurrent therapy performed in the absence of valid clinical considerations. Accordingly, we believe it is appropriate at this time to consider once again whether there is a need to issue additional guidelines to preclude the inappropriate provision of concurrent therapy. We invite comment on the most effective way to prevent the abuse of this practice, and to ensure that concurrent therapy is performed only in those instances where it is clinically justified.

We propose to establish an effective date of January 1, 2006, as the beginning date for the use of the proposed case-mix refinements. Accordingly, from October 1, 2005, through December 31, 2005, we propose to make payment based entirely on the existing 44-group RUG-III classification system. Tables 4, 5, 6, and 7 reflect the corresponding rate information for the existing 44 group RUG-III classification system to be used during this time.

Beginning on January 1, 2006, we propose to make payment based on the proposed new RUG-53 classification system (and, thus, would not include the add-on payments). Tables 4a, 5a, 6a, and 7a reflect the corresponding rate information for the proposed RUG-53 classification system.

Tables 4 and 5 reflect the updated SNF Federal rates for FY 2006 for the existing 44 group RUG-III classification system. Tables 4a and 5a reflect the updated SNF Federal rates for FY 2006 for the RUG-53 classification system. The first nine groups listed in the tables are for new Rehabilitation plus Extensive Services groups.

Table 4.—RUG-44, Case-Mix Adjusted Federal Rates and Associated Indexes—Urban
RUG III category | Nursing index | Therapy index | Nursing component | Therapy component | Non-case mix therapy component | Non-case mix component | Total rate
RUC | 1.30 | 2.25 | 178.67 | 232.94 |  | 70.15 | 481.76
RUB | 0.95 | 2.25 | 130.57 | 232.94 |  | 70.15 | 433.66
RUA | 0.78 | 2.25 | 107.20 | 232.94 |  | 70.15 | 410.29
RVC | 1.13 | 1.41 | 155.31 | 145.98 |  | 70.15 | 371.44
RVB | 1.04 | 1.41 | 142.94 | 145.98 |  | 70.15 | 359.07
RVA | 0.81 | 1.41 | 111.33 | 145.98 |  | 70.15 | 327.46
RHC | 1.26 | 0.94 | 173.17 | 97.32 |  | 70.15 | 340.64
RHB | 1.06 | 0.94 | 145.69 | 97.32 |  | 70.15 | 313.16
RHA | 0.87 | 0.94 | 119.57 | 97.32 |  | 70.15 | 287.04
RMC | 1.35 | 0.77 | 185.54 | 79.72 |  | 70.15 | 335.41
RMB | 1.09 | 0.77 | 149.81 | 79.72 |  | 70.15 | 299.68
RMA | 0.96 | 0.77 | 131.94 | 79.72 |  | 70.15 | 281.81
RLB | 1.11 | 0.43 | 152.56 | 44.52 |  | 70.15 | 267.23
RLA | 0.80 | 0.43 | 109.95 | 44.52 |  | 70.15 | 224.62
SE3 | 1.70 |  | 233.65 |  | 13.63 | 70.15 | 317.43
SE2 | 1.39 |  | 191.04 |  | 13.63 | 70.15 | 274.82
SE1 | 1.17 |  | 160.80 |  | 13.63 | 70.15 | 244.58
SSC | 1.13 |  | 155.31 |  | 13.63 | 70.15 | 239.09
SSB | 1.05 |  | 144.31 |  | 13.63 | 70.15 | 228.09
SSA | 1.01 |  | 138.81 |  | 13.63 | 70.15 | 222.59
CC2 | 1.12 |  | 153.93 |  | 13.63 | 70.15 | 237.71
CC1 | 0.99 |  | 136.07 |  | 13.63 | 70.15 | 219.85
CB2 | 0.91 |  | 125.07 |  | 13.63 | 70.15 | 208.85
CB1 | 0.84 |  | 115.45 |  | 13.63 | 70.15 | 199.23
CA2 | 0.83 |  | 114.08 |  | 13.63 | 70.15 | 197.86
CA1 | 0.75 |  | 103.08 |  | 13.63 | 70.15 | 186.86
IB2 | 0.69 |  | 94.83 |  | 13.63 | 70.15 | 178.61
IB1 | 0.67 |  | 92.08 |  | 13.63 | 70.15 | 175.86
IA2 | 0.57 |  | 78.34 |  | 13.63 | 70.15 | 162.12
IA1 | 0.53 |  | 72.84 |  | 13.63 | 70.15 | 156.62
BB2 | 0.68 |  | 93.46 |  | 13.63 | 70.15 | 177.24
BB1 | 0.65 |  | 89.34 |  | 13.63 | 70.15 | 173.12
BA2 | 0.56 |  | 76.97 |  | 13.63 | 70.15 | 160.75
BA1 | 0.48 |  | 65.97 |  | 13.63 | 70.15 | 149.75
PE2 | 0.79 |  | 108.58 |  | 13.63 | 70.15 | 192.36
PE1 | 0.77 |  | 105.83 |  | 13.63 | 70.15 | 189.61
PD2 | 0.72 |  | 98.96 |  | 13.63 | 70.15 | 182.74
PD1 | 0.70 |  | 96.21 |  | 13.63 | 70.15 | 179.99
PC2 | 0.65 |  | 89.34 |  | 13.63 | 70.15 | 173.12
PC1 | 0.64 |  | 87.96 |  | 13.63 | 70.15 | 171.74
PB2 | 0.51 |  | 70.09 |  | 13.63 | 70.15 | 153.87
PB1 | 0.50 |  | 68.72 |  | 13.63 | 70.15 | 152.50
PA2 | 0.49 |  | 67.35 |  | 13.63 | 70.15 | 151.13
PA1 | 0.46 |  | 63.22 |  | 13.63 | 70.15 | 147.00

Table 4a.—RUG-53, Case-Mix Adjusted Federal Rates and Associated Indexes—Urban
RUG-53 category | Nursing index | Therapy index | Nursing component | Therapy component | Non-case mix therapy component | Non-case mix component | Total rate
RUX | 1.80 | 2.24 | 247.39 | 231.91 |  | 70.15 | 549.45
RUL | 1.33 | 2.24 | 182.80 | 231.91 |  | 70.15 | 484.86
RVX | 1.46 | 1.32 | 200.66 | 136.66 |  | 70.15 | 407.47
RVL | 1.26 | 1.32 | 173.17 | 136.66 |  | 70.15 | 379.98
RHX | 1.34 | 1.10 | 184.17 | 113.88 |  | 70.15 | 368.20
RHL | 1.30 | 1.10 | 178.67 | 113.88 |  | 70.15 | 362.70
RMX | 1.83 | 1.03 | 251.52 | 106.64 |  | 70.15 | 428.31
RML | 1.60 | 1.03 | 219.90 | 106.64 |  | 70.15 | 396.69
RLX | 1.25 | 0.79 | 171.80 | 81.79 |  | 70.15 | 323.74
RUC | 1.21 | 2.24 | 166.30 | 231.91 |  | 70.15 | 468.36
RUB | 0.94 | 2.24 | 129.19 | 231.91 |  | 70.15 | 431.25
RUA | 0.79 | 2.24 | 108.58 | 231.91 |  | 70.15 | 410.64
RVC | 1.16 | 1.32 | 159.43 | 136.66 |  | 70.15 | 366.24
RVB | 1.02 | 1.32 | 140.19 | 136.66 |  | 70.15 | 347.00
RVA | 0.79 | 1.32 | 108.58 | 136.66 |  | 70.15 | 315.39
RHC | 1.15 | 1.10 | 158.06 | 113.88 |  | 70.15 | 342.09
RHB | 1.05 | 1.10 | 144.31 | 113.88 |  | 70.15 | 328.34
RHA | 0.89 | 1.10 | 122.32 | 113.88 |  | 70.15 | 306.35
RMC | 1.09 | 1.03 | 149.81 | 106.64 |  | 70.15 | 326.60
RMB | 1.02 | 1.03 | 140.19 | 106.64 |  | 70.15 | 316.98
RMA | 0.99 | 1.03 | 136.07 | 106.64 |  | 70.15 | 312.86
RLB | 1.08 | 0.79 | 148.44 | 81.79 |  | 70.15 | 300.38
RLA | 0.80 | 0.79 | 109.95 | 81.79 |  | 70.15 | 261.89
SE3 | 1.76 |  | 241.89 |  | 13.63 | 70.15 | 325.67
SE2 | 1.41 |  | 193.79 |  | 13.63 | 70.15 | 277.57
SE1 | 1.19 |  | 163.55 |  | 13.63 | 70.15 | 247.33
SSC | 1.16 |  | 159.43 |  | 13.63 | 70.15 | 243.21
SSB | 1.07 |  | 147.06 |  | 13.63 | 70.15 | 230.84
SSA | 1.03 |  | 141.56 |  | 13.63 | 70.15 | 225.34
CC2 | 1.15 |  | 158.06 |  | 13.63 | 70.15 | 241.84
CC1 | 1.01 |  | 138.81 |  | 13.63 | 70.15 | 222.59
CB2 | 0.93 |  | 127.82 |  | 13.63 | 70.15 | 211.60
CB1 | 0.86 |  | 118.20 |  | 13.63 | 70.15 | 201.98
CA2 | 0.85 |  | 116.82 |  | 13.63 | 70.15 | 200.60
CA1 | 0.77 |  | 105.83 |  | 13.63 | 70.15 | 189.61
IB2 | 0.70 |  | 96.21 |  | 13.63 | 70.15 | 179.99
IB1 | 0.68 |  | 93.46 |  | 13.63 | 70.15 | 177.24
IA2 | 0.59 |  | 81.09 |  | 13.63 | 70.15 | 164.87
IA1 | 0.54 |  | 74.22 |  | 13.63 | 70.15 | 158.00
BB2 | 0.69 |  | 94.83 |  | 13.63 | 70.15 | 178.61
BB1 | 0.66 |  | 90.71 |  | 13.63 | 70.15 | 174.49
BA2 | 0.57 |  | 78.34 |  | 13.63 | 70.15 | 162.12
BA1 | 0.49 |  | 67.35 |  | 13.63 | 70.15 | 151.13
PE2 | 0.80 |  | 109.95 |  | 13.63 | 70.15 | 193.73
PE1 | 0.78 |  | 107.20 |  | 13.63 | 70.15 | 190.98
PD2 | 0.74 |  | 101.71 |  | 13.63 | 70.15 | 185.49
PD1 | 0.72 |  | 98.96 |  | 13.63 | 70.15 | 182.74
PC2 | 0.67 |  | 92.08 |  | 13.63 | 70.15 | 175.86
PC1 | 0.65 |  | 89.34 |  | 13.63 | 70.15 | 173.12
PB2 | 0.52 |  | 71.47 |  | 13.63 | 70.15 | 155.25
PB1 | 0.51 |  | 70.09 |  | 13.63 | 70.15 | 153.87
PA2 | 0.50 |  | 68.72 |  | 13.63 | 70.15 | 152.50
PA1 | 0.48 |  | 65.97 |  | 13.63 | 70.15 | 149.75

Table 5.—RUG-44, Case-Mix Adjusted Federal Rates and Associated Indexes—Rural
RUG III category | Nursing index | Therapy index | Nursing component | Therapy component | Non-case mix therapy component | Non-case mix component | Total rate
RUC | 1.30 | 2.25 | 170.69 | 268.61 |  | 71.45 | 510.75
RUB | 0.95 | 2.25 | 124.74 | 268.61 |  | 71.45 | 464.80
RUA | 0.78 | 2.25 | 102.41 | 268.61 |  | 71.45 | 442.47
RVC | 1.13 | 1.41 | 148.37 | 168.33 |  | 71.45 | 388.15
RVB | 1.04 | 1.41 | 136.55 | 168.33 |  | 71.45 | 376.33
RVA | 0.81 | 1.41 | 106.35 | 168.33 |  | 71.45 | 346.13
RHC | 1.26 | 0.94 | 165.44 | 112.22 |  | 71.45 | 349.11
RHB | 1.06 | 0.94 | 139.18 | 112.22 |  | 71.45 | 322.85
RHA | 0.87 | 0.94 | 114.23 | 112.22 |  | 71.45 | 297.90
RMC | 1.35 | 0.77 | 177.26 | 91.92 |  | 71.45 | 340.63
RMB | 1.09 | 0.77 | 143.12 | 91.92 |  | 71.45 | 306.49
RMA | 0.96 | 0.77 | 126.05 | 91.92 |  | 71.45 | 289.42
RLB | 1.11 | 0.43 | 145.74 | 51.33 |  | 71.45 | 268.52
RLA | 0.80 | 0.43 | 105.04 | 51.33 |  | 71.45 | 227.82
SE3 | 1.70 |  | 223.21 |  | 14.56 | 71.45 | 309.22
SE2 | 1.39 |  | 182.51 |  | 14.56 | 71.45 | 268.52
SE1 | 1.17 |  | 153.62 |  | 14.56 | 71.45 | 239.63
SSC | 1.13 |  | 148.37 |  | 14.56 | 71.45 | 234.38
SSB | 1.05 |  | 137.87 |  | 14.56 | 71.45 | 223.88
SSA | 1.01 |  | 132.61 |  | 14.56 | 71.45 | 218.62
CC2 | 1.12 |  | 147.06 |  | 14.56 | 71.45 | 233.07
CC1 | 0.99 |  | 129.99 |  | 14.56 | 71.45 | 216.00
CB2 | 0.91 |  | 119.48 |  | 14.56 | 71.45 | 205.49
CB1 | 0.84 |  | 110.29 |  | 14.56 | 71.45 | 196.30
CA2 | 0.83 |  | 108.98 |  | 14.56 | 71.45 | 194.99
CA1 | 0.75 |  | 98.48 |  | 14.56 | 71.45 | 184.49
IB2 | 0.69 |  | 90.60 |  | 14.56 | 71.45 | 176.61
IB1 | 0.67 |  | 87.97 |  | 14.56 | 71.45 | 173.98
IA2 | 0.57 |  | 74.84 |  | 14.56 | 71.45 | 160.85
IA1 | 0.53 |  | 69.59 |  | 14.56 | 71.45 | 155.60
BB2 | 0.68 |  | 89.28 |  | 14.56 | 71.45 | 175.29
BB1 | 0.65 |  | 85.35 |  | 14.56 | 71.45 | 171.36
BA2 | 0.56 |  | 73.53 |  | 14.56 | 71.45 | 159.54
BA1 | 0.48 |  | 63.02 |  | 14.56 | 71.45 | 149.03
PE2 | 0.79 |  | 103.73 |  | 14.56 | 71.45 | 189.74
PE1 | 0.77 |  | 101.10 |  | 14.56 | 71.45 | 187.11
PD2 | 0.72 |  | 94.54 |  | 14.56 | 71.45 | 180.55
PD1 | 0.70 |  | 91.91 |  | 14.56 | 71.45 | 177.92
PC2 | 0.65 |  | 85.35 |  | 14.56 | 71.45 | 171.36
PC1 | 0.64 |  | 84.03 |  | 14.56 | 71.45 | 170.04
PB2 | 0.51 |  | 66.96 |  | 14.56 | 71.45 | 152.97
PB1 | 0.50 |  | 65.65 |  | 14.56 | 71.45 | 151.66
PA2 | 0.49 |  | 64.34 |  | 14.56 | 71.45 | 150.35
PA1 | 0.46 |  | 60.40 |  | 14.56 | 71.45 | 146.41

Table 5a.—RUG-53, Case-Mix Adjusted Federal Rates and Associated Indexes—Rural
RUG-53 category | Nursing index | Therapy index | Nursing component | Therapy component | Non-case mix therapy component | Non-case mix component | Total rate
RUX | 1.8 | 2.24 | 236.34 | 267.41 |  | 71.45 | 575.20
RUL | 1.33 | 2.24 | 174.63 | 267.41 |  | 71.45 | 513.49
RVX | 1.46 | 1.32 | 191.70 | 157.58 |  | 71.45 | 420.73
RVL | 1.26 | 1.32 | 165.44 | 157.58 |  | 71.45 | 394.47
RHX | 1.34 | 1.10 | 175.94 | 131.32 |  | 71.45 | 378.71
RHL | 1.3 | 1.10 | 170.69 | 131.32 |  | 71.45 | 373.46
RMX | 1.83 | 1.03 | 240.28 | 122.96 |  | 71.45 | 434.69
RML | 1.6 | 1.03 | 210.08 | 122.96 |  | 71.45 | 404.49
RLX | 1.25 | 0.79 | 164.13 | 94.31 |  | 71.45 | 329.89
RUC | 1.21 | 2.24 | 158.87 | 267.41 |  | 71.45 | 497.73
RUB | 0.94 | 2.24 | 123.42 | 267.41 |  | 71.45 | 462.28
RUA | 0.79 | 2.24 | 103.73 | 267.41 |  | 71.45 | 442.59
RVC | 1.16 | 1.32 | 152.31 | 157.58 |  | 71.45 | 381.34
RVB | 1.02 | 1.32 | 133.93 | 157.58 |  | 71.45 | 362.96
RVA | 0.79 | 1.32 | 103.73 | 157.58 |  | 71.45 | 332.76
RHC | 1.15 | 1.10 | 151.00 | 131.32 |  | 71.45 | 353.77
RHB | 1.05 | 1.10 | 137.87 | 131.32 |  | 71.45 | 340.64
RHA | 0.89 | 1.10 | 116.86 | 131.32 |  | 71.45 | 319.63
RMC | 1.09 | 1.03 | 143.12 | 122.96 |  | 71.45 | 337.53
RMB | 1.02 | 1.03 | 133.93 | 122.96 |  | 71.45 | 328.34
RMA | 0.99 | 1.03 | 129.99 | 122.96 |  | 71.45 | 324.40
RLB | 1.08 | 0.79 | 141.80 | 94.31 |  | 71.45 | 307.56
RLA | 0.80 | 0.79 | 105.04 | 94.31 |  | 71.45 | 270.80
SE3 | 1.76 |  | 231.09 |  | 14.56 | 71.45 | 317.10
SE2 | 1.41 |  | 185.13 |  | 14.56 | 71.45 | 271.14
SE1 | 1.19 |  | 156.25 |  | 14.56 | 71.45 | 242.26
SSC | 1.16 |  | 152.31 |  | 14.56 | 71.45 | 238.32
SSB | 1.07 |  | 140.49 |  | 14.56 | 71.45 | 226.50
SSA | 1.03 |  | 135.24 |  | 14.56 | 71.45 | 221.25
CC2 | 1.15 |  | 151.00 |  | 14.56 | 71.45 | 237.01
CC1 | 1.01 |  | 132.61 |  | 14.56 | 71.45 | 218.62
CB2 | 0.93 |  | 122.11 |  | 14.56 | 71.45 | 208.12
CB1 | 0.86 |  | 112.92 |  | 14.56 | 71.45 | 198.93
CA2 | 0.85 |  | 111.61 |  | 14.56 | 71.45 | 197.62
CA1 | 0.77 |  | 101.10 |  | 14.56 | 71.45 | 187.11
IB2 | 0.70 |  | 91.91 |  | 14.56 | 71.45 | 177.92
IB1 | 0.68 |  | 89.28 |  | 14.56 | 71.45 | 175.29
IA2 | 0.59 |  | 77.47 |  | 14.56 | 71.45 | 163.48
IA1 | 0.54 |  | 70.90 |  | 14.56 | 71.45 | 156.91
BB2 | 0.69 |  | 90.60 |  | 14.56 | 71.45 | 176.61
BB1 | 0.66 |  | 86.66 |  | 14.56 | 71.45 | 172.67
BA2 | 0.57 |  | 74.84 |  | 14.56 | 71.45 | 160.85
BA1 | 0.49 |  | 64.34 |  | 14.56 | 71.45 | 150.35
PE2 | 0.80 |  | 105.04 |  | 14.56 | 71.45 | 191.05
PE1 | 0.78 |  | 102.41 |  | 14.56 | 71.45 | 188.42
PD2 | 0.74 |  | 97.16 |  | 14.56 | 71.45 | 183.17
PD1 | 0.72 |  | 94.54 |  | 14.56 | 71.45 | 180.55
PC2 | 0.67 |  | 87.97 |  | 14.56 | 71.45 | 173.98
PC1 | 0.65 |  | 85.35 |  | 14.56 | 71.45 | 171.36
PB2 | 0.52 |  | 68.28 |  | 14.56 | 71.45 | 154.29
PB1 | 0.51 |  | 66.96 |  | 14.56 | 71.45 | 152.97
PA2 | 0.50 |  | 65.65 |  | 14.56 | 71.45 | 151.66
PA1 | 0.48 |  | 63.02 |  | 14.56 | 71.45 | 149.03

C. Wage Index Adjustment to Federal Rates

Section 1888(e)(4)(G)(ii) of the Act requires that we adjust the Federal rates to account for differences in area wage levels, using a wage index that we find appropriate. Since the inception of a PPS for SNFs, we have used hospital wage data in developing a wage index to be applied to SNFs. We propose to continue that practice for FY 2006, as we continue to believe that in the absence of SNF-specific wage data, using the hospital wage index is appropriate and reasonable for the SNF PPS.

The wage index adjustment would be applied to the proposed labor-related portion of the Federal rate, which is 76.087 percent of the total rate. This percentage reflects the labor-related relative importance for FY 2006. The labor-related relative importance is calculated from the SNF market basket, and approximates the labor-related portion of the total costs after taking into account historical and projected price changes between the base year and FY 2006. The price proxies that move the different cost categories in the market basket do not necessarily change at the same rate, and the relative importance captures these changes. Accordingly, the relative importance figure more closely reflects the cost share weights for FY 2006 than the base year weights from the SNF market basket.

We calculate the labor-related relative importance for FY 2006 in four steps. First, we compute the FY 2006 price index level for the total market basket and each cost category of the market basket. Second, we calculate a ratio for each cost category by dividing the FY 2006 price index level for that cost category by the total market basket price index level. Third, we determine the FY 2006 relative importance for each cost category by multiplying this ratio by the base year (FY 1997) weight. Finally, we sum the FY 2006 relative importance for each of the labor-related cost categories (wages and salaries, employee benefits, nonmedical professional fees, labor-intensive services, and capital-related expenses) to produce the FY 2006 labor-related relative importance. Tables 6 and 7 show the Federal rates by labor-related and non-labor-related components for the existing 44 group RUG classification system. Tables 6a and 7a show the Federal rates by labor-related and non-labor-related components for the proposed RUG-53 classification system.

Table 6.—RUG-44, Case-Mix Adjusted Federal Rates for Urban SNFs by Labor and Non-Labor Component
RUG III category | Total rate | Labor portion | Non-labor portion
RUC | 481.76 | 366.56 | 115.20
RUB | 433.66 | 329.96 | 103.70
RUA | 410.29 | 312.18 | 98.11
RVC | 371.44 | 282.62 | 88.82
RVB | 359.07 | 273.21 | 85.86
RVA | 327.46 | 249.15 | 78.31
RHC | 340.64 | 259.18 | 81.46
RHB | 313.16 | 238.27 | 74.89
RHA | 287.04 | 218.40 | 68.64
RMC | 335.41 | 255.20 | 80.21
RMB | 299.68 | 228.02 | 71.66
RMA | 281.81 | 214.42 | 67.39
RLB | 267.23 | 203.33 | 63.90
RLA | 224.62 | 170.91 | 53.71
SE3 | 317.43 | 241.52 | 75.91
SE2 | 274.82 | 209.10 | 65.72
SE1 | 244.58 | 186.09 | 58.49
SSC | 239.09 | 181.92 | 57.17
SSB | 228.09 | 173.55 | 54.54
SSA | 222.59 | 169.36 | 53.23
CC2 | 237.71 | 180.87 | 56.84
CC1 | 219.85 | 167.28 | 52.57
CB2 | 208.85 | 158.91 | 49.94
CB1 | 199.23 | 151.59 | 47.64
CA2 | 197.86 | 150.55 | 47.31
CA1 | 186.86 | 142.18 | 44.68
IB2 | 178.61 | 135.90 | 42.71
IB1 | 175.86 | 133.81 | 42.05
IA2 | 162.12 | 123.35 | 38.77
IA1 | 156.62 | 119.17 | 37.45
BB2 | 177.24 | 134.86 | 42.38
BB1 | 173.12 | 131.72 | 41.40
BA2 | 160.75 | 122.31 | 38.44
BA1 | 149.75 | 113.94 | 35.81
PE2 | 192.36 | 146.36 | 46.00
PE1 | 189.61 | 144.27 | 45.34
PD2 | 182.74 | 139.04 | 43.70
PD1 | 179.99 | 136.95 | 43.04
PC2 | 173.12 | 131.72 | 41.40
PC1 | 171.74 | 130.67 | 41.07
PB2 | 153.87 | 117.08 | 36.79
PB1 | 152.50 | 116.03 | 36.47
PA2 | 151.13 | 114.99 | 36.14
PA1 | 147.00 | 111.85 | 35.15

Table 6A.—RUG-53, Case-Mix Adjusted Federal Rates for Urban SNFs by Labor and Non-Labor Component
RUG 53 category | Total rate | Labor portion | Non-labor portion
RUX | 549.45 | 418.06 | 131.39
RUL | 484.86 | 368.92 | 115.94
RVX | 407.47 | 310.03 | 97.44
RVL | 379.98 | 289.12 | 90.86
RHX | 368.20 | 280.15 | 88.05
RHL | 362.70 | 275.97 | 86.73
RMX | 428.31 | 325.89 | 102.42
RML | 396.69 | 301.83 | 94.86
RLX | 323.74 | 246.32 | 77.42
RUC | 468.36 | 356.36 | 112.00
RUB | 431.25 | 328.13 | 103.12
RUA | 410.64 | 312.44 | 98.20
RVC | 366.24 | 278.66 | 87.58
RVB | 347.00 | 264.02 | 82.98
RVA | 315.39 | 239.97 | 75.42
RHC | 342.09 | 260.29 | 81.80
RHB | 328.34 | 249.82 | 78.52
RHA | 306.35 | 233.09 | 73.26
RMC | 326.60 | 248.50 | 78.10
RMB | 316.98 | 241.18 | 75.80
RMA | 312.86 | 238.05 | 74.81
RLB | 300.38 | 228.55 | 71.83
RLA | 261.89 | 199.26 | 62.63
SE3 | 325.67 | 247.79 | 77.88
SE2 | 277.57 | 211.19 | 66.38
SE1 | 247.33 | 188.19 | 59.14
SSC | 243.21 | 185.05 | 58.16
SSB | 230.84 | 175.64 | 55.20
SSA | 225.34 | 171.45 | 53.89
CC2 | 241.84 | 184.01 | 57.83
CC1 | 222.59 | 169.36 | 53.23
CB2 | 211.60 | 161.00 | 50.60
CB1 | 201.98 | 153.68 | 48.30
CA2 | 200.60 | 152.63 | 47.97
CA1 | 189.61 | 144.27 | 45.34
IB2 | 179.99 | 136.95 | 43.04
IB1 | 177.24 | 134.86 | 42.38
IA2 | 164.87 | 125.44 | 39.43
IA1 | 158.00 | 120.22 | 37.78
BB2 | 178.61 | 135.90 | 42.71
BB1 | 174.49 | 132.76 | 41.73
BA2 | 162.12 | 123.35 | 38.77
BA1 | 151.13 | 114.99 | 36.14
PE2 | 193.73 | 147.40 | 46.33
PE1 | 190.98 | 145.31 | 45.67
PD2 | 185.49 | 141.13 | 44.36
PD1 | 182.74 | 139.04 | 43.70
PC2 | 175.86 | 133.81 | 42.05
PC1 | 173.12 | 131.72 | 41.40
PB2 | 155.25 | 118.13 | 37.12
PB1 | 153.87 | 117.08 | 36.79
PA2 | 152.50 | 116.03 | 36.47
PA1 | 149.75 | 113.94 | 35.81

Table 7.—RUG-44, Case-Mix Adjusted Federal Rates for Rural SNFs by Labor and Non-Labor Component
RUG III category | Total rate | Labor portion | Non-labor portion
RUC | 510.75 | 388.61 | 122.14
RUB | 464.80 | 353.65 | 111.15
RUA | 442.47 | 336.66 | 105.81
RVC | 388.15 | 295.33 | 92.82
RVB | 376.33 | 286.34 | 89.99
RVA | 346.13 | 263.36 | 82.77
RHC | 349.11 | 265.63 | 83.48
RHB | 322.85 | 245.65 | 77.20
RHA | 297.90 | 226.66 | 71.24
RMC | 340.63 | 259.18 | 81.45
RMB | 306.49 | 233.20 | 73.29
RMA | 289.42 | 220.21 | 69.21
RLB | 268.52 | 204.31 | 64.21
RLA | 227.82 | 173.34 | 54.48
SE3 | 309.22 | 235.28 | 73.94
SE2 | 268.52 | 204.31 | 64.21
SE1 | 239.63 | 182.33 | 57.30
SSC | 234.38 | 178.33 | 56.05
SSB | 223.88 | 170.34 | 53.54
SSA | 218.62 | 166.34 | 52.28
CC2 | 233.07 | 177.34 | 55.73
CC1 | 216.00 | 164.35 | 51.65
CB2 | 205.49 | 156.35 | 49.14
CB1 | 196.30 | 149.36 | 46.94
CA2 | 194.99 | 148.36 | 46.63
CA1 | 184.49 | 140.37 | 44.12
IB2 | 176.61 | 134.38 | 42.23
IB1 | 173.98 | 132.38 | 41.60
IA2 | 160.85 | 122.39 | 38.46
IA1 | 155.60 | 118.39 | 37.21
BB2 | 175.29 | 133.37 | 41.92
BB1 | 171.36 | 130.38 | 40.98
BA2 | 159.54 | 121.39 | 38.15
BA1 | 149.03 | 113.39 | 35.64
PE2 | 189.74 | 144.37 | 45.37
PE1 | 187.11 | 142.37 | 44.74
PD2 | 180.55 | 137.38 | 43.17
PD1 | 177.92 | 135.37 | 42.55
PC2 | 171.36 | 130.38 | 40.98
PC1 | 170.04 | 129.38 | 40.66
PB2 | 152.97 | 116.39 | 36.58
PB1 | 151.66 | 115.39 | 36.27
PA2 | 150.35 | 114.40 | 35.95
PA1 | 146.41 | 111.40 | 35.01

Table 7a.—RUG-53 Case-Mix Adjusted Federal Rates for Rural SNFs by Labor and Non-Labor Component
RUG-53 category | Total rate | Labor portion | Non-labor portion
RUX | 575.20 | 437.65 | 137.55
RUL | 513.49 | 390.70 | 122.79
RVX | 420.73 | 320.12 | 100.61
RVL | 394.47 | 300.14 | 94.33
RHX | 378.71 | 288.15 | 90.56
RHL | 373.46 | 284.15 | 89.31
RMX | 434.69 | 330.74 | 103.95
RML | 404.49 | 307.76 | 96.73
RLX | 329.89 | 251.00 | 78.89
RUC | 497.73 | 378.71 | 119.02
RUB | 462.28 | 351.73 | 110.55
RUA | 442.59 | 336.75 | 105.84
RVC | 381.34 | 290.15 | 91.19
RVB | 362.96 | 276.17 | 86.79
RVA | 332.76 | 253.19 | 79.57
RHC | 353.77 | 269.17 | 84.60
RHB | 340.64 | 259.18 | 81.46
RHA | 319.63 | 243.20 | 76.43
RMC | 337.53 | 256.82 | 80.71
RMB | 328.34 | 249.82 | 78.52
RMA | 324.40 | 246.83 | 77.57
RLB | 307.56 | 234.01 | 73.55
RLA | 270.80 | 206.04 | 64.76
SE3 | 317.10 | 241.27 | 75.83
SE2 | 271.14 | 206.30 | 64.84
SE1 | 242.26 | 184.33 | 57.93
SSC | 238.32 | 181.33 | 56.99
SSB | 226.50 | 172.34 | 54.16
SSA | 221.25 | 168.34 | 52.91
CC2 | 237.01 | 180.33 | 56.68
CC1 | 218.62 | 166.34 | 52.28
CB2 | 208.12 | 158.35 | 49.77
CB1 | 198.93 | 151.36 | 47.57
CA2 | 197.62 | 150.36 | 47.26
CA1 | 187.11 | 142.37 | 44.74
IB2 | 177.92 | 135.37 | 42.55
IB1 | 175.29 | 133.37 | 41.92
IA2 | 163.48 | 124.39 | 39.09
IA1 | 156.91 | 119.39 | 37.52
BB2 | 176.61 | 134.38 | 42.23
BB1 | 172.67 | 131.38 | 41.29
BA2 | 160.85 | 122.39 | 38.46
BA1 | 150.35 | 114.40 | 35.95
PE2 | 191.05 | 145.36 | 45.69
PE1 | 188.42 | 143.36 | 45.06
PD2 | 183.17 | 139.37 | 43.80
PD1 | 180.55 | 137.38 | 43.17
PC2 | 173.98 | 132.38 | 41.60
PC1 | 171.36 | 130.38 | 40.98
PB2 | 154.29 | 117.39 | 36.90
PB1 | 152.97 | 116.39 | 36.58
PA2 | 151.66 | 115.39 | 36.27
PA1 | 149.03 | 113.39 | 35.64

Section 1888(e)(4)(G)(ii) of the Act also requires that we apply this wage index in a manner that does not result in aggregate payments that are greater or lesser than would otherwise be made in the absence of the wage adjustment. For FY 2006 (Federal rates effective October 1, 2005), we would apply the most recent wage index using the hospital wage data, and apply an adjustment to fulfill the budget neutrality requirement. This requirement would be met by multiplying each of the components of the unadjusted Federal rates by a factor equal to the ratio of the volume weighted mean wage adjustment factor (using the wage index from the previous year) to the volume weighted mean wage adjustment factor, using the wage index for the FY beginning October 1, 2005. The same volume weights are used in both the numerator and denominator and will be derived from 1997 Medicare Provider Analysis and Review File (MEDPAR) data. The wage adjustment factor used in this calculation is defined as the labor share of the rate component multiplied by the wage index plus the non-labor share. The proposed budget neutrality factor for this year is 1.0011. However, this may change in the final rule. In order to give the public a sense of the magnitude of this adjustment, last year's factor was 1.0011.

D. Proposed Area Wage Index

Section 1888(e)(4)(G)(ii) of the Act requires that we adjust the Federal rates to account for differences in area wage levels, using a wage index that we find appropriate. Since the inception of a PPS for SNFs, we have used hospital wage data in developing a wage index to be applied to SNFs. As noted previously, we are proposing to continue that practice for FY 2006.

In our July 30, 2004 update notice, we acknowledged that on June 6, 2003, the Office of Management and Budget (OMB) issued “OMB Bulletin No.03-04,” which announced revised definitions for Metropolitan Statistical Areas, and new definitions of Micropolitan Statistical Areas and Combined Statistical Areas. A copy of the Bulletin may be obtained at the following Internet address: http://www.whitehouse.gov/omb/bulletins/b03-04.html. At that time, we did not propose to apply these new definitions known as the Core-Based Statistical Areas (CBSAs). After further analysis, we are proposing to use the OMB-revised definitions to adjust the FY 2006 SNF PPS payment rates. The Hospital Inpatient PPS (IPPS) is applying these revised definitions as discussed in the August 11, 2004 IPPS final rule (69 FR 49207).

1. Proposed Revision of SNF PPS Geographic Classifications

As discussed in the May 12, 1998 SNF PPS interim final rule, which implemented the SNF PPS (63 FR 26252), in establishing an adjustment for area wage levels under § 413.337(a)(ii), the labor-related portion of a SNF's Federal prospective payment is adjusted by using an appropriate wage index. As set forth in § 413.337(a)(ii), a SNF's wage index is determined based on the location of the SNF in an urban or rural area as defined in § 412.62(f)(1)(ii) and (f)(1)(iii), respectively. In general, an urban area is defined as a Metropolitan Statistical Area (MSA) or New England County Metropolitan Area (NECMA) as defined by OMB. Under § 412.62(f)(1)(iii), a rural area is defined as any area outside of an urban area. The urban and rural area geographic classifications defined in § 412.62(f)(1)(ii) and (f)(1)(iii), respectively, were used under the IPPS from FYs 1985 through 2004 (§ 412.63(b)), and have been used under the SNF PPS since it was implemented for cost reporting periods beginning on or after July 1, 1998. The wage index used for the SNF PPS is calculated using the IPPS wage index data on the basis of the labor market area in which the acute care hospital is located, but without taking into account geographic reclassification under sections 1886(d)(8) and (d)(10) of the Act. The applicable SNF wage index value is assigned to a SNF on the basis of the labor market area in which the SNF is geographically located.

Section 4410 of the BBA provides that for the purposes of section 1886(d)(3)(E) of the Act, the area wage index applicable to hospitals located in an urban area of a State may not be less than the area wage index applicable to hospitals located in rural areas in the State. Consistent with past SNF policy, we treat this provision, commonly referred to as the “rural floor,” as applicable to acute inpatient hospitals and not SNFs. Therefore, the hospital wage index used for SNFs is commonly referred to as “pre-floor,” indicating that the “rural floor” provision is not applied.

The current SNF PPS labor market areas are defined based on the definitions of MSAs, Primary MSAs (PMSAs), and NECMAs issued by the OMB (commonly referred to collectively as “MSAs”). These MSA definitions, which are discussed in greater detail below, are currently used under the SNF PPS and other prospective payment systems such as the long-term care hospital PPS (LTCH PPS), the inpatient psychiatric facility PPS (IPF PPS), the home health agency PPS (HHA PPS), and the inpatient rehabilitation facility PPS (IRF PPS). In the August 11, 2004 IPPS final rule (67 FR 49026 through 49034), revised labor market area definitions were adopted under § 412.64(b), which were effective October 1, 2004 for acute care hospitals. The new standards, CBSAs, were announced by OMB in late 2000 and are discussed in greater detail below.

2. Current SNF PPS Labor Market Areas Based on MSAs

As noted above, we currently define labor market areas based on the definitions of MSAs, PMSAs, and NECMAs issued by the OMB. The OMB also designates Consolidated MSAs (CMSAs). A CMSA is a metropolitan area with a population of one million or more, comprising two or more PMSAs (identified by their separate economic and social character). For purposes of the wage index, we use the PMSAs rather than CMSAs because they allow a more precise breakdown of labor costs. If a metropolitan area is not designated as part of a PMSA, we use the applicable MSA.

These different designations use counties as the building blocks upon which they are based. Therefore, providers are assigned to either an MSA, PMSA, or NECMA based on whether the county in which the provider is located is part of that area. All of the counties in a State outside a designated MSA, PMSA, or NECMA are designated as rural. For the purposes of calculating the wage index, we combine all of the counties in a State outside a designated MSA, PMSA, or NECMA together to calculate the statewide rural wage index for each State.

3. Core-Based Statistical Areas

The OMB reviews its Metropolitan Area (MA) definitions preceding each decennial census. As discussed in the August 11, 2004 IPPS final rule (69 FR 49207), in the fall of 1998, the OMB chartered the Metropolitan Area Standards Review Committee to examine the MA standards and develop recommendations for possible changes to those standards. Three notices related to the review of the standards, providing an opportunity for public comment on the recommendations of the Committee, were published in the Federal Register on the following dates: December 21, 1998 (63 FR 70526); October 20, 1999 (64 FR 56628); and August 22, 2000 (65 FR 51060).

In the December 27, 2000 Federal Register (65 FR 82228 through 82238), the OMB announced its new standards. In that notice, the OMB defines a Core-Based Statistical Area (CBSA), beginning in 2003, as “a geographic entity associated with at least one core of 10,000 or more population, plus adjacent territory that has a high degree of social and economic integration with the core as measured by commuting ties.” The standards designate and define two categories of CBSAs: MSAs and Micropolitan Statistical Areas (65 FR 82235).

According to the OMB, MSAs are based on urbanized areas of 50,000 or more population, and Micropolitan Statistical Areas (referred to in this discussion as Micropolitan Areas) are based on urban clusters of at least 10,000 population, but less than 50,000 population. Counties that do not fall within CBSAs (either MSAs or Micropolitan Areas) are deemed “Outside CBSAs.” In the past, the OMB defined MSAs around areas with a minimum core population of 50,000, and smaller areas were “Outside MSAs.” On June 6, 2003, the OMB announced the new CBSAs, comprised of MSAs and the new Micropolitan Areas based on Census 2000 data. (A copy of the announcement may be obtained at the following Internet address: http://www.whitehouse.gov/omb/bulletins/fy04/b04-03.html.)

The new CBSA designations recognize 49 new (urban) MSAs and 565 new Micropolitan Areas, and revise the composition of many of the existing (urban) MSAs. There are 1,090 counties in MSAs under the new CBSA designations (previously, there were 848 counties in MSAs). Of these 1,090 counties, 737 are in the same MSA as they were before the change in designations, 65 are in a different MSA, and 288 were not previously designated to any MSA. There are 674 counties in Micropolitan Areas. Of these, 41 were previously in an MSA, while 633 were not previously designated to an MSA. There are five counties that previously were designated to an MSA but are no longer designated to either an MSA or a new Micropolitan Area: Carter County, KY; St. James Parish, LA; Kane County, UT; Culpepper County, VA; and King George County, VA. For a more detailed discussion of the conceptual basis of the new CBSAs, refer to the August 11, 2004 IPPS final rule (67 FR 49026 through 49034).

4. Proposed Revisions to the SNF PPS Labor Market Areas

[If you choose to comment on issues in this section, please include the caption “Proposed Revisions to the SNF PPS Labor Market Areas” at the beginning of your comments.]

In its June 6, 2003 announcement, the OMB cautioned that these new definitions “should not be used to develop and implement Federal, State, and local nonstatistical programs and policies without full consideration of the effects of using these definitions for such purposes. These areas should not serve as a general-purpose geographic framework for nonstatistical activities, and they may or may not be suitable for use in program funding formulas.”

In the SNF PPS update notice for FY 2005 (69 FR 45786, July 30, 2004), we noted that the recently-published IPPS proposed rule for FY 2005 had discussed some of the problems and concerns associated with using these new definitions, and had invited public comment on them. Accordingly, we decided to defer proposing any new labor market definitions in the SNF context at that time, in order to allow the public sufficient time and opportunity to consider and provide comments on this issue. Although the June 30, 2004 update notice also invited comments on the possible application of the new definitions to the SNF PPS, we received no written comments on the use of the new definitions specifically in the SNF context; however, we did receive a few phone calls inquiring about the methodology applied in the August 11, 2004 IPPS final rule (69 FR 49207). We believe that sufficient time has now elapsed for interested parties to consider and react to the new OMB definitions and, accordingly, we are now proposing to make the changes discussed below.

We have continued to use MSAs to define labor market areas for purposes of the wage index. For the SNF prospective payment system, the statute provides the Secretary with broad authority to use an “appropriate wage index as determined by the Secretary.” We believe MSAs are a reasonable and appropriate proxy for developing geographic areas for purposes of adjusting for wage differences in SNF PPS and for many of the same reasons stated in the various IPPS rules over the years where this issue has been exhaustively examined. We also note that MSAs are used to define labor market areas for purposes of the wage index for many of the other Medicare payment systems (for example, IRF PPS, HHA PPS, and IPF PPS).

First, historically, Medicare prospective payment systems have utilized MA definitions developed by OMB. For example, in discussing the adoption of the MSA designation for the IPPS area labor adjustment, the IPPS proposed rule for FY 1985 (49 FR 27426, July 3, 1984) stated:

[i]n administering a national payment system, we must have a national classification system built on clear, objective standards. Otherwise the program becomes increasingly difficult to administer because the distinction between rural and urban hospitals is blurred. We believe that the MSA system is the only one that currently meets the requirements for use as a classification system in a national payment program. The MSA classification system is a statistical standard developed for use by Federal agencies in the production, analysis, and publication of data on metropolitan areas. The standards have been developed with the aim of producing definitions that will be as consistent as possible for all MSAs nationwide.

In addition, in numerous instances, the Congress has recognized that the areas developed by OMB may be used for differentiating among geographic areas for Medicare payment purposes. For example, in the IPPS statutory sections, the Congress defines an “urban area” as “an area within a Metropolitan Statistical Area (as defined by the Office of Management and Budget) or within such similar area as the Secretary has recognized” (section 1886(d)(2)(D) of the Act). Similarly, in the sections of the statute governing the guidelines to be used by the Medicare Geographic Classification Review Board for purposes of reclassification, the Congress directed the Secretary to create guidelines for “determining whether the county in which the hospital is located should be treated as being a part of a particular [MSA]” (sections 1886(d)(10)(A) and 1886(d)(10)(D)(i)(II) of the Act). Thus, the Congress has accepted and ratified the use of MSAs as an inherently rational manner of dividing up labor-market areas for purposes of Medicare payments.

The process used by OMB to develop the MSAs creates geographic areas based upon characteristics that we believe also generally reflect the characteristics of unified labor market areas. For example, the CBSAs reflect a core population plus an adjacent territory that reflects a high degree of social and economic integration. This integration is measured by commuting ties, thus demonstrating that these areas may draw workers from the same general areas. In addition, the most recent CBSAs reflect the most up to date information. The OMB reviews its MA definitions preceding each decennial census to reflect recent population changes, and the CBSAs are based on the Census 2000 data. Finally, in the context of the IPPS, CMS has reviewed alternative methods for determining geographic areas for purposes of the wage index, and in each case, has decided to retain the OMB designations rather than replace these designations with alternatives.

Because we believe that we have broad authority to create labor market areas, and because we also believe that the OMB's latest MA designations accurately reflect the local economies and wage levels of the areas in which hospitals are currently located, we are proposing to adopt the revised labor market area designations based on the OMB's CBSA designations.

When we implemented the wage index adjustment at § 413.337(a)(ii) under the SNF PPS in the May 12, 1998 SNF PPS interim final rule (63 FR 26252), we explained that the SNF PPS wage index adjustment was intended to reflect the relative hospital wage levels in the geographic area of the hospital as compared to the national average hospital wage level. Because we believe that the OMB's CBSA designations based on Census 2000 data reflect the most recent available geographic classifications (MA definitions), we are proposing to revise the labor market area definitions used under the SNF PPS. Specifically, we are proposing to revise the SNF PPS labor market definitions based on the OMB's new CBSA designations (as discussed in greater detail below) effective for SNF PPS services occurring on or after October 1, 2005. Accordingly, we are proposing to revise § 413.337(a)(ii) to specify that for services furnished on or after October 1, 2005, the application of the wage index under the SNF PPS would be made on the basis of the location of the facility in an urban or rural area as defined in § 412.64(b)(1)(ii)(A) through (C).

We note that the OMB's new CBSA designations are the same labor market area definitions implemented under the IPPS at § 412.64(b), which were effective for those hospitals beginning October 1, 2004, as discussed in the August 11, 2004 IPPS final rule (69 FR 49026 through 49034). The similarity between the IPPS and the SNF PPS includes the adoption in the initial implementation of the SNF PPS of the same labor market area definitions under the SNF PPS that existed under the IPPS at that time, as well as the use of acute care hospitals' wage data in calculating the SNF PPS wage index. Therefore, we believe that proposing to revise the SNF PPS labor market area definitions based on OMB's CBSA designations is consistent with our historical practice of generally modeling SNF PPS wage index policy after IPPS wage index policy.

Below, we discuss the composition of the proposed SNF PPS labor market areas based on the OMB's new CBSA designations.

a. New England MSAs

As stated above, under the SNF PPS, we currently use NECMAs to define labor market areas in New England, because these are county-based designations rather than the 1990 MSA definitions for New England, which used minor civil divisions such as cities and towns. Under the current MSA definitions, NECMAs provided more consistency in labor market definitions for New England compared with the rest of the country, where MSAs are county-based. Under the new CBSAs, the OMB has now defined the MSAs and Micropolitan Areas in New England on the basis of counties. The OMB also established New England City and Town Areas, which are similar to the previous New England MSAs.

In order to create consistency among all labor market areas and to maintain these areas on the basis of counties, we are proposing to use the county-based areas for all MSAs in the nation, including those in New England. Census 2000 has now defined the New England area based on counties, creating a city- and town-based system as an alternative. We believe that adopting county-based labor market areas for the entire country except those in New England would lead to inconsistencies in our designations. Adopting county-based labor market areas for the entire country provides consistency and stability in Medicare SNF PPS program payment because all of the labor market areas throughout the country, including New England, would be defined using the same system (that is, counties) rather than different systems in different areas of the country, thus minimizing programmatic complexity.

In addition, we have consistently employed a county-based system for New England for precisely that reason: To maintain consistency with the labor market definitions used throughout the country. We note that this is consistent with the implementation of the CBSA designations under the IPPS for New England (see August 11, 2004 (69 FR 49028)). Accordingly, under the SNF PPS we are proposing to use the New England MSAs as determined under the proposed new CBSA-based labor market area definitions in defining the proposed revised SNF PPS labor market areas.

b. Metropolitan Divisions

Under the OMB's new CBSA designations, a Metropolitan Division is a county or group of counties within a CBSA that contains a core population of at least 2.5 million, representing an employment center, plus adjacent counties associated with the main county or counties through commuting ties. A county qualifies as a main county if 65 percent or more of its employed residents work within the county and the ratio of the number of jobs located in the county to the number of employed residents is at least 0.75 percent. A county qualifies as a secondary county if 50 percent or more, but less than 65 percent, of its employed residents work within the county and the ratio of the number of jobs located in the county to the number of employed residents is at least 0.75 percent. After all the main and secondary counties are identified and grouped, each additional county that already has qualified for inclusion in the MSA falls within the Metropolitan Division associated with the main/secondary county or counties with which the county at issue has the highest employment interchange measure. Counties in a Metropolitan Division must be contiguous (see 65 FR 82236).

As noted above, in the past, the OMB designated CMSAs as Metropolitan Areas with a population of one million or more and comprised of two or more PMSAs. Under the SNF PPS, we currently use the PMSAs rather than CMSAs to define labor market areas because they comprise a smaller geographic area with potentially varying labor costs due to different local economies. We believe that CMSAs may be too large an area to reflect accurately the local labor costs of all of the individual SNFs included in that relatively “large” area. Similarly, we believe that Metropolitan Divisions under the CBSA designations may be too large an area to reflect accurately the local labor costs of all of the individual SNFs included in that relatively “large” area. Further, Metropolitan Divisions represent the closest approximation to PMSAs and, therefore, would most accurately maintain our current structuring of the SNF PPS labor market areas. Therefore, as implemented under the IPPS (69 FR 49029), we are proposing to use the Metropolitan Divisions where applicable (as described below) under the proposed new CBSA-based labor market area definitions.

In addition to being comparable to the organization of the labor market areas under current MSA designations, we believe that proposing to use Metropolitan Divisions where applicable (as described below) under the SNF PPS would result in a more accurate adjustment for the variation in local labor market areas for SNFs. Specifically, if we recognize the relatively “larger” CBSA that comprises two or more Metropolitan Divisions as an independent labor market area for purposes of the wage index, it would be too large and would include the data from too many hospitals to compute a wage index that would accurately reflect the various local labor costs of all of the individual hospitals included in that relatively “large” CBSA. By proposing to recognize Metropolitan Divisions where applicable (as described below) under the proposed new CBSA-based labor market area definitions under the SNF PPS, we believe that the local labor costs would be more accurately reflected, thereby resulting in a wage index adjustment that better reflects the variation in the local labor costs of the local economies of the SNFs located in those relatively “smaller” areas.

Under the CBSA designations, there are 11 MSAs containing Metropolitan Divisions: Boston; Chicago; Dallas; Detroit; Los Angeles; Miami; New York; Philadelphia; San Francisco; Seattle; and Washington, D.C. Although these MSAs were also CMSAs under the prior definitions, in some cases their areas have been altered. Under the current SNF PPS MSA designations, Boston was a single NECMA. Under the proposed CBSA-based labor market area designations, it would be comprised of 4 Metropolitan Divisions. Los Angeles would go from 4 PMSAs under the current SNF PPS MSA designations to 2 Metropolitan Divisions under the proposed CBSA-based labor market area designations. The New York CMSA would go from 15 PMSAs under the current SNF PPS MSA designations to only 4 Metropolitan Divisions under the proposed CBSA-based labor market area designations. Five PMSAs in Connecticut under the current SNF PPS MSA designations would become separate MSAs under the proposed CBSA-based labor market area designations. The number of PMSAs in New Jersey, under the current SNF PPS MSA designations would go from 5 to 2, with the consolidation of 2 New Jersey PMSAs (Bergen-Passaic and Jersey City) into the New York-Wayne-White Plains, NY-NJ Division, under the proposed CBSA-based labor market area designations. In San Francisco, under the proposed CBSA-based labor market area designations there are only 2 Divisions. Currently, there are 6 PMSAs, some of which are now separate MSAs under the current SNF PPS labor market area designations.

Under the current SNF PPS labor market area designations, Cincinnati, Cleveland, Denver, Houston, Milwaukee, Portland, Sacramento, and San Juan are all designated as CMSAs, but would no longer be designated as CMSAs under the proposed CBSA-based labor market area designations. As noted previously, the population threshold to be designated a CMSA under the current SNF PPS labor market area designations is one million. In most of these cases, counties currently in a PMSA would become a separate, independent MSA under the proposed CBSA-based labor market area designations, leaving only the MSA for the core area under the proposed CBSA-based labor market area designations.

c. Micropolitan Areas

Under the OMB's new CBSA designations, Micropolitan Areas are essentially a third area definition consisting primarily of areas that are currently rural, but also include some or all of areas that are currently designated as urban MSAs. As discussed in greater detail in the August 11, 2004 IPPS final rule (69 FR 49029 through 49032), how these areas are treated would have significant impacts on the calculation and application of the wage index. Specifically, whether or not Micropolitan Areas are included as part of the respective statewide rural wage indexes would affect the value of the Statewide rural wage index of any State that contains a Micropolitan Area. A hospital's classification as urban or rural affects which hospitals' wage data are included in the statewide rural wage index. As discussed above in section II.D.3, we combine all of the counties in a State outside a designated urban area to calculate the statewide rural wage index for each State.

Micropolitan Areas included as part of the statewide rural labor market area would result in an increase to the statewide rural wage index because hospitals located in those Micropolitan Areas typically have higher labor costs than other rural hospitals in the State. Alternatively, as discussed in greater detail below, if Micropolitan Areas would be recognized as independent labor market areas, because there would be so few hospitals in those areas to complete a wage index, the wage indexes for SNFs in those areas could become relatively unstable as they would change considerably from year to year.

We currently use MSAs to define urban labor market areas and group all of the hospitals in counties within each State that are not assigned to an MSA into a statewide rural labor market area. Therefore, we used the terms “urban” and “rural” wage indexes in the past for ease of reference. However, the introduction of Micropolitan Areas by the OMB potentially complicates this terminology because these areas include many hospitals that are currently included in the statewide rural labor market areas.

We are proposing to treat Micropolitan Areas as rural labor market areas under the SNF PPS for the reasons outlined below. That is, counties that are assigned to a Micropolitan area under the CBSA designations would be treated the same as other “rural” counties that are not assigned to either an MSA (Metropolitan Area) or a Micropolitan Area. Therefore, in determining an SNF's applicable wage index (based on IPPS hospital wage index data, as discussed in greater detail below in section II.D.6 of this preamble), we propose that a SNF in a Micropolitan Area under the OMB's CBSA designations would be classified as “rural” and would be assigned the statewide rural wage index for the State in which it resides.

In the August 11, 2004 IPPS final rule (69 FR 49029 through 49032), we discussed the impact of treating Micropolitan areas as part of the statewide rural labor market area instead of treating Micropolitan Areas as independent labor market areas for hospitals paid under the IPPS. As discussed in greater detail in that same final rule, Micropolitan Areas encompass smaller populations than MSAs and tend to include fewer hospitals per Micropolitan Area.

Thus, since Micropolitan Areas tend to include fewer hospitals, recognizing Micropolitan Areas as independent labor market areas would generally increase the potential for dramatic shifts in those areas' wage indexes from one year to the next, because a single hospital (or group of hospitals) could have a disproportionate effect on the wage index of the area. Dramatic shifts in an area's wage index from year to year are problematic and create instability in the payment levels from year to year, which could make fiscal planning for SNFs difficult if we adopted this approach. Therefore, in order to minimize the potential instability in payment levels from year to year, we believe it would be appropriate to treat Micropolitan Areas as part of the statewide rural labor market area under the SNF PPS.

Consistent with the treatment of these areas under the IPPS, we are proposing that Micropolitan Areas be considered a part of the Statewide rural labor market area. Accordingly, we are proposing that the SNF PPS Statewide rural wage index would be determined using acute-care IPPS hospital wage data from hospitals located in non-MSA areas and that the Statewide rural wage index would be assigned to SNFs located in those areas.

When the revised labor market areas based on the OMB's new CBSA designations were adopted under the IPPS beginning on October 1, 2004, a transition to the new designations was established due to the scope and magnitude of the change, in order to mitigate the resulting adverse impact on certain hospitals. As discussed in the August 11, 2004 IPPS final rule (69 FR 49032), during FY 2005, a blend of wage indexes is calculated for those acute care IPPS hospitals experiencing a drop in their wage indexes because of the adoption of the new labor market areas. Also, as described in that same final rule (69 FR 49032), under the IPPS, hospitals that previously had been located in an urban MSA but became rural under the new CBSA definitions are assigned the wage index value of the urban area to which they belonged previously, for 3 years (FYs 2005 through FYs 2007).

We recognize that SNFs will be subject to the same impact as hospitals, and that some SNFs may experience decreases in their wage index as a result of the proposed labor market area changes. At the same time, a significant number of SNFs will benefit from these proposed changes. However, as explained below, we are not proposing a transition period in this proposed rule.

5. Implementation of the Revised Labor Market Areas

Under section 1888(e)(4)(G)(ii) of the Act, the Secretary has the authority to adjust for geographic variations in labor costs by using an appropriate wage index. Moreover, the adjustment must be made in a manner such that aggregate payments would not change if such adjustment were not made.

To facilitate an understanding of the proposed policies related to the proposed change to the SNF PPS labor market areas discussed above, in Table A (MSA/CBSA Crosswalk) of the Addendum of this proposed rule, we are providing a listing of each Social Security Administration (SSA) State and county location code; State and county name; existing MSA-based labor market area designation; MSA-based wage index value; CBSA-based labor market area; and the new CBSA-based wage index value.

When the revised labor market areas based on OMB's new CBSA designations were adopted under the IPPS beginning on October 1, 2004, a transition to the new designations was established due to the scope and fiscal impact of these new boundaries. As discussed in the IPPS final rule (69 FR 49032), during FY 2005, a blend of wage indexes is calculated for those acute care IPPS hospitals experiencing a drop in their wage indexes because of the adoption of the new labor market areas. The most significant impacts will generally be for MSA-based urban hospitals that were designated as rural under the CBSA-based designations.

Because the former MSA-based labor market areas used under the IPPS had been used for payment for over 10 years, we believed it was necessary to provide additional protection, given the scope and potentially significant implications (and the subsequent adverse impact) of these new labor market areas on numerous acute-care hospitals. Therefore, we implemented a transition under the IPPS from the former MSA-based labor market area designation to the new CBSA-based labor market area designation for acute-care hospitals that would receive a lower wage index as a result of the change in the labor market area designations.

As we recognize that SNFs may experience similar changes in their wage indexes as a result of the proposed labor market area changes, we carefully evaluated the impact of the conversion to the proposed wage index structure. During our analysis, we found that a majority of SNFs (61 percent) either maintained the same wage index or would get an increased wage index based on CBSA definitions. Only a very small number of SNFs (4 percent) would experience a decline of 5 percent or more in the wage index based on CBSA designations. We also found that only a very small number of SNFs would experience a change in either rural or urban designation under the CBSA based definitions. Furthermore, we believe the new CBSA definitions may have a positive impact on many counties. For example, most counties which had been included in the rural definitions under the MSA designations but are now designated as urban areas under CBSAs will generally receive an increase in their wage index.

Although a majority of SNFs would not be significantly affected, and we believe that it is not appropriate or necessary to propose a transition to the proposed new CBSA-based labor market areas for the purpose of the SNF PPS wage index, we recognize that there are many options in efficiently implementing the new CBSA geographic designations. Thus, we considered several budget neutral options that would most effectively implement the adoption of the proposed CBSA designations as discussed below.

One option we considered institutes a one-year transition with a blended wage index for all providers. The wage index for each provider would consist of a blend of 50 percent of the FY 2006 MSA-based wage index and 50 percent of the FY 2006 CBSA-based wage index (both based on the FY 2002 hospital wage data). However, we found that while this would help some SNFs that would be adversely affected by the proposed changes to the MSAs, it would also reduce the wage index values (compared to fully adopting the CBSA wage index value) for those SNFs that would be positively affected by the changes. In addition, the budget neutrality factor calculated based on the blended wage index for all SNFs would slightly reduce the unadjusted payment rate for all providers.

A second option we considered was a one-year transition with a blended wage index limited to providers that would experience a decrease due solely to the changes in the labor market definitions. Providers that experience a decrease in their FY 2006 wage index under the CBSA-based definitions compared to the wage index they would have received under the MSA-based definitions (in both cases using FY 2002 hospital wage data) would receive a blended wage index. The wage index for these providers would consist of a blend of 50 percent of the FY 2006 MSA wage index and 50 percent of the FY 2006 CBSA wage index (both based on the FY 2002 hospital wage data). Providers that would experience a decrease due to changes in the labor market definitions would receive the full FY 2006 CBSA wage index.

When we performed our analysis, we found that the unadjusted payment amounts decreased substantially more under this option than they did either by using the first option discussed above or by fully adopting the CBSA designations. As with the first option, the positive impact of blending in order to decrease the impacts for a relatively small number of SNFs would require reduced payment rates for all providers, including the SNFs receiving a blended wage index.

We also recognize that during FY 2005, as discussed in the August 11, 2004 IPPS final rule (69 FR 49032), a hold harmless policy under IPPS was implemented to minimize the overall impact on hospitals that are currently designated as urban under the MSA designations, but would become rural under the CBSA designations. We considered adopting a hold harmless policy for SNFs, to allow facilities that are currently urban under the MSA definitions (but become rural under the CBSA definitions) to maintain their urban status under the CBSA definitions for one year. However, our analysis shows that only an extremely small number of SNFs would qualify for such a hold harmless policy. As any adjustment requires payments to be made in a budget neutral manner, all providers would have the payment rates reduced for the benefit of that small number of SNFs (1.4 percent) which lose their urban designations. Accordingly, we do not believe it is appropriate or necessary to adopt a hold harmless policy under the SNF PPS for facilities that will experience a change in designation under the CBSA definitions.

We are proposing to adopt for the SNF PPS the new CBSA-based labor market area definitions beginning with the 2006 SNF PPS rate year without a transition period and without a hold harmless policy. We also note that OMB in the past has announced MSA changes on an annual basis due to population changes and we have not transitioned these changes under the SNF PPS.

As noted previously, our data analysis shows that a minimal number of SNFs would experience a decrease of more than 5 percent in the wage index. In addition, under the CBSA designation, an even smaller number of SNFs would experience a change from their current urban or rural designation. Therefore, the aggregate impact on SNFs under the MSA-based designations as compared to the CBSA-based designations does not result in a dramatic change overall.

As explained above, we believe that it is not appropriate or necessary to propose a transition to the proposed new CBSA-based labor market area for the SNF PPS wage index adjustment. In addition, as noted above, we believe the data suggest that the potential benefit of a hold harmless policy for an extremely small number of providers would be outweighed by the resulting decrease in payment rates for all providers. However, we specifically invite public comments on our proposed approach, as well as on the various transition options discussed above.

Finally, we note that section 505 of the MMA established new section 1886(d)(13) of the Act. The new section 1886(d)(13) requires that the Secretary establish a process to make adjustments to the hospital wage index based on commuting patterns of hospital employees. We believe that this requirement for an “out-commuting” or “out-migration” adjustment applies specifically to the Hospital Inpatient Prospective Payment System. Therefore, we will not be establishing such an adjustment for the SNF PPS.

6. Wage Index Data

[If you choose to comment on issues in this section, please include the caption “Wage Index Data” at the beginning of your comments.]

In the FY 2005 SNF PPS update notice (69 FR 45775, July 30, 2004), we established SNF PPS wage index values for the 2005 SNF PPS rate year calculated from the same data (generated in cost reporting periods beginning during FY 2001) used to compute the FY 2005 acute care hospital inpatient wage index data, without taking into account geographic reclassification under sections 1886(d)(8) and 1886(d)(10) of the Act and without applying the “rural floor” under section 4410 of the BBA. We subsequently published correction notices to update the wage index values. The SNF wage index values applicable for services furnished on or after October 1, 2004 through August 31, 2005 are shown in Table 8 (for urban areas) and Table 9 (for rural areas) in the December 30, 2004 correction notice (69 FR 78445).

Acute care hospital inpatient wage index data is also used to establish the wage index adjustment used in the LTCH PPS, IPF PPS, HHA PPS, and IRF PPS. As we discussed in the May 12, 1998 SNF PPS interim final rule (63 FR 26252), as hospitals that are excluded from the IPPS are not required to provide wage-related information on the Medicare cost report, and because we would need to establish instructions for the collection of these SNF data in order to establish a geographic reclassification adjustment under the SNF PPS, the wage adjustment established under the SNF PPS is based on a SNF's actual location without regard to the urban or rural designation of any related or affiliated provider.

In this proposed rule, for the FY 2006 SNF PPS rate year, we propose to use acute care hospital inpatient wage index data generated from cost reporting periods beginning during FY 2002 (without taking into account geographic reclassification under sections 1886(d)(8) and 1886(d)(10) of the Act and without applying the “rural floor” under section 4410 of the BBA) to determine the applicable wage index values under the SNF PPS, because these data (FY 2002) are the most recent complete data. We realize that there has been some interest in developing a SNF-specific wage index. However, considering the impact of converting to the new OMB classification methodology discussed above, we believe a second major change would be inappropriate at this time. In making this decision, one of our primary concerns is that the combined effect of changing both the wage area categories and the actual wage index could result in an inaccurate impact assessment for one or both of these changes. As discussed in several of the previous SNF PPS rules, we also remain concerned about the potential volatility and unreliability of unaudited data (see, for example, the final rule for FY 2002 (66 FR 39579 through 39596, July 31, 2001), and the final rule for FY 2004 (68 FR 46045 through 46046, August 3, 2003)).

We are proposing to adopt OMB's new labor market designations for CY 2006, effective January 1, 2006. In adopting the CBSA designations, we identified some geographic areas where there were no hospitals, and thus no hospital wage index data on which to base the calculation of the FY 2006 SNF PPS proposed wage index. In addressing this situation, we are proposing approaches that we believe serve as proxies for hospital wage data and would provide an appropriate standard that accounts for geographic variation in labor costs.

The first situation involves rural locations in Massachusetts and Puerto Rico. Under these labor market areas, there are no rural hospitals in those locations. Because there is no reasonable proxy for more recent rural data within those areas, we are proposing to use last year's wage index value for rural Massachusetts and rural Puerto Rico.

The second situation has to do with the urban areas of Hinesville, GA (CBSA 25980) and Mansfield, OH (CBSA 31900). Again, under the proposed new labor market areas there are no urban hospitals within those areas. We propose to use all of the urban areas within the State to serve as a reasonable proxy for the urban areas without specific hospital wage index data in determining the SNF PPS wage index. Therefore, in this proposed rule, we calculated the urban wage index value for purposes of the wage index for these areas without urban hospital data as the average wage index for all urban areas within the State. We note that we could not apply a similar averaging in rural areas, because in the rural areas there are no State rural hospital wage data available for averaging on a State-wide basis. We solicit comments on these approaches to calculating the wage index values for areas without hospitals for FY 2006 and subsequent years.

The proposed wage index values that would be applicable for SNF PPS services furnished on or after October 1, 2005 through August 31, 2006 are shown in Tables 8 and 9 in the Addendum of this proposed rule.

E. Updates to the Federal Rates

In accordance with section 1888(e)(4)(E) of the Act and section 311 of the BIPA, the proposed payment rates listed here reflect a proposed update equal to the full SNF market basket, estimated at 3.0 percentage points. We will continue to disseminate the rates, wage index, and case-mix classification methodology through the Federal Register before August 1 preceding the start of each succeeding fiscal year. We discuss the Federal rate update factor in greater detail in section III.C of this preamble.

F. Relationship of RUG-III Classification System to Existing Skilled Nursing Facility Level-of-Care Criteria

As discussed in § 413.345, we include in each update of the Federal payment rates in the Federal Register the designation of those specific RUGs under the classification system that represent the required SNF level of care, as provided in § 409.30. This designation reflects an administrative presumption under the current 44-group RUG-III classification system. Our presumption is that any beneficiary who is correctly assigned to one of the upper 26 RUG-III groups in the initial 5-day, Medicare-required assessment is automatically classified as meeting the SNF level of care definition up to the assessment reference date for that assessment.

Any beneficiary assigned to any of the lower 18 groups is not automatically classified as either meeting or not meeting the definition, but instead receives an individual level of care determination using the existing administrative criteria. This presumption recognizes the strong likelihood that beneficiaries assigned to one of the upper 26 groups during the immediate post-hospital period require a covered level of care, which would be significantly less likely for those beneficiaries assigned to one of the lower 18 groups.

As discussed in section II.B of this preamble, we propose to refine the existing 44-group RUG-III classification system by adding an additional 9 groups, comprising a new Rehabilitation plus Extensive Services category. In effect, the groups in this new category would encompass care that is at least as intensive as that identified by any of the upper 26 RUG-III groups under the original, 44-group RUG-III classification system. Accordingly, for purposes of the administrative presumption, we propose to designate the upper 35 groups of the proposed 53-group refined case-mix classification system (including the upper 26 groups that we have identified as representing a covered level of care under the existing 44-group system, plus the additional 9 groups set forth in this proposed rule), consisting of the following RUG classifications: All groups within the proposed new Rehabilitation plus Extensive Services category; all groups within the Ultra High Rehabilitation category; all groups within the Very High Rehabilitation category; all groups within the High Rehabilitation category; all groups within the Medium Rehabilitation category; all groups within the Low Rehabilitation category; all groups within the Extensive Services category; all groups within the Special Care category; and, all groups within the Clinically Complex category.

G. Initial 3-Year Transition Period From Facility Specific to Federal Rates

As noted previously in section I.A and section I.F.2 of this proposed rule, the PPS is no longer operating under the initial 3-year transition period from facility-specific to Federal rates. Therefore, payment now equals the adjusted Federal per diem rate.

H. Example of Computation of Adjusted PPS Rates and SNF Payment

As explained in section II.B of this proposed rule, from October 1, 2005, through December 31, 2005, we propose to make payment based entirely on the existing 44-group RUG-III classification system (including any associated add-on payments). Using the model SNF (XYZ) described in Table 10, the following shows the adjustments made to the Federal per diem rate to compute the provider's actual per diem PPS for the time period mentioned above using the existing 44 group RUG-III classification system.

Table 10.—RUG-44, SNF XYZ: Located in State College, PA, Wage Index: 0.8364
RUG group | Labor | Wage index | Adjustment labor | Non-labor | Adjustment rate | Percent adjustment | Medicare days | Payment
RVC | $282.62 | 0.8364 | $236.38 | $88.82 | $325.20 | * $346.99 | 14 | $4,858
RHA | 218.40 | 0.8364 | 182.67 | 68.64 | 251.31 | * 268.15 | 16 | 4,290
CC2 | 180.87 | 0.8364 | 151.28 | 56.84 | 208.12 | ** 474.51 | 10 | 4,745
SE3 | 241.52 | 0.8364 | 202.01 | 75.91 | 277.92 | *** 333.50 | 30 | 10,005
IA2 | 123.35 | 0.8364 | 103.17 | 38.77 | 141.94 | 141.94 | 30 | 4,258
Total |  |  |  |  |  |  | 100 | 28,156
* Reflects a 6.7 percent adjustment from section 314 of the BIPA.
** Reflects a 128 percent adjustment from section 511 of the MMA. Section 101(a) of the BBRA no longer applies because of the MMA section 511 adjustment.
*** Reflects a 20 percent adjustment from section 101(a) of the BBRA.

Beginning January 1, 2006, we propose to make payment based on the proposed new RUG-53 classification system (and, thus, would not include the add-on payments). Table 10a shows an example of the actual per diem PPS payments under the RUG-53 classification system.

Table 10a.—RUG-53, SNF XYZ: Located in State College, PA, Wage Index: 0.8364
RUG group | Labor | Wage index | Adjustment labor | Non-labor | Adjustment rate | Percent adjustment | Medicare days | Payment
RVX | $310.03 | 0.8364 | $259.31 | $97.44 | $356.75 | $356.75 | 14 | $4,994
RHA | 233.09 | 0.8364 | 194.96 | 73.26 | 268.22 | 268.22 | 16 | 4,291
CC2 | 184.01 | 0.8364 | 153.91 | 57.83 | 211.74 | * 482.76 | 10 | 4,828
RLX | 246.32 | 0.8364 | 206.02 | 77.42 | 283.44 | 283.44 | 30 | 8,503
IA2 | 125.44 | 0.8364 | 104.92 | 39.43 | 144.35 | 144.35 | 30 | 4,330
Total |  |  |  |  |  |  | 100 | 26,946
* Reflects a 128 percent adjustment from section 511 of the MMA.

III. The Skilled Nursing Facility Market Basket Index

Section 1888(e)(5)(A) of the Act requires us to establish a SNF market basket index (input price index) that reflects changes over time in the prices of an appropriate mix of goods and services included in the SNF PPS. This proposed rule incorporates the latest available projections of the SNF market basket index. The final rule will incorporate updated projections based on the latest available projections at that time. Accordingly, we have developed a SNF market basket index that encompasses the most commonly used cost categories for SNF routine services, ancillary services, and capital-related expenses. In the July 31, 2001 Federal Register (66 FR 39562), we included a complete discussion on the rebasing of the SNF market basket to FY 1997. There are 21 separate cost categories and respective price proxies. These cost categories were illustrated in Table 10.A, Table 10.B, and Appendix A, along with other relevant information, in the July 31, 2001 Federal Register.

Each year, we calculate a revised labor-related share based on the relative importance of labor-related cost categories in the input price index. Table 11 summarizes the proposed updated labor-related share for FY 2006.

Table 11.—FY 2006 Labor-Related Share
| Relative importance, labor-related, FY 2005 (97 index) | Relative importance, labor-related, FY 2006 (97 index)
Wages and salaries | 54.720 | 54.572
Employee benefits | 11.595 | 11.691
Nonmedical professional fees | 2.688 | 2.702
Labor-intensive services | 4.125 | 4.116
Capital-related | 3.094 | 3.006
Total | 76.222 | 76.087

A. Use of the Skilled Nursing Facility Market Basket Percentage

Section 1888(e)(5)(B) of the Act defines the SNF market basket percentage as the percentage change in the SNF market basket index, as described in the previous section, from the average index level of the prior fiscal year to the average index level of the current fiscal year. For the Federal rates established in this proposed rule, this percentage increase in the SNF market basket index would be used to compute the update factor occurring between FY 2005 and FY 2006. We used the Global Insight, Inc. (formerly DRI-WEFA), 1st quarter 2005 forecasted percentage increase in the FY 1997-based SNF market basket index for routine, ancillary, and capital-related expenses, described in the previous section, to compute the update factor. Finally, we no longer compute update factors to adjust a facility-specific portion of the SNF PPS rates, because the 3-year transition period from facility-specific to full Federal rates that started with cost reporting periods beginning in July 1998 has expired.

B. Market Basket Forecast Error Adjustment

As discussed in the June 10, 2003, supplemental proposed rule (68 FR 34768) and finalized in the August 4, 2003, final rule (68 FR 46067), the regulations at § 413.337(d)(2) provide for an adjustment to account for market basket forecast error. The initial adjustment applied to the update of the FY 2003 rate that occurred in FY 2004, and took into account the cumulative forecast error for the period from FY 2000 through FY 2002. Subsequent adjustments in succeeding FYs take into account the forecast error from the most recently available fiscal year for which there are final data, and are applied whenever the difference between the forecasted and actual change in the market basket exceeds a 0.25 percentage point threshold. As discussed previously in section I.G of this proposed rule, as the difference between the estimated and actual amounts of increase in the market basket index for FY 2004 (the most recently available fiscal year for which there are final data) did not exceed the 0.25 percentage point threshold, the payment rates for FY 2006 do not include a forecast error adjustment.

C. Federal Rate Update Factor

Section 1888(e)(4)(E)(ii)(IV) of the Act requires that the update factor used to establish the FY 2006 Federal rates be at a level equal to the full market basket percentage change. Accordingly, to establish the update factor, we determined the total growth from the average market basket level for the period of October 1, 2004 through September 30, 2005 to the average market basket level for the period of October 1, 2005 through September 30, 2006. Using this process, the proposed update factor for FY 2006 SNF Federal rates is 3.0 percentage points. We used this revised proposed update factor to compute the proposed Federal portion of the SNF PPS rate shown in Tables 2 and 3.

IV. Consolidated Billing

As established by section 4432(b) of the BBA, the consolidated billing requirement places with the SNF the Medicare billing responsibility for virtually all of the services that the SNF's residents receive, except for a small number of services that the statute specifically identifies as being excluded from this provision. Section 103 of the BBRA amended this provision by further excluding a number of high-cost, low probability services (identified by Healthcare Common Procedure Coding System (HCPCS) codes) within several broader categories that otherwise remained subject to the provision. Section 313 of the BIPA further amended this provision by repealing its Part B aspect; that is, its applicability to services furnished to a resident during a SNF stay that Medicare does not cover. (However, physical, occupational, and speech-language therapy remain subject to consolidated billing, regardless of whether the resident who receives these services is in a covered Part A stay.)

Further, while the services of rural health clinics (RHCs) and Federally Qualified Health Centers (FQHCs) generally are subject to SNF consolidated billing, section 410 of the MMA provided that when an RHC or FQHC furnishes the services of a physician (or another type of service that section 1888(e)(2)(A)(ii) of the Act identifies as being excluded from SNF consolidated billing), those services do not become subject to consolidated billing merely by virtue of being furnished under the auspices of the RHC or FQHC. In effect, this provision (which applies to services furnished on or after January 1, 2005) enables those services to retain their separate identity as excluded “practitioner” services in this context, rather than being treated as bundled “RHC” or “FQHC” services. As such, these services would remain separately billable to Part B when furnished to a resident of the SNF during a covered Part A stay.

To date, the Congress has enacted no further legislation affecting the consolidated billing provision. However, as we noted in the proposed rule of April 10, 2000 (65 FR 19232), section 1888(e)(2)(A)(iii) of the Act, as added by section 103 of the BBRA, not only identified for exclusion from this provision a number of particular service codes within four specified categories (that is, chemotherapy items, chemotherapy administration services, radioisotope services, and customized prosthetic devices), but “ * * * also gives the Secretary the authority to designate additional, individual services for exclusion within each of the specified service categories.” In that proposed rule, we also noted that the BBRA Conference report (H.R. Conf. Rep. No. 106-479 at 854) characterizes the individual services that this legislation targets for exclusion as “* * * high-cost, low probability events that could have devastating financial impacts because their costs far exceed the payment [SNFs] receive under the prospective payment system * * *” According to the conferees, section 103(a) “is an attempt to exclude from the PPS certain services and costly items that are provided infrequently in SNFs * * *.” By contrast, we noted that the Congress declined to designate for exclusion any of the remaining services within those four categories (thus leaving all of those services subject to SNF consolidated billing), because they are relatively inexpensive and are furnished routinely in SNFs.

As we further explained in the final rule of July 31, 2000 (65 FR 46790), any additional service codes that we might designate for exclusion under our discretionary authority must meet the same criteria that the Congress used in identifying the original codes excluded from consolidated billing under section 103(a) of the BBRA: They must fall within one of the four service categories specified in the BBRA, and they also must meet the same standards of high cost and low probability in the SNF setting. Accordingly, we characterized this statutory authority to identify additional service codes for exclusion “* * * as essentially affording the flexibility to revise the list of excluded codes in response to changes of major significance that may occur over time (for example, the development of new medical technologies or other advances in the state of medical practice)” (65 FR 46791). In view of the amount of time that has elapsed since we last invited comments on this issue, we believe it is appropriate at this point once again to invite public comments that identify codes in any of these four service categories representing recent medical advances that might meet the BBRA criteria for exclusion from SNF consolidated billing.

We note that the original BBRA legislation (as well as the implementing regulations) identified a set of excluded services by means of specifying HCPCS codes that were in effect as of a particular date (for example July 1, 1999). Identifying the excluded services in this manner made it possible for us to utilize a Program Memorandum as the vehicle for accomplishing routine updates of the excluded codes, in order to reflect any minor revisions that might subsequently occur in the coding system itself (for example, the assignment of a different code number to the same service). Accordingly, for any new services that would actually represent a substantive change in the scope of services that are excluded from the SNF consolidated billing provision, we would identify these additional excluded services by means of the HCPCS codes that are in effect as of a specific date (in this case, October 1, 2005). By making any new exclusions in this manner, we could similarly accomplish routine future updates of these additional codes through the issuance of program instructions.

V. Application of the SNF PPS to SNF Services Furnished by Swing-Bed Hospitals

In accordance with section 1888(e)(7) of the Act (as amended by section 203 of the BIPA), Part A pays critical access hospitals (CAHs) on a reasonable cost basis for SNF services furnished under a swing-bed agreement. However, as noted previously in section I.A of this notice, the services furnished by non-CAH rural hospitals are paid under the SNF PPS. In the July 31, 2001 final rule (66 FR 39562), we announced the conversion of swing-bed rural hospitals to the SNF PPS, effective with the start of the provider's first cost reporting period beginning on or after July 1, 2002. We selected this date consistent with the statutory provision to integrate swing-bed rural hospitals into the SNF PPS by the end of the SNF transition period, June 30, 2002.

As of June 30, 2003, all swing-bed rural hospitals have come under the SNF PPS. Therefore, all rates and wage indexes outlined in earlier sections of this notice for SNF PPS also apply to all swing-bed rural hospitals. A complete discussion of assessment schedules, the MDS, and the transmission software (Raven-SB for Swing Beds) can be found in the July 31, 2001 final rule (66 FR 39562). The latest changes in the MDS for swing-bed rural hospitals are listed on our SNF PPS Web site, http://www.cms.hhs.gov/providers/snfpps/default.asp.

VI. Qualifying Three-Day Inpatient Hospital Stay Requirement

As indicated in section I.A of this proposed rule, the SNF benefit includes not only level of care requirements, but also a set of technical, or “posthospital” eligibility requirements as well. These requirements date back to the original Medicare legislation (section 102(a) of the Social Security Amendments of 1965, Public Law 89-97), when the Congress defined the intended scope of this benefit. The SNF benefit was never intended to cover long-term, relatively low-level “custodial” care; rather, the Congress envisioned this benefit more narrowly, in terms of serving as a less expensive alternative to what would otherwise be the final, convalescent portion of an acute care stay of several days as an inpatient at a hospital. In order to target the SNF benefit more effectively at the limited segment of the nursing home population that the benefit was actually designed to cover (that is, those beneficiaries requiring a short-term, fairly intensive stay in a SNF as a continuation of an acute hospital stay of several days), the Congress established as a prerequisite for SNF coverage a requirement that a beneficiary must first be a hospital inpatient for “not less than 3 consecutive days before his discharge from the hospital” (section 1861(i) of the Act). From the very inception of the Medicare program, in determining the three-day inpatient requirement for purposes of triggering the SNF benefit, “inpatient” status has been determined as commencing with “the calendar day of admission” to the hospital (see 20 CFR § 405.120 (1966)). The current guidelines in the CMS Internet Online Manual (IOM) at Publication 100-02 (Medicare Benefit Policy Manual), Chapter 8 (Coverage of Extended Care (SNF) Services Under Hospital Insurance), § 20.1 (Three-Day Prior Hospitalization) reflect this determination.

More recently, it has been suggested that because of changes in hospital admission practices that have occurred since the Congress enacted this provision in 1965, some patients who at that time would have been a hospital inpatient for at least 3 days are instead now placed in observation status initially, before being formally admitted as a hospital inpatient. Observation status is a distinct service that is discussed in the IOM in Publication 100-02 (Medicare Benefit Policy Manual), Chapter 6 (Hospital Services Covered Under Part B), § 70.4 (Outpatient Observation Services), in which a patient who needs more care than can be provided in an emergency room is moved from the emergency room, placed in a hospital bed in the appropriate hospital unit, and monitored by the unit nursing and physician staff. We recognize that coverage of observation services under the outpatient prospective payment system is connected to patients with three specific diagnoses: chest pain, asthma, and congestive heart failure.

However, as we noted previously, the longstanding policy interpretation of the SNF benefit's prior hospital stay requirement does not count hospital observation time that immediately precedes an inpatient admission toward meeting the requirement. We have received occasional inquiries about the effect of this policy on those beneficiaries who would be able to satisfy the SNF benefit's 3-day hospital stay requirement only if time spent in observation status immediately prior to the formal inpatient admission were counted. These inquiries assert that in such situations, the care furnished during observation may be indistinguishable from the inpatient care that follows the formal admission, so that the beneficiaries themselves often learn of the difference only after they were transferred to the SNF and failed to meet the SNF benefit's prior hospital stay requirement. The inquirers argue that it is unfair to deny SNF coverage to such a beneficiary based solely on what they characterize as a mere recordkeeping convention on the part of the hospital rather than a substantive change in the actual care that the beneficiary receives there.

We note that the current SNF benefit policy (which counts only time following the formal inpatient admission to the hospital toward meeting the qualifying hospital stay requirement) is based directly on the applicable portion of the Medicare law at section 1861(i) of the Act, which defines the SNF benefit's qualifying hospital stay as one in which the beneficiary “* * * was an inpatient for not less than 3 consecutive days * * *” (emphasis added). An inpatient is a person who has been admitted to a hospital for bed occupancy for purposes of receiving inpatient hospital services as defined in section 1861 of the Act. Moreover, although at the time that this provision was enacted, the concept of observation status itself was not yet even envisioned, to date, the Congress has not chosen to amend section 1861(i) of the Act specifically to reflect use of observation time as triggering the SNF benefit. However, we are aware that over time, practice and treatment of observation time may have changed; thus, the effect of not counting this observation time under the existing policy ultimately might be to restrict SNF coverage to a narrower segment of the beneficiary population than the Congress originally intended.

Accordingly, with regard to those beneficiaries whose formal admission to the hospital as an inpatient is immediately preceded by time spent in hospital observation status, we invite comments on whether we should consider the possibility of counting the time spent in observation status toward meeting the SNF benefit's qualifying 3-day hospital stay requirement. We note that in evaluating the potential impact of such a change, it is necessary not only to consider its effect on those beneficiaries who might not otherwise be able to meet the SNF benefit's prior qualifying hospital stay requirement, but also to assess potential negative consequences. Possible examples could include altering the nature of the SNF benefit in a manner that is inconsistent with Congressional intent in establishing this requirement, or creating a “woodwork effect” of unanticipated consequences, such as routine placement of patients in observation status prior to formal admission, even in situations where observation is not appropriate.

In soliciting these comments, moreover, we wish to distinguish the possible use of observation time from time spent in the hospital's emergency room. Although both observation services and emergency room services are directed at patients who are expected to spend only a short period of time in that service area, they are in many other ways dissimilar. Other than for patients with scheduled admissions, the emergency room generally serves as the hospital's overall point of entry, irrespective of the degree of severity of a particular patient's condition; thus, many hospital patients typically would commence their hospital encounter by spending at least some time initially in the emergency room. However, the time in the emergency room is not considered a substitute for or equivalent to inpatient hospital care. Clearly, many visits to the ER are for treatment of problems requiring no inpatient hospitalization (for example, most wounds, broken or sprained limbs, or minor respiratory illnesses) and often patients come to the ER because their regular physician is unavailable. Situations involving observation status, however, tend to be relatively infrequent compared to the care of all patients that present to the hospital (for example, excessive bleeding or complications during surgery necessitating a longer-than-normal recovery period, or non-specific significant abdominal pain). Further, as emergency room services typically represent the patient's initial medical encounter for new or worsening symptoms, such services focus on identifying, managing, and stabilizing the patient's acute condition. By contrast, observation services are furnished to a patient for whom there is already at least a working diagnosis, and involve ongoing assessment and short-term treatment that is specifically directed at that condition so that a subsequent determination about hospital admission or discharge can be made. (With respect to continuing assessment and treatment, observation services would appear to share some common elements with inpatient care, although the latter involves a condition that is expected to require care for a significantly longer duration, and that also may well require medical intervention at a level of complexity that does not occur on an outpatient basis.)

We recognize that, under section 1886(a) of the Act, the statute defines “operating costs of inpatient hospital services” as including the costs of certain services furnished prior to a patient's admission to the hospital. That is, the costs of certain services furnished prior to an individual's admission as an inpatient are deemed by statute to be operating costs of inpatient hospital services. However, it is worth noting that section 1886(a) addresses costs, and neither section 1886(a) nor section 1861(i) provides that a patient be deemed an inpatient during the time prior to admission for purposes of the 3-day requirement for SNF coverage. Moreover, the deeming requirement in section 1886(a) and the 3-day requirement for SNF coverage in section 1861(i) serve different purposes. The deeming requirement in section 1886(a) was intended to prevent hospitals from “unbundling” services from the inpatient stay and inappropriately seeking separate payment. See 59 FR 1654, 1656 (Jan. 12, 1994). That consideration does not apply in the context of SNF coverage. As discussed above, the purpose of the 3-day inpatient stay requirement for SNF coverage is to target SNF coverage to individuals requiring a short-term, fairly intensive stay in a SNF as a continuation of an acute hospital stay. The Congress chose to target SNF coverage to individuals who had been inpatients for at least 3 consecutive days; the Congress could have chosen a shorter time, or it could have specified that certain time before admission must be counted for purposes of the 3-day requirement, but it did not. Given the differences in statutory language and statutory purpose, we believe the requirement in section 1886(a) of the Act (to treat certain preadmission costs as inpatient costs) is consistent with not counting time spent in the hospital prior to an individual's inpatient admission as inpatient time, for purposes of the 3-day requirement for SNF coverage under section 1861(i) of the Act.

VII. Provisions of the Proposed Rule

In this proposed rule, we propose to make the following revision to the existing text of the regulations:

• We would revise the regulations at § 424.20(e)(2), regarding the performance of SNF certifications and recertifications by NPs and CNSs, to clarify the distinction between “direct” and “indirect” employment relationships. We would also make a minor technical correction in the definition of “HCPCS” that appears in § 424.3.

VIII. Collection of Information Requirements

This document does not impose information collection and recordkeeping requirements. Consequently, it need not be reviewed by the Office of Management and Budget under the authority of the Paperwork Reduction Act of 1995.

IX. Regulatory Impact Analysis

A. Overall Impact

We have examined the impacts of this proposed rule as required by Executive Order 12866 (September 1993, Regulatory Planning and Review), the Regulatory Flexibility Act (RFA, September 16, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). This proposed rule is major, as defined in Title 5, United States Code, section 804(2), because we estimate the impact to the Medicare program, and the annual effects to the overall economy, would be more than $100 million.

The RFA requires agencies to analyze options for regulatory relief of small businesses. For purposes of the RFA, small entities include small businesses, nonprofit organizations, and government agencies. Most SNFs and most other providers and suppliers are small entities, either by their nonprofit status or by having revenues of $11.5 million or less in any 1 year. For purposes of the RFA, approximately 53 percent of SNFs are considered small businesses according to the Small Business Administration's latest size standards, with total revenues of $11.5 million or less in any 1 year (for further information, see 65 FR 69432, November 17, 2000). Individuals and States are not included in the definition of a small entity. In addition, approximately 29 percent of SNFs are nonprofit organizations.

This proposed rule proposes to update the SNF PPS rates published in the FY 2005 update notice on July 30, 2004 (69 FR 45775) and the associated correction notices published on October 7, 2004 (69 FR 60158), and December 30, 2004 (69 FR 78445).

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside of a Metropolitan Statistical Area and has fewer than 100 beds. We anticipate that the impact on swing-bed facilities will be similar to the impact on rural hospital-based facilities, which benefit from the case-mix refinement (see Table 12 below).

Section 202 of the Unfunded Mandates Reform Act of 1995 also requires that agencies assess anticipated costs and benefits before issuing any rule that may result in expenditure in any 1 year by State, local, or tribal governments, in the aggregate, or by the private sector, of $110 million or more. This proposed rule would not have a substantial effect on the governments mentioned, or on private sector costs.

Executive Order 13132 establishes certain requirements that an agency must meet when it promulgates a proposed rule that impose substantial direct requirement costs on State and local governments, preempts State law, or otherwise has Federalism implications. As stated above, this proposed rule would not have a substantial effect on State and local governments.

B. Anticipated Effects

This proposed rule sets forth updates of the SNF PPS rates contained in the FY 2005 update notice (69 FR 45775), and the associated correction notices (69 FR 60158 and 69 FR 78445) and presents a refinement to the RUG-III case-mix classification system to be incorporated into the Medicare SNF PPS effective January 1, 2006. As described in Section II.B.4, providers would continue to be paid under the current 44 group RUG-III system from October 1, 2005 through December 31, 2005. Beginning January 1, 2006, we propose that providers would be paid the proposed new RUG-53 payment.

Based on the above, we estimate the FY 2006 impact to be a net impact of $0 million on payments (this reflects a $1.02 billion reduction from the expiration of temporary payment increases, offset by a $510 million increase from the proposed refined case-mix classification system and a $510 million increase from the update to the payment rates, as explained in greater detail later in this section). The impact analysis in Table 12 of this proposed rule represents the projected effects of the proposed policy changes in the SNF PPS from FY 2005 to FY 2006. We estimate the effects by estimating payments while holding all other payment variables constant. We use the best data available, but we do not attempt to predict behavioral responses to these changes, and we do not make adjustments for future changes in such variables as days or case-mix.

We note that certain events may combine to limit the scope or accuracy of our impact analysis, because such an analysis is future-oriented and, thus, susceptible to forecasting errors due to other changes in the forecasted impact time period. Some examples are newly-legislated general Medicare program funding changes by the Congress, or changes specifically related to SNFs. In addition, changes to the Medicare program may continue to be made as a result of the BBA, the BBRA, the BIPA, the MMA, or new statutory provisions. Although these changes may not be specific to the SNF PPS, the nature of the Medicare program is such that the changes may interact, and the complexity of the interaction of these changes could make it difficult to predict accurately the full scope of the impact upon SNFs.

In accordance with section 1888(e)(4)(E) of the Act, we are updating the payment rates for FY 2006. The BBRA, BIPA, and MMA provided for several temporary adjustments to the SNF PPS payment rates that together, using the most recent data available, accounted for an estimated $1.4 billion per year in payments to the nursing home industry.

We note that in accordance with section 101(a) of the BBRA and section 314 of the BIPA, the existing, temporary increase in the per diem adjusted payment rates of 20 percent for certain specified clinically complex RUGs (and 6.7 percent for other, rehabilitation RUGs) would expire with the implementation of the proposed case-mix refinements in the SNF PPS. As explained in section II.B.3 of this proposed rule, section 511 of the MMA, which provides for a 128 percent increase in the PPS per diem payment for any SNF resident with Acquired Immune Deficiency Syndrome (AIDS), remains in effect. However, we have not provided a separate impact analysis for the MMA provision. Our latest estimates indicate that there are less than 2,000 beneficiaries who qualify for this add-on payment. The impact to Medicare is included in the “total” column of Table 12.

In proposing to update the rates for FY 2006, we made a number of standard annual revisions and clarifications mentioned elsewhere in this proposed rule (for example, the update to the wage and market basket indexes used for adjusting the Federal rates). These revisions would increase payments to SNFs by approximately $510 million.

The aggregate change in payments associated with this proposed rule is estimated to be $0 million for FY 2006. The decrease of $1.02 billion due to the elimination of the temporary add-ons as of January 1, 2006, together with the additional payment due to the proposed refined case-mix classification system of $510 million and the market basket increase of $510 million, results in a net change in payments of $0 million. There are two areas of change that produce this impact on SNFs:

1. The implementation of a refined case-mix classification system under section 1888(e)(4)(G)(i) of the Act and, consequently, the reduction of the temporary 20 percent/6.7 percent add-ons to the Federal rates for the specified RUG groups.

2. The total change in payments from FY 2005 levels to FY 2006 levels. This includes all of the previously noted changes in addition to the effect of the update to the rates.

The impacts are shown in Table 12. The breakdown of the various categories of data in the table follows.

The first column shows the breakdown of all SNFs by urban or rural status, hospital-based or freestanding status, and census region.

The first row of figures in the first column describes the estimated effects of the various changes on all facilities. The next 6 rows show the effects on facilities split by hospital-based, freestanding, urban, and rural categories. The next 20 rows show the effects on urban versus rural status by census region.

The second column in the table shows the number of facilities in the impact database.

The third column of the table shows the effect of the annual update to the wage index. This represents the effect of using the most recent wage data available. The total impact of this change is zero percent; however, there are distributional effects of the change.

The fourth column of the table shows the effect of using the new OMB geographic designations based on CBSAs.

The fifth column of the table shows the effect of the elimination of the add-on for specified RUG groups. As expected, this results in a decrease in payments for all providers.

The sixth column of the table shows the effect of the proposed refinements to the case-mix classification system. Table 12 shows that there is a positive three percent overall impact from the proposed case-mix refinements. Distributional effects are noted for specific providers. For example, hospital-based facilities are expected to receive greater than a 5.6 percent increase in payment, compared with freestanding facilities that show an increase in payments of between 2.4 and 2.9 percent. Additionally, rural Census regions show increases in payments of 3.4 percent.

The seventh column of the table shows the effect of all of the changes on the FY 2006 payments. As the market basket increase of 3.0 percentage points is constant for all providers, it is not shown individually; however, we note that the “Total FY 2006 change” column does incorporate this increase. It is projected that aggregate payments would not change in total, assuming facilities do not change their care delivery and billing practices in response.

As can be seen from this table, the combined effects of all of the changes would vary by specific types of providers and by location. For example, though facilities in the rural South Atlantic and rural Mountain region experience payment decreases of 2.3 and 1.8 percent respectively, some providers such as the rural Pacific and rural New England show increases of 4.1 and 2.6 percent respectively. Payment increases for facilities in the Rural Pacific area of the country are the highest for any provider type.

Table 12.—Projected Impact to the SNF PPS for FY 2006
| Number of facilities | Update wage data (percent) | MSA to CBSA (percent) | Eliminate add-on to certain RUGs (percent) | Case-mix refinements (percent) | Total FY 2006 change (percent)
Total | 15,675 | 0.0 | 0.0 | −6.0 | 3.0 | 0.0
Urban | 10,599 | 0.0 | 0.2 | −6.0 | 2.9 | 0.1
Rural | 5,076 | 0.1 | −0.8 | −6.0 | 3.4 | −0.3
Hospital based urban | 1,097 | 0.0 | 0.2 | −6.3 | 5.6 | 2.5
Freestanding urban | 8,693 | 0.0 | 0.2 | −5.9 | 2.4 | −0.3
Hospital based rural | 1,160 | 0.0 | −0.7 | −6.8 | 5.9 | 1.3
Freestanding rural | 3,372 | 0.2 | −1.0 | −5.9 | 2.9 | −0.8
Urban by region:
New England | 917 | −0.4 | −0.4 | −6.4 | 3.0 | −1.2
Middle Atlantic | 1,499 | 0.2 | 0.3 | −6.1 | 3.4 | 0.8
South Atlantic | 1,739 | −0.3 | 0.3 | −5.9 | 2.6 | −0.3
East North Central | 2,009 | −0.3 | 0.0 | −5.7 | 2.8 | −0.2
East South Central | 531 | 0.4 | 0.7 | −6.0 | 2.7 | 0.8
West North Central | 836 | −0.4 | 0.4 | −5.9 | 3.7 | 0.8
West South Central | 1,093 | −0.1 | 0.5 | −5.8 | 2.7 | 0.3
Mountain | 467 | −0.2 | 0.5 | −5.6 | 3.0 | 0.7
Pacific | 1,501 | 1.2 | 0.0 | −6.2 | 2.7 | 0.7
Rural by region:
New England | 139 | 1.9 | −0.1 | −5.7 | 3.5 | 2.6
Middle Atlantic | 283 | 0.0 | −0.8 | −6.0 | 3.7 | −0.1
South Atlantic | 612 | −0.3 | −1.7 | −6.2 | 2.9 | −2.3
East North Central | 947 | 0.2 | −0.8 | −5.9 | 3.5 | 0.1
East South Central | 571 | 0.4 | −0.6 | −6.3 | 2.9 | −0.6
West North Central | 1,219 | −0.4 | −0.3 | −6.2 | 4.0 | 0.1
West South Central | 823 | 0.3 | −0.8 | −6.2 | 2.9 | −0.7
Mountain | 298 | 0.8 | −3.4 | −5.9 | 3.8 | −1.8
Pacific | 182 | 1.3 | 0.5 | −4.2 | 3.5 | 4.1
Ownership:
Government | 693 | 0.1 | 0.3 | −6.5 | 3.2 | 0.0
Proprietary | 9,317 | 0.0 | 0.0 | −5.9 | 2.9 | 0.0
Voluntary | 3,493 | −0.1 | −0.1 | −6.0 | 3.1 | −0.1

C. Accounting Statement

As required by OMB Circular A-4 (available at http://www.whitehouse.gov/omb/circulars/a004/a-4.pdf), in Table 13 below, we have prepared an accounting statement showing the classification of the expenditures associated with the provisions of this proposed rule. This table provides our best estimate of the change in Medicare payments under the SNF PPS as a result of the proposals presented in this proposed rule based on the data for 15,675 SNFs in our database. All expenditures are classified as transfers to Medicare providers (that is, SNFs).

Table 13.—Accounting Statement: Classification of Estimated Expenditures, from the 2005 SNF PPS Rate Year to the 2006 SNF PPS Rate Year (in Millions)
Category | Transfers
Annualized Monetized Transfers | $0 million.
From Whom To Whom? | No Transfer.

D. Alternatives Considered

Section 1888(e) of the Act establishes the SNF PPS for the payment of Medicare SNF services for cost reporting periods beginning on or after July 1, 1998. This section of the statute prescribes a detailed formula for calculating payment rates under the SNF PPS, and does not provide for the use of any alternative methodology. It specifies that the base year cost data to be used for computing the RUG-III payment rates must be from FY 1995 (October 1, 1994, through September 30, 1995.) In accordance with the statute, we also incorporated a number of elements into the SNF PPS, such as case-mix classification methodology, the MDS assessment schedule, a market basket index, a wage index, and the urban and rural distinction used in the development or adjustment of the Federal rates. Further, section 1888(e)(4)(H) of the Act specifically requires us to disseminate the payment rates for each new fiscal year through the Federal Register, and to do so before the August 1 that precedes the start of the new fiscal year.

As discussed previously in section II.B of this proposed rule, we propose to implement refinements to the RUG-III case-mix classification system under section 1888(e)(4)(G)(i) of the Act. At the same time, we continue to evaluate longer-range, more comprehensive changes in the case-mix classification system. One alternative that we considered was to defer proposing refinements at this time until our evaluation of longer-range, more comprehensive changes is complete. However, we believe that the refinements that we are proposing would serve to improve the distribution of payments under the PPS, in a manner that more accurately accounts for the care needs of the most medically complex patients. As noted in section II of this preamble, a number of analyses have demonstrated an increase in the explanatory power (R-square) of the proposed refined case-mix classification system model, compared to the 44-group model that is currently in use. While our additional research may identify more comprehensive modifications, it is not currently known when the results of this research would become available. Therefore, we have decided to propose the refinements discussed elsewhere in this proposed rule. In addition, as noted previously, we specifically solicit comments on the economic impact of the payment changes discussed in this proposed rule, as well as their potential impact on beneficiaries' access to quality SNF care.

We considered other options intended to help ensure more accurate allocation of payments specifically with regard to non-therapy ancillaries. One of these options included moving the non-therapy ancillary costs used in establishing the nursing case-mix component of the payment rates to a separate, newly created “medically ancillary” component (65 FR 19192, April 10, 2000). In addition, we looked at a number of possible models, both weighted and unweighted, for a new non-therapy ancillary index (65 FR 19248ff.). Finally, we also researched the application of models such as Diagnosis-Related Groups (DRGs) and All Patient Refined DRGs (APR-DRGs). However, at this stage in our analysis, none of these alternatives offered a significant improvement over the RUG-53 model in accounting for the variability of non-therapy ancillary costs.

In accordance with the provisions of Executive Order 12866, this regulation was reviewed by the Office of Management and Budget.

List of Subjects in 42 CFR Part 424

Emergency medical services, Health facilities, Health professions, Medicare.

For the reasons set forth in the preamble, the Centers for Medicare & Medicaid Services proposes to amend 42 CFR chapter IV as follows:

PART 424—CONDITIONS FOR MEDICARE PAYMENT

1. The authority citation for part 424 continues to read as follows:

Authority: Secs. 1102 and 1871 of the Social Security Act (42 U.S.C. 1302 and 1395hh).

Subpart A—General Provisions

§ 424.3 [Amended]

2. In § 424.3, in the definition of “HCPCS” remove the word “CMS” and add the word “Healthcare” in its place.

Subpart B—Certification and Plan of Treatment Requirements

3. In § 424.20, paragraph (e)(2) is revised to read as follows:

§ 424.20 Requirements for posthospital SNF care.

* * * * *

(e) * * *

(2) A nurse practitioner or clinical nurse specialist, neither of whom has a direct or indirect employment relationship with the facility but who is working in collaboration with a physician. For purposes of this section—

(i) Collaboration means a process whereby a nurse practitioner or clinical nurse specialist works with a doctor of medicine or osteopathy to deliver health care services. The services are delivered within the scope of the nurse's professional expertise, with medical direction and appropriate supervision as provided for in guidelines jointly developed by the nurse and the physician or other mechanisms defined by Federal regulations and the law of the State in which the services are performed.

(ii) A direct employment relationship with the facility is one meeting the common law test specified in 20 CFR 404.1005, 404.1007, and 404.1009. When this test is not met, the facility is considered to have an indirect employment relationship with any nurse practitioner or clinical nurse specialist who performs nursing services for the facility under § 409.21 of this subchapter (however, the performance of only delegated physician tasks under § 483.40(e) of this chapter does not, in itself, establish the existence of an indirect employment relationship).

* * * * *

(Catalog of Federal Domestic Assistance Program No. 93.773, Medicare-Hospital Insurance Program; and No. 93.774, Medicare-Supplementary Medical Insurance Program)
Dated: March 31, 2005.
Mark B. McClellan,
Administrator, Centers for Medicare & Medicaid Services.
Dated: May 13, 2005.
Michael O. Leavitt,
Secretary.

VI. Addendum

This section contains the tables referred to throughout the preamble to this proposed rule. Tables 8 “Proposed Wage Index For Urban Areas Based On CBSA Labor Market Areas,” Table 9 “Proposed Wage Index Based On CBSA Labor Market Areas For Rural Areas” and Table A “MSA/CBSA Crosswalk” are presented below.

Table 8.—Proposed Wage Index For Urban Areas Based On CBSA Labor Market Areas
CBSA Code | Urban Area (Constituent Counties) | Wage Index
10180 | Abilene, TX | 0.7904
| Callahan County, TX
| Jones County, TX
| Taylor County, TX
10380 | Aguadilla-Isabela-San Sebastian, PR | 0.4743
| Aguada Municipio, PR
| Aguadilla Municipio, PR
| Añasco Municipio, PR
| Isabela Municipio, PR
| Lares Municipio, PR
| Moca Municipio, PR
| Rincón Municipio, PR
| San Sebastian Municipio, PR
10420 | Akron, OH | 0.8991
| Portage County, OH
| Summit County, OH
10500 | Albany, GA | 0.8636
| Baker County, GA
| Dougherty County, GA
| Lee County, GA
| Terrell County, GA
| Worth County, GA
10580 | Albany-Schenectady-Troy, NY | 0.8545
| Albany County, NY
| Rensselaer County, NY
| Saratoga County, NY
| Schenectady County, NY
| Schoharie County, NY
10740 | Albuquerque, NM | 0.9693
| Bernalillo County, NM
| Sandoval County, NM
| Torrance County, NM
| Valencia County, NM
10780 | Alexandria, LA | 0.8041
| Grant Parish, LA
| Rapides Parish, LA
10900 | Allentown-Bethlehem-Easton, PA-NJ | 0.9828
| Warren County, NJ
| Carbon County, PA
| Lehigh County, PA
| Northampton County, PA
11020 | Altoona, PA | 0.8953
| Blair County, PA
11100 | Amarillo, TX | 0.9166
| Armstrong County, TX
| Carson County, TX
| Potter County, TX
| Randall County, TX
11180 | Ames, IA | 0.9545
| Story County, IA
11260 | Anchorage, AK | 1.2110
| Anchorage Municipality, AK
| Matanuska-Susitna Borough, AK
11300 | Anderson, IN | 0.8595
| Madison County, IN
11340 | Anderson, SC | 0.8897
| Anderson County, SC
11460 | Ann Arbor, MI | 1.0870
| Washtenaw County, MI
11500 | Anniston-Oxford, AL | 0.7659
| Calhoun County, AL
11540 | Appleton, WI | 0.9298
| Calumet County, WI
| Outagamie County, WI
11700 | Asheville, NC | 0.9294
| Buncombe County, NC
| Haywood County, NC
| Henderson County, NC
| Madison County, NC
12020 | Athens-Clarke County, GA | 0.9843
| Clarke County, GA
| Madison County, GA
| Oconee County, GA
| Oglethorpe County, GA
12060 | Atlanta-Sandy Springs-Marietta, GA | 0.9648
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1633
| Atlantic County, NJ
12220 | Auburn-Opelika, AL | 0.8108
| Lee County, AL
12260 | Augusta-Richmond County, GA-SC | 0.9565
| Burke County, GA
| Columbia County, GA
| McDuffie County, GA
| Richmond County, GA
| Aiken County, SC
| Edgefield County, SC
12420 | Austin-Round Rock, TX | 0.9450
| Bastrop County, TX
| Caldwell County, TX
| Hays County, TX
| Travis County, TX
| Williamson County, TX
12540 | Bakersfield, CA | 1.0344
| Kern County, CA
12580 | Baltimore-Towson, MD | 0.9907
| Anne Arundel County, MD
| Baltimore County, MD
| Carroll County, MD
| Harford County, MD
| Howard County, MD
| Queen Anne's County, MD
| Baltimore City, MD
12620 | Bangor, ME | 1.0003
| Penobscot County, ME
12700 | Barnstable Town, MA | 1.2527
| Barnstable County, MA
12940 | Baton Rouge, LA | 0.8601
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9510
| Calhoun County, MI
13020 | Bay City, MI | 0.9352
| Bay County, MI
13140 | Beaumont-Port Arthur, TX | 0.8421
| Hardin County, TX
| Jefferson County, TX
| Orange County, TX
13380 | Bellingham, WA | 1.1743
| Whatcom County, WA
13460 | Bend, OR | 1.0796
| Deschutes County, OR
13644 | Bethesda-Frederick-Gaithersburg, MD | 1.1495
| Frederick County, MD
| Montgomery County, MD
13740 | Billings, MT | 0.8843
| Carbon County, MT
| Yellowstone County, MT
13780 | Binghamton, NY | 0.8571
| Broome County, NY
| Tioga County, NY
13820 | Birmingham-Hoover, AL | 0.8979
| Bibb County, AL
| Blount County, AL
| Chilton County, AL
| Jefferson County, AL
| St. Clair County, AL
| Shelby County, AL
| Walker County, AL
13900 | Bismarck, ND | 0.7519
| Burleigh County, ND
| Morton County, ND
13980 | Blacksburg-Christiansburg-Radford, VA | 0.7962
| Giles County, VA
| Montgomery County, VA
| Pulaski County, VA
| Radford City, VA
14020 | Bloomington, IN | 0.8456
| Greene County, IN
| Monroe County, IN
| Owen County, IN
14060 | Bloomington-Normal, IL | 0.9084
| McLean County, IL
14260 | Boise City-Nampa, ID | 0.9061
| Ada County, ID
| Boise County, ID
| Canyon County, ID
| Gem County, ID
| Owyhee County, ID
14484 | Boston-Quincy, MA | 1.1543
| Norfolk County, MA
| Plymouth County, MA
| Suffolk County, MA
14500 | Boulder, CO | 0.9744
| Boulder County, CO
14540 | Bowling Green, KY | 0.8220
| Edmonson County, KY
| Warren County, KY
14740 | Bremerton-Silverdale, WA | 1.0686
| Kitsap County, WA
14860 | Bridgeport-Stamford-Norwalk, CT | 1.2598
| Fairfield County, CT
15180 | Brownsville-Harlingen, TX | 0.9822
| Cameron County, TX
15260 | Brunswick, GA | 0.9320
| Brantley County, GA
| Glynn County, GA
| McIntosh County, GA
15380 | Buffalo-Niagara Falls, NY | 0.8889
| Erie County, NY
| Niagara County, NY
15500 | Burlington, NC | 0.8914
| Alamance County, NC
15540 | Burlington-South Burlington, VT | 0.9446
| Chittenden County, VT
| Franklin County, VT
| Grand Isle County, VT
15764 | Cambridge-Newton-Framingham, MA | 1.1084
| Middlesex County, MA
15804 | Camden, NJ | 1.0528
| Burlington County, NJ
| Camden County, NJ
| Gloucester County, NJ
15940 | Canton-Massillon, OH | 0.8944
| Carroll County, OH
| Stark County, OH
15980 | Cape Coral-Fort Myers, FL | 0.9366
| Lee County, FL
16180 | Carson City, NV | 1.0244
16220 | Casper, WY | 0.9035
| Natrona County, WY
16300 | Cedar Rapids, IA | 0.8617
| Benton County, IA
| Jones County, IA
| Linn County, IA
16580 | Champaign-Urbana, IL | 0.9604
| Champaign County, IL
| Ford County, IL
| Piatt County, IL
16620 | Charleston, WV | 0.8428
| Boone County, WV
| Clay County, WV
| Kanawha County, WV
| Lincoln County, WV
| Putnam County, WV
16700 | Charleston-North Charleston, SC | 0.9438
| Berkeley County, SC
| Charleston County, SC
| Dorchester County, SC
16740 | Charlotte-Gastonia-Concord, NC-SC | 0.9760
| Anson County, NC
| Cabarrus County, NC
| Gaston County, NC
| Mecklenburg County, NC
| Union County, NC
| York County, SC
16820 | Charlottesville, VA | 1.0234
| Albemarle County, VA
| Fluvanna County, VA
| Greene County, VA
| Nelson County, VA
| Charlottesville City, VA
16860 | Chattanooga, TN-GA | 0.9098
| Catoosa County, GA
| Dade County, GA
| Walker County, GA
| Hamilton County, TN
| Marion County, TN
| Sequatchie County, TN
16940 | Cheyenne, WY | 0.8784
| Laramie County, WY
16974 | Chicago-Naperville-Joliet, IL | 1.0848
| Cook County, IL
| DeKalb County, IL
| DuPage County, IL
| Grundy County, IL
| Kane County, IL
| Kendall County, IL
| McHenry County, IL
| Will County, IL
17020 | Chico, CA | 1.0522
| Butte County, CA
17140 | Cincinnati-Middletown, OH-KY-IN | 0.9623
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8292
| Christian County, KY
| Trigg County, KY
| Montgomery County, TN
| Stewart County, TN
17420 | Cleveland, TN | 0.8141
| Bradley County, TN
| Polk County, TN
17460 | Cleveland-Elyria-Mentor, OH | 0.9204
| Cuyahoga County, OH
| Geauga County, OH
| Lake County, OH
| Lorain County, OH
| Medina County, OH
17660 | Coeur d'Alene, ID | 0.9657
| Kootenai County, ID
17780 | College Station-Bryan, TX | 0.8909
| Brazos County, TX
| Burleson County, TX
| Robertson County, TX
17820 | Colorado Springs, CO | 0.9478
| El Paso County, CO
| Teller County, CO
17860 | Columbia, MO | 0.8354
| Boone County, MO
| Howard County, MO
17900 | Columbia, SC | 0.9047
| Calhoun County, SC
| Fairfield County, SC
| Kershaw County, SC
| Lexington County, SC
| Richland County, SC
| Saluda County, SC
17980 | Columbus, GA-AL | 0.8568
| Russell County, AL
| Chattahoochee County, GA
| Harris County, GA
| Marion County, GA
| Muscogee County, GA
18020 | Columbus, IN | 0.9598
| Bartholomew County, IN
18140 | Columbus, OH | 0.9850
| Delaware County, OH
| Fairfield County, OH
| Franklin County, OH
| Licking County, OH
| Madison County, OH
| Morrow County, OH
| Pickaway County, OH
| Union County, OH
18580 | Corpus Christi, TX | 0.8559
| Aransas County, TX
| Nueces County, TX
| San Patricio County, TX
18700 | Corvallis, OR | 1.0739
| Benton County, OR
19060 | Cumberland, MD-WV | 0.9326
| Allegany County, MD
| Mineral County, WV
19124 | Dallas-Plano-Irving, TX | 1.0233
| Collin County, TX
| Dallas County, TX
| Delta County, TX
| Denton County, TX
| Ellis County, TX
| Hunt County, TX
| Kaufman County, TX
| Rockwall County, TX
19140 | Dalton, GA | 0.9044
| Murray County, GA
| Whitfield County, GA
19180 | Danville, IL | 0.9037
| Vermilion County, IL
19260 | Danville, VA | 0.8497
| Pittsylvania County, VA
| Danville City, VA
19340 | Davenport-Moline-Rock Island, IA-IL | 0.8731
| Henry County, IL
| Mercer County, IL
| Rock Island County, IL
| Scott County, IA
19380 | Dayton, OH | 0.9073
| Greene County, OH
| Miami County, OH
| Montgomery County, OH
| Preble County, OH
19460 | Decatur, AL | 0.8478
| Lawrence County, AL
| Morgan County, AL
19500 | Decatur, IL | 0.8076
| Macon County, IL
19660 | Deltona-Daytona Beach-Ormond Beach, FL | 0.9308
| Volusia County, FL
19740 | Denver-Aurora, CO | 1.0733
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9651
| Dallas County, IA
| Guthrie County, IA
| Madison County, IA
| Polk County, IA
| Warren County, IA
19804 | Detroit-Livonia-Dearborn, MI | 1.0441
| Wayne County, MI
20020 | Dothan, AL | 0.7707
| Geneva County, AL
| Henry County, AL
| Houston County, AL
20100 | Dover, DE | 0.9779
| Kent County, DE
20220 | Dubuque, IA | 0.9135
| Dubuque County, IA
20260 | Duluth, MN-WI | 1.0209
| Carlton County, MN
| St. Louis County, MN
| Douglas County, WI
20500 | Durham, NC | 1.0303
| Chatham County, NC
| Durham County, NC
| Orange County, NC
| Person County, NC
20740 | Eau Claire, WI | 0.9210
| Chippewa County, WI
| Eau Claire County, WI
20764 | Edison, NJ | 1.1260
| Middlesex County, NJ
| Monmouth County, NJ
| Ocean County, NJ
| Somerset County, NJ
20940 | El Centro, CA | 0.8915
| Imperial County, CA
21060 | Elizabethtown, KY | 0.8810
| Hardin County, KY
| Larue County, KY
21140 | Elkhart-Goshen, IN | 0.9637
| Elkhart County, IN
21300 | Elmira, NY | 0.8259
| Chemung County, NY
21340 | El Paso, TX | 0.8924
| El Paso County, TX
21500 | Erie, PA | 0.8746
| Erie County, PA
21604 | Essex County, MA | 1.0533
| Essex County, MA
21660 | Eugene-Springfield, OR | 1.0829
| Lane County, OR
21780 | Evansville, IN-KY | 0.8721
| Gibson County, IN
| Posey County, IN
| Vanderburgh County, IN
| Warrick County, IN
| Henderson County, KY
| Webster County, KY
21820 | Fairbanks, AK | 1.1419
| Fairbanks North Star Borough, AK
21940 | Fajardo, PR | 0.4157
| Ceiba Municipio, PR
| Fajardo Municipio, PR
| Luquillo Municipio, PR
22020 | Fargo, ND-MN | 0.8495
| Cass County, ND
| Clay County, MN
22140 | Farmington, NM | 0.8518
| San Juan County, NM
22180 | Fayetteville, NC | 0.9426
| Cumberland County, NC
| Hoke County, NC
22220 | Fayetteville-Springdale-Rogers, AR-MO | 0.8563
| Benton County, AR
| Madison County, AR
| Washington County, AR
| McDonald County, MO
22380 | Flagstaff, AZ | 1.2105
| Coconino County, AZ
22420 | Flint, MI | 1.0663
| Genesee County, MI
22500 | Florence, SC | 0.8964
| Darlington County, SC
| Florence County, SC
22520 | Florence-Muscle Shoals, AL | 0.8280
| Colbert County, AL
| Lauderdale County, AL
22540 | Fond du Lac, WI | 0.9650
| Fond du Lac County, WI
22660 | Fort Collins-Loveland, CO | 1.0132
| Larimer County, CO
22744 | Fort Lauderdale-Pompano Beach-Deerfield Beach, FL | 1.0442
| Broward County, FL
22900 | Fort Smith, AR-OK | 0.8214
| Crawford County, AR
| Franklin County, AR
| Sebastian County, AR
| Le Flore County, OK
| Sequoyah County, OK
23020 | Fort Walton Beach-Crestview-Destin, FL | 0.8881
| Okaloosa County, FL
23060 | Fort Wayne, IN | 0.9803
| Allen County, IN
| Wells County, IN
| Whitley County, IN
23104 | Fort Worth-Arlington, TX | 0.9510
| Johnson County, TX
| Parker County, TX
| Tarrant County, TX
| Wise County, TX
23420 | Fresno, CA | 1.0541
| Fresno County, CA
23460 | Gadsden, AL | 0.7946
| Etowah County, AL
23540 | Gainesville, FL | 0.9474
| Alachua County, FL
| Gilchrist County, FL
23580 | Gainesville, GA | 0.8883
| Hall County, GA
23844 | Gary, IN | 0.9369
| Jasper County, IN
| Lake County, IN
| Newton County, IN
| Porter County, IN
24020 | Glens Falls, NY | 0.8567
| Warren County, NY
| Washington County, NY
24140 | Goldsboro, NC | 0.8784
| Wayne County, NC
24220 | Grand Forks, ND-MN | 1.1516
| Polk County, MN
| Grand Forks County, ND
24300 | Grand Junction, CO | 0.9560
| Mesa County, CO
24340 | Grand Rapids-Wyoming, MI | 0.9400
| Barry County, MI
| Ionia County, MI
| Kent County, MI
| Newaygo County, MI
24500 | Great Falls, MT | 0.9061
| Cascade County, MT
24540 | Greeley, CO | 0.9580
| Weld County, CO
24580 | Green Bay, WI | 0.9452
| Brown County, WI
| Kewaunee County, WI
| Oconto County, WI
24660 | Greensboro-High Point, NC | 0.9113
| Guilford County, NC
| Randolph County, NC
| Rockingham County, NC
24780 | Greenville, NC | 0.9434
| Greene County, NC
| Pitt County, NC
24860 | Greenville, SC | 1.0165
| Greenville County, SC
| Laurens County, SC
| Pickens County, SC
25020 | Guayama, PR | 0.3184
| Arroyo Municipio, PR
| Guayama Municipio, PR
| Patillas Municipio, PR
25060 | Gulfport-Biloxi, MS | 0.8938
| Hancock County, MS
| Harrison County, MS
| Stone County, MS
25180 | Hagerstown-Martinsburg, MD-WV | 0.9499
| Washington County, MD
| Berkeley County, WV
| Morgan County, WV
25260 | Hanford-Corcoran, CA | 1.0046
| Kings County, CA
25420 | Harrisburg-Carlisle, PA | 0.9322
| Cumberland County, PA
| Dauphin County, PA
| Perry County, PA
25500 | Harrisonburg, VA | 0.9098
| Rockingham County, VA
| Harrisonburg City, VA
25540 | Hartford-West Hartford-East Hartford, CT | 1.1084
| Hartford County, CT
| Litchfield County, CT
| Middlesex County, CT
| Tolland County, CT
25620 | Hattiesburg, MS | 0.7609
| Forrest County, MS
| Lamar County, MS
| Perry County, MS
25860 | Hickory-Lenoir-Morganton, NC | 0.8922
| Alexander County, NC
| Burke County, NC
| Caldwell County, NC
| Catawba County, NC
25980 | Hinesville-Fort Stewart, GA ¹ | 0.9178
| Liberty County, GA
| Long County, GA
26100 | Holland-Grand Haven, MI | 0.9064
| Ottawa County, MI
26180 | Honolulu, HI | 1.1208
| Honolulu County, HI
26300 | Hot Springs, AR | 0.9053
| Garland County, AR
26380 | Houma-Bayou Cane-Thibodaux, LA | 0.7902
| Lafourche Parish, LA
| Terrebonne Parish, LA
26420 | Houston-Baytown-Sugar Land, TX | 1.0005
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9486
| Boyd County, KY
| Greenup County, KY
| Lawrence County, OH
| Cabell County, WV
| Wayne County, WV
26620 | Huntsville, AL | 0.9149
| Limestone County, AL
| Madison County, AL
26820 | Idaho Falls, ID | 0.9429
| Bonneville County, ID
| Jefferson County, ID
26900 | Indianapolis, IN | 0.9930
| Boone County, IN
| Brown County, IN
| Hamilton County, IN
| Hancock County, IN
| Hendricks County, IN
| Johnson County, IN
| Marion County, IN
| Morgan County, IN
| Putnam County, IN
| Shelby County, IN
26980 | Iowa City, IA | 0.9756
| Johnson County, IA
| Washington County, IA
27060 | Ithaca, NY | 0.9803
| Tompkins County, NY
27100 | Jackson, MI | 0.9313
| Jackson County, MI
27140 | Jackson, MS | 0.8319
| Copiah County, MS
| Hinds County, MS
| Madison County, MS
| Rankin County, MS
| Simpson County, MS
27180 | Jackson, TN | 0.8973
| Chester County, TN
| Madison County, TN
27260 | Jacksonville, FL | 0.9299
| Baker County, FL
| Clay County, FL
| Duval County, FL
| Nassau County, FL
| St. Johns County, FL
27340 | Jacksonville, NC | 0.8244
| Onslow County, NC
27500 | Janesville, WI | 0.9547
| Rock County, WI
27620 | Jefferson City, MO | 0.8396
| Callaway County, MO
| Cole County, MO
| Moniteau County, MO
| Osage County, MO
27740 | Johnson City, TN | 0.7945
| Carter County, TN
| Unicoi County, TN
| Washington County, TN
27780 | Johnstown, PA | 0.8362
| Cambria County, PA
27860 | Jonesboro, AR | 0.7919
| Craighead County, AR
| Poinsett County, AR
27900 | Joplin, MO | 0.8590
| Jasper County, MO
| Newton County, MO
28020 | Kalamazoo-Portage, MI | 1.0391
| Kalamazoo County, MI
| Van Buren County, MI
28100 | Kankakee-Bradley, IL | 1.0974
| Kankakee County, IL
28140 | Kansas City, MO-KS | 0.9467
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0630
| Benton County, WA
| Franklin County, WA
28660 | Killeen-Temple-Fort Hood, TX | 0.8535
| Bell County, TX
| Coryell County, TX
| Lampasas County, TX
28700 | Kingsport-Bristol-Bristol, TN-VA | 0.8062
| Hawkins County, TN
| Sullivan County, TN
| Bristol City, VA
| Scott County, VA
| Washington County, VA
28740 | Kingston, NY | 0.9257
| Ulster County, NY
28940 | Knoxville, TN | 0.8454
| Anderson County, TN
| Blount County, TN
| Knox County, TN
| Loudon County, TN
| Union County, TN
29020 | Kokomo, IN | 0.9517
| Howard County, IN
| Tipton County, IN
29100 | La Crosse, WI-MN | 0.9573
| Houston County, MN
| La Crosse County, WI
29140 | Lafayette, IN | 0.8745
| Benton County, IN
| Carroll County, IN
| Tippecanoe County, IN
29180 | Lafayette, LA | 0.8436
| Lafayette Parish, LA
| St. Martin Parish, LA
29340 | Lake Charles, LA | 0.7841
| Calcasieu Parish, LA
| Cameron Parish, LA
29404 | Lake County-Kenosha County, IL-WI | 1.0440
| Lake County, IL
| Kenosha County, WI
29460 | Lakeland, FL | 0.8921
| Polk County, FL
29540 | Lancaster, PA | 0.9704
| Lancaster County, PA
29620 | Lansing-East Lansing, MI | 0.9792
| Clinton County, MI
| Eaton County, MI
| Ingham County, MI
29700 | Laredo, TX | 0.8076
| Webb County, TX
29740 | Las Cruces, NM | 0.8475
| Dona Ana County, NM
29820 | Las Vegas-Paradise, NV | 1.1449
| Clark County, NV
29940 | Lawrence, KS | 0.8546
| Douglas County, KS
30020 | Lawton, OK | 0.7880
| Comanche County, OK
30140 | Lebanon, PA | 0.8468
| Lebanon County, PA
30300 | Lewiston, ID-WA | 0.9896
| Nez Perce County, ID
| Asotin County, WA
30340 | Lewiston-Auburn, ME | 0.9341
| Androscoggin County, ME
30460 | Lexington-Fayette, KY | 0.9084
| Bourbon County, KY
| Clark County, KY
| Fayette County, KY
| Jessamine County, KY
| Scott County, KY
| Woodford County, KY
30620 | Lima, OH | 0.9234
| Allen County, OH
30700 | Lincoln, NE | 1.0225
| Lancaster County, NE
| Seward County, NE
30780 | Little Rock-North Little Rock, AR | 0.8756
| Faulkner County, AR
| Grant County, AR
| Lonoke County, AR
| Perry County, AR
| Pulaski County, AR
| Saline County, AR
30860 | Logan, UT-ID | 0.9173
| Franklin County, ID
| Cache County, UT
30980 | Longview, TX | 0.8739
| Gregg County, TX
| Rusk County, TX
| Upshur County, TX
31020 | Longview, WA | 0.9523
| Cowlitz County, WA
31084 | Los Angeles-Long Beach-Glendale, CA | 1.1752
| Los Angeles County, CA
31140 | Louisville, KY-IN | 0.9261
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8792
| Crosby County, TX
| Lubbock County, TX
31340 | Lynchburg, VA | 0.8700
| Amherst County, VA
| Appomattox County, VA
| Bedford County, VA
| Campbell County, VA
| Bedford City, VA
| Lynchburg City, VA
31420 | Macon, GA | 0.9453
| Bibb County, GA
| Crawford County, GA
| Jones County, GA
| Monroe County, GA
| Twiggs County, GA
31460 | Madera, CA | 0.8721
| Madera County, CA
31540 | Madison, WI | 1.0635
| Columbia County, WI
| Dane County, WI
| Iowa County, WI
31700 | Manchester-Nashua, NH | 1.0335
| Hillsborough County, NH
| Merrimack County, NH
31900 | Mansfield, OH ¹ | 0.8887
| Richland County, OH
32420 | Mayagüez, PR | 0.4017
| Hormigueros Municipio, PR
| Mayagüez Municipio, PR
32580 | McAllen-Edinburg-Pharr, TX | 0.8943
| Hidalgo County, TX
32780 | Medford, OR | 1.0235
| Jackson County, OR
32820 | Memphis, TN-MS-AR | 0.9341
| Crittenden County, AR
| DeSoto County, MS
| Marshall County, MS
| Tate County, MS
| Tunica County, MS
| Fayette County, TN
| Shelby County, TN
| Tipton County, TN
32900 | Merced, CA | 1.1120
| Merced County, CA
33124 | Miami-Miami Beach-Kendall, FL | 0.9759
| Miami-Dade County, FL
33140 | Michigan City-La Porte, IN | 0.9409
| LaPorte County, IN
33260 | Midland, TX | 0.9523
| Midland County, TX
33340 | Milwaukee-Waukesha-West Allis, WI | 1.0106
| Milwaukee County, WI
| Ozaukee County, WI
| Washington County, WI
| Waukesha County, WI
33460 | Minneapolis-St. Paul-Bloomington, MN-WI | 1.1078
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9482
| Missoula County, MT
33660 | Mobile, AL | 0.7895
| Mobile County, AL
33700 | Modesto, CA | 1.1804
| Stanislaus County, CA
33740 | Monroe, LA | 0.8040
| Ouachita Parish, LA
| Union Parish, LA
33780 | Monroe, MI | 0.9478
| Monroe County, MI
33860 | Montgomery, AL | 0.8588
| Autauga County, AL
| Elmore County, AL
| Lowndes County, AL
| Montgomery County, AL
34060 | Morgantown, WV | 0.8428
| Monongalia County, WV
| Preston County, WV
34100 | Morristown, TN | 0.8753
| Grainger County, TN
| Hamblen County, TN
| Jefferson County, TN
34580 | Mount Vernon-Anacortes, WA | 1.0465
| Skagit County, WA
34620 | Muncie, IN | 0.8939
| Delaware County, IN
34740 | Muskegon-Norton Shores, MI | 0.9673
| Muskegon County, MI
34820 | Myrtle Beach-Conway-North Myrtle Beach, SC | 0.8873
| Horry County, SC
34900 | Napa, CA | 1.2656
| Napa County, CA
34940 | Naples-Marco Island, FL | 1.0140
| Collier County, FL
34980 | Nashville-Davidson—Murfreesboro, TN | 0.9769
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2760
| Nassau County, NY
| Suffolk County, NY
35084 | Newark-Union, NJ-PA | 1.2195
| Essex County, NJ
| Hunterdon County, NJ
| Morris County, NJ
| Sussex County, NJ
| Union County, NJ
| Pike County, PA
35300 | New Haven-Milford, CT | 1.1702
| New Haven County, CT
35380 | New Orleans-Metairie-Kenner, LA | 0.9005
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3185
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8888
| Berrien County, MI
35980 | Norwich-New London, CT | 1.1356
| New London County, CT
36084 | Oakland-Fremont-Hayward, CA | 1.5346
| Alameda County, CA
| Contra Costa County, CA
36100 | Ocala, FL | 0.8934
| Marion County, FL
36140 | Ocean City, NJ | 1.1022
| Cape May County, NJ
36220 | Odessa, TX | 0.9894
| Ector County, TX
36260 | Ogden-Clearfield, UT | 0.9038
| Davis County, UT
| Morgan County, UT
| Weber County, UT
36420 | Oklahoma City, OK | 0.9040
| Canadian County, OK
| Cleveland County, OK
| Grady County, OK
| Lincoln County, OK
| Logan County, OK
| McClain County, OK
| Oklahoma County, OK
36500 | Olympia, WA | 1.0938
| Thurston County, WA
36540 | Omaha-Council Bluffs, NE-IA | 0.9569
| Harrison County, IA
| Mills County, IA
| Pottawattamie County, IA
| Cass County, NE
| Douglas County, NE
| Sarpy County, NE
| Saunders County, NE
| Washington County, NE
36740 | Orlando, FL | 0.9459
| Lake County, FL
| Orange County, FL
| Osceola County, FL
| Seminole County, FL
36780 | Oshkosh-Neenah, WI | 0.9192
| Winnebago County, WI
36980 | Owensboro, KY | 0.8789
| Daviess County, KY
| Hancock County, KY
| McLean County, KY
37100 | Oxnard-Thousand Oaks-Ventura, CA | 1.1613
| Ventura County, CA
37340 | Palm Bay-Melbourne-Titusville, FL | 0.9835
| Brevard County, FL
37460 | Panama City-Lynn Haven, FL | 0.7989
| Bay County, FL
37620 | Parkersburg-Marietta, WV-OH | 0.8278
| Washington County, OH
| Pleasants County, WV
| Wirt County, WV
| Wood County, WV
37700 | Pascagoula, MS | 0.8165
| George County, MS
| Jackson County, MS
37860 | Pensacola-Ferry Pass-Brent, FL | 0.8104
| Escambia County, FL
| Santa Rosa County, FL
37900 | Peoria, IL | 0.8868
| Marshall County, IL
| Peoria County, IL
| Stark County, IL
| Tazewell County, IL
| Woodford County, IL
37964 | Philadelphia, PA | 1.1040
| Bucks County, PA
| Chester County, PA
| Delaware County, PA
| Montgomery County, PA
| Philadelphia County, PA
38060 | Phoenix-Mesa-Scottsdale, AZ | 1.0138
| Maricopa County, AZ
| Pinal County, AZ
38220 | Pine Bluff, AR | 0.8689
| Cleveland County, AR
| Jefferson County, AR
| Lincoln County, AR
38300 | Pittsburgh, PA | 0.8853
| Allegheny County, PA
| Armstrong County, PA
| Beaver County, PA
| Butler County, PA
| Fayette County, PA
| Washington County, PA
| Westmoreland County, PA
38340 | Pittsfield, MA | 1.0191
| Berkshire County, MA
38540 | Pocatello, ID | 0.9360
| Bannock County, ID
| Power County, ID
38660 | Ponce, PR | 0.5177
| Juana Díaz Municipio, PR
| Ponce Municipio, PR
| Villalba Municipio, PR
38860 | Portland-South Portland-Biddeford, ME | 1.0392
| Cumberland County, ME
| Sagadahoc County, ME
| York County, ME
38900 | Portland-Vancouver-Beaverton, OR-WA | 1.1260
| Clackamas County, OR
| Columbia County, OR
| Multnomah County, OR
| Washington County, OR
| Yamhill County, OR
| Clark County, WA
| Skamania County, WA
38940 | Port St. Lucie-Fort Pierce, FL | 1.0133
| Martin County, FL
| St. Lucie County, FL
39100 | Poughkeepsie-Newburgh-Middletown, NY | 1.0766
| Dutchess County, NY
| Orange County, NY
39140 | Prescott, AZ | 0.9879
| Yavapai County, AZ
39300 | Providence-New Bedford-Fall River, RI-MA | 1.0966
| Bristol County, MA
| Bristol County, RI
| Kent County, RI
| Newport County, RI
| Providence County, RI
| Washington County, RI
39340 | Provo-Orem, UT | 0.9510
| Juab County, UT
| Utah County, UT
39380 | Pueblo, CO | 0.8632
| Pueblo County, CO
39460 | Punta Gorda, FL | 0.9264
| Charlotte County, FL
39540 | Racine, WI | 0.9006
| Racine County, WI
39580 | Raleigh-Cary, NC | 0.9733
| Franklin County, NC
| Johnston County, NC
| Wake County, NC
39660 | Rapid City, SD | 0.9021
| Meade County, SD
| Pennington County, SD
39740 | Reading, PA | 0.9696
| Berks County, PA
39820 | Redding, CA | 1.2215
| Shasta County, CA
39900 | Reno-Sparks, NV | 1.0993
| Storey County, NV
| Washoe County, NV
40060 | Richmond, VA | 0.9338
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.1022
| Riverside County, CA
| San Bernardino County, CA
40220 | Roanoke, VA | 0.8383
| Botetourt County, VA
| Craig County, VA
| Franklin County, VA
| Roanoke County, VA
| Roanoke City, VA
| Salem City, VA
40340 | Rochester, MN | 1.1142
| Dodge County, MN
| Olmsted County, MN
| Wabasha County, MN
40380 | Rochester, NY | 0.9115
| Livingston County, NY
| Monroe County, NY
| Ontario County, NY
| Orleans County, NY
| Wayne County, NY
40420 | Rockford, IL | 0.9994
| Boone County, IL
| Winnebago County, IL
40484 | Rockingham County-Strafford County, NH | 1.0385
| Rockingham County, NH
| Strafford County, NH
40580 | Rocky Mount, NC | 0.8924
| Edgecombe County, NC
| Nash County, NC
40660 | Rome, GA | 0.9424
| Floyd County, GA
40900 | Sacramento—Arden-Arcade—Roseville, CA | 1.2973
| El Dorado County, CA
| Placer County, CA
| Sacramento County, CA
| Yolo County, CA
40980 | Saginaw-Saginaw Township North, MI | 0.9420
| Saginaw County, MI
41060 | St. Cloud, MN | 0.9975
| Benton County, MN
| Stearns County, MN
41100 | St. George, UT | 0.9402
| Washington County, UT
41140 | St. Joseph, MO-KS | 0.9529
| Doniphan County, KS
| Andrew County, MO
| Buchanan County, MO
| DeKalb County, MO
41180 | St. Louis, MO-IL | 0.8949
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0452
| Marion County, OR
| Polk County, OR
41500 | Salinas, CA | 1.4142
| Monterey County, CA
41540 | Salisbury, MD | 0.9073
| Somerset County, MD
| Wicomico County, MD
41620 | Salt Lake City, UT | 0.9433
| Salt Lake County, UT
| Summit County, UT
| Tooele County, UT
41660 | San Angelo, TX | 0.8280
| Irion County, TX
| Tom Green County, TX
41700 | San Antonio, TX | 0.8989
| Atascosa County, TX
| Bandera County, TX
| Bexar County, TX
| Comal County, TX
| Guadalupe County, TX
| Kendall County, TX
| Medina County, TX
| Wilson County, TX
41740 | San Diego-Carlsbad-San Marcos, CA | 1.1424
| San Diego County, CA
41780 | Sandusky, OH | 0.9025
| Erie County, OH
41884 | San Francisco-San Mateo-Redwood City, CA | 1.4990
| Marin County, CA
| San Francisco County, CA
| San Mateo County, CA
41900 | San Germán-Cabo Rojo, PR | 0.4655
| Cabo Rojo Municipio, PR
| Lajas Municipio, PR
| Sabana Grande Municipio, PR
| San Germán Municipio, PR
41940 | San Jose-Sunnyvale-Santa Clara, CA | 1.5125
| San Benito County, CA
| Santa Clara County, CA
41980 | San Juan-Caguas-Guaynabo, PR | 0.4686
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1360
| San Luis Obispo County, CA
42044 | Santa Ana-Anaheim-Irvine, CA | 1.1576
| Orange County, CA
42060 | Santa Barbara-Santa Maria-Goleta, CA | 1.1538
| Santa Barbara County, CA
42100 | Santa Cruz-Watsonville, CA | 1.5182
| Santa Cruz County, CA
42140 | Santa Fe, NM | 1.0931
| Santa Fe County, NM
42220 | Santa Rosa-Petaluma, CA | 1.3506
| Sonoma County, CA
42260 | Sarasota-Bradenton-Venice, FL | 0.9555
| Manatee County, FL
| Sarasota County, FL
42340 | Savannah, GA | 0.9480
| Bryan County, GA
| Chatham County, GA
| Effingham County, GA
42540 | Scranton—Wilkes-Barre, PA | 0.8548
| Lackawanna County, PA
| Luzerne County, PA
| Wyoming County, PA
42644 | Seattle-Bellevue-Everett, WA | 1.1589
| King County, WA
| Snohomish County, WA
43100 | Sheboygan, WI | 0.8920
| Sheboygan County, WI
43300 | Sherman-Denison, TX | 0.9516
| Grayson County, TX
43340 | Shreveport-Bossier City, LA | 0.8769
| Bossier Parish, LA
| Caddo Parish, LA
| De Soto Parish, LA
43580 | Sioux City, IA-NE-SD | 0.9376
| Woodbury County, IA
| Dakota County, NE
| Dixon County, NE
| Union County, SD
43620 | Sioux Falls, SD | 0.9645
| Lincoln County, SD
| McCook County, SD
| Minnehaha County, SD
| Turner County, SD
43780 | South Bend-Mishawaka, IN-MI | 0.9798
| St. Joseph County, IN
| Cass County, MI
43900 | Spartanburg, SC | 0.9181
| Spartanburg County, SC
44060 | Spokane, WA | 1.0916
| Spokane County, WA
44100 | Springfield, IL | 0.8885
| Menard County, IL
| Sangamon County, IL
44140 | Springfield, MA | 1.0259
| Franklin County, MA
| Hampden County, MA
| Hampshire County, MA
44180 | Springfield, MO | 0.8246
| Christian County, MO
| Dallas County, MO
| Greene County, MO
| Polk County, MO
| Webster County, MO
44220 | Springfield, OH | 0.8404
| Clark County, OH
44300 | State College, PA | 0.8364
| Centre County, PA
44700 | Stockton, CA | 1.1311
| San Joaquin County, CA
44940 | Sumter, SC | 0.8386
| Sumter County, SC
45060 | Syracuse, NY | 0.9581
| Madison County, NY
| Onondaga County, NY
| Oswego County, NY
45104 | Tacoma, WA | 1.0753
| Pierce County, WA
45220 | Tallahassee, FL | 0.8697
| Gadsden County, FL
| Jefferson County, FL
| Leon County, FL
| Wakulla County, FL
45300 | Tampa-St. Petersburg-Clearwater, FL | 0.9193
| Hernando County, FL
| Hillsborough County, FL
| Pasco County, FL
| Pinellas County, FL
45460 | Terre Haute, IN | 0.8313
| Clay County, IN
| Sullivan County, IN
| Vermillion County, IN
| Vigo County, IN
45500 | Texarkana, TX-Texarkana, AR | 0.8291
| Miller County, AR
| Bowie County, TX
45780 | Toledo, OH | 0.9584
| Fulton County, OH
| Lucas County, OH
| Ottawa County, OH
| Wood County, OH
45820 | Topeka, KS | 0.8929
| Jackson County, KS
| Jefferson County, KS
| Osage County, KS
| Shawnee County, KS
| Wabaunsee County, KS
45940 | Trenton-Ewing, NJ | 1.0845
| Mercer County, NJ
46060 | Tucson, AZ | 0.8987
| Pima County, AZ
46140 | Tulsa, OK | 0.8286
| Creek County, OK
| Okmulgee County, OK
| Osage County, OK
| Pawnee County, OK
| Rogers County, OK
| Tulsa County, OK
| Wagoner County, OK
46220 | Tuscaloosa, AL | 0.8721
| Greene County, AL
| Hale County, AL
| Tuscaloosa County, AL
46340 | Tyler, TX | 0.9307
| Smith County, TX
46540 | Utica-Rome, NY | 0.8293
| Herkimer County, NY
| Oneida County, NY
46660 | Valdosta, GA | 0.8875
| Brooks County, GA
| Echols County, GA
| Lanier County, GA
| Lowndes County, GA
46700 | Vallejo-Fairfield, CA | 1.4899
| Solano County, CA
46940 | Vero Beach, FL | 0.9444
| Indian River County, FL
47020 | Victoria, TX | 0.8168
| Calhoun County, TX
| Goliad County, TX
| Victoria County, TX
47220 | Vineland-Millville-Bridgeton, NJ | 0.9837
| Cumberland County, NJ
47260 | Virginia Beach-Norfolk-Newport News, VA-NC | 0.8808
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 1.0074
| Tulare County, CA
47380 | Waco, TX | 0.8527
| McLennan County, TX
47580 | Warner Robins, GA | 0.8654
| Houston County, GA
47644 | Warren-Farmington Hills-Troy, MI | 0.9861
| Lapeer County, MI
| Livingston County, MI
| Macomb County, MI
| Oakland County, MI
| St. Clair County, MI
47894 | Washington-Arlington-Alexandria, DC-VA-MD-WV | 1.0932
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8566
| Black Hawk County, IA
| Bremer County, IA
| Grundy County, IA
48140 | Wausau, WI | 0.9600
| Marathon County, WI
48260 | Weirton-Steubenville, WV-OH | 0.7827
| Jefferson County, OH
| Brooke County, WV
| Hancock County, WV
48300 | Wenatchee, WA | 1.0080
| Chelan County, WA
| Douglas County, WA
48424 | West Palm Beach-Boca Raton-Boynton Beach, FL | 1.0077
| Palm Beach County, FL
48540 | Wheeling, WV-OH | 0.7168
| Belmont County, OH
| Marshall County, WV
| Ohio County, WV
48620 | Wichita, KS | 0.9141
| Butler County, KS
| Harvey County, KS
| Sedgwick County, KS
| Sumner County, KS
48660 | Wichita Falls, TX | 0.8294
| Archer County, TX
| Clay County, TX
| Wichita County, TX
48700 | Williamsport, PA | 0.8377
| Lycoming County, PA
48864 | Wilmington, DE-MD-NJ | 1.0482
| New Castle County, DE
| Cecil County, MD
| Salem County, NJ
48900 | Wilmington, NC | 0.9592
| Brunswick County, NC
| New Hanover County, NC
| Pender County, NC
49020 | Winchester, VA-WV | 1.0224
| Frederick County, VA
| Winchester City, VA
| Hampshire County, WV
49180 | Winston-Salem, NC | 0.8953
| Davie County, NC
| Forsyth County, NC
| Stokes County, NC
| Yadkin County, NC
49340 | Worcester, MA | 1.1039
| Worcester County, MA
49420 | Yakima, WA | 1.0165
| Yakima County, WA
49500 | Yauco, PR | 0.4413
| Guánica Municipio, PR
| Guayanilla Municipio, PR
| Peñuelas Municipio, PR
| Yauco Municipio, PR
49620 | York-Hanover, PA | 0.9420
| York County, PA
49660 | Youngstown-Warren-Boardman, OH-PA | 0.8611
| Mahoning County, OH
| Trumbull County, OH
| Mercer County, PA
49700 | Yuba City, CA | 1.0932
| Sutter County, CA
| Yuba County, CA
49740 | Yuma, AZ | 0.9135
| Yuma County, AZ
¹At this time, there are no hospitals located in these urban areas on which to base a wage index. Therefore, the urban wage index value is based on the average wage index for all urban areas within the state.

Table 9.—Proposed Wage Index Based On CBSA Labor Market Areas For Rural Areas
CBSA Code | Nonurban Area | Wage Index
01 | Alabama | 0.7477
02 | Alaska | 1.1990
03 | Arizona | 0.8777
04 | Arkansas | 0.7451
05 | California | 1.0857
06 | Colorado | 0.9389
07 | Connecticut | 1.1794
08 | Delaware | 0.9606
10 | Florida | 0.8598
11 | Georgia | 0.7666
12 | Hawaii | 1.0562
13 | Idaho | 0.8045
14 | Illinois | 0.8279
15 | Indiana | 0.8630
16 | Iowa | 0.8502
17 | Kansas | 0.7987
18 | Kentucky | 0.7774
19 | Louisiana | 0.7418
20 | Maine | 0.8852
21 | Maryland | 0.9095
22 | Massachusetts ² | 1.0216
23 | Michigan | 0.8870
24 | Minnesota | 0.9183
25 | Mississippi | 0.7671
26 | Missouri | 0.7909
27 | Montana | 0.8833
28 | Nebraska | 0.8665
29 | Nevada | 0.9074
30 | New Hampshire | 1.0677
31 | New Jersey ² |
32 | New Mexico | 0.8644
33 | New York | 0.8157
34 | North Carolina | 0.8567
35 | North Dakota | 0.7268
36 | Ohio | 0.8786
37 | Oklahoma | 0.7589
38 | Oregon | 0.9830
39 | Pennsylvania | 0.8302
40 | Puerto Rico ² | 0.4047
41 | Rhode Island ² |
42 | South Carolina | 0.8641
43 | South Dakota | 0.8484
44 | Tennessee | 0.7888
45 | Texas | 0.8007
46 | Utah | 0.8126
47 | Vermont | 0.9840
48 | Virgin Islands | 0.7026
49 | Virginia | 0.8012
50 | Washington | 1.0458
51 | West Virginia | 0.7725
52 | Wisconsin | 0.9480
53 | Wyoming | 0.9214
65 | Guam | 0.9611
² All counties within the State are classified as urban, with the exception of Massachusetts and Puerto Rico. Massachusetts and Puerto Rico have areas designated as rural, however, no short-term, acute care hospitals are located in the area(s) for FY 2006. Because more recent data is not available for those areas, we are using last year's wage index value.

Table A.—MSA/CBSA Crosswalk
SSA State/County Code | County and State Name | MSA Number | 2006 MSA- based WI | 2006 CBSA- based WI | CBSA Number
01000 | Autauga County, Alabama | 5240 | 0.8588 | 0.8588 | 33860
01010 | Baldwin County, Alabama | 5160 | 0.7866 | 0.7477 | 99901
01020 | Barbour County, Alabama | 01 | 0.7463 | 0.7477 | 99901
01030 | Bibb County, Alabama | 01 | 0.7463 | 0.8979 | 13820
01040 | Blount County, Alabama | 1000 | 0.9021 | 0.8979 | 13820
01050 | Bullock County, Alabama | 01 | 0.7463 | 0.7477 | 99901
01060 | Butler County, Alabama | 01 | 0.7463 | 0.7477 | 99901
01070 | Calhoun County, Alabama | 0450 | 0.7659 | 0.7659 | 11500
01080 | Chambers County, Alabama | 01 | 0.7463 | 0.7477 | 99901
01090 | Cherokee County, Alabama | 01 | 0.7463 | 0.7477 | 99901
01100 | Chilton County, Alabama | 01 | 0.7463 | 0.8979 | 13820
01110 | Choctaw County, Alabama | 01 | 0.7463 | 0.7477 | 99901
01120 | Clarke County, Alabama | 01 | 0.7463 | 0.7477 | 99901
01130 | Clay County, Alabama | 01 | 0.7463 | 0.7477 | 99901
01140 | Cleburne County, Alabama | 01 | 0.7463 | 0.7477 | 99901
01150 | Coffee County, Alabama | 01 | 0.7463 | 0.7477 | 99901
01160 | Colbert County, Alabama | 2650 | 0.8280 | 0.8280 | 22520
01170 | Conecuh County, Alabama | 01 | 0.7463 | 0.7477 | 99901
01180 | Coosa County, Alabama | 01 | 0.7463 | 0.7477 | 99901
01190 | Covington County, Alabama | 01 | 0.7463 | 0.7477 | 99901
01200 | Crenshaw County, Alabama | 01 | 0.7463 | 0.7477 | 99901
01210 | Cullman County, Alabama | 01 | 0.7463 | 0.7477 | 99901
01220 | Dale County, Alabama | 2180 | 0.7687 | 0.7477 | 99901
01230 | Dallas County, Alabama | 01 | 0.7463 | 0.7477 | 99901
01240 | De Kalb County, Alabama | 01 | 0.7463 | 0.7477 | 99901
01250 | Elmore County, Alabama | 5240 | 0.8588 | 0.8588 | 33860
01260 | Escambia County, Alabama | 01 | 0.7463 | 0.7477 | 99901
01270 | Etowah County, Alabama | 2880 | 0.7946 | 0.7946 | 23460
01280 | Fayette County, Alabama | 01 | 0.7463 | 0.7477 | 99901
01290 | Franklin County, Alabama | 01 | 0.7463 | 0.7477 | 99901
01300 | Geneva County, Alabama | 01 | 0.7463 | 0.7707 | 20020
01310 | Greene County, Alabama | 01 | 0.7463 | 0.8721 | 46220
01320 | Hale County, Alabama | 01 | 0.7463 | 0.8721 | 46220
01330 | Henry County, Alabama | 01 | 0.7463 | 0.7707 | 20020
01340 | Houston County, Alabama | 2180 | 0.7687 | 0.7707 | 20020
01350 | Jackson County, Alabama | 01 | 0.7463 | 0.7477 | 99901
01360 | Jefferson County, Alabama | 1000 | 0.9021 | 0.8979 | 13820
01370 | Lamar County, Alabama | 01 | 0.7463 | 0.7477 | 99901
01380 | Lauderdale County, Alabama | 2650 | 0.8280 | 0.8280 | 22520
01390 | Lawrence County, Alabama | 2030 | 0.8478 | 0.8478 | 19460
01400 | Lee County, Alabama | 0580 | 0.8108 | 0.8108 | 12220
01410 | Limestone County, Alabama | 3440 | 0.9149 | 0.9149 | 26620
01420 | Lowndes County, Alabama | 01 | 0.7463 | 0.8588 | 33860
01430 | Macon County, Alabama | 01 | 0.7463 | 0.7477 | 99901
01440 | Madison County, Alabama | 3440 | 0.9149 | 0.9149 | 26620
01450 | Marengo County, Alabama | 01 | 0.7463 | 0.7477 | 99901
01460 | Marion County, Alabama | 01 | 0.7463 | 0.7477 | 99901
01470 | Marshall County, Alabama | 01 | 0.7463 | 0.7477 | 99901
01480 | Mobile County, Alabama | 5160 | 0.7866 | 0.7895 | 33660
01490 | Monroe County, Alabama | 01 | 0.7463 | 0.7477 | 99901
01500 | Montgomery County, Alabama | 5240 | 0.8588 | 0.8588 | 33860
01510 | Morgan County, Alabama | 2030 | 0.8478 | 0.8478 | 19460
01520 | Perry County, Alabama | 01 | 0.7463 | 0.7477 | 99901
01530 | Pickens County, Alabama | 01 | 0.7463 | 0.7477 | 99901
01540 | Pike County, Alabama | 01 | 0.7463 | 0.7477 | 99901
01550 | Randolph County, Alabama | 01 | 0.7463 | 0.7477 | 99901
01560 | Russell County, Alabama | 1800 | 0.8568 | 0.8568 | 17980
01570 | St Clair County, Alabama | 1000 | 0.9021 | 0.8979 | 13820
01580 | Shelby County, Alabama | 1000 | 0.9021 | 0.8979 | 13820
01590 | Sumter County, Alabama | 01 | 0.7463 | 0.7477 | 99901
01600 | Talladega County, Alabama | 01 | 0.7463 | 0.7477 | 99901
01610 | Tallapoosa County, Alabama | 01 | 0.7463 | 0.7477 | 99901
01620 | Tuscaloosa County, Alabama | 8600 | 0.8842 | 0.8721 | 46220
01630 | Walker County, Alabama | 01 | 0.7463 | 0.8979 | 13820
01640 | Washington County, Alabama | 01 | 0.7463 | 0.7477 | 99901
01650 | Wilcox County, Alabama | 01 | 0.7463 | 0.7477 | 99901
01660 | Winston County, Alabama | 01 | 0.7463 | 0.7477 | 99901
02013 | Aleutians County East, Alaska | 02 | 1.1900 | 1.1990 | 99902
02016 | Aleutians County West, Alaska | 02 | 1.1900 | 1.1990 | 99902
02020 | Anchorage County, Alaska | 0380 | 1.2022 | 1.2110 | 11260
02030 | Angoon County, Alaska | 02 | 1.1900 | 1.1990 | 99902
02040 | Barrow-North Slope County, Alaska | 02 | 1.1900 | 1.1990 | 99902
02050 | Bethel County, Alaska | 02 | 1.1900 | 1.1990 | 99902
02060 | Bristol Bay Borough County, Alaska | 02 | 1.1900 | 1.1990 | 99902
02068 | Denali County, Alaska | 02 | 1.1900 | 1.1990 | 99902
02070 | Bristol Bay County, Alaska | 02 | 1.1900 | 1.1990 | 99902
02080 | Cordova-Mc Carthy County, Alaska | 02 | 1.1900 | 1.1990 | 99902
02090 | Fairbanks County, Alaska | 02 | 1.1900 | 1.1419 | 21820
02100 | Haines County, Alaska | 02 | 1.1900 | 1.1990 | 99902
02110 | Juneau County, Alaska | 02 | 1.1900 | 1.1990 | 99902
02120 | Kenai-Cook Inlet County, Alaska | 02 | 1.1900 | 1.1990 | 99902
02122 | Kenai Peninsula Borough, Alaska | 02 | 1.1900 | 1.1990 | 99902
02130 | Ketchikan County, Alaska | 02 | 1.1900 | 1.1990 | 99902
02140 | Kobuk County, Alaska | 02 | 1.1900 | 1.1990 | 99902
02150 | Kodiak County, Alaska | 02 | 1.1900 | 1.1990 | 99902
02160 | Kuskokwin County, Alaska | 02 | 1.1900 | 1.1990 | 99902
02164 | Lake and Peninsula Borough, Alaska | 02 | 1.1900 | 1.1990 | 99902
02170 | Matanuska County, Alaska | 02 | 1.1900 | 1.2110 | 11260
02180 | Nome County, Alaska | 02 | 1.1900 | 1.1990 | 99902
02185 | North Slope Borough, Alaska | 02 | 1.1900 | 1.1990 | 99902
02188 | Northwest Arctic Borough, Alaska | 02 | 1.1900 | 1.1990 | 99902
02190 | Outer Ketchikan County, Alaska | 02 | 1.1900 | 1.1990 | 99902
02200 | Prince Of Wales County, Alaska | 02 | 1.1900 | 1.1990 | 99902
02201 | Prince of Wales-Outer Ketchikan Census Area, Alaska | 02 | 1.1900 | 1.1990 | 99902
02210 | Seward County, Alaska | 02 | 1.1900 | 1.1990 | 99902
02220 | Sitka County, Alaska | 02 | 1.1900 | 1.1990 | 99902
02230 | Skagway-Yakutat County, Alaska | 02 | 1.1900 | 1.1990 | 99902
02231 | Skagway-Yakutat-Angoon Census Area, Alaska | 02 | 1.1900 | 1.1990 | 99902
02232 | Skagway-Hoonah-Angoon Census Area, Alaska | 02 | 1.1900 | 1.1990 | 99902
02240 | Southeast Fairbanks County, Alaska | 02 | 1.1900 | 1.1990 | 99902
02250 | Upper Yukon County, Alaska | 02 | 1.1900 | 1.1990 | 99902
02260 | Valdz-Chitna-Whitier County, Alaska | 02 | 1.1900 | 1.1990 | 99902
02261 | Valdex-Cordove Census Area, Alaska | 02 | 1.1900 | 1.1990 | 99902
02270 | Wade Hampton County, Alaska | 02 | 1.1900 | 1.1990 | 99902
02280 | Wrangell-Petersburg County, Alaska | 02 | 1.1900 | 1.1990 | 99902
02282 | Yakutat Borough, Alaska | 02 | 1.1900 | 1.1990 | 99902
02290 | Yukon-Koyukuk County, Alaska | 02 | 1.1900 | 1.1990 | 99902
03000 | Apache County, Arizona | 03 | 0.9054 | 0.8777 | 99903
03010 | Cochise County, Arizona | 03 | 0.9054 | 0.8777 | 99903
03020 | Coconino County, Arizona | 2620 | 1.1857 | 1.2105 | 22380
03030 | Gila County, Arizona | 03 | 0.9054 | 0.8777 | 99903
03040 | Graham County, Arizona | 03 | 0.9054 | 0.8777 | 99903
03050 | Greenlee County, Arizona | 03 | 0.9054 | 0.8777 | 99903
03055 | La Paz County, Arizona | 03 | 0.9054 | 0.8777 | 99903
03060 | Maricopa County, Arizona | 6200 | 1.0138 | 1.0138 | 38060
03070 | Mohave County, Arizona | 4120 | 1.1166 | 0.8777 | 99903
03080 | Navajo County, Arizona | 03 | 0.9054 | 0.8777 | 99903
03090 | Pima County, Arizona | 8520 | 0.8987 | 0.8987 | 46060
03100 | Pinal County, Arizona | 6200 | 1.0138 | 1.0138 | 38060
03110 | Santa Cruz County, Arizona | 03 | 0.9054 | 0.8777 | 99903
03120 | Yavapai County, Arizona | 03 | 0.9054 | 0.9879 | 39140
03130 | Yuma County, Arizona | 9360 | 0.9135 | 0.9135 | 49740
04000 | Arkansas County, Arkansas | 04 | 0.7744 | 0.7451 | 99904
04010 | Ashley County, Arkansas | 04 | 0.7744 | 0.7451 | 99904
04020 | Baxter County, Arkansas | 04 | 0.7744 | 0.7451 | 99904
04030 | Benton County, Arkansas | 2580 | 0.8563 | 0.8563 | 22220
04040 | Boone County, Arkansas | 04 | 0.7744 | 0.7451 | 99904
04050 | Bradley County, Arkansas | 04 | 0.7744 | 0.7451 | 99904
04060 | Calhoun County, Arkansas | 04 | 0.7744 | 0.7451 | 99904
04070 | Carroll County, Arkansas | 04 | 0.7744 | 0.7451 | 99904
04080 | Chicot County, Arkansas | 04 | 0.7744 | 0.7451 | 99904
04090 | Clark County, Arkansas | 04 | 0.7744 | 0.7451 | 99904
04100 | Clay County, Arkansas | 04 | 0.7744 | 0.7451 | 99904
04110 | Cleburne County, Arkansas | 04 | 0.7744 | 0.7451 | 99904
04120 | Cleveland County, Arkansas | 04 | 0.7744 | 0.8689 | 38220
04130 | Columbia County, Arkansas | 04 | 0.7744 | 0.7451 | 99904
04140 | Conway County, Arkansas | 04 | 0.7744 | 0.7451 | 99904
04150 | Craighead County, Arkansas | 3700 | 0.7919 | 0.7919 | 27860
04160 | Crawford County, Arkansas | 2720 | 0.8229 | 0.8214 | 22900
04170 | Crittenden County, Arkansas | 4920 | 0.9360 | 0.9341 | 32820
04180 | Cross County, Arkansas | 04 | 0.7744 | 0.7451 | 99904
04190 | Dallas County, Arkansas | 04 | 0.7744 | 0.7451 | 99904
04200 | Desha County, Arkansas | 04 | 0.7744 | 0.7451 | 99904
04210 | Drew County, Arkansas | 04 | 0.7744 | 0.7451 | 99904
04220 | Faulkner County, Arkansas | 4400 | 0.8756 | 0.8756 | 30780
04230 | Franklin County, Arkansas | 04 | 0.7744 | 0.8214 | 22900
04240 | Fulton County, Arkansas | 04 | 0.7744 | 0.7451 | 99904
04250 | Garland County, Arkansas | 04 | 0.7744 | 0.9053 | 26300
04260 | Grant County, Arkansas | 04 | 0.7744 | 0.8756 | 30780
04270 | Greene County, Arkansas | 04 | 0.7744 | 0.7451 | 99904
04280 | Hempstead County, Arkansas | 04 | 0.7744 | 0.7451 | 99904
04290 | Hot Spring County, Arkansas | 04 | 0.7744 | 0.7451 | 99904
04300 | Howard County, Arkansas | 04 | 0.7744 | 0.7451 | 99904
04310 | Independence County, Arkansas | 04 | 0.7744 | 0.7451 | 99904
04320 | Izard County, Arkansas | 04 | 0.7744 | 0.7451 | 99904
04330 | Jackson County, Arkansas | 04 | 0.7744 | 0.7451 | 99904
04340 | Jefferson County, Arkansas | 6240 | 0.8689 | 0.8689 | 38220
04350 | Johnson County, Arkansas | 04 | 0.7744 | 0.7451 | 99904
04360 | Lafayette County, Arkansas | 04 | 0.7744 | 0.7451 | 99904
04370 | Lawrence County, Arkansas | 04 | 0.7744 | 0.7451 | 99904
04380 | Lee County, Arkansas | 04 | 0.7744 | 0.7451 | 99904
04390 | Lincoln County, Arkansas | 04 | 0.7744 | 0.8689 | 38220
04400 | Little River County, Arkansas | 04 | 0.7744 | 0.7451 | 99904
04410 | Logan County, Arkansas | 04 | 0.7744 | 0.7451 | 99904
04420 | Lonoke County, Arkansas | 4400 | 0.8756 | 0.8756 | 30780
04430 | Madison County, Arkansas | 04 | 0.7744 | 0.8563 | 22220
04440 | Marion County, Arkansas | 04 | 0.7744 | 0.7451 | 99904
04450 | Miller County, Arkansas | 8360 | 0.8291 | 0.8291 | 45500
04460 | Mississippi County, Arkansas | 04 | 0.7744 | 0.7451 | 99904
04470 | Monroe County, Arkansas | 04 | 0.7744 | 0.7451 | 99904
04480 | Montgomery County, Arkansas | 04 | 0.7744 | 0.7451 | 99904
04490 | Nevada County, Arkansas | 04 | 0.7744 | 0.7451 | 99904
04500 | Newton County, Arkansas | 04 | 0.7744 | 0.7451 | 99904
04510 | Ouachita County, Arkansas | 04 | 0.7744 | 0.7451 | 99904
04520 | Perry County, Arkansas | 04 | 0.7744 | 0.8756 | 30780
04530 | Phillips County, Arkansas | 04 | 0.7744 | 0.7451 | 99904
04540 | Pike County, Arkansas | 04 | 0.7744 | 0.7451 | 99904
04550 | Poinsett County, Arkansas | 04 | 0.7744 | 0.7919 | 27860
04560 | Polk County, Arkansas | 04 | 0.7744 | 0.7451 | 99904
04570 | Pope County, Arkansas | 04 | 0.7744 | 0.7451 | 99904
04580 | Prairie County, Arkansas | 04 | 0.7744 | 0.7451 | 99904
04590 | Pulaski County, Arkansas | 4400 | 0.8756 | 0.8756 | 30780
04600 | Randolph County, Arkansas | 04 | 0.7744 | 0.7451 | 99904
04610 | St Francis County, Arkansas | 04 | 0.7744 | 0.7451 | 99904
04620 | Saline County, Arkansas | 4400 | 0.8756 | 0.8756 | 30780
04630 | Scott County, Arkansas | 04 | 0.7744 | 0.7451 | 99904
04640 | Searcy County, Arkansas | 04 | 0.7744 | 0.7451 | 99904
04650 | Sebastian County, Arkansas | 2720 | 0.8229 | 0.8214 | 22900
04660 | Sevier County, Arkansas | 04 | 0.7744 | 0.7451 | 99904
04670 | Sharp County, Arkansas | 04 | 0.7744 | 0.7451 | 99904
04680 | Stone County, Arkansas | 04 | 0.7744 | 0.7451 | 99904
04690 | Union County, Arkansas | 04 | 0.7744 | 0.7451 | 99904
04700 | Van Buren County, Arkansas | 04 | 0.7744 | 0.7451 | 99904
04710 | Washington County, Arkansas | 2580 | 0.8563 | 0.8563 | 22220
04720 | White County, Arkansas | 04 | 0.7744 | 0.7451 | 99904
04730 | Woodruff County, Arkansas | 04 | 0.7744 | 0.7451 | 99904
04740 | Yell County, Arkansas | 04 | 0.7744 | 0.7451 | 99904
05000 | Alameda County, California | 5775 | 1.5346 | 1.5346 | 36084
05010 | Alpine County, California | 05 | 1.0639 | 1.0857 | 99905
05020 | Amador County, California | 05 | 1.0639 | 1.0857 | 99905
05030 | Butte County, California | 1620 | 1.0522 | 1.0522 | 17020
05040 | Calaveras County, California | 05 | 1.0639 | 1.0857 | 99905
05050 | Colusa County, California | 05 | 1.0639 | 1.0857 | 99905
05060 | Contra Costa County, California | 5775 | 1.5346 | 1.5346 | 36084
05070 | Del Norte County, California | 05 | 1.0639 | 1.0857 | 99905
05080 | Eldorado County, California | 6920 | 1.3148 | 1.2973 | 40900
05090 | Fresno County, California | 2840 | 1.0432 | 1.0541 | 23420
05100 | Glenn County, California | 05 | 1.0639 | 1.0857 | 99905
05110 | Humboldt County, California | 05 | 1.0639 | 1.0857 | 99905
05120 | Imperial County, California | 05 | 1.0639 | 0.8915 | 20940
05130 | Inyo County, California | 05 | 1.0639 | 1.0857 | 99905
05140 | Kern County, California | 0680 | 1.0344 | 1.0344 | 12540
05150 | Kings County, California | 05 | 1.0639 | 1.0046 | 25260
05160 | Lake County, California | 05 | 1.0639 | 1.0857 | 99905
05170 | Lassen County, California | 05 | 1.0639 | 1.0857 | 99905
05200 | Los Angeles County, California | 4480 | 1.1752 | 1.1752 | 31084
05210 | Los Angeles County, California | 4480 | 1.1752 | 1.1752 | 31084
05300 | Madera County, California | 2840 | 1.0432 | 0.8721 | 31460
05310 | Marin County, California | 7360 | 1.4990 | 1.4990 | 41884
05320 | Mariposa County, California | 05 | 1.0639 | 1.0857 | 99905
05330 | Mendocino County, California | 05 | 1.0639 | 1.0857 | 99905
05340 | Merced County, California | 4940 | 1.1120 | 1.1120 | 32900
05350 | Modoc County, California | 05 | 1.0639 | 1.0857 | 99905
05360 | Mono County, California | 05 | 1.0639 | 1.0857 | 99905
05370 | Monterey County, California | 7120 | 1.4142 | 1.4142 | 41500
05380 | Napa County, California | 8720 | 1.3966 | 1.2656 | 34900
05390 | Nevada County, California | 05 | 1.0639 | 1.0857 | 99905
05400 | Orange County, California | 5945 | 1.1576 | 1.1576 | 42044
05410 | Placer County, California | 6920 | 1.3148 | 1.2973 | 40900
05420 | Plumas County, California | 05 | 1.0639 | 1.0857 | 99905
05430 | Riverside County, California | 6780 | 1.1022 | 1.1022 | 40140
05440 | Sacramento County, California | 6920 | 1.3148 | 1.2973 | 40900
05450 | San Benito County, California | 05 | 1.0639 | 1.5125 | 41940
05460 | San Bernardino County, California | 6780 | 1.1022 | 1.1022 | 40140
05470 | San Diego County, California | 7320 | 1.1424 | 1.1424 | 41740
05480 | San Francisco County, California | 7360 | 1.4990 | 1.4990 | 41884
05490 | San Joaquin County, California | 8120 | 1.1311 | 1.1311 | 44700
05500 | San Luis Obispo County, California | 7460 | 1.1360 | 1.1360 | 42020
05510 | San Mateo County, California | 7360 | 1.4990 | 1.4990 | 41884
05520 | Santa Barbara County, California | 7480 | 1.1538 | 1.1538 | 42060
05530 | Santa Clara County, California | 7400 | 1.5144 | 1.5125 | 41940
05540 | Santa Cruz County, California | 7485 | 1.5182 | 1.5182 | 42100
05550 | Shasta County, California | 6690 | 1.2215 | 1.2215 | 39820
05560 | Sierra County, California | 05 | 1.0639 | 1.0857 | 99905
05570 | Siskiyou County, California | 05 | 1.0639 | 1.0857 | 99905
05580 | Solano County, California | 8720 | 1.3966 | 1.4899 | 46700
05590 | Sonoma County, California | 7500 | 1.3506 | 1.3506 | 42220
05600 | Stanislaus County, California | 5170 | 1.1804 | 1.1804 | 33700
05610 | Sutter County, California | 9340 | 1.0932 | 1.0932 | 49700
05620 | Tehama County, California | 05 | 1.0639 | 1.0857 | 99905
05630 | Trinity County, California | 05 | 1.0639 | 1.0857 | 99905
05640 | Tulare County, California | 8780 | 1.0074 | 1.0074 | 47300
05650 | Tuolumne County, California | 05 | 1.0639 | 1.0857 | 99905
05660 | Ventura County, California | 8735 | 1.1613 | 1.1613 | 37100
05670 | Yolo County, California | 9270 | 0.9949 | 1.2973 | 40900
05680 | Yuba County, California | 9340 | 1.0932 | 1.0932 | 49700
06000 | Adams County, Colorado | 2080 | 1.0733 | 1.0733 | 19740
06010 | Alamosa County, Colorado | 06 | 0.9389 | 0.9389 | 99906
06020 | Arapahoe County, Colorado | 2080 | 1.0733 | 1.0733 | 19740
06030 | Archuleta County, Colorado | 06 | 0.9389 | 0.9389 | 99906
06040 | Baca County, Colorado | 06 | 0.9389 | 0.9389 | 99906
06050 | Bent County, Colorado | 06 | 0.9389 | 0.9389 | 99906
06060 | Boulder County, Colorado | 1125 | 0.9744 | 0.9744 | 14500
06070 | Chaffee County, Colorado | 06 | 0.9389 | 0.9389 | 99906
06080 | Cheyenne County, Colorado | 06 | 0.9389 | 0.9389 | 99906
06090 | Clear Creek County, Colorado | 06 | 0.9389 | 1.0733 | 19740
06100 | Conejos County, Colorado | 06 | 0.9389 | 0.9389 | 99906
06110 | Costilla County, Colorado | 06 | 0.9389 | 0.9389 | 99906
06120 | Crowley County, Colorado | 06 | 0.9389 | 0.9389 | 99906
06130 | Custer County, Colorado | 06 | 0.9389 | 0.9389 | 99906
06140 | Delta County, Colorado | 06 | 0.9389 | 0.9389 | 99906
06150 | Denver County, Colorado | 2080 | 1.0733 | 1.0733 | 19740
06160 | Dolores County, Colorado | 06 | 0.9389 | 0.9389 | 99906
06170 | Douglas County, Colorado | 2080 | 1.0733 | 1.0733 | 19740
06180 | Eagle County, Colorado | 06 | 0.9389 | 0.9389 | 99906
06190 | Elbert County, Colorado | 06 | 0.9389 | 1.0733 | 19740
06200 | El Paso County, Colorado | 1720 | 0.9478 | 0.9478 | 17820
06210 | Fremont County, Colorado | 06 | 0.9389 | 0.9389 | 99906
06220 | Garfield County, Colorado | 06 | 0.9389 | 0.9389 | 99906
06230 | Gilpin County, Colorado | 06 | 0.9389 | 1.0733 | 19740
06240 | Grand County, Colorado | 06 | 0.9389 | 0.9389 | 99906
06250 | Gunnison County, Colorado | 06 | 0.9389 | 0.9389 | 99906
06260 | Hinsdale County, Colorado | 06 | 0.9389 | 0.9389 | 99906
06270 | Huerfano County, Colorado | 06 | 0.9389 | 0.9389 | 99906
06280 | Jackson County, Colorado | 06 | 0.9389 | 0.9389 | 99906
06290 | Jefferson County, Colorado | 2080 | 1.0733 | 1.0733 | 19740
06300 | Kiowa County, Colorado | 06 | 0.9389 | 0.9389 | 99906
06310 | Kit Carson County, Colorado | 06 | 0.9389 | 0.9389 | 99906
06320 | Lake County, Colorado | 06 | 0.9389 | 0.9389 | 99906
06330 | La Plata County, Colorado | 06 | 0.9389 | 0.9389 | 99906
06340 | Larimer County, Colorado | 2670 | 1.0132 | 1.0132 | 22660
06350 | Las Animas County, Colorado | 06 | 0.9389 | 0.9389 | 99906
06360 | Lincoln County, Colorado | 06 | 0.9389 | 0.9389 | 99906
06370 | Logan County, Colorado | 06 | 0.9389 | 0.9389 | 99906
06380 | Mesa County, Colorado | 2995 | 0.9560 | 0.9560 | 24300
06390 | Mineral County, Colorado | 06 | 0.9389 | 0.9389 | 99906
06400 | Moffat County, Colorado | 06 | 0.9389 | 0.9389 | 99906
06410 | Montezuma County, Colorado | 06 | 0.9389 | 0.9389 | 99906
06420 | Montrose County, Colorado | 06 | 0.9389 | 0.9389 | 99906
06430 | Morgan County, Colorado | 06 | 0.9389 | 0.9389 | 99906
06440 | Otero County, Colorado | 06 | 0.9389 | 0.9389 | 99906
06450 | Ouray County, Colorado | 06 | 0.9389 | 0.9389 | 99906
06460 | Park County, Colorado | 06 | 0.9389 | 1.0733 | 19740
06470 | Phillips County, Colorado | 06 | 0.9389 | 0.9389 | 99906
06480 | Pitkin County, Colorado | 06 | 0.9389 | 0.9389 | 99906
06490 | Prowers County, Colorado | 06 | 0.9389 | 0.9389 | 99906
06500 | Pueblo County, Colorado | 6560 | 0.8632 | 0.8632 | 39380
06510 | Rio Blanco County, Colorado | 06 | 0.9389 | 0.9389 | 99906
06520 | Rio Grande County, Colorado | 06 | 0.9389 | 0.9389 | 99906
06530 | Routt County, Colorado | 06 | 0.9389 | 0.9389 | 99906
06540 | Saguache County, Colorado | 06 | 0.9389 | 0.9389 | 99906
06550 | San Juan County, Colorado | 06 | 0.9389 | 0.9389 | 99906
06560 | San Miguel County, Colorado | 06 | 0.9389 | 0.9389 | 99906
06570 | Sedgwick County, Colorado | 06 | 0.9389 | 0.9389 | 99906
06580 | Summit County, Colorado | 06 | 0.9389 | 0.9389 | 99906
06590 | Teller County, Colorado | 06 | 0.9389 | 0.9478 | 17820
06600 | Washington County, Colorado | 06 | 0.9389 | 0.9389 | 99906
06610 | Weld County, Colorado | 3060 | 0.9580 | 0.9580 | 24540
06620 | Yuma County, Colorado | 06 | 0.9389 | 0.9389 | 99906
06630 | Broomfield County, Colorado | 2080 | 1.0733 | 1.0733 | 19740
07000 | Fairfield County, Connecticut | 5483 | 1.2096 | 1.2598 | 14860
07010 | Hartford County, Connecticut | 3283 | 1.1084 | 1.1084 | 25540
07020 | Litchfield County, Connecticut | 3283 | 1.1084 | 1.1084 | 25540
07030 | Middlesex County, Connecticut | 3283 | 1.1084 | 1.1084 | 25540
07040 | New Haven County, Connecticut | 5483 | 1.2096 | 1.1702 | 35300
07050 | New London County, Connecticut | 5523 | 1.1356 | 1.1356 | 35980
07060 | Tolland County, Connecticut | 3283 | 1.1084 | 1.1084 | 25540
07070 | Windham County, Connecticut | 07 | 1.1794 | 1.1794 | 99907
08000 | Kent County, Delaware | 2190 | 0.9779 | 0.9779 | 20100
08010 | New Castle County, Delaware | 9160 | 1.0537 | 1.0482 | 48864
08020 | Sussex County, Delaware | 08 | 0.9606 | 0.9606 | 99908
09000 | Washington Dc County, Dist Of Col | 8840 | 1.0983 | 1.0932 | 47894
10000 | Alachua County, Florida | 2900 | 0.9474 | 0.9474 | 23540
10010 | Baker County, Florida | 10 | 0.8698 | 0.9299 | 27260
10020 | Bay County, Florida | 6015 | 0.7989 | 0.7989 | 37460
10030 | Bradford County, Florida | 10 | 0.8698 | 0.8598 | 99910
10040 | Brevard County, Florida | 4900 | 0.9835 | 0.9835 | 37340
10050 | Broward County, Florida | 2680 | 1.0442 | 1.0442 | 22744
10060 | Calhoun County, Florida | 10 | 0.8698 | 0.8598 | 99910
10070 | Charlotte County, Florida | 6580 | 0.9264 | 0.9264 | 39460
10080 | Citrus County, Florida | 10 | 0.8698 | 0.8598 | 99910
10090 | Clay County, Florida | 3600 | 0.9308 | 0.9299 | 27260
10100 | Collier County, Florida | 5345 | 1.0140 | 1.0140 | 34940
10110 | Columbia County, Florida | 10 | 0.8698 | 0.8598 | 99910
10120 | Dade County, Florida | 5000 | 0.9759 | 0.9759 | 33124
10130 | De Soto County, Florida | 10 | 0.8698 | 0.8598 | 99910
10140 | Dixie County, Florida | 10 | 0.8698 | 0.8598 | 99910
10150 | Duval County, Florida | 3600 | 0.9308 | 0.9299 | 27260
10160 | Escambia County, Florida | 6080 | 0.8104 | 0.8104 | 37860
10170 | Flagler County, Florida | 2020 | 0.9334 | 0.8598 | 99910
10180 | Franklin County, Florida | 10 | 0.8698 | 0.8598 | 99910
10190 | Gadsden County, Florida | 8240 | 0.8697 | 0.8697 | 45220
10200 | Gilchrist County, Florida | 10 | 0.8698 | 0.9474 | 23540
10210 | Glades County, Florida | 10 | 0.8698 | 0.8598 | 99910
10220 | Gulf County, Florida | 10 | 0.8698 | 0.8598 | 99910
10230 | Hamilton County, Florida | 10 | 0.8698 | 0.8598 | 99910
10240 | Hardee County, Florida | 10 | 0.8698 | 0.8598 | 99910
10250 | Hendry County, Florida | 10 | 0.8698 | 0.8598 | 99910
10260 | Hernando County, Florida | 8280 | 0.9193 | 0.9193 | 45300
10270 | Highlands County, Florida | 10 | 0.8698 | 0.8598 | 99910
10280 | Hillsborough County, Florida | 8280 | 0.9193 | 0.9193 | 45300
10290 | Holmes County, Florida | 10 | 0.8698 | 0.8598 | 99910
10300 | Indian River County, Florida | 10 | 0.8698 | 0.9444 | 46940
10310 | Jackson County, Florida | 10 | 0.8698 | 0.8598 | 99910
10320 | Jefferson County, Florida | 10 | 0.8698 | 0.8697 | 45220
10330 | Lafayette County, Florida | 10 | 0.8698 | 0.8598 | 99910
10340 | Lake County, Florida | 5960 | 0.9459 | 0.9459 | 36740
10350 | Lee County, Florida | 2700 | 0.9366 | 0.9366 | 15980
10360 | Leon County, Florida | 8240 | 0.8697 | 0.8697 | 45220
10370 | Levy County, Florida | 10 | 0.8698 | 0.8598 | 99910
10380 | Liberty County, Florida | 10 | 0.8698 | 0.8598 | 99910
10390 | Madison County, Florida | 10 | 0.8698 | 0.8598 | 99910
10400 | Manatee County, Florida | 7510 | 0.9555 | 0.9555 | 42260
10410 | Marion County, Florida | 5790 | 0.8934 | 0.8934 | 36100
10420 | Martin County, Florida | 2710 | 1.0133 | 1.0133 | 38940
10430 | Monroe County, Florida | 10 | 0.8698 | 0.8598 | 99910
10440 | Nassau County, Florida | 3600 | 0.9308 | 0.9299 | 27260
10450 | Okaloosa County, Florida | 2750 | 0.8881 | 0.8881 | 23020
10460 | Okeechobee County, Florida | 10 | 0.8698 | 0.8598 | 99910
10470 | Orange County, Florida | 5960 | 0.9459 | 0.9459 | 36740
10480 | Osceola County, Florida | 5960 | 0.9459 | 0.9459 | 36740
10490 | Palm Beach County, Florida | 8960 | 1.0077 | 1.0077 | 48424
10500 | Pasco County, Florida | 8280 | 0.9193 | 0.9193 | 45300
10510 | Pinellas County, Florida | 8280 | 0.9193 | 0.9193 | 45300
10520 | Polk County, Florida | 3980 | 0.8921 | 0.8921 | 29460
10530 | Putnam County, Florida | 10 | 0.8698 | 0.8598 | 99910
10540 | Johns County, Florida | 3600 | 0.9308 | 0.9299 | 27260
10550 | St Lucie County, Florida | 2710 | 1.0133 | 1.0133 | 38940
10560 | Santa Rosa County, Florida | 6080 | 0.8104 | 0.8104 | 37860
10570 | Sarasota County, Florida | 7510 | 0.9555 | 0.9555 | 42260
10580 | Seminole County, Florida | 5960 | 0.9459 | 0.9459 | 36740
10590 | Sumter County, Florida | 10 | 0.8698 | 0.8598 | 99910
10600 | Suwannee County, Florida | 10 | 0.8698 | 0.8598 | 99910
10610 | Taylor County, Florida | 10 | 0.8698 | 0.8598 | 99910
10620 | Union County, Florida | 10 | 0.8698 | 0.8598 | 99910
10630 | Volusia County, Florida | 2020 | 0.9334 | 0.9308 | 19660
10640 | Wakulla County, Florida | 10 | 0.8698 | 0.8697 | 45220
10650 | Walton County, Florida | 10 | 0.8698 | 0.8598 | 99910
10660 | Washington County, Florida | 10 | 0.8698 | 0.8598 | 99910
11000 | Appling County, Georgia | 11 | 0.8165 | 0.7666 | 99911
11010 | Atkinson County, Georgia | 11 | 0.8165 | 0.7666 | 99911
11011 | Bacon County, Georgia | 11 | 0.8165 | 0.7666 | 99911
11020 | Baker County, Georgia | 11 | 0.8165 | 0.8636 | 10500
11030 | Baldwin County, Georgia | 11 | 0.8165 | 0.7666 | 99911
11040 | Banks County, Georgia | 11 | 0.8165 | 0.7666 | 99911
11050 | Barrow County, Georgia | 0520 | 0.9648 | 0.9648 | 12060
11060 | Bartow County, Georgia | 0520 | 0.9648 | 0.9648 | 12060
11070 | Ben Hill County, Georgia | 11 | 0.8165 | 0.7666 | 99911
11080 | Berrien County, Georgia | 11 | 0.8165 | 0.7666 | 99911
11090 | Bibb County, Georgia | 4680 | 0.9286 | 0.9453 | 31420
11100 | Bleckley County, Georgia | 11 | 0.8165 | 0.7666 | 99911
11110 | Brantley County, Georgia | 11 | 0.8165 | 0.9320 | 15260
11120 | Brooks County, Georgia | 11 | 0.8165 | 0.8875 | 46660
11130 | Bryan County, Georgia | 7520 | 0.9480 | 0.9480 | 42340
11140 | Bulloch County, Georgia | 11 | 0.8165 | 0.7666 | 99911
11150 | Burke County, Georgia | 11 | 0.8165 | 0.9565 | 12260
11160 | Butts County, Georgia | 11 | 0.8165 | 0.9648 | 12060
11161 | Calhoun County, Georgia | 11 | 0.8165 | 0.7666 | 99911
11170 | Camden County, Georgia | 11 | 0.8165 | 0.7666 | 99911
11180 | Candler County, Georgia | 11 | 0.8165 | 0.7666 | 99911
11190 | Carroll County, Georgia | 0520 | 0.9648 | 0.9648 | 12060
11200 | Catoosa County, Georgia | 1560 | 0.9098 | 0.9098 | 16860
11210 | Charlton County, Georgia | 11 | 0.8165 | 0.7666 | 99911
11220 | Chatham County, Georgia | 7520 | 0.9480 | 0.9480 | 42340
11230 | Chattahoochee County, Georgia | 1800 | 0.8568 | 0.8568 | 17980
11240 | Chattooga County, Georgia | 11 | 0.8165 | 0.7666 | 99911
11250 | Cherokee County, Georgia | 0520 | 0.9648 | 0.9648 | 12060
11260 | Clarke County, Georgia | 0500 | 0.9843 | 0.9843 | 12020
11270 | Clay County, Georgia | 11 | 0.8165 | 0.7666 | 99911
11280 | Clayton County, Georgia | 0520 | 0.9648 | 0.9648 | 12060
11281 | Clinch County, Georgia | 11 | 0.8165 | 0.7666 | 99911
11290 | Cobb County, Georgia | 0520 | 0.9648 | 0.9648 | 12060
11291 | Coffee County, Georgia | 11 | 0.8165 | 0.7666 | 99911
11300 | Colquitt County, Georgia | 11 | 0.8165 | 0.7666 | 99911
11310 | Columbia County, Georgia | 0600 | 0.9619 | 0.9565 | 12260
11311 | Cook County, Georgia | 11 | 0.8165 | 0.7666 | 99911
11320 | Coweta County, Georgia | 0520 | 0.9648 | 0.9648 | 12060
11330 | Crawford County, Georgia | 11 | 0.8165 | 0.9453 | 31420
11340 | Crisp County, Georgia | 11 | 0.8165 | 0.7666 | 99911
11341 | Dade County, Georgia | 1560 | 0.9098 | 0.9098 | 16860
11350 | Dawson County, Georgia | 11 | 0.8165 | 0.9648 | 12060
11360 | Decatur County, Georgia | 11 | 0.8165 | 0.7666 | 99911
11370 | De Kalb County, Georgia | 0520 | 0.9648 | 0.9648 | 12060
11380 | Dodge County, Georgia | 11 | 0.8165 | 0.7666 | 99911
11381 | Dooly County, Georgia | 11 | 0.8165 | 0.7666 | 99911
11390 | Dougherty County, Georgia | 0120 | 0.8636 | 0.8636 | 10500
11400 | Douglas County, Georgia | 0520 | 0.9648 | 0.9648 | 12060
11410 | Early County, Georgia | 11 | 0.8165 | 0.7666 | 99911
11420 | Echols County, Georgia | 11 | 0.8165 | 0.8875 | 46660
11421 | Effingham County, Georgia | 7520 | 0.9480 | 0.9480 | 42340
11430 | Elbert County, Georgia | 11 | 0.8165 | 0.7666 | 99911
11440 | Emanuel County, Georgia | 11 | 0.8165 | 0.7666 | 99911
11441 | Evans County, Georgia | 11 | 0.8165 | 0.7666 | 99911
11450 | Fannin County, Georgia | 11 | 0.8165 | 0.7666 | 99911
11451 | Fayette County, Georgia | 0520 | 0.9648 | 0.9648 | 12060
11460 | Floyd County, Georgia | 11 | 0.8165 | 0.9424 | 40660
11461 | Forsyth County, Georgia | 0520 | 0.9648 | 0.9648 | 12060
11462 | Franklin County, Georgia | 11 | 0.8165 | 0.7666 | 99911
11470 | Fulton County, Georgia | 0520 | 0.9648 | 0.9648 | 12060
11471 | Gilmer County, Georgia | 11 | 0.8165 | 0.7666 | 99911
11480 | Glascock County, Georgia | 11 | 0.8165 | 0.7666 | 99911
11490 | Glynn County, Georgia | 11 | 0.8165 | 0.9320 | 15260
11500 | Gordon County, Georgia | 11 | 0.8165 | 0.7666 | 99911
11510 | Grady County, Georgia | 11 | 0.8165 | 0.7666 | 99911
11520 | Greene County, Georgia | 11 | 0.8165 | 0.7666 | 99911
11530 | Gwinnett County, Georgia | 0520 | 0.9648 | 0.9648 | 12060
11540 | Habersham County, Georgia | 11 | 0.8165 | 0.7666 | 99911
11550 | Hall County, Georgia | 11 | 0.8165 | 0.8883 | 23580
11560 | Hancock County, Georgia | 11 | 0.8165 | 0.7666 | 99911
11570 | Haralson County, Georgia | 11 | 0.8165 | 0.9648 | 12060
11580 | Harris County, Georgia | 1800 | 0.8568 | 0.8568 | 17980
11581 | Hart County, Georgia | 11 | 0.8165 | 0.7666 | 99911
11590 | Heard County, Georgia | 11 | 0.8165 | 0.9648 | 12060
11591 | Henry County, Georgia | 0520 | 0.9648 | 0.9648 | 12060
11600 | Houston County, Georgia | 4680 | 0.9286 | 0.8654 | 47580
11601 | Irwin County, Georgia | 11 | 0.8165 | 0.7666 | 99911
11610 | Jackson County, Georgia | 11 | 0.8165 | 0.7666 | 99911
11611 | Jasper County, Georgia | 11 | 0.8165 | 0.9648 | 12060
11612 | Jeff Davis County, Georgia | 11 | 0.8165 | 0.7666 | 99911
11620 | Jefferson County, Georgia | 11 | 0.8165 | 0.7666 | 99911
11630 | Jenkins County, Georgia | 11 | 0.8165 | 0.7666 | 99911
11640 | Johnson County, Georgia | 11 | 0.8165 | 0.7666 | 99911
11650 | Jones County, Georgia | 4680 | 0.9286 | 0.9453 | 31420
11651 | Lamar County, Georgia | 11 | 0.8165 | 0.9648 | 12060
11652 | Lanier County, Georgia | 11 | 0.8165 | 0.8875 | 46660
11660 | Laurens County, Georgia | 11 | 0.8165 | 0.7666 | 99911
11670 | Lee County, Georgia | 0120 | 0.8636 | 0.8636 | 10500
11680 | Liberty County, Georgia | 11 | 0.8165 | 0.9178 | 25980
11690 | Lincoln County, Georgia | 11 | 0.8165 | 0.7666 | 99911
11691 | Long County, Georgia | 11 | 0.8165 | 0.9178 | 25980
11700 | Lowndes County, Georgia | 11 | 0.8165 | 0.8875 | 46660
11701 | Lumpkin County, Georgia | 11 | 0.8165 | 0.7666 | 99911
11702 | Mc Duffie County, Georgia | 0600 | 0.9619 | 0.9565 | 12260
11703 | Mc Intosh County, Georgia | 11 | 0.8165 | 0.9320 | 15260
11710 | Macon County, Georgia | 11 | 0.8165 | 0.7666 | 99911
11720 | Madison County, Georgia | 0500 | 0.9843 | 0.9843 | 12020
11730 | Marion County, Georgia | 11 | 0.8165 | 0.8568 | 17980
11740 | Meriwether County, Georgia | 11 | 0.8165 | 0.9648 | 12060
11741 | Miller County, Georgia | 11 | 0.8165 | 0.7666 | 99911
11750 | Mitchell County, Georgia | 11 | 0.8165 | 0.7666 | 99911
11760 | Monroe County, Georgia | 11 | 0.8165 | 0.9453 | 31420
11770 | Montgomery County, Georgia | 11 | 0.8165 | 0.7666 | 99911
11771 | Morgan County, Georgia | 11 | 0.8165 | 0.7666 | 99911
11772 | Murray County, Georgia | 11 | 0.8165 | 0.9044 | 19140
11780 | Muscogee County, Georgia | 1800 | 0.8568 | 0.8568 | 17980
11790 | Newton County, Georgia | 0520 | 0.9648 | 0.9648 | 12060
11800 | Oconee County, Georgia | 0500 | 0.9843 | 0.9843 | 12020
11801 | Oglethorpe County, Georgia | 11 | 0.8165 | 0.9843 | 12020
11810 | Paulding County, Georgia | 0520 | 0.9648 | 0.9648 | 12060
11811 | Peach County, Georgia | 4680 | 0.9286 | 0.7666 | 99911
11812 | Pickens County, Georgia | 0520 | 0.9648 | 0.9648 | 12060
11820 | Pierce County, Georgia | 11 | 0.8165 | 0.7666 | 99911
11821 | Pike County, Georgia | 11 | 0.8165 | 0.9648 | 12060
11830 | Polk County, Georgia | 11 | 0.8165 | 0.7666 | 99911
11831 | Pulaski County, Georgia | 11 | 0.8165 | 0.7666 | 99911
11832 | Putnam County, Georgia | 11 | 0.8165 | 0.7666 | 99911
11833 | Quitman County, Georgia | 11 | 0.8165 | 0.7666 | 99911
11834 | Rabun County, Georgia | 11 | 0.8165 | 0.7666 | 99911
11835 | Randolph County, Georgia | 11 | 0.8165 | 0.7666 | 99911
11840 | Richmond County, Georgia | 0600 | 0.9619 | 0.9565 | 12260
11841 | Rockdale County, Georgia | 0520 | 0.9648 | 0.9648 | 12060
11842 | Schley County, Georgia | 11 | 0.8165 | 0.7666 | 99911
11850 | Screven County, Georgia | 11 | 0.8165 | 0.7666 | 99911
11851 | Seminole County, Georgia | 11 | 0.8165 | 0.7666 | 99911
11860 | Spalding County, Georgia | 0520 | 0.9648 | 0.9648 | 12060
11861 | Stephens County, Georgia | 11 | 0.8165 | 0.7666 | 99911
11862 | Stewart County, Georgia | 11 | 0.8165 | 0.7666 | 99911
11870 | Sumter County, Georgia | 11 | 0.8165 | 0.7666 | 99911
11880 | Talbot County, Georgia | 11 | 0.8165 | 0.7666 | 99911
11881 | Taliaferro County, Georgia | 11 | 0.8165 | 0.7666 | 99911
11882 | Tattnall County, Georgia | 11 | 0.8165 | 0.7666 | 99911
11883 | Taylor County, Georgia | 11 | 0.8165 | 0.7666 | 99911
11884 | Telfair County, Georgia | 11 | 0.8165 | 0.7666 | 99911
11885 | Terrell County, Georgia | 11 | 0.8165 | 0.8636 | 10500
11890 | Thomas County, Georgia | 11 | 0.8165 | 0.7666 | 99911
11900 | Tift County, Georgia | 11 | 0.8165 | 0.7666 | 99911
11901 | Toombs County, Georgia | 11 | 0.8165 | 0.7666 | 99911
11902 | Towns County, Georgia | 11 | 0.8165 | 0.7666 | 99911
11903 | Treutlen County, Georgia | 11 | 0.8165 | 0.7666 | 99911
11910 | Troup County, Georgia | 11 | 0.8165 | 0.7666 | 99911
11911 | Turner County, Georgia | 11 | 0.8165 | 0.7666 | 99911
11912 | Twiggs County, Georgia | 4680 | 0.9286 | 0.9453 | 31420
11913 | Union County, Georgia | 11 | 0.8165 | 0.7666 | 99911
11920 | Upson County, Georgia | 11 | 0.8165 | 0.7666 | 99911
11921 | Walker County, Georgia | 1560 | 0.9098 | 0.9098 | 16860
11930 | Walton County, Georgia | 0520 | 0.9648 | 0.9648 | 12060
11940 | Ware County, Georgia | 11 | 0.8165 | 0.7666 | 99911
11941 | Warren County, Georgia | 11 | 0.8165 | 0.7666 | 99911
11950 | Washington County, Georgia | 11 | 0.8165 | 0.7666 | 99911
11960 | Wayne County, Georgia | 11 | 0.8165 | 0.7666 | 99911
11961 | Webster County, Georgia | 11 | 0.8165 | 0.7666 | 99911
11962 | Wheeler County, Georgia | 11 | 0.8165 | 0.7666 | 99911
11963 | White County, Georgia | 11 | 0.8165 | 0.7666 | 99911
11970 | Whitfield County, Georgia | 11 | 0.8165 | 0.9044 | 19140
11971 | Wilcox County, Georgia | 11 | 0.8165 | 0.7666 | 99911
11972 | Wilkes County, Georgia | 11 | 0.8165 | 0.7666 | 99911
11973 | Wilkinson County, Georgia | 11 | 0.8165 | 0.7666 | 99911
11980 | Worth County, Georgia | 11 | 0.8165 | 0.8636 | 10500
12005 | Kalawao County, Hawaii | 12 | 1.0562 | 1.0562 | 99912
12010 | Hawaii County, Hawaii | 12 | 1.0562 | 1.0562 | 99912
12020 | Honolulu County, Hawaii | 3320 | 1.1208 | 1.1208 | 26180
12040 | Kauai County, Hawaii | 12 | 1.0562 | 1.0562 | 99912
12050 | Maui County, Hawaii | 12 | 1.0562 | 1.0562 | 99912
13000 | Ada County, Idaho | 1080 | 0.9061 | 0.9061 | 14260
13010 | Adams County, Idaho | 13 | 0.9106 | 0.8045 | 99913
13020 | Bannock County, Idaho | 6340 | 0.9360 | 0.9360 | 38540
13030 | Bear Lake County, Idaho | 13 | 0.9106 | 0.8045 | 99913
13040 | Benewah County, Idaho | 13 | 0.9106 | 0.8045 | 99913
13050 | Bingham County, Idaho | 13 | 0.9106 | 0.8045 | 99913
13060 | Blaine County, Idaho | 13 | 0.9106 | 0.8045 | 99913
13070 | Boise County, Idaho | 13 | 0.9106 | 0.9061 | 14260
13080 | Bonner County, Idaho | 13 | 0.9106 | 0.8045 | 99913
13090 | Bonneville County, Idaho | 13 | 0.9106 | 0.9429 | 26820
13100 | Boundary County, Idaho | 13 | 0.9106 | 0.8045 | 99913
13110 | Butte County, Idaho | 13 | 0.9106 | 0.8045 | 99913
13120 | Camas County, Idaho | 13 | 0.9106 | 0.8045 | 99913
13130 | Canyon County, Idaho | 1080 | 0.9061 | 0.9061 | 14260
13140 | Caribou County, Idaho | 13 | 0.9106 | 0.8045 | 99913
13150 | Cassia County, Idaho | 13 | 0.9106 | 0.8045 | 99913
13160 | Clark County, Idaho | 13 | 0.9106 | 0.8045 | 99913
13170 | Clearwater County, Idaho | 13 | 0.9106 | 0.8045 | 99913
13180 | Custer County, Idaho | 13 | 0.9106 | 0.8045 | 99913
13190 | Elmore County, Idaho | 13 | 0.9106 | 0.8045 | 99913
13200 | Franklin County, Idaho | 13 | 0.9106 | 0.9173 | 30860
13210 | Fremont County, Idaho | 13 | 0.9106 | 0.8045 | 99913
13220 | Gem County, Idaho | 13 | 0.9106 | 0.9061 | 14260
13230 | Gooding County, Idaho | 13 | 0.9106 | 0.8045 | 99913
13240 | Idaho County, Idaho | 13 | 0.9106 | 0.8045 | 99913
13250 | Jefferson County, Idaho | 13 | 0.9106 | 0.9429 | 26820
13260 | Jerome County, Idaho | 13 | 0.9106 | 0.8045 | 99913
13270 | Kootenai County, Idaho | 13 | 0.9106 | 0.9657 | 17660
13280 | Latah County, Idaho | 13 | 0.9106 | 0.8045 | 99913
13290 | Lemhi County, Idaho | 13 | 0.9106 | 0.8045 | 99913
13300 | Lewis County, Idaho | 13 | 0.9106 | 0.8045 | 99913
13310 | Lincoln County, Idaho | 13 | 0.9106 | 0.8045 | 99913
13320 | Madison County, Idaho | 13 | 0.9106 | 0.8045 | 99913
13330 | Minidoka County, Idaho | 13 | 0.9106 | 0.8045 | 99913
13340 | Nez Perce County, Idaho | 13 | 0.9106 | 0.9896 | 30300
13350 | Oneida County, Idaho | 13 | 0.9106 | 0.8045 | 99913
13360 | Owyhee County, Idaho | 13 | 0.9106 | 0.9061 | 14260
13370 | Payette County, Idaho | 13 | 0.9106 | 0.8045 | 99913
13380 | Power County, Idaho | 13 | 0.9106 | 0.9360 | 38540
13390 | Shoshone County, Idaho | 13 | 0.9106 | 0.8045 | 99913
13390 | Teton County, Idaho | 13 | 0.9106 | 0.8045 | 99913
13410 | Twin Falls County, Idaho | 13 | 0.9106 | 0.8045 | 99913
13420 | Valley County, Idaho | 13 | 0.9106 | 0.8045 | 99913
13430 | Washington County, Idaho | 13 | 0.9106 | 0.8045 | 99913
14000 | Adams County, Illinois | 14 | 0.8309 | 0.8279 | 99914
14010 | Alexander County, Illinois | 14 | 0.8309 | 0.8279 | 99914
14020 | Bond County, Illinois | 14 | 0.8309 | 0.8949 | 41180
14030 | Boone County, Illinois | 6880 | 0.9994 | 0.9994 | 40420
14040 | Brown County, Illinois | 14 | 0.8309 | 0.8279 | 99914
14050 | Bureau County, Illinois | 14 | 0.8309 | 0.8279 | 99914
14060 | Calhoun County, Illinois | 14 | 0.8309 | 0.8949 | 41180
14070 | Carroll County, Illinois | 14 | 0.8309 | 0.8279 | 99914
14080 | Cass County, Illinois | 14 | 0.8309 | 0.8279 | 99914
14090 | Champaign County, Illinois | 1400 | 0.9604 | 0.9604 | 16580
14100 | Christian County, Illinois | 14 | 0.8309 | 0.8279 | 99914
14110 | Clark County, Illinois | 14 | 0.8309 | 0.8279 | 99914
14120 | Clay County, Illinois | 14 | 0.8309 | 0.8279 | 99914
14130 | Clinton County, Illinois | 7040 | 0.8957 | 0.8949 | 41180
14140 | Coles County, Illinois | 14 | 0.8309 | 0.8279 | 99914
14141 | Cook County, Illinois | 1600 | 1.0838 | 1.0848 | 16974
14150 | Crawford County, Illinois | 14 | 0.8309 | 0.8279 | 99914
14160 | Cumberland County, Illinois | 14 | 0.8309 | 0.8279 | 99914
14170 | De Kalb County, Illinois | 1600 | 1.0838 | 1.0848 | 16974
14180 | De Witt County, Illinois | 14 | 0.8309 | 0.8279 | 99914
14190 | Douglas County, Illinois | 14 | 0.8309 | 0.8279 | 99914
14250 | Du Page County, Illinois | 1600 | 1.0838 | 1.0848 | 16974
14310 | Edgar County, Illinois | 14 | 0.8309 | 0.8279 | 99914
14320 | Edwards County, Illinois | 14 | 0.8309 | 0.8279 | 99914
14330 | Effingham County, Illinois | 14 | 0.8309 | 0.8279 | 99914
14340 | Fayette County, Illinois | 14 | 0.8309 | 0.8279 | 99914
14350 | Ford County, Illinois | 14 | 0.8309 | 0.9604 | 16580
14360 | Franklin County, Illinois | 14 | 0.8309 | 0.8279 | 99914
14370 | Fulton County, Illinois | 14 | 0.8309 | 0.8279 | 99914
14380 | Gallatin County, Illinois | 14 | 0.8309 | 0.8279 | 99914
14390 | Greene County, Illinois | 14 | 0.8309 | 0.8279 | 99914
14400 | Grundy County, Illinois | 1600 | 1.0838 | 1.0848 | 16974
14410 | Hamilton County, Illinois | 14 | 0.8309 | 0.8279 | 99914
14420 | Hancock County, Illinois | 14 | 0.8309 | 0.8279 | 99914
14421 | Hardin County, Illinois | 14 | 0.8309 | 0.8279 | 99914
14440 | Henderson County, Illinois | 14 | 0.8309 | 0.8279 | 99914
14450 | Henry County, Illinois | 1960 | 0.8731 | 0.8731 | 19340
14460 | Iroquois County, Illinois | 14 | 0.8309 | 0.8279 | 99914
14470 | Jackson County, Illinois | 14 | 0.8309 | 0.8279 | 99914
14480 | Jasper County, Illinois | 14 | 0.8309 | 0.8279 | 99914
14490 | Jefferson County, Illinois | 14 | 0.8309 | 0.8279 | 99914
14500 | Jersey County, Illinois | 7040 | 0.8957 | 0.8949 | 41180
14510 | Jo Daviess County, Illinois | 14 | 0.8309 | 0.8279 | 99914
14520 | Johnson County, Illinois | 14 | 0.8309 | 0.8279 | 99914
14530 | Kane County, Illinois | 1600 | 1.0838 | 1.0848 | 16974
14540 | Kankakee County, Illinois | 3740 | 1.0974 | 1.0974 | 28100
14550 | Kendall County, Illinois | 1600 | 1.0838 | 1.0848 | 16974
14560 | Knox County, Illinois | 14 | 0.8309 | 0.8279 | 99914
14570 | Lake County, Illinois | 1600 | 1.0838 | 1.0440 | 29404
14580 | La Salle County, Illinois | 14 | 0.8309 | 0.8279 | 99914
14590 | Lawrence County, Illinois | 14 | 0.8309 | 0.8279 | 99914
14600 | Lee County, Illinois | 14 | 0.8309 | 0.8279 | 99914
14610 | Livingston County, Illinois | 14 | 0.8309 | 0.8279 | 99914
14620 | Logan County, Illinois | 14 | 0.8309 | 0.8279 | 99914
14630 | Mc Donough County, Illinois | 14 | 0.8309 | 0.8279 | 99914
14640 | Mc Henry County, Illinois | 1600 | 1.0838 | 1.0848 | 16974
14650 | Mclean County, Illinois | 1040 | 0.9084 | 0.9084 | 14060
14660 | Macon County, Illinois | 2040 | 0.8076 | 0.8076 | 19500
14670 | Macoupin County, Illinois | 14 | 0.8309 | 0.8949 | 41180
14680 | Madison County, Illinois | 7040 | 0.8957 | 0.8949 | 41180
14690 | Marion County, Illinois | 14 | 0.8309 | 0.8279 | 99914
14700 | Marshall County, Illinois | 14 | 0.8309 | 0.8868 | 37900
14710 | Mason County, Illinois | 14 | 0.8309 | 0.8279 | 99914
14720 | Massac County, Illinois | 14 | 0.8309 | 0.8279 | 99914
14730 | Menard County, Illinois | 7880 | 0.8885 | 0.8885 | 44100
14740 | Mercer County, Illinois | 14 | 0.8309 | 0.8731 | 19340
14750 | Monroe County, Illinois | 7040 | 0.8957 | 0.8949 | 41180
14760 | Montgomery County, Illinois | 14 | 0.8309 | 0.8279 | 99914
14770 | Morgan County, Illinois | 14 | 0.8309 | 0.8279 | 99914
14780 | Moultrie County, Illinois | 14 | 0.8309 | 0.8279 | 99914
14790 | Ogle County, Illinois | 6880 | 0.9994 | 0.8279 | 99914
14800 | Peoria County, Illinois | 6120 | 0.8868 | 0.8868 | 37900
14810 | Perry County, Illinois | 14 | 0.8309 | 0.8279 | 99914
14820 | Piatt County, Illinois | 14 | 0.8309 | 0.9604 | 16580
14830 | Pike County, Illinois | 14 | 0.8309 | 0.8279 | 99914
14831 | Pope County, Illinois | 14 | 0.8309 | 0.8279 | 99914
14850 | Pulaski County, Illinois | 14 | 0.8309 | 0.8279 | 99914
14860 | Putnam County, Illinois | 14 | 0.8309 | 0.8279 | 99914
14870 | Randolph County, Illinois | 14 | 0.8309 | 0.8279 | 99914
14880 | Richland County, Illinois | 14 | 0.8309 | 0.8279 | 99914
14890 | Rock Island County, Illinois | 1960 | 0.8731 | 0.8731 | 19340
14900 | St Clair County, Illinois | 7040 | 0.8957 | 0.8949 | 41180
14910 | Saline County, Illinois | 14 | 0.8309 | 0.8279 | 99914
14920 | Sangamon County, Illinois | 7880 | 0.8885 | 0.8885 | 44100
14921 | Schuyler County, Illinois | 14 | 0.8309 | 0.8279 | 99914
14940 | Scott County, Illinois | 14 | 0.8309 | 0.8279 | 99914
14950 | Shelby County, Illinois | 14 | 0.8309 | 0.8279 | 99914
14960 | Stark County, Illinois | 14 | 0.8309 | 0.8868 | 37900
14970 | Stephenson County, Illinois | 14 | 0.8309 | 0.8279 | 99914
14980 | Tazewell County, Illinois | 6120 | 0.8868 | 0.8868 | 37900
14981 | Union County, Illinois | 14 | 0.8309 | 0.8279 | 99914
14982 | Vermilion County, Illinois | 14 | 0.8309 | 0.9037 | 19180
14983 | Wabash County, Illinois | 14 | 0.8309 | 0.8279 | 99914
14984 | Warren County, Illinois | 14 | 0.8309 | 0.8279 | 99914
14985 | Washington County, Illinois | 14 | 0.8309 | 0.8279 | 99914
14986 | Wayne County, Illinois | 14 | 0.8309 | 0.8279 | 99914
14987 | White County, Illinois | 14 | 0.8309 | 0.8279 | 99914
14988 | Whiteside County, Illinois | 14 | 0.8309 | 0.8279 | 99914
14989 | Will County, Illinois | 1600 | 1.0838 | 1.0848 | 16974
14990 | Williamson County, Illinois | 14 | 0.8309 | 0.8279 | 99914
14991 | Winnebago County, Illinois | 6880 | 0.9994 | 0.9994 | 40420
14992 | Woodford County, Illinois | 6120 | 0.8868 | 0.8868 | 37900
15000 | Adams County, Indiana | 2760 | 0.9716 | 0.8630 | 99915
15010 | Allen County, Indiana | 2760 | 0.9716 | 0.9803 | 23060
15020 | Bartholomew County, Indiana | 15 | 0.8727 | 0.9598 | 18020
15030 | Benton County, Indiana | 15 | 0.8727 | 0.8745 | 29140
15040 | Blackford County, Indiana | 15 | 0.8727 | 0.8630 | 99915
15050 | Boone County, Indiana | 3480 | 0.9875 | 0.9930 | 26900
15060 | Brown County, Indiana | 15 | 0.8727 | 0.9930 | 26900
15070 | Carroll County, Indiana | 15 | 0.8727 | 0.8745 | 29140
15080 | Cass County, Indiana | 15 | 0.8727 | 0.8630 | 99915
15090 | Clark County, Indiana | 4520 | 0.9302 | 0.9261 | 31140
15100 | Clay County, Indiana | 8320 | 0.8345 | 0.8313 | 45460
15110 | Clinton County, Indiana | 3920 | 0.8745 | 0.8630 | 99915
15120 | Crawford County, Indiana | 15 | 0.8727 | 0.8630 | 99915
15130 | Daviess County, Indiana | 15 | 0.8727 | 0.8630 | 99915
15140 | Dearborn County, Indiana | 1640 | 0.9742 | 0.9623 | 17140
15150 | Decatur County, Indiana | 15 | 0.8727 | 0.8630 | 99915
15160 | De Kalb County, Indiana | 2760 | 0.9716 | 0.8630 | 99915
15170 | Delaware County, Indiana | 5280 | 0.8939 | 0.8939 | 34620
15180 | Dubois County, Indiana | 15 | 0.8727 | 0.8630 | 99915
15190 | Elkhart County, Indiana | 2330 | 0.9637 | 0.9637 | 21140
15200 | Fayette County, Indiana | 15 | 0.8727 | 0.8630 | 99915
15210 | Floyd County, Indiana | 4520 | 0.9302 | 0.9261 | 31140
15220 | Fountain County, Indiana | 15 | 0.8727 | 0.8630 | 99915
15230 | Franklin County, Indiana | 15 | 0.8727 | 0.9623 | 17140
15240 | Fulton County, Indiana | 15 | 0.8727 | 0.8630 | 99915
15250 | Gibson County, Indiana | 15 | 0.8727 | 0.8721 | 21780
15260 | Grant County, Indiana | 15 | 0.8727 | 0.8630 | 99915
15270 | Greene County, Indiana | 15 | 0.8727 | 0.8456 | 14020
15280 | Hamilton County, Indiana | 3480 | 0.9875 | 0.9930 | 26900
15290 | Hancock County, Indiana | 3480 | 0.9875 | 0.9930 | 26900
15300 | Harrison County, Indiana | 4520 | 0.9302 | 0.9261 | 31140
15310 | Hendricks County, Indiana | 3480 | 0.9875 | 0.9930 | 26900
15320 | Henry County, Indiana | 15 | 0.8727 | 0.8630 | 99915
15330 | Howard County, Indiana | 3850 | 0.9517 | 0.9517 | 29020
15340 | Huntington County, Indiana | 2760 | 0.9716 | 0.8630 | 99915
15350 | Jackson County, Indiana | 15 | 0.8727 | 0.8630 | 99915
15360 | Jasper County, Indiana | 15 | 0.8727 | 0.9369 | 23844
15370 | Jay County, Indiana | 15 | 0.8727 | 0.8630 | 99915
15380 | Jefferson County, Indiana | 15 | 0.8727 | 0.8630 | 99915
15390 | Jennings County, Indiana | 15 | 0.8727 | 0.8630 | 99915
15400 | Johnson County, Indiana | 3480 | 0.9875 | 0.9930 | 26900
15410 | Knox County, Indiana | 15 | 0.8727 | 0.8630 | 99915
15420 | Kosciusko County, Indiana | 15 | 0.8727 | 0.8630 | 99915
15430 | Lagrange County, Indiana | 15 | 0.8727 | 0.8630 | 99915
15440 | Lake County, Indiana | 2960 | 0.9404 | 0.9369 | 23844
15450 | La Porte County, Indiana | 15 | 0.8727 | 0.9409 | 33140
15460 | Lawrence County, Indiana | 15 | 0.8727 | 0.8630 | 99915
15470 | Madison County, Indiana | 3480 | 0.9875 | 0.8595 | 11300
15480 | Marion County, Indiana | 3480 | 0.9875 | 0.9930 | 26900
15490 | Marshall County, Indiana | 15 | 0.8727 | 0.8630 | 99915
15500 | Martin County, Indiana | 15 | 0.8727 | 0.8630 | 99915
15510 | Miami County, Indiana | 15 | 0.8727 | 0.8630 | 99915
15520 | Monroe County, Indiana | 1020 | 0.8456 | 0.8456 | 14020
15530 | Montgomery County, Indiana | 15 | 0.8727 | 0.8630 | 99915
15540 | Morgan County, Indiana | 3480 | 0.9875 | 0.9930 | 26900
15550 | Newton County, Indiana | 15 | 0.8727 | 0.9369 | 23844
15560 | Noble County, Indiana | 15 | 0.8727 | 0.8630 | 99915
15570 | Ohio County, Indiana | 1640 | 0.9742 | 0.9623 | 17140
15580 | Orange County, Indiana | 15 | 0.8727 | 0.8630 | 99915
15590 | Owen County, Indiana | 15 | 0.8727 | 0.8456 | 14020
15600 | Parke County, Indiana | 15 | 0.8727 | 0.8630 | 99915
15610 | Perry County, Indiana | 15 | 0.8727 | 0.8630 | 99915
15620 | Pike County, Indiana | 15 | 0.8727 | 0.8630 | 99915
15630 | Porter County, Indiana | 2960 | 0.9404 | 0.9369 | 23844
15640 | Posey County, Indiana | 2440 | 0.8721 | 0.8721 | 21780
15650 | Pulaski County, Indiana | 15 | 0.8727 | 0.8630 | 99915
15660 | Putnam County, Indiana | 15 | 0.8727 | 0.9930 | 26900
15670 | Randolph County, Indiana | 15 | 0.8727 | 0.8630 | 99915
15680 | Ripley County, Indiana | 15 | 0.8727 | 0.8630 | 99915
15690 | Rush County, Indiana | 15 | 0.8727 | 0.8630 | 99915
15700 | St Joseph County, Indiana | 7800 | 0.9798 | 0.9798 | 43780
15710 | Scott County, Indiana | 4520 | 0.9302 | 0.8630 | 99915
15720 | Shelby County, Indiana | 3480 | 0.9875 | 0.9930 | 26900
15730 | Spencer County, Indiana | 15 | 0.8727 | 0.8630 | 99915
15740 | Starke County, Indiana | 15 | 0.8727 | 0.8630 | 99915
15750 | Steuben County, Indiana | 15 | 0.8727 | 0.8630 | 99915
15760 | Sullivan County, Indiana | 15 | 0.8727 | 0.8313 | 45460
15770 | Switzerland County, Indiana | 15 | 0.8727 | 0.8630 | 99915
15780 | Tippecanoe County, Indiana | 3920 | 0.8745 | 0.8745 | 29140
15790 | Tipton County, Indiana | 3850 | 0.9517 | 0.9517 | 29020
15800 | Union County, Indiana | 15 | 0.8727 | 0.8630 | 99915
15810 | Vanderburgh County, Indiana | 2440 | 0.8721 | 0.8721 | 21780
15820 | Vermillion County, Indiana | 8320 | 0.8345 | 0.8313 | 45460
15830 | Vigo County, Indiana | 8320 | 0.8345 | 0.8313 | 45460
15840 | Wabash County, Indiana | 15 | 0.8727 | 0.8630 | 99915
15840 | Warren County, Indiana | 15 | 0.8727 | 0.8630 | 99915
15860 | Warrick County, Indiana | 2440 | 0.8721 | 0.8721 | 21780
15870 | Washington County, Indiana | 15 | 0.8727 | 0.9261 | 31140
15880 | Wayne County, Indiana | 15 | 0.8727 | 0.8630 | 99915
15890 | Wells County, Indiana | 2760 | 0.9716 | 0.9803 | 23060
15900 | White County, Indiana | 15 | 0.8727 | 0.8630 | 99915
15910 | Whitley County, Indiana | 2760 | 0.9716 | 0.9803 | 23060
16000 | Adair County, Iowa | 16 | 0.8588 | 0.8502 | 99916
16010 | Adams County, Iowa | 16 | 0.8588 | 0.8502 | 99916
16020 | Allamakee County, Iowa | 16 | 0.8588 | 0.8502 | 99916
16030 | Appanoose County, Iowa | 16 | 0.8588 | 0.8502 | 99916
16040 | Audubon County, Iowa | 16 | 0.8588 | 0.8502 | 99916
16050 | Benton County, Iowa | 16 | 0.8588 | 0.8617 | 16300
16060 | Black Hawk County, Iowa | 8920 | 0.8566 | 0.8566 | 47940
16070 | Boone County, Iowa | 16 | 0.8588 | 0.8502 | 99916
16080 | Bremer County, Iowa | 16 | 0.8588 | 0.8566 | 47940
16090 | Buchanan County, Iowa | 16 | 0.8588 | 0.8502 | 99916
16100 | Buena Vista County, Iowa | 16 | 0.8588 | 0.8502 | 99916
16110 | Butler County, Iowa | 16 | 0.8588 | 0.8502 | 99916
16120 | Calhoun County, Iowa | 16 | 0.8588 | 0.8502 | 99916
16130 | Carroll County, Iowa | 16 | 0.8588 | 0.8502 | 99916
16140 | Cass County, Iowa | 16 | 0.8588 | 0.8502 | 99916
16150 | Cedar County, Iowa | 16 | 0.8588 | 0.8502 | 99916
16160 | Cerro Gordo County, Iowa | 16 | 0.8588 | 0.8502 | 99916
16170 | Cherokee County, Iowa | 16 | 0.8588 | 0.8502 | 99916
16180 | Chickasaw County, Iowa | 16 | 0.8588 | 0.8502 | 99916
16190 | Clarke County, Iowa | 16 | 0.8588 | 0.8502 | 99916
16200 | Clay County, Iowa | 16 | 0.8588 | 0.8502 | 99916
16210 | Clayton County, Iowa | 16 | 0.8588 | 0.8502 | 99916
16220 | Clinton County, Iowa | 16 | 0.8588 | 0.8502 | 99916
16230 | Crawford County, Iowa | 16 | 0.8588 | 0.8502 | 99916
16240 | Dallas County, Iowa | 2120 | 0.9651 | 0.9651 | 19780
16250 | Davis County, Iowa | 16 | 0.8588 | 0.8502 | 99916
16260 | Decatur County, Iowa | 16 | 0.8588 | 0.8502 | 99916
16270 | Delaware County, Iowa | 16 | 0.8588 | 0.8502 | 99916
16280 | Des Moines County, Iowa | 16 | 0.8588 | 0.8502 | 99916
16290 | Dickinson County, Iowa | 16 | 0.8588 | 0.8502 | 99916
16300 | Dubuque County, Iowa | 2200 | 0.9135 | 0.9135 | 20220
16310 | Emmet County, Iowa | 16 | 0.8588 | 0.8502 | 99916
16320 | Fayette County, Iowa | 16 | 0.8588 | 0.8502 | 99916
16330 | Floyd County, Iowa | 16 | 0.8588 | 0.8502 | 99916
16340 | Franklin County, Iowa | 16 | 0.8588 | 0.8502 | 99916
16350 | Fremont County, Iowa | 16 | 0.8588 | 0.8502 | 99916
16360 | Greene County, Iowa | 16 | 0.8588 | 0.8502 | 99916
16370 | Grundy County, Iowa | 16 | 0.8588 | 0.8566 | 47940
16380 | Guthrie County, Iowa | 16 | 0.8588 | 0.9651 | 19780
16390 | Hamilton County, Iowa | 16 | 0.8588 | 0.8502 | 99916
16400 | Hancock County, Iowa | 16 | 0.8588 | 0.8502 | 99916
16410 | Hardin County, Iowa | 16 | 0.8588 | 0.8502 | 99916
16420 | Harrison County, Iowa | 16 | 0.8588 | 0.9569 | 36540
16430 | Henry County, Iowa | 16 | 0.8588 | 0.8502 | 99916
16440 | Howard County, Iowa | 16 | 0.8588 | 0.8502 | 99916
16450 | Humboldt County, Iowa | 16 | 0.8588 | 0.8502 | 99916
16460 | Ida County, Iowa | 16 | 0.8588 | 0.8502 | 99916
16470 | Iowa County, Iowa | 16 | 0.8588 | 0.8502 | 99916
16480 | Jackson County, Iowa | 16 | 0.8588 | 0.8502 | 99916
16490 | Jasper County, Iowa | 16 | 0.8588 | 0.8502 | 99916
16500 | Jefferson County, Iowa | 16 | 0.8588 | 0.8502 | 99916
16510 | Johnson County, Iowa | 3500 | 0.9756 | 0.9756 | 26980
16520 | Jones County, Iowa | 16 | 0.8588 | 0.8617 | 16300
16530 | Keokuk County, Iowa | 16 | 0.8588 | 0.8502 | 99916
16540 | Kossuth County, Iowa | 16 | 0.8588 | 0.8502 | 99916
16550 | Lee County, Iowa | 16 | 0.8588 | 0.8502 | 99916
16560 | Linn County, Iowa | 1360 | 0.8617 | 0.8617 | 16300
16570 | Louisa County, Iowa | 16 | 0.8588 | 0.8502 | 99916
16580 | Lucas County, Iowa | 16 | 0.8588 | 0.8502 | 99916
16590 | Lyon County, Iowa | 16 | 0.8588 | 0.8502 | 99916
16600 | Madison County, Iowa | 16 | 0.8588 | 0.9651 | 19780
16610 | Mahaska County, Iowa | 16 | 0.8588 | 0.8502 | 99916
16620 | Marion County, Iowa | 16 | 0.8588 | 0.8502 | 99916
16630 | Marshall County, Iowa | 16 | 0.8588 | 0.8502 | 99916
16640 | Mills County, Iowa | 16 | 0.8588 | 0.9569 | 36540
16650 | Mitchell County, Iowa | 16 | 0.8588 | 0.8502 | 99916
16660 | Monona County, Iowa | 16 | 0.8588 | 0.8502 | 99916
16670 | Monroe County, Iowa | 16 | 0.8588 | 0.8502 | 99916
16680 | Montgomery County, Iowa | 16 | 0.8588 | 0.8502 | 99916
16690 | Muscatine County, Iowa | 16 | 0.8588 | 0.8502 | 99916
16700 | OBrien County, Iowa | 16 | 0.8588 | 0.8502 | 99916
16710 | Osceola County, Iowa | 16 | 0.8588 | 0.8502 | 99916
16720 | Page County, Iowa | 16 | 0.8588 | 0.8502 | 99916
16730 | Palo Alto County, Iowa | 16 | 0.8588 | 0.8502 | 99916
16740 | Plymouth County, Iowa | 16 | 0.8588 | 0.8502 | 99916
16750 | Pocahontas County, Iowa | 16 | 0.8588 | 0.8502 | 99916
16760 | Polk County, Iowa | 2120 | 0.9651 | 0.9651 | 19780
16770 | Pottawattamie County, Iowa | 5920 | 0.9569 | 0.9569 | 36540
16780 | Poweshiek County, Iowa | 16 | 0.8588 | 0.8502 | 99916
16790 | Ringgold County, Iowa | 16 | 0.8588 | 0.8502 | 99916
16800 | Sac County, Iowa | 16 | 0.8588 | 0.8502 | 99916
16810 | Scott County, Iowa | 1960 | 0.8731 | 0.8731 | 19340
16820 | Shelby County, Iowa | 16 | 0.8588 | 0.8502 | 99916
16830 | Sioux County, Iowa | 16 | 0.8588 | 0.8502 | 99916
16840 | Story County, Iowa | 16 | 0.8588 | 0.9545 | 11180
16850 | Tama County, Iowa | 16 | 0.8588 | 0.8502 | 99916
16860 | Taylor County, Iowa | 16 | 0.8588 | 0.8502 | 99916
16870 | Union County, Iowa | 16 | 0.8588 | 0.8502 | 99916
16880 | Van Buren County, Iowa | 16 | 0.8588 | 0.8502 | 99916
16890 | Wapello County, Iowa | 16 | 0.8588 | 0.8502 | 99916
16900 | Warren County, Iowa | 2120 | 0.9651 | 0.9651 | 19780
16910 | Washington County, Iowa | 16 | 0.8588 | 0.9756 | 26980
16920 | Wayne County, Iowa | 16 | 0.8588 | 0.8502 | 99916
16930 | Webster County, Iowa | 16 | 0.8588 | 0.8502 | 99916
16940 | Winnebago County, Iowa | 16 | 0.8588 | 0.8502 | 99916
16950 | Winneshiek County, Iowa | 16 | 0.8588 | 0.8502 | 99916
16960 | Woodbury County, Iowa | 7720 | 0.9411 | 0.9376 | 43580
16970 | Worth County, Iowa | 16 | 0.8588 | 0.8502 | 99916
16980 | Wright County, Iowa | 16 | 0.8588 | 0.8502 | 99916
17000 | Allen County, Kansas | 17 | 0.7994 | 0.7987 | 99917
17010 | Anderson County, Kansas | 17 | 0.7994 | 0.7987 | 99917
17020 | Atchison County, Kansas | 17 | 0.7994 | 0.7987 | 99917
17030 | Barber County, Kansas | 17 | 0.7994 | 0.7987 | 99917
17040 | Barton County, Kansas | 17 | 0.7994 | 0.7987 | 99917
17050 | Bourbon County, Kansas | 17 | 0.7994 | 0.7987 | 99917
17060 | Brown County, Kansas | 17 | 0.7994 | 0.7987 | 99917
17070 | Butler County, Kansas | 9040 | 0.9163 | 0.9141 | 48620
17080 | Chase County, Kansas | 17 | 0.7994 | 0.7987 | 99917
17090 | Chautauqua County, Kansas | 17 | 0.7994 | 0.7987 | 99917
17100 | Cherokee County, Kansas | 17 | 0.7994 | 0.7987 | 99917
17110 | Cheyenne County, Kansas | 17 | 0.7994 | 0.7987 | 99917
17120 | Clark County, Kansas | 17 | 0.7994 | 0.7987 | 99917
17130 | Clay County, Kansas | 17 | 0.7994 | 0.7987 | 99917
17140 | Cloud County, Kansas | 17 | 0.7994 | 0.7987 | 99917
17150 | Coffey County, Kansas | 17 | 0.7994 | 0.7987 | 99917
17160 | Comanche County, Kansas | 17 | 0.7994 | 0.7987 | 99917
17170 | Cowley County, Kansas | 17 | 0.7994 | 0.7987 | 99917
17180 | Crawford County, Kansas | 17 | 0.7994 | 0.7987 | 99917
17190 | Decatur County, Kansas | 17 | 0.7994 | 0.7987 | 99917
17200 | Dickinson County, Kansas | 17 | 0.7994 | 0.7987 | 99917
17210 | Doniphan County, Kansas | 17 | 0.7994 | 0.9529 | 41140
17220 | Douglas County, Kansas | 4150 | 0.8546 | 0.8546 | 29940
17230 | Edwards County, Kansas | 17 | 0.7994 | 0.7987 | 99917
17240 | Elk County, Kansas | 17 | 0.7994 | 0.7987 | 99917
17250 | Ellis County, Kansas | 17 | 0.7994 | 0.7987 | 99917
17260 | Ellsworth County, Kansas | 17 | 0.7994 | 0.7987 | 99917
17270 | Finney County, Kansas | 17 | 0.7994 | 0.7987 | 99917
17280 | Ford County, Kansas | 17 | 0.7994 | 0.7987 | 99917
17290 | Franklin County, Kansas | 17 | 0.7994 | 0.9467 | 28140
17300 | Geary County, Kansas | 17 | 0.7994 | 0.7987 | 99917
17310 | Gove County, Kansas | 17 | 0.7994 | 0.7987 | 99917
17320 | Graham County, Kansas | 17 | 0.7994 | 0.7987 | 99917
17330 | Grant County, Kansas | 17 | 0.7994 | 0.7987 | 99917
17340 | Gray County, Kansas | 17 | 0.7994 | 0.7987 | 99917
17350 | Greeley County, Kansas | 17 | 0.7994 | 0.7987 | 99917
17360 | Greenwood County, Kansas | 17 | 0.7994 | 0.7987 | 99917
17370 | Hamilton County, Kansas | 17 | 0.7994 | 0.7987 | 99917
17380 | Harper County, Kansas | 17 | 0.7994 | 0.7987 | 99917
17390 | Harvey County, Kansas | 9040 | 0.9163 | 0.9141 | 48620
17391 | Haskell County, Kansas | 17 | 0.7994 | 0.7987 | 99917
17410 | Hodgeman County, Kansas | 17 | 0.7994 | 0.7987 | 99917
17420 | Jackson County, Kansas | 17 | 0.7994 | 0.8929 | 45820
17430 | Jefferson County, Kansas | 17 | 0.7994 | 0.8929 | 45820
17440 | Jewell County, Kansas | 17 | 0.7994 | 0.7987 | 99917
17450 | Johnson County, Kansas | 3760 | 0.9481 | 0.9467 | 28140
17451 | Kearny County, Kansas | 17 | 0.7994 | 0.7987 | 99917
17470 | Kingman County, Kansas | 17 | 0.7994 | 0.7987 | 99917
17480 | Kiowa County, Kansas | 17 | 0.7994 | 0.7987 | 99917
17490 | Labette County, Kansas | 17 | 0.7994 | 0.7987 | 99917
17500 | Lane County, Kansas | 17 | 0.7994 | 0.7987 | 99917
17510 | Leavenworth County, Kansas | 3760 | 0.9481 | 0.9467 | 28140
17520 | Lincoln County, Kansas | 17 | 0.7994 | 0.7987 | 99917
17530 | Linn County, Kansas | 17 | 0.7994 | 0.9467 | 28140
17540 | Logan County, Kansas | 17 | 0.7994 | 0.7987 | 99917
17550 | Lyon County, Kansas | 17 | 0.7994 | 0.7987 | 99917
17560 | Mc Pherson County, Kansas | 17 | 0.7994 | 0.7987 | 99917
17570 | Marion County, Kansas | 17 | 0.7994 | 0.7987 | 99917
17580 | Marshall County, Kansas | 17 | 0.7994 | 0.7987 | 99917
17590 | Meade County, Kansas | 17 | 0.7994 | 0.7987 | 99917
17600 | Miami County, Kansas | 3760 | 0.9481 | 0.9467 | 28140
17610 | Mitchell County, Kansas | 17 | 0.7994 | 0.7987 | 99917
17620 | Montgomery County, Kansas | 17 | 0.7994 | 0.7987 | 99917
17630 | Morris County, Kansas | 17 | 0.7994 | 0.7987 | 99917
17640 | Morton County, Kansas | 17 | 0.7994 | 0.7987 | 99917
17650 | Nemaha County, Kansas | 17 | 0.7994 | 0.7987 | 99917
17660 | Neosho County, Kansas | 17 | 0.7994 | 0.7987 | 99917
17670 | Ness County, Kansas | 17 | 0.7994 | 0.7987 | 99917
17680 | Norton County, Kansas | 17 | 0.7994 | 0.7987 | 99917
17690 | Osage County, Kansas | 17 | 0.7994 | 0.8929 | 45820
17700 | Osborne County, Kansas | 17 | 0.7994 | 0.7987 | 99917
17710 | Ottawa County, Kansas | 17 | 0.7994 | 0.7987 | 99917
17720 | Pawnee County, Kansas | 17 | 0.7994 | 0.7987 | 99917
17730 | Phillips County, Kansas | 17 | 0.7994 | 0.7987 | 99917
17740 | Pottawatomie County, Kansas | 17 | 0.7994 | 0.7987 | 99917
17750 | Pratt County, Kansas | 17 | 0.7994 | 0.7987 | 99917
17760 | Rawlins County, Kansas | 17 | 0.7994 | 0.7987 | 99917
17770 | Reno County, Kansas | 17 | 0.7994 | 0.7987 | 99917
17780 | Republic County, Kansas | 17 | 0.7994 | 0.7987 | 99917
17790 | Rice County, Kansas | 17 | 0.7994 | 0.7987 | 99917
17800 | Riley County, Kansas | 17 | 0.7994 | 0.7987 | 99917
17810 | Rooks County, Kansas | 17 | 0.7994 | 0.7987 | 99917
17820 | Rush County, Kansas | 17 | 0.7994 | 0.7987 | 99917
17830 | Russell County, Kansas | 17 | 0.7994 | 0.7987 | 99917
17840 | Saline County, Kansas | 17 | 0.7994 | 0.7987 | 99917
17841 | Scott County, Kansas | 17 | 0.7994 | 0.7987 | 99917
17860 | Sedgwick County, Kansas | 9040 | 0.9163 | 0.9141 | 48620
17870 | Seward County, Kansas | 17 | 0.7994 | 0.7987 | 99917
17880 | Shawnee County, Kansas | 8440 | 0.8929 | 0.8929 | 45820
17890 | Sheridan County, Kansas | 17 | 0.7994 | 0.7987 | 99917
17900 | Sherman County, Kansas | 17 | 0.7994 | 0.7987 | 99917
17910 | Smith County, Kansas | 17 | 0.7994 | 0.7987 | 99917
17920 | Stafford County, Kansas | 17 | 0.7994 | 0.7987 | 99917
17921 | Stanton County, Kansas | 17 | 0.7994 | 0.7987 | 99917
17940 | Stevens County, Kansas | 17 | 0.7994 | 0.7987 | 99917
17950 | Sumner County, Kansas | 17 | 0.7994 | 0.9141 | 48620
17960 | Thomas County, Kansas | 17 | 0.7994 | 0.7987 | 99917
17970 | Trego County, Kansas | 17 | 0.7994 | 0.7987 | 99917
17980 | Wabaunsee County, Kansas | 17 | 0.7994 | 0.8929 | 45820
17981 | Wallace County, Kansas | 17 | 0.7994 | 0.7987 | 99917
17982 | Washington County, Kansas | 17 | 0.7994 | 0.7987 | 99917
17983 | Wichita County, Kansas | 17 | 0.7994 | 0.7987 | 99917
17984 | Wilson County, Kansas | 17 | 0.7994 | 0.7987 | 99917
17985 | Woodson County, Kansas | 17 | 0.7994 | 0.7987 | 99917
17986 | Wyandotte County, Kansas | 3760 | 0.9481 | 0.9467 | 28140
18000 | Adair County, Kentucky | 18 | 0.7866 | 0.7774 | 99918
18010 | Allen County, Kentucky | 18 | 0.7866 | 0.7774 | 99918
18020 | Anderson County, Kentucky | 18 | 0.7866 | 0.7774 | 99918
18030 | Ballard County, Kentucky | 18 | 0.7866 | 0.7774 | 99918
18040 | Barren County, Kentucky | 18 | 0.7866 | 0.7774 | 99918
18050 | Bath County, Kentucky | 18 | 0.7866 | 0.7774 | 99918
18060 | Bell County, Kentucky | 18 | 0.7866 | 0.7774 | 99918
18070 | Boone County, Kentucky | 1640 | 0.9742 | 0.9623 | 17140
18080 | Bourbon County, Kentucky | 4280 | 0.8997 | 0.9084 | 30460
18090 | Boyd County, Kentucky | 3400 | 0.9486 | 0.9486 | 26580
18100 | Boyle County, Kentucky | 18 | 0.7866 | 0.7774 | 99918
18110 | Bracken County, Kentucky | 18 | 0.7866 | 0.9623 | 17140
18120 | Breathitt County, Kentucky | 18 | 0.7866 | 0.7774 | 99918
18130 | Breckinridge County, Kentucky | 18 | 0.7866 | 0.7774 | 99918
18140 | Bullitt County, Kentucky | 4520 | 0.9302 | 0.9261 | 31140
18150 | Butler County, Kentucky | 18 | 0.7866 | 0.7774 | 99918
18160 | Caldwell County, Kentucky | 18 | 0.7866 | 0.7774 | 99918
18170 | Calloway County, Kentucky | 18 | 0.7866 | 0.7774 | 99918
18180 | Campbell County, Kentucky | 1640 | 0.9742 | 0.9623 | 17140
18190 | Carlisle County, Kentucky | 18 | 0.7866 | 0.7774 | 99918
18191 | Carroll County, Kentucky | 18 | 0.7866 | 0.7774 | 99918
18210 | Carter County, Kentucky | 3400 | 0.9486 | 0.7774 | 99918
18220 | Casey County, Kentucky | 18 | 0.7866 | 0.7774 | 99918
18230 | Christian County, Kentucky | 1660 | 0.8292 | 0.8292 | 17300
18240 | Clark County, Kentucky | 4280 | 0.8997 | 0.9084 | 30460
18250 | Clay County, Kentucky | 18 | 0.7866 | 0.7774 | 99918
18260 | Clinton County, Kentucky | 18 | 0.7866 | 0.7774 | 99918
18270 | Crittenden County, Kentucky | 18 | 0.7866 | 0.7774 | 99918
18271 | Cumberland County, Kentucky | 18 | 0.7866 | 0.7774 | 99918
18290 | Daviess County, Kentucky | 5990 | 0.8789 | 0.8789 | 36980
18291 | Edmonson County, Kentucky | 18 | 0.7866 | 0.8220 | 14540
18310 | Elliott County, Kentucky | 18 | 0.7866 | 0.7774 | 99918
18320 | Estill County, Kentucky | 18 | 0.7866 | 0.7774 | 99918
18330 | Fayette County, Kentucky | 4280 | 0.8997 | 0.9084 | 30460
18340 | Fleming County, Kentucky | 18 | 0.7866 | 0.7774 | 99918
18350 | Floyd County, Kentucky | 18 | 0.7866 | 0.7774 | 99918
18360 | Franklin County, Kentucky | 18 | 0.7866 | 0.7774 | 99918
18361 | Fulton County, Kentucky | 18 | 0.7866 | 0.7774 | 99918
18362 | Gallatin County, Kentucky | 1640 | 0.9742 | 0.9623 | 17140
18390 | Garrard County, Kentucky | 18 | 0.7866 | 0.7774 | 99918
18400 | Grant County, Kentucky | 1640 | 0.9742 | 0.9623 | 17140
18410 | Graves County, Kentucky | 18 | 0.7866 | 0.7774 | 99918
18420 | Grayson County, Kentucky | 18 | 0.7866 | 0.7774 | 99918
18421 | Green County, Kentucky | 18 | 0.7866 | 0.7774 | 99918
18440 | Greenup County, Kentucky | 3400 | 0.9486 | 0.9486 | 26580
18450 | Hancock County, Kentucky | 18 | 0.7866 | 0.8789 | 36980
18460 | Hardin County, Kentucky | 18 | 0.7866 | 0.8810 | 21060
18470 | Harlan County, Kentucky | 18 | 0.7866 | 0.7774 | 99918
18480 | Harrison County, Kentucky | 18 | 0.7866 | 0.7774 | 99918
18490 | Hart County, Kentucky | 18 | 0.7866 | 0.7774 | 99918
18500 | Henderson County, Kentucky | 2440 | 0.8721 | 0.8721 | 21780
18510 | Henry County, Kentucky | 18 | 0.7866 | 0.9261 | 31140
18511 | Hickman County, Kentucky | 18 | 0.7866 | 0.7774 | 99918
18530 | Hopkins County, Kentucky | 18 | 0.7866 | 0.7774 | 99918
18540 | Jackson County, Kentucky | 18 | 0.7866 | 0.7774 | 99918
18550 | Jefferson County, Kentucky | 4520 | 0.9302 | 0.9261 | 31140
18560 | Jessamine County, Kentucky | 4280 | 0.8997 | 0.9084 | 30460
18570 | Johnson County, Kentucky | 18 | 0.7866 | 0.7774 | 99918
18580 | Kenton County, Kentucky | 1640 | 0.9742 | 0.9623 | 17140
18590 | Knott County, Kentucky | 18 | 0.7866 | 0.7774 | 99918
18600 | Knox County, Kentucky | 18 | 0.7866 | 0.7774 | 99918
18610 | Larue County, Kentucky | 18 | 0.7866 | 0.8810 | 21060
18620 | Laurel County, Kentucky | 18 | 0.7866 | 0.7774 | 99918
18630 | Lawrence County, Kentucky | 18 | 0.7866 | 0.7774 | 99918
18640 | Lee County, Kentucky | 18 | 0.7866 | 0.7774 | 99918
18650 | Leslie County, Kentucky | 18 | 0.7866 | 0.7774 | 99918
18660 | Letcher County, Kentucky | 18 | 0.7866 | 0.7774 | 99918
18670 | Lewis County, Kentucky | 18 | 0.7866 | 0.7774 | 99918
18680 | Lincoln County, Kentucky | 18 | 0.7866 | 0.7774 | 99918
18690 | Livingston County, Kentucky | 18 | 0.7866 | 0.7774 | 99918
18700 | Logan County, Kentucky | 18 | 0.7866 | 0.7774 | 99918
18710 | Lyon County, Kentucky | 18 | 0.7866 | 0.7774 | 99918
18720 | Mc Cracken County, Kentucky | 18 | 0.7866 | 0.7774 | 99918
18730 | Mc Creary County, Kentucky | 18 | 0.7866 | 0.7774 | 99918
18740 | Mc Lean County, Kentucky | 18 | 0.7866 | 0.8789 | 36980
18750 | Madison County, Kentucky | 4280 | 0.8997 | 0.7774 | 99918
18760 | Magoffin County, Kentucky | 18 | 0.7866 | 0.7774 | 99918
18770 | Marion County, Kentucky | 18 | 0.7866 | 0.7774 | 99918
18780 | Marshall County, Kentucky | 18 | 0.7866 | 0.7774 | 99918
18790 | Martin County, Kentucky | 18 | 0.7866 | 0.7774 | 99918
18800 | Mason County, Kentucky | 18 | 0.7866 | 0.7774 | 99918
18801 | Meade County, Kentucky | 18 | 0.7866 | 0.9261 | 31140
18802 | Menifee County, Kentucky | 18 | 0.7866 | 0.7774 | 99918
18830 | Mercer County, Kentucky | 18 | 0.7866 | 0.7774 | 99918
18831 | Metcalfe County, Kentucky | 18 | 0.7866 | 0.7774 | 99918
18850 | Monroe County, Kentucky | 18 | 0.7866 | 0.7774 | 99918
18860 | Montgomery County, Kentucky | 18 | 0.7866 | 0.7774 | 99918
18861 | Morgan County, Kentucky | 18 | 0.7866 | 0.7774 | 99918
18880 | Muhlenberg County, Kentucky | 18 | 0.7866 | 0.7774 | 99918
18890 | Nelson County, Kentucky | 18 | 0.7866 | 0.9261 | 31140
18900 | Nicholas County, Kentucky | 18 | 0.7866 | 0.7774 | 99918
18910 | Ohio County, Kentucky | 18 | 0.7866 | 0.7774 | 99918
18920 | Oldham County, Kentucky | 4520 | 0.9302 | 0.9261 | 31140
18930 | Owen County, Kentucky | 18 | 0.7866 | 0.7774 | 99918
18931 | Owsley County, Kentucky | 18 | 0.7866 | 0.7774 | 99918
18932 | Pendleton County, Kentucky | 1640 | 0.9742 | 0.9623 | 17140
18960 | Perry County, Kentucky | 18 | 0.7866 | 0.7774 | 99918
18970 | Pike County, Kentucky | 18 | 0.7866 | 0.7774 | 99918
18971 | Powell County, Kentucky | 18 | 0.7866 | 0.7774 | 99918
18972 | Pulaski County, Kentucky | 18 | 0.7866 | 0.7774 | 99918
18973 | Robertson County, Kentucky | 18 | 0.7866 | 0.7774 | 99918
18974 | Rockcastle County, Kentucky | 18 | 0.7866 | 0.7774 | 99918
18975 | Rowan County, Kentucky | 18 | 0.7866 | 0.7774 | 99918
18976 | Russell County, Kentucky | 18 | 0.7866 | 0.7774 | 99918
18977 | Scott County, Kentucky | 4280 | 0.8997 | 0.9084 | 30460
18978 | Shelby County, Kentucky | 18 | 0.7866 | 0.9261 | 31140
18979 | Simpson County, Kentucky | 18 | 0.7866 | 0.7774 | 99918
18980 | Spencer County, Kentucky | 18 | 0.7866 | 0.9261 | 31140
18981 | Taylor County, Kentucky | 18 | 0.7866 | 0.7774 | 99918
18982 | Todd County, Kentucky | 18 | 0.7866 | 0.7774 | 99918
18983 | Trigg County, Kentucky | 18 | 0.7866 | 0.8292 | 17300
18984 | Trimble County, Kentucky | 18 | 0.7866 | 0.9261 | 31140
18985 | Union County, Kentucky | 18 | 0.7866 | 0.7774 | 99918
18986 | Warren County, Kentucky | 18 | 0.7866 | 0.8220 | 14540
18987 | Washington County, Kentucky | 18 | 0.7866 | 0.7774 | 99918
18988 | Wayne County, Kentucky | 18 | 0.7866 | 0.7774 | 99918
18989 | Webster County, Kentucky | 18 | 0.7866 | 0.8721 | 21780
18990 | Whitley County, Kentucky | 18 | 0.7866 | 0.7774 | 99918
18991 | Wolfe County, Kentucky | 18 | 0.7866 | 0.7774 | 99918
18992 | Woodford County, Kentucky | 4280 | 0.8997 | 0.9084 | 30460
19000 | Acadia County, Louisiana | 3880 | 0.8260 | 0.7418 | 99919
19010 | Allen County, Louisiana | 19 | 0.7348 | 0.7418 | 99919
19020 | Ascension County, Louisiana | 0760 | 0.8652 | 0.8601 | 12940
19030 | Assumption County, Louisiana | 19 | 0.7348 | 0.7418 | 99919
19040 | Avoyelles County, Louisiana | 19 | 0.7348 | 0.7418 | 99919
19050 | Beauregard County, Louisiana | 19 | 0.7348 | 0.7418 | 99919
19060 | Bienville County, Louisiana | 19 | 0.7348 | 0.7418 | 99919
19070 | Bossier County, Louisiana | 7680 | 0.8746 | 0.8769 | 43340
19080 | Caddo County, Louisiana | 7680 | 0.8746 | 0.8769 | 43340
19090 | Calcasieu County, Louisiana | 3960 | 0.7866 | 0.7841 | 29340
19100 | Caldwell County, Louisiana | 19 | 0.7348 | 0.7418 | 99919
19110 | Cameron County, Louisiana | 19 | 0.7348 | 0.7841 | 29340
19120 | Catahoula County, Louisiana | 19 | 0.7348 | 0.7418 | 99919
19130 | Claiborne County, Louisiana | 19 | 0.7348 | 0.7418 | 99919
19140 | Concordia County, Louisiana | 19 | 0.7348 | 0.7418 | 99919
19150 | De Soto County, Louisiana | 19 | 0.7348 | 0.8769 | 43340
19160 | East Baton Rouge County, Louisiana | 0760 | 0.8652 | 0.8601 | 12940
19170 | East Carroll County, Louisiana | 19 | 0.7348 | 0.7418 | 99919
19180 | East Feliciana County, Louisiana | 19 | 0.7348 | 0.8601 | 12940
19190 | Evangeline County, Louisiana | 19 | 0.7348 | 0.7418 | 99919
19200 | Franklin County, Louisiana | 19 | 0.7348 | 0.7418 | 99919
19210 | Grant County, Louisiana | 19 | 0.7348 | 0.8041 | 10780
19220 | Iberia County, Louisiana | 19 | 0.7348 | 0.7418 | 99919
19230 | Iberville County, Louisiana | 19 | 0.7348 | 0.8601 | 12940
19240 | Jackson County, Louisiana | 19 | 0.7348 | 0.7418 | 99919
19250 | Jefferson County, Louisiana | 5560 | 0.9005 | 0.9005 | 35380
19260 | Jefferson Davis County, Louisiana | 19 | 0.7348 | 0.7418 | 99919
19270 | Lafayette County, Louisiana | 3880 | 0.8260 | 0.8436 | 29180
19280 | Lafourche County, Louisiana | 3350 | 0.7902 | 0.7902 | 26380
19290 | La Salle County, Louisiana | 19 | 0.7348 | 0.7418 | 99919
19300 | Lincoln County, Louisiana | 19 | 0.7348 | 0.7418 | 99919
19310 | Livingston County, Louisiana | 0760 | 0.8652 | 0.8601 | 12940
19320 | Madison County, Louisiana | 19 | 0.7348 | 0.7418 | 99919
19330 | Morehouse County, Louisiana | 19 | 0.7348 | 0.7418 | 99919
19340 | Natchitoches County, Louisiana | 19 | 0.7348 | 0.7418 | 99919
19350 | Orleans County, Louisiana | 5560 | 0.9005 | 0.9005 | 35380
19360 | Ouachita County, Louisiana | 5200 | 0.8052 | 0.8040 | 33740
19370 | Plaquemines County, Louisiana | 5560 | 0.9005 | 0.9005 | 35380
19380 | Pointe Coupee County, Louisiana | 19 | 0.7348 | 0.8601 | 12940
19390 | Rapides County, Louisiana | 0220 | 0.8041 | 0.8041 | 10780
19400 | Red River County, Louisiana | 19 | 0.7348 | 0.7418 | 99919
19410 | Richland County, Louisiana | 19 | 0.7348 | 0.7418 | 99919
19420 | Sabine County, Louisiana | 19 | 0.7348 | 0.7418 | 99919
19430 | St Bernard County, Louisiana | 5560 | 0.9005 | 0.9005 | 35380
19440 | St Charles County, Louisiana | 5560 | 0.9005 | 0.9005 | 35380
19450 | St Helena County, Louisiana | 19 | 0.7348 | 0.8601 | 12940
19460 | St James County, Louisiana | 5560 | 0.9005 | 0.7418 | 99919
19470 | St John Baptist County, Louisiana | 5560 | 0.9005 | 0.9005 | 35380
19480 | St Landry County, Louisiana | 3880 | 0.8260 | 0.7418 | 99919
19490 | St Martin County, Louisiana | 3880 | 0.8260 | 0.8436 | 29180
19500 | St Mary County, Louisiana | 19 | 0.7348 | 0.7418 | 99919
19510 | St Tammany County, Louisiana | 5560 | 0.9005 | 0.9005 | 35380
19520 | Tangipahoa County, Louisiana | 19 | 0.7348 | 0.7418 | 99919
19530 | Tensas County, Louisiana | 19 | 0.7348 | 0.7418 | 99919
19540 | Terrebonne County, Louisiana | 3350 | 0.7902 | 0.7902 | 26380
19550 | Union County, Louisiana | 19 | 0.7348 | 0.8040 | 33740
19560 | Vermilion County, Louisiana | 19 | 0.7348 | 0.7418 | 99919
19570 | Vernon County, Louisiana | 19 | 0.7348 | 0.7418 | 99919
19580 | Washington County, Louisiana | 19 | 0.7348 | 0.7418 | 99919
19590 | Webster County, Louisiana | 7680 | 0.8746 | 0.7418 | 99919
19600 | West Baton Rouge County, Louisiana | 0760 | 0.8652 | 0.8601 | 12940
19610 | West Carroll County, Louisiana | 19 | 0.7348 | 0.7418 | 99919
19620 | West Feliciana County, Louisiana | 19 | 0.7348 | 0.8601 | 12940
19630 | Winn County, Louisiana | 19 | 0.7348 | 0.7418 | 99919
20000 | Androscoggin County, Maine | 4243 | 0.9341 | 0.9341 | 30340
20010 | Aroostook County, Maine | 20 | 0.8852 | 0.8852 | 99920
20020 | Cumberland County, Maine | 6403 | 1.0392 | 1.0392 | 38860
20030 | Franklin County, Maine | 20 | 0.8852 | 0.8852 | 99920
20040 | Hancock County, Maine | 20 | 0.8852 | 0.8852 | 99920
20050 | Kennebec County, Maine | 20 | 0.8852 | 0.8852 | 99920
20060 | Knox County, Maine | 20 | 0.8852 | 0.8852 | 99920
20070 | Lincoln County, Maine | 20 | 0.8852 | 0.8852 | 99920
20080 | Oxford County, Maine | 20 | 0.8852 | 0.8852 | 99920
20090 | Penobscot County, Maine | 0733 | 1.0003 | 1.0003 | 12620
20100 | Piscataquis County, Maine | 20 | 0.8852 | 0.8852 | 99920
20110 | Sagadahoc County, Maine | 6403 | 1.0392 | 1.0392 | 38860
20120 | Somerset County, Maine | 20 | 0.8852 | 0.8852 | 99920
20130 | Waldo County, Maine | 20 | 0.8852 | 0.8852 | 99920
20140 | Washington County, Maine | 20 | 0.8852 | 0.8852 | 99920
20150 | York County, Maine | 6403 | 1.0392 | 1.0392 | 38860
21000 | Allegany County, Maryland | 1900 | 0.9326 | 0.9326 | 19060
21010 | Anne Arundel County, Maryland | 0720 | 0.9907 | 0.9907 | 12580
21020 | Baltimore County, Maryland | 0720 | 0.9907 | 0.9907 | 12580
21030 | Baltimore City County, Maryland | 0720 | 0.9907 | 0.9907 | 12580
21040 | Calvert County, Maryland | 8840 | 1.0983 | 1.0932 | 47894
21050 | Caroline County, Maryland | 21 | 0.9085 | 0.9095 | 99921
21060 | Carroll County, Maryland | 0720 | 0.9907 | 0.9907 | 12580
21070 | Cecil County, Maryland | 9160 | 1.0537 | 1.0482 | 48864
21080 | Charles County, Maryland | 8840 | 1.0983 | 1.0932 | 47894
21090 | Dorchester County, Maryland | 21 | 0.9085 | 0.9095 | 99921
21100 | Frederick County, Maryland | 8840 | 1.0983 | 1.1495 | 13644
21110 | Garrett County, Maryland | 21 | 0.9085 | 0.9095 | 99921
21120 | Harford County, Maryland | 0720 | 0.9907 | 0.9907 | 12580
21130 | Howard County, Maryland | 0720 | 0.9907 | 0.9907 | 12580
21140 | Kent County, Maryland | 21 | 0.9085 | 0.9095 | 99921
21150 | Montgomery County, Maryland | 8840 | 1.0983 | 1.1495 | 13644
21160 | Prince Georges County, Maryland | 8840 | 1.0983 | 1.0932 | 47894
21170 | Queen Annes County, Maryland | 0720 | 0.9907 | 0.9907 | 12580
21180 | St Marys County, Maryland | 21 | 0.9085 | 0.9095 | 99921
21190 | Somerset County, Maryland | 21 | 0.9085 | 0.9073 | 41540
21200 | Talbot County, Maryland | 21 | 0.9085 | 0.9095 | 99921
21210 | Washington County, Maryland | 3180 | 0.9879 | 0.9499 | 25180
21220 | Wicomico County, Maryland | 21 | 0.9085 | 0.9073 | 41540
21230 | Worcester County, Maryland | 21 | 0.9085 | 0.9095 | 99921
22000 | Barnstable County, Massachusetts | 0743 | 1.2527 | 1.2527 | 12700
22010 | Berkshire County, Massachusetts | 6323 | 1.0191 | 1.0191 | 38340
22020 | Bristol County, Massachusetts | 1123 | 1.1152 | 1.0966 | 39300
22030 | Dukes County, Massachusetts | 22 | 1.0050 | 1.0216 | 99922
22040 | Essex County, Massachusetts | 1123 | 1.1152 | 1.0533 | 21604
22060 | Franklin County, Massachusetts | 22 | 1.0050 | 1.0259 | 44140
22070 | Hampden County, Massachusetts | 8003 | 1.0273 | 1.0259 | 44140
22080 | Hampshire County, Massachusetts | 8003 | 1.0273 | 1.0259 | 44140
22090 | Middlesex County, Massachusetts | 1123 | 1.1152 | 1.1084 | 15764
22120 | Nantucket County, Massachusetts | 22 | 1.0050 | 1.0216 | 99922
22130 | Norfolk County, Massachusetts | 1123 | 1.1152 | 1.1543 | 14484
22150 | Plymouth County, Massachusetts | 1123 | 1.1152 | 1.1543 | 14484
22160 | Suffolk County, Massachusetts | 1123 | 1.1152 | 1.1543 | 14484
22170 | Worcester County, Massachusetts | 1123 | 1.1152 | 1.1039 | 49340
23000 | Alcona County, Michigan | 23 | 0.8813 | 0.8870 | 99923
23010 | Alger County, Michigan | 23 | 0.8813 | 0.8870 | 99923
23020 | Allegan County, Michigan | 3000 | 0.9455 | 0.8870 | 99923
23030 | Alpena County, Michigan | 23 | 0.8813 | 0.8870 | 99923
23040 | Antrim County, Michigan | 23 | 0.8813 | 0.8870 | 99923
23050 | Arenac County, Michigan | 23 | 0.8813 | 0.8870 | 99923
23060 | Baraga County, Michigan | 23 | 0.8813 | 0.8870 | 99923
23070 | Barry County, Michigan | 23 | 0.8813 | 0.9400 | 24340
23080 | Bay County, Michigan | 6960 | 0.9415 | 0.9352 | 13020
23090 | Benzie County, Michigan | 23 | 0.8813 | 0.8870 | 99923
23100 | Berrien County, Michigan | 0870 | 0.8888 | 0.8888 | 35660
23110 | Branch County, Michigan | 23 | 0.8813 | 0.8870 | 99923
23120 | Calhoun County, Michigan | 3720 | 1.0151 | 0.9510 | 12980
23130 | Cass County, Michigan | 23 | 0.8813 | 0.9798 | 43780
23140 | Charlevoix County, Michigan | 23 | 0.8813 | 0.8870 | 99923
23150 | Cheboygan County, Michigan | 23 | 0.8813 | 0.8870 | 99923
23160 | Chippewa County, Michigan | 23 | 0.8813 | 0.8870 | 99923
23170 | Clare County, Michigan | 23 | 0.8813 | 0.8870 | 99923
23180 | Clinton County, Michigan | 4040 | 0.9792 | 0.9792 | 29620
23190 | Crawford County, Michigan | 23 | 0.8813 | 0.8870 | 99923
23200 | Delta County, Michigan | 23 | 0.8813 | 0.8870 | 99923
23210 | Dickinson County, Michigan | 23 | 0.8813 | 0.8870 | 99923
23220 | Eaton County, Michigan | 4040 | 0.9792 | 0.9792 | 29620
23230 | Emmet County, Michigan | 23 | 0.8813 | 0.8870 | 99923
23240 | Genesee County, Michigan | 2640 | 1.0663 | 1.0663 | 22420
23250 | Gladwin County, Michigan | 23 | 0.8813 | 0.8870 | 99923
23260 | Gogebic County, Michigan | 23 | 0.8813 | 0.8870 | 99923
23270 | Grand Traverse County, Michigan | 23 | 0.8813 | 0.8870 | 99923
23280 | Gratiot County, Michigan | 23 | 0.8813 | 0.8870 | 99923
23290 | Hillsdale County, Michigan | 23 | 0.8813 | 0.8870 | 99923
23300 | Houghton County, Michigan | 23 | 0.8813 | 0.8870 | 99923
23310 | Huron County, Michigan | 23 | 0.8813 | 0.8870 | 99923
23320 | Ingham County, Michigan | 4040 | 0.9792 | 0.9792 | 29620
23330 | Ionia County, Michigan | 23 | 0.8813 | 0.9400 | 24340
23340 | Iosco County, Michigan | 23 | 0.8813 | 0.8870 | 99923
23350 | Iron County, Michigan | 23 | 0.8813 | 0.8870 | 99923
23360 | Isabella County, Michigan | 23 | 0.8813 | 0.8870 | 99923
23370 | Jackson County, Michigan | 3520 | 0.9313 | 0.9313 | 27100
23380 | Kalamazoo County, Michigan | 3720 | 1.0151 | 1.0391 | 28020
23390 | Kalkaska County, Michigan | 23 | 0.8813 | 0.8870 | 99923
23400 | Kent County, Michigan | 3000 | 0.9455 | 0.9400 | 24340
23410 | Keweenaw County, Michigan | 23 | 0.8813 | 0.8870 | 99923
23420 | Lake County, Michigan | 23 | 0.8813 | 0.8870 | 99923
23430 | Lapeer County, Michigan | 2160 | 1.0152 | 0.9861 | 47644
23440 | Leelanau County, Michigan | 23 | 0.8813 | 0.8870 | 99923
23450 | Lenawee County, Michigan | 0440 | 1.0718 | 0.8870 | 99923
23460 | Livingston County, Michigan | 0440 | 1.0718 | 0.9861 | 47644
23470 | Luce County, Michigan | 23 | 0.8813 | 0.8870 | 99923
23480 | Mackinac County, Michigan | 23 | 0.8813 | 0.8870 | 99923
23490 | Macomb County, Michigan | 2160 | 1.0152 | 0.9861 | 47644
23500 | Manistee County, Michigan | 23 | 0.8813 | 0.8870 | 99923
23510 | Marquette County, Michigan | 23 | 0.8813 | 0.8870 | 99923
23520 | Mason County, Michigan | 23 | 0.8813 | 0.8870 | 99923
23530 | Mecosta County, Michigan | 23 | 0.8813 | 0.8870 | 99923
23540 | Menominee County, Michigan | 23 | 0.8813 | 0.8870 | 99923
23550 | Midland County, Michigan | 6960 | 0.9415 | 0.8870 | 99923
23560 | Missaukee County, Michigan | 23 | 0.8813 | 0.8870 | 99923
23570 | Monroe County, Michigan | 2160 | 1.0152 | 0.9478 | 33780
23580 | Montcalm County, Michigan | 23 | 0.8813 | 0.8870 | 99923
23590 | Montmorency County, Michigan | 23 | 0.8813 | 0.8870 | 99923
23600 | Muskegon County, Michigan | 3000 | 0.9455 | 0.9673 | 34740
23610 | Newaygo County, Michigan | 23 | 0.8813 | 0.9400 | 24340
23620 | Oakland County, Michigan | 2160 | 1.0152 | 0.9861 | 47644
23630 | Oceana County, Michigan | 23 | 0.8813 | 0.8870 | 99923
23640 | Ogemaw County, Michigan | 23 | 0.8813 | 0.8870 | 99923
23650 | Ontonagon County, Michigan | 23 | 0.8813 | 0.8870 | 99923
23660 | Osceola County, Michigan | 23 | 0.8813 | 0.8870 | 99923
23670 | Oscoda County, Michigan | 23 | 0.8813 | 0.8870 | 99923
23680 | Otsego County, Michigan | 23 | 0.8813 | 0.8870 | 99923
23690 | Ottawa County, Michigan | 3000 | 0.9455 | 0.9064 | 26100
23700 | Presque Isle County, Michigan | 23 | 0.8813 | 0.8870 | 99923
23710 | Roscommon County, Michigan | 23 | 0.8813 | 0.8870 | 99923
23720 | Saginaw County, Michigan | 6960 | 0.9415 | 0.9420 | 40980
23730 | St Clair County, Michigan | 12160 | 1.0152 | 0.9861 | 47644
23740 | St Joseph County, Michigan | 23 | 0.8813 | 0.8870 | 99923
23750 | Sanilac County, Michigan | 23 | 0.8813 | 0.8870 | 99923
23760 | Schoolcraft County, Michigan | 23 | 0.8813 | 0.8870 | 99923
23770 | Shiawassee County, Michigan | 23 | 0.8813 | 0.8870 | 99923
23780 | Tuscola County, Michigan | 23 | 0.8813 | 0.8870 | 99923
23790 | Van Buren County, Michigan | 3720 | 1.0151 | 1.0391 | 28020
23800 | Washtenaw County, Michigan | 0440 | 1.0718 | 1.0870 | 11460
23810 | Wayne County, Michigan | 2160 | 1.0152 | 1.0441 | 19804
23830 | Wexford County, Michigan | 23 | 0.8813 | 0.8870 | 99923
24000 | Aitkin County, Minnesota | 24 | 0.9193 | 0.9183 | 99924
24010 | Anoka County, Minnesota | 5120 | 1.1078 | 1.1078 | 33460
24020 | Becker County, Minnesota | 24 | 0.9193 | 0.9183 | 99924
24030 | Beltrami County, Minnesota | 24 | 0.9193 | 0.9183 | 99924
24040 | Benton County, Minnesota | 6980 | 0.9975 | 0.9975 | 41060
24050 | Big Stone County, Minnesota | 24 | 0.9193 | 0.9183 | 99924
24060 | Blue Earth County, Minnesota | 24 | 0.9193 | 0.9183 | 99924
24070 | Brown County, Minnesota | 24 | 0.9193 | 0.9183 | 99924
24080 | Carlton County, Minnesota | 24 | 0.9193 | 1.0209 | 20260
24090 | Carver County, Minnesota | 5120 | 1.1078 | 1.1078 | 33460
24100 | Cass County, Minnesota | 24 | 0.9193 | 0.9183 | 99924
24110 | Chippewa County, Minnesota | 24 | 0.9193 | 0.9183 | 99924
24120 | Chisago County, Minnesota | 5120 | 1.1078 | 1.1078 | 33460
24130 | Clay County, Minnesota | 2520 | 0.8495 | 0.8495 | 22020
24140 | Clearwater County, Minnesota | 24 | 0.9193 | 0.9183 | 99924
24150 | Cook County, Minnesota | 24 | 0.9193 | 0.9183 | 99924
24160 | Cottonwood County, Minnesota | 24 | 0.9193 | 0.9183 | 99924
24170 | Crow Wing County, Minnesota | 24 | 0.9193 | 0.9183 | 99924
24180 | Dakota County, Minnesota | 5120 | 1.1078 | 1.1078 | 33460
24190 | Dodge County, Minnesota | 24 | 0.9193 | 1.1142 | 40340
24200 | Douglas County, Minnesota | 24 | 0.9193 | 0.9183 | 99924
24210 | Faribault County, Minnesota | 24 | 0.9193 | 0.9183 | 99924
24220 | Fillmore County, Minnesota | 24 | 0.9193 | 0.9183 | 99924
24230 | Freeborn County, Minnesota | 24 | 0.9193 | 0.9183 | 99924
24240 | Goodhue County, Minnesota | 24 | 0.9193 | 0.9183 | 99924
24250 | Grant County, Minnesota | 24 | 0.9193 | 0.9183 | 99924
24260 | Hennepin County, Minnesota | 5120 | 1.1078 | 1.1078 | 33460
24270 | Houston County, Minnesota | 3870 | 0.9573 | 0.9573 | 29100
24280 | Hubbard County, Minnesota | 24 | 0.9193 | 0.9183 | 99924
24290 | Isanti County, Minnesota | 5120 | 1.1078 | 1.1078 | 33460
24300 | Itasca County, Minnesota | 24 | 0.9193 | 0.9183 | 99924
24310 | Jackson County, Minnesota | 24 | 0.9193 | 0.9183 | 99924
24320 | Kanabec County, Minnesota | 24 | 0.9193 | 0.9183 | 99924
24330 | Kandiyohi County, Minnesota | 24 | 0.9193 | 0.9183 | 99924
24340 | Kittson County, Minnesota | 24 | 0.9193 | 0.9183 | 99924
24350 | Koochiching County, Minnesota | 24 | 0.9193 | 0.9183 | 99924
24360 | Lac Qui Parle County, Minnesota | 24 | 0.9193 | 0.9183 | 99924
24370 | Lake County, Minnesota | 24 | 0.9193 | 0.9183 | 99924
24380 | Lake Of Woods County, Minnesota | 24 | 0.9193 | 0.9183 | 99924
24390 | Le Sueur County, Minnesota | 24 | 0.9193 | 0.9183 | 99924
24400 | Lincoln County, Minnesota | 24 | 0.9193 | 0.9183 | 99924
24410 | Lyon County, Minnesota | 24 | 0.9193 | 0.9183 | 99924
24420 | Mc Leod County, Minnesota | 24 | 0.9193 | 0.9183 | 99924
24430 | Mahnomen County, Minnesota | 24 | 0.9193 | 0.9183 | 99924
24440 | Marshall County, Minnesota | 24 | 0.9193 | 0.9183 | 99924
24450 | Martin County, Minnesota | 24 | 0.9193 | 0.9183 | 99924
24460 | Meeker County, Minnesota | 24 | 0.9193 | 0.9183 | 99924
24470 | Mille Lacs County, Minnesota | 24 | 0.9193 | 0.9183 | 99924
24480 | Morrison County, Minnesota | 24 | 0.9193 | 0.9183 | 99924
24490 | Mower County, Minnesota | 24 | 0.9193 | 0.9183 | 99924
24500 | Murray County, Minnesota | 24 | 0.9193 | 0.9183 | 99924
24510 | Nicollet County, Minnesota | 24 | 0.9193 | 0.9183 | 99924
24520 | Nobles County, Minnesota | 24 | 0.9193 | 0.9183 | 99924
24530 | Norman County, Minnesota | 24 | 0.9193 | 0.9183 | 99924
24540 | Olmsted County, Minnesota | 6820 | 1.1142 | 1.1142 | 40340
24550 | Otter Tail County, Minnesota | 24 | 0.9193 | 0.9183 | 99924
24560 | Pennington County, Minnesota | 24 | 0.9193 | 0.9183 | 99924
24570 | Pine County, Minnesota | 24 | 0.9193 | 0.9183 | 99924
24580 | Pipestone County, Minnesota | 24 | 0.9193 | 0.9183 | 99924
24590 | Polk County, Minnesota | 2985 | 1.1516 | 1.1516 | 24220
24600 | Pope County, Minnesota | 24 | 0.9193 | 0.9183 | 99924
24610 | Ramsey County, Minnesota | 5120 | 1.1078 | 1.1078 | 33460
24620 | Red Lake County, Minnesota | 24 | 0.9193 | 0.9183 | 99924
24630 | Redwood County, Minnesota | 24 | 0.9193 | 0.9183 | 99924
24640 | Renville County, Minnesota | 24 | 0.9193 | 0.9183 | 99924
24650 | Rice County, Minnesota | 24 | 0.9193 | 0.9183 | 99924
24660 | Rock County, Minnesota | 24 | 0.9193 | 0.9183 | 99924
24670 | Roseau County, Minnesota | 24 | 0.9193 | 0.9183 | 99924
24680 | St Louis County, Minnesota | 2240 | 1.0223 | 1.0209 | 20260
24690 | Scott County, Minnesota | 5120 | 1.1078 | 1.1078 | 33460
24700 | Sherburne County, Minnesota | 5120 | 1.1078 | 1.1078 | 33460
24710 | Sibley County, Minnesota | 24 | 0.9193 | 0.9183 | 99924
24720 | Stearns County, Minnesota | 6980 | 0.9975 | 0.9975 | 41060
24730 | Steele County, Minnesota | 24 | 0.9193 | 0.9183 | 99924
24740 | Stevens County, Minnesota | 24 | 0.9193 | 0.9183 | 99924
24750 | Swift County, Minnesota | 24 | 0.9193 | 0.9183 | 99924
24760 | Todd County, Minnesota | 24 | 0.9193 | 0.9183 | 99924
24770 | Traverse County, Minnesota | 24 | 0.9193 | 0.9183 | 99924
24780 | Wabasha County, Minnesota | 24 | 0.9193 | 1.1142 | 40340
24790 | Wadena County, Minnesota | 24 | 0.9193 | 0.9183 | 99924
24800 | Waseca County, Minnesota | 24 | 0.9193 | 0.9183 | 99924
24810 | Washington County, Minnesota | 5120 | 1.1078 | 1.1078 | 33460
24820 | Watonwan County, Minnesota | 24 | 0.9193 | 0.9183 | 99924
24830 | Wilkin County, Minnesota | 24 | 0.9193 | 0.9183 | 99924
24840 | Winona County, Minnesota | 24 | 0.9193 | 0.9183 | 99924
24850 | Wright County, Minnesota | 5120 | 1.1078 | 1.1078 | 33460
24860 | Yellow Medicine County, Minnesota | 24 | 0.9193 | 0.9183 | 99924
25000 | Adams County, Mississippi | 25 | 0.7631 | 0.7671 | 99925
25010 | Alcorn County, Mississippi | 25 | 0.7631 | 0.7671 | 99925
25020 | Amite County, Mississippi | 25 | 0.7631 | 0.7671 | 99925
25030 | Attala County, Mississippi | 25 | 0.7631 | 0.7671 | 99925
25040 | Benton County, Mississippi | 25 | 0.7631 | 0.7671 | 99925
25050 | Bolivar County, Mississippi | 25 | 0.7631 | 0.7671 | 99925
25060 | Calhoun County, Mississippi | 25 | 0.7631 | 0.7671 | 99925
25070 | Carroll County, Mississippi | 25 | 0.7631 | 0.7671 | 99925
25080 | Chickasaw County, Mississippi | 25 | 0.7631 | 0.7671 | 99925
25090 | Choctaw County, Mississippi | 25 | 0.7631 | 0.7671 | 99925
25100 | Claiborne County, Mississippi | 25 | 0.7631 | 0.7671 | 99925
25110 | Clarke County, Mississippi | 25 | 0.7631 | 0.7671 | 99925
25120 | Clay County, Mississippi | 25 | 0.7631 | 0.7671 | 99925
25130 | Coahoma County, Mississippi | 25 | 0.7631 | 0.7671 | 99925
25140 | Copiah County, Mississippi | 25 | 0.7631 | 0.8319 | 27140
25150 | Covington County, Mississippi | 25 | 0.7631 | 0.7671 | 99925
25160 | Desoto County, Mississippi | 4920 | 0.9360 | 0.9341 | 32820
25170 | Forrest County, Mississippi | 3285 | 0.7609 | 0.7609 | 25620
25180 | Franklin County, Mississippi | 25 | 0.7631 | 0.7671 | 99925
25190 | George County, Mississippi | 25 | 0.7631 | 0.8165 | 37700
25200 | Greene County, Mississippi | 25 | 0.7631 | 0.7671 | 99925
25210 | Grenada County, Mississippi | 25 | 0.7631 | 0.7671 | 99925
25220 | Hancock County, Mississippi | 0920 | 0.8715 | 0.8938 | 25060
25230 | Harrison County, Mississippi | 0920 | 0.8715 | 0.8938 | 25060
25240 | Hinds County, Mississippi | 3560 | 0.8391 | 0.8319 | 27140
25250 | Holmes County, Mississippi | 25 | 0.7631 | 0.7671 | 99925
25260 | Humphreys County, Mississippi | 25 | 0.7631 | 0.7671 | 99925
25270 | Issaquena County, Mississippi | 25 | 0.7631 | 0.7671 | 99925
25280 | Itawamba County, Mississippi | 25 | 0.7631 | 0.7671 | 99925
25290 | Jackson County, Mississippi | 0920 | 0.8715 | 0.8165 | 37700
25300 | Jasper County, Mississippi | 25 | 0.7631 | 0.7671 | 99925
25310 | Jefferson County, Mississippi | 25 | 0.7631 | 0.7671 | 99925
25320 | Jefferson Davis County, Mississippi | 25 | 0.7631 | 0.7671 | 99925
25330 | Jones County, Mississippi | 25 | 0.7631 | 0.7671 | 99925
25340 | Kemper County, Mississippi | 25 | 0.7631 | 0.7671 | 99925
25350 | Lafayette County, Mississippi | 25 | 0.7631 | 0.7671 | 99925
25360 | Lamar County, Mississippi | 3285 | 0.7609 | 0.7609 | 25620
25370 | Lauderdale County, Mississippi | 25 | 0.7631 | 0.7671 | 99925
25380 | Lawrence County, Mississippi | 25 | 0.7631 | 0.7671 | 99925
25390 | Leake County, Mississippi | 25 | 0.7631 | 0.7671 | 99925
25400 | Lee County, Mississippi | 25 | 0.7631 | 0.7671 | 99925
25410 | Leflore County, Mississippi | 25 | 0.7631 | 0.7671 | 99925
25420 | Lincoln County, Mississippi | 25 | 0.7631 | 0.7671 | 99925
25430 | Lowndes County, Mississippi | 25 | 0.7631 | 0.7671 | 99925
25440 | Madison County, Mississippi | 3560 | 0.8391 | 0.8319 | 27140
25450 | Marion County, Mississippi | 25 | 0.7631 | 0.7671 | 99925
25460 | Marshall County, Mississippi | 25 | 0.7631 | 0.9341 | 32820
25470 | Monroe County, Mississippi | 25 | 0.7631 | 0.7671 | 99925
25480 | Montgomery County, Mississippi | 25 | 0.7631 | 0.7671 | 99925
25490 | Neshoba County, Mississippi | 25 | 0.7631 | 0.7671 | 99925
25500 | Newton County, Mississippi | 25 | 0.7631 | 0.7671 | 99925
25510 | Noxubee County, Mississippi | 25 | 0.7631 | 0.7671 | 99925
25520 | Oktibbeha County, Mississippi | 25 | 0.7631 | 0.7671 | 99925
25530 | Panola County, Mississippi | 25 | 0.7631 | 0.7671 | 99925
25540 | Pearl River County, Mississippi | 25 | 0.7631 | 0.7671 | 99925
25550 | Perry County, Mississippi | 25 | 0.7631 | 0.7609 | 25620
25560 | Pike County, Mississippi | 25 | 0.7631 | 0.7671 | 99925
25570 | Pontotoc County, Mississippi | 25 | 0.7631 | 0.7671 | 99925
25580 | Prentiss County, Mississippi | 25 | 0.7631 | 0.7671 | 99925
25590 | Quitman County, Mississippi | 25 | 0.7631 | 0.7671 | 99925
25600 | Rankin County, Mississippi | 3560 | 0.8391 | 0.8319 | 27140
25610 | Scott County, Mississippi | 25 | 0.7631 | 0.7671 | 99925
25620 | Sharkey County, Mississippi | 25 | 0.7631 | 0.7671 | 99925
25630 | Simpson County, Mississippi | 25 | 0.7631 | 0.8319 | 27140
25640 | Smith County, Mississippi | 25 | 0.7631 | 0.7671 | 99925
25650 | Stone County, Mississippi | 25 | 0.7631 | 0.8938 | 25060
25660 | Sunflower County, Mississippi | 25 | 0.7631 | 0.7671 | 99925
25670 | Tallahatchie County, Mississippi | 25 | 0.7631 | 0.7671 | 99925
25680 | Tate County, Mississippi | 25 | 0.7631 | 0.9341 | 32820
25690 | Tippah County, Mississippi | 25 | 0.7631 | 0.7671 | 99925
25700 | Tishomingo County, Mississippi | 25 | 0.7631 | 0.7671 | 99925
25710 | Tunica County, Mississippi | 25 | 0.7631 | 0.9341 | 32820
25720 | Union County, Mississippi | 25 | 0.7631 | 0.7671 | 99925
25730 | Walthall County, Mississippi | 25 | 0.7631 | 0.7671 | 99925
25740 | Warren County, Mississippi | 25 | 0.7631 | 0.7671 | 99925
25750 | Washington County, Mississippi | 25 | 0.7631 | 0.7671 | 99925
25760 | Wayne County, Mississippi | 25 | 0.7631 | 0.7671 | 99925
25770 | Webster County, Mississippi | 25 | 0.7631 | 0.7671 | 99925
25780 | Wilkinson County, Mississippi | 25 | 0.7631 | 0.7671 | 99925
25790 | Winston County, Mississippi | 25 | 0.7631 | 0.7671 | 99925
25800 | Yalobusha County, Mississippi | 25 | 0.7631 | 0.7671 | 99925
25810 | Yazoo County, Mississippi | 25 | 0.7631 | 0.7671 | 99925
26000 | Adair County, Missouri | 26 | 0.7968 | 0.7909 | 99926
26010 | Andrew County, Missouri | 7000 | 0.9529 | 0.9529 | 41140
26020 | Atchison County, Missouri | 26 | 0.7968 | 0.7909 | 99926
26030 | Audrain County, Missouri | 26 | 0.7968 | 0.7909 | 99926
26040 | Barry County, Missouri | 26 | 0.7968 | 0.7909 | 99926
26050 | Barton County, Missouri | 26 | 0.7968 | 0.7909 | 99926
26060 | Bates County, Missouri | 26 | 0.7968 | 0.9467 | 28140
26070 | Benton County, Missouri | 26 | 0.7968 | 0.7909 | 99926
26080 | Bollinger County, Missouri | 26 | 0.7968 | 0.7909 | 99926
26090 | Boone County, Missouri | 1740 | 0.8354 | 0.8354 | 17860
26100 | Buchanan County, Missouri | 7000 | 0.9529 | 0.9529 | 41140
26110 | Butler County, Missouri | 26 | 0.7968 | 0.7909 | 99926
26120 | Caldwell County, Missouri | 26 | 0.7968 | 0.9467 | 28140
26130 | Callaway County, Missouri | 26 | 0.7968 | 0.8396 | 27620
26140 | Camden County, Missouri | 26 | 0.7968 | 0.7909 | 99926
26150 | Cape Girardeau County, Missouri | 26 | 0.7968 | 0.7909 | 99926
26160 | Carroll County, Missouri | 26 | 0.7968 | 0.7909 | 99926
26170 | Carter County, Missouri | 26 | 0.7968 | 0.7909 | 99926
26180 | Cass County, Missouri | 3760 | 0.9481 | 0.9467 | 28140
26190 | Cedar County, Missouri | 26 | 0.7968 | 0.7909 | 99926
26200 | Chariton County, Missouri | 26 | 0.7968 | 0.7909 | 99926
26210 | Christian County, Missouri | 7920 | 0.8259 | 0.8246 | 44180
26220 | Clark County, Missouri | 26 | 0.7968 | 0.7909 | 99926
26230 | Clay County, Missouri | 3760 | 0.9481 | 0.9467 | 28140
26240 | Clinton County, Missouri | 3760 | 0.9481 | 0.9467 | 28140
26250 | Cole County, Missouri | 26 | 0.7968 | 0.8396 | 27620
26260 | Cooper County, Missouri | 26 | 0.7968 | 0.7909 | 99926
26270 | Crawford County, Missouri | 26 | 0.7968 | 0.8949 | 41180
26280 | Dade County, Missouri | 26 | 0.7968 | 0.7909 | 99926
26290 | Dallas County, Missouri | 26 | 0.7968 | 0.8246 | 44180
26300 | Daviess County, Missouri | 26 | 0.7968 | 0.7909 | 99926
26310 | De Kalb County, Missouri | 26 | 0.7968 | 0.9529 | 41140
26320 | Dent County, Missouri | 26 | 0.7968 | 0.7909 | 99926
26330 | Douglas County, Missouri | 26 | 0.7968 | 0.7909 | 99926
26340 | Dunklin County, Missouri | 26 | 0.7968 | 0.7909 | 99926
26350 | Franklin County, Missouri | 7040 | 0.8957 | 0.8949 | 41180
26360 | Gasconade County, Missouri | 26 | 0.7968 | 0.7909 | 99926
26370 | Gentry County, Missouri | 26 | 0.7968 | 0.7909 | 99926
26380 | Greene County, Missouri | 7920 | 0.8259 | 0.8246 | 44180
26390 | Grundy County, Missouri | 26 | 0.7968 | 0.7909 | 99926
26400 | Harrison County, Missouri | 26 | 0.7968 | 0.7909 | 99926
26410 | Henry County, Missouri | 26 | 0.7968 | 0.7909 | 99926
26411 | Hickory County, Missouri | 26 | 0.7968 | 0.7909 | 99926
26412 | Holt County, Missouri | 26 | 0.7968 | 0.7909 | 99926
26440 | Howard County, Missouri | 26 | 0.7968 | 0.8354 | 17860
26450 | Howell County, Missouri | 26 | 0.7968 | 0.7909 | 99926
26460 | Iron County, Missouri | 26 | 0.7968 | 0.7909 | 99926
26470 | Jackson County, Missouri | 3760 | 0.9481 | 0.9467 | 28140
26480 | Jasper County, Missouri | 3710 | 0.8590 | 0.8590 | 27900
26490 | Jefferson County, Missouri | 7040 | 0.8957 | 0.8949 | 41180
26500 | Johnson County, Missouri | 26 | 0.7968 | 0.7909 | 99926
26510 | Knox County, Missouri | 26 | 0.7968 | 0.7909 | 99926
26520 | Laclede County, Missouri | 26 | 0.7968 | 0.7909 | 99926
26530 | Lafayette County, Missouri | 3760 | 0.9481 | 0.9467 | 28140
26540 | Lawrence County, Missouri | 26 | 0.7968 | 0.7909 | 99926
26541 | Lewis County, Missouri | 26 | 0.7968 | 0.7909 | 99926
26560 | Lincoln County, Missouri | 7040 | 0.8957 | 0.8949 | 41180
26570 | Linn County, Missouri | 26 | 0.7968 | 0.7909 | 99926
26580 | Livingston County, Missouri | 26 | 0.7968 | 0.7909 | 99926
26590 | Mc Donald County, Missouri | 26 | 0.7968 | 0.8563 | 22220
26600 | Macon County, Missouri | 26 | 0.7968 | 0.7909 | 99926
26601 | Madison County, Missouri | 26 | 0.7968 | 0.7909 | 99926
26620 | Maries County, Missouri | 26 | 0.7968 | 0.7909 | 99926
26630 | Marion County, Missouri | 26 | 0.7968 | 0.7909 | 99926
26631 | Mercer County, Missouri | 26 | 0.7968 | 0.7909 | 99926
26650 | Miller County, Missouri | 26 | 0.7968 | 0.7909 | 99926
26660 | Mississippi County, Missouri | 26 | 0.7968 | 0.7909 | 99926
26670 | Moniteau County, Missouri | 26 | 0.7968 | 0.8396 | 27620
26680 | Monroe County, Missouri | 26 | 0.7968 | 0.7909 | 99926
26690 | Montgomery County, Missouri | 26 | 0.7968 | 0.7909 | 99926
26700 | Morgan County, Missouri | 26 | 0.7968 | 0.7909 | 99926
26710 | New Madrid County, Missouri | 26 | 0.7968 | 0.7909 | 99926
26720 | Newton County, Missouri | 3710 | 0.8590 | 0.8590 | 27900
26730 | Nodaway County, Missouri | 26 | 0.7968 | 0.7909 | 99926
26740 | Oregon County, Missouri | 26 | 0.7968 | 0.7909 | 99926
26750 | Osage County, Missouri | 26 | 0.7968 | 0.8396 | 27620
26751 | Ozark County, Missouri | 26 | 0.7968 | 0.7909 | 99926
26770 | Pemiscot County, Missouri | 26 | 0.7968 | 0.7909 | 99926
26780 | Perry County, Missouri | 26 | 0.7968 | 0.7909 | 99926
26790 | Pettis County, Missouri | 26 | 0.7968 | 0.7909 | 99926
26800 | Phelps County, Missouri | 26 | 0.7968 | 0.7909 | 99926
26810 | Pike County, Missouri | 26 | 0.7968 | 0.7909 | 99926
26820 | Platte County, Missouri | 3760 | 0.9481 | 0.9467 | 28140
26821 | Polk County, Missouri | 26 | 0.7968 | 0.8246 | 44180
26840 | Pulaski County, Missouri | 26 | 0.7968 | 0.7909 | 99926
26850 | Putnam County, Missouri | 26 | 0.7968 | 0.7909 | 99926
26860 | Ralls County, Missouri | 26 | 0.7968 | 0.7909 | 99926
26870 | Randolph County, Missouri | 26 | 0.7968 | 0.7909 | 99926
26880 | Ray County, Missouri | 3760 | 0.9481 | 0.9467 | 28140
26881 | Reynolds County, Missouri | 26 | 0.7968 | 0.7909 | 99926
26900 | Ripley County, Missouri | 26 | 0.7968 | 0.7909 | 99926
26910 | St Charles County, Missouri | 7040 | 0.8957 | 0.8949 | 41180
26911 | St Clair County, Missouri | 26 | 0.7968 | 0.7909 | 99926
26930 | St Francois County, Missouri | 26 | 0.7968 | 0.7909 | 99926
26940 | St Louis County, Missouri | 7040 | 0.8957 | 0.8949 | 41180
26950 | St Louis City County, Missouri | 7040 | 0.8957 | 0.8949 | 41180
26960 | Ste Genevieve County, Missouri | 26 | 0.7968 | 0.7909 | 99926
26970 | Saline County, Missouri | 26 | 0.7968 | 0.7909 | 99926
26980 | Schuyler County, Missouri | 26 | 0.7968 | 0.7909 | 99926
26981 | Scotland County, Missouri | 26 | 0.7968 | 0.7909 | 99926
26982 | Scott County, Missouri | 26 | 0.7968 | 0.7909 | 99926
26983 | Shannon County, Missouri | 26 | 0.7968 | 0.7909 | 99926
26984 | Shelby County, Missouri | 26 | 0.7968 | 0.7909 | 99926
26985 | Stoddard County, Missouri | 26 | 0.7968 | 0.7909 | 99926
26986 | Stone County, Missouri | 26 | 0.7968 | 0.7909 | 99926
26987 | Sullivan County, Missouri | 26 | 0.7968 | 0.7909 | 99926
26988 | Taney County, Missouri | 26 | 0.7968 | 0.7909 | 99926
26989 | Texas County, Missouri | 26 | 0.7968 | 0.7909 | 99926
26990 | Vernon County, Missouri | 26 | 0.7968 | 0.7909 | 99926
26991 | Warren County, Missouri | 7040 | 0.8957 | 0.8949 | 41180
26992 | Washington County, Missouri | 26 | 0.7968 | 0.8949 | 41180
26993 | Wayne County, Missouri | 26 | 0.7968 | 0.7909 | 99926
26994 | Webster County, Missouri | 7920 | 0.8259 | 0.8246 | 44180
26995 | Worth County, Missouri | 26 | 0.7968 | 0.7909 | 99926
26996 | Wright County, Missouri | 26 | 0.7968 | 0.7909 | 99926
27000 | Beaverhead County, Montana | 27 | 0.8833 | 0.8833 | 99927
27010 | Big Horn County, Montana | 27 | 0.8833 | 0.8833 | 99927
27020 | Blaine County, Montana | 27 | 0.8833 | 0.8833 | 99927
27030 | Broadwater County, Montana | 27 | 0.8833 | 0.8833 | 99927
27040 | Carbon County, Montana | 27 | 0.8833 | 0.8843 | 13740
27050 | Carter County, Montana | 27 | 0.8833 | 0.8833 | 99927
27060 | Cascade County, Montana | 3040 | 0.9061 | 0.9061 | 24500
27070 | Chouteau County, Montana | 27 | 0.8833 | 0.8833 | 99927
27080 | Custer County, Montana | 27 | 0.8833 | 0.8833 | 99927
27090 | Daniels County, Montana | 27 | 0.8833 | 0.8833 | 99927
27100 | Dawson County, Montana | 27 | 0.8833 | 0.8833 | 99927
27110 | Deer Lodge County, Montana | 27 | 0.8833 | 0.8833 | 99927
27113 | Yellowstone National Park, Montana | 27 | 0.8833 | 0.8833 | 99927
27120 | Fallon County, Montana | 27 | 0.8833 | 0.8833 | 99927
27130 | Fergus County, Montana | 27 | 0.8833 | 0.8833 | 99927
27140 | Flathead County, Montana | 27 | 0.8833 | 0.8833 | 99927
27150 | Gallatin County, Montana | 27 | 0.8833 | 0.8833 | 99927
27160 | Garfield County, Montana | 27 | 0.8833 | 0.8833 | 99927
27170 | Glacier County, Montana | 27 | 0.8833 | 0.8833 | 99927
27180 | Golden Valley County, Montana | 27 | 0.8833 | 0.8833 | 99927
27190 | Granite County, Montana | 27 | 0.8833 | 0.8833 | 99927
27200 | Hill County, Montana | 27 | 0.8833 | 0.8833 | 99927
27210 | Jefferson County, Montana | 27 | 0.8833 | 0.8833 | 99927
27220 | Judith Basin County, Montana | 27 | 0.8833 | 0.8833 | 99927
27230 | Lake County, Montana | 27 | 0.8833 | 0.8833 | 99927
27240 | Lewis And Clark County, Montana | 27 | 0.8833 | 0.8833 | 99927
27250 | Liberty County, Montana | 27 | 0.8833 | 0.8833 | 99927
27260 | Lincoln County, Montana | 27 | 0.8833 | 0.8833 | 99927
27270 | Mc Cone County, Montana | 27 | 0.8833 | 0.8833 | 99927
27280 | Madison County, Montana | 27 | 0.8833 | 0.8833 | 99927
27290 | Meagher County, Montana | 27 | 0.8833 | 0.8833 | 99927
27300 | Mineral County, Montana | 27 | 0.8833 | 0.8833 | 99927
27310 | Missoula County, Montana | 5140 | 0.9482 | 0.9482 | 33540
27320 | Musselshell County, Montana | 27 | 0.8833 | 0.8833 | 99927
27330 | Park County, Montana | 27 | 0.8833 | 0.8833 | 99927
27340 | Petroleum County, Montana | 27 | 0.8833 | 0.8833 | 99927
27350 | Phillips County, Montana | 27 | 0.8833 | 0.8833 | 99927
27360 | Pondera County, Montana | 27 | 0.8833 | 0.8833 | 99927
27370 | Powder River County, Montana | 27 | 0.8833 | 0.8833 | 99927
27380 | Powell County, Montana | 27 | 0.8833 | 0.8833 | 99927
27390 | Prairie County, Montana | 27 | 0.8833 | 0.8833 | 99927
27400 | Ravalli County, Montana | 27 | 0.8833 | 0.8833 | 99927
27410 | Richland County, Montana | 27 | 0.8833 | 0.8833 | 99927
27420 | Roosevelt County, Montana | 27 | 0.8833 | 0.8833 | 99927
27430 | Rosebud County, Montana | 27 | 0.8833 | 0.8833 | 99927
27440 | Sanders County, Montana | 27 | 0.8833 | 0.8833 | 99927
27450 | Sheridan County, Montana | 27 | 0.8833 | 0.8833 | 99927
27460 | Silver Bow County, Montana | 27 | 0.8833 | 0.8833 | 99927
27470 | Stillwater County, Montana | 27 | 0.8833 | 0.8833 | 99927
27480 | Sweet Grass County, Montana | 27 | 0.8833 | 0.8833 | 99927
27490 | Teton County, Montana | 27 | 0.8833 | 0.8833 | 99927
27500 | Toole County, Montana | 27 | 0.8833 | 0.8833 | 99927
27510 | Treasure County, Montana | 27 | 0.8833 | 0.8833 | 99927
27520 | Valley County, Montana | 27 | 0.8833 | 0.8833 | 99927
27530 | Wheatland County, Montana | 27 | 0.8833 | 0.8833 | 99927
27540 | Wibaux County, Montana | 27 | 0.8833 | 0.8833 | 99927
27550 | Yellowstone County, Montana | 0880 | 0.8843 | 0.8843 | 13740
28000 | Adams County, Nebraska | 28 | 0.8665 | 0.8665 | 99928
28010 | Antelope County, Nebraska | 28 | 0.8665 | 0.8665 | 99928
28020 | Arthur County, Nebraska | 28 | 0.8665 | 0.8665 | 99928
28030 | Banner County, Nebraska | 28 | 0.8665 | 0.8665 | 99928
28040 | Blaine County, Nebraska | 28 | 0.8665 | 0.8665 | 99928
28050 | Boone County, Nebraska | 28 | 0.8665 | 0.8665 | 99928
28060 | Box Butte County, Nebraska | 28 | 0.8665 | 0.8665 | 99928
28070 | Boyd County, Nebraska | 28 | 0.8665 | 0.8665 | 99928
28080 | Brown County, Nebraska | 28 | 0.8665 | 0.8665 | 99928
28090 | Buffalo County, Nebraska | 28 | 0.8665 | 0.8665 | 99928
28100 | Burt County, Nebraska | 28 | 0.8665 | 0.8665 | 99928
28110 | Butler County, Nebraska | 28 | 0.8665 | 0.8665 | 99928
28120 | Cass County, Nebraska | 5920 | 0.9569 | 0.9569 | 36540
28130 | Cedar County, Nebraska | 28 | 0.8665 | 0.8665 | 99928
28140 | Chase County, Nebraska | 28 | 0.8665 | 0.8665 | 99928
28150 | Cherry County, Nebraska | 28 | 0.8665 | 0.8665 | 99928
28160 | Cheyenne County, Nebraska | 28 | 0.8665 | 0.8665 | 99928
28170 | Clay County, Nebraska | 28 | 0.8665 | 0.8665 | 99928
28180 | Colfax County, Nebraska | 28 | 0.8665 | 0.8665 | 99928
28190 | Cuming County, Nebraska | 28 | 0.8665 | 0.8665 | 99928
28200 | Custer County, Nebraska | 28 | 0.8665 | 0.8665 | 99928
28210 | Dakota County, Nebraska | 7720 | 0.9411 | 0.9376 | 43580
28220 | Dawes County, Nebraska | 28 | 0.8665 | 0.8665 | 99928
28230 | Dawson County, Nebraska | 28 | 0.8665 | 0.8665 | 99928
28240 | Deuel County, Nebraska | 28 | 0.8665 | 0.8665 | 99928
28250 | Dixon County, Nebraska | 28 | 0.8665 | 0.9376 | 43580
28260 | Dodge County, Nebraska | 28 | 0.8665 | 0.8665 | 99928
28270 | Douglas County, Nebraska | 5920 | 0.9569 | 0.9569 | 36540
28280 | Dundy County, Nebraska | 28 | 0.8665 | 0.8665 | 99928
28290 | Fillmore County, Nebraska | 28 | 0.8665 | 0.8665 | 99928
28300 | Franklin County, Nebraska | 28 | 0.8665 | 0.8665 | 99928
28310 | Frontier County, Nebraska | 28 | 0.8665 | 0.8665 | 99928
28320 | Furnas County, Nebraska | 28 | 0.8665 | 0.8665 | 99928
28330 | Gage County, Nebraska | 28 | 0.8665 | 0.8665 | 99928
28340 | Garden County, Nebraska | 28 | 0.8665 | 0.8665 | 99928
28350 | Garfield County, Nebraska | 28 | 0.8665 | 0.8665 | 99928
28360 | Gosper County, Nebraska | 28 | 0.8665 | 0.8665 | 99928
28370 | Grant County, Nebraska | 28 | 0.8665 | 0.8665 | 99928
28380 | Greeley County, Nebraska | 28 | 0.8665 | 0.8665 | 99928
28390 | Hall County, Nebraska | 28 | 0.8665 | 0.8665 | 99928
28400 | Hamilton County, Nebraska | 28 | 0.8665 | 0.8665 | 99928
28410 | Harlan County, Nebraska | 28 | 0.8665 | 0.8665 | 99928
28420 | Hayes County, Nebraska | 28 | 0.8665 | 0.8665 | 99928
28430 | Hitchcock County, Nebraska | 28 | 0.8665 | 0.8665 | 99928
28440 | Holt County, Nebraska | 28 | 0.8665 | 0.8665 | 99928
28450 | Hooker County, Nebraska | 28 | 0.8665 | 0.8665 | 99928
28460 | Howard County, Nebraska | 28 | 0.8665 | 0.8665 | 99928
28470 | Jefferson County, Nebraska | 28 | 0.8665 | 0.8665 | 99928
28480 | Johnson County, Nebraska | 28 | 0.8665 | 0.8665 | 99928
28490 | Kearney County, Nebraska | 28 | 0.8665 | 0.8665 | 99928
28500 | Keith County, Nebraska | 28 | 0.8665 | 0.8665 | 99928
28510 | Keya Paha County, Nebraska | 28 | 0.8665 | 0.8665 | 99928
28520 | Kimball County, Nebraska | 28 | 0.8665 | 0.8665 | 99928
28530 | Knox County, Nebraska | 28 | 0.8665 | 0.8665 | 99928
28540 | Lancaster County, Nebraska | 4360 | 1.0225 | 1.0225 | 30700
28550 | Lincoln County, Nebraska | 28 | 0.8665 | 0.8665 | 99928
28560 | Logan County, Nebraska | 28 | 0.8665 | 0.8665 | 99928
28570 | Loup County, Nebraska | 28 | 0.8665 | 0.8665 | 99928
28580 | Mc Pherson County, Nebraska | 28 | 0.8665 | 0.8665 | 99928
28590 | Madison County, Nebraska | 28 | 0.8665 | 0.8665 | 99928
28600 | Merrick County, Nebraska | 28 | 0.8665 | 0.8665 | 99928
28610 | Morrill County, Nebraska | 28 | 0.8665 | 0.8665 | 99928
28620 | Nance County, Nebraska | 28 | 0.8665 | 0.8665 | 99928
28630 | Nemaha County, Nebraska | 28 | 0.8665 | 0.8665 | 99928
28640 | Nuckolls County, Nebraska | 28 | 0.8665 | 0.8665 | 99928
28650 | Otoe County, Nebraska | 28 | 0.8665 | 0.8665 | 99928
28660 | Pawnee County, Nebraska | 28 | 0.8665 | 0.8665 | 99928
28670 | Perkins County, Nebraska | 28 | 0.8665 | 0.8665 | 99928
28680 | Phelps County, Nebraska | 28 | 0.8665 | 0.8665 | 99928
28690 | Pierce County, Nebraska | 28 | 0.8665 | 0.8665 | 99928
28700 | Platte County, Nebraska | 28 | 0.8665 | 0.8665 | 99928
28710 | Polk County, Nebraska | 28 | 0.8665 | 0.8665 | 99928
28720 | Redwillow County, Nebraska | 28 | 0.8665 | 0.8665 | 99928
28730 | Richardson County, Nebraska | 28 | 0.8665 | 0.8665 | 99928
28740 | Rock County, Nebraska | 28 | 0.8665 | 0.8665 | 99928
28750 | Saline County, Nebraska | 28 | 0.8665 | 0.8665 | 99928
28760 | Sarpy County, Nebraska | 5920 | 0.9569 | 0.9569 | 36540
28770 | Saunders County, Nebraska | 28 | 0.8665 | 0.9569 | 36540
28780 | Scotts Bluff County, Nebraska | 28 | 0.8665 | 0.8665 | 99928
28790 | Seward County, Nebraska | 28 | 0.8665 | 1.0225 | 30700
28800 | Sheridan County, Nebraska | 28 | 0.8665 | 0.8665 | 99928
28810 | Sherman County, Nebraska | 28 | 0.8665 | 0.8665 | 99928
28820 | Sioux County, Nebraska | 28 | 0.8665 | 0.8665 | 99928
28830 | Stanton County, Nebraska | 28 | 0.8665 | 0.8665 | 99928
28840 | Thayer County, Nebraska | 28 | 0.8665 | 0.8665 | 99928
28850 | Thomas County, Nebraska | 28 | 0.8665 | 0.8665 | 99928
28860 | Thurston County, Nebraska | 28 | 0.8665 | 0.8665 | 99928
28870 | Valley County, Nebraska | 28 | 0.8665 | 0.8665 | 99928
28880 | Washington County, Nebraska | 5920 | 0.9569 | 0.9569 | 36540
28890 | Wayne County, Nebraska | 28 | 0.8665 | 0.8665 | 99928
28900 | Webster County, Nebraska | 28 | 0.8665 | 0.8665 | 99928
28910 | Wheeler County, Nebraska | 28 | 0.8665 | 0.8665 | 99928
28920 | York County, Nebraska | 28 | 0.8665 | 0.8665 | 99928
29000 | Churchill County, Nevada | 29 | 0.9697 | 0.9074 | 99929
29010 | Clark County, Nevada | 4120 | 1.1166 | 1.1449 | 29820
29020 | Douglas County, Nevada | 29 | 0.9697 | 0.9074 | 99929
29030 | Elko County, Nevada | 29 | 0.9697 | 0.9074 | 99929
29040 | Esmeralda County, Nevada | 29 | 0.9697 | 0.9074 | 99929
29050 | Eureka County, Nevada | 29 | 0.9697 | 0.9074 | 99929
29060 | Humboldt County, Nevada | 29 | 0.9697 | 0.9074 | 99929
29070 | Lander County, Nevada | 29 | 0.9697 | 0.9074 | 99929
29080 | Lincoln County, Nevada | 29 | 0.9697 | 0.9074 | 99929
29090 | Lyon County, Nevada | 29 | 0.9697 | 0.9074 | 99929
29100 | Mineral County, Nevada | 29 | 0.9697 | 0.9074 | 99929
29110 | Nye County, Nevada | 4120 | 1.1166 | 0.9074 | 99929
29120 | Carson City County, Nevada | 29 | 0.9697 | 1.0244 | 16180
29130 | Pershing County, Nevada | 29 | 0.9697 | 0.9074 | 99929
29140 | Storey County, Nevada | 29 | 0.9697 | 1.0993 | 39900
29150 | Washoe County, Nevada | 6720 | 1.0993 | 1.0993 | 39900
29160 | White Pine County, Nevada | 29 | 0.9697 | 0.9074 | 99929
30000 | Belknap County, New Hampshire | 30 | 1.0677 | 1.0677 | 99930
30010 | Carroll County, New Hampshire | 30 | 1.0677 | 1.0677 | 99930
30020 | Cheshire County, New Hampshire | 30 | 1.0677 | 1.0677 | 99930
30030 | Coos County, New Hampshire | 30 | 1.0677 | 1.0677 | 99930
30040 | Grafton County, New Hampshire | 30 | 1.0677 | 1.0677 | 99930
30050 | Hillsboro County, New Hampshire | 1123 | 1.1152 | 1.0335 | 31700
30060 | Merrimack County, New Hampshire | 1123 | 1.1152 | 1.0335 | 31700
30070 | Rockingham County, New Hampshire | 1123 | 1.1152 | 1.0385 | 40484
30080 | Strafford County, New Hampshire | 1123 | 1.1152 | 1.0385 | 40484
30090 | Sullivan County, New Hampshire | 30 | 1.0677 | 1.0677 | 99930
31000 | Atlantic County, New Jersey | 0560 | 1.1513 | 1.1633 | 12100
31100 | Bergen County, New Jersey | 0875 | 1.1660 | 1.3185 | 35644
31150 | Burlington County, New Jersey | 6160 | 1.0926 | 1.0528 | 15804
31160 | Camden County, New Jersey | 6160 | 1.0926 | 1.0528 | 15804
31180 | Cape May County, New Jersey | 0560 | 1.1513 | 1.1022 | 36140
31190 | Cumberland County, New Jersey | 8760 | 0.9837 | 0.9837 | 47220
31200 | Essex County, New Jersey | 5640 | 1.2141 | 1.2195 | 35084
31220 | Gloucester County, New Jersey | 6160 | 1.0926 | 1.0528 | 15804
31230 | Hudson County, New Jersey | 3640 | 1.1349 | 1.3185 | 35644
31250 | Hunterdon County, New Jersey | 5015 | 1.1178 | 1.2195 | 35084
31260 | Mercer County, New Jersey | 8480 | 1.0845 | 1.0845 | 45940
31270 | Middlesex County, New Jersey | 5015 | 1.1178 | 1.1260 | 20764
31290 | Monmouth County, New Jersey | 5190 | 1.1271 | 1.1260 | 20764
31300 | Morris County, New Jersey | 5640 | 1.2141 | 1.2195 | 35084
31310 | Ocean County, New Jersey | 5190 | 1.1271 | 1.1260 | 20764
31320 | Passaic County, New Jersey | 0875 | 1.1660 | 1.3185 | 35644
31340 | Salem County, New Jersey | 6160 | 1.0926 | 1.0482 | 48864
31350 | Somerset County, New Jersey | 5015 | 1.1178 | 1.1260 | 20764
31360 | Sussex County, New Jersey | 5640 | 1.2141 | 1.2195 | 35084
31370 | Union County, New Jersey | 5640 | 1.2141 | 1.2195 | 35084
31390 | Warren County, New Jersey | 5640 | 1.2141 | 0.9828 | 10900
32000 | Bernalillo County, New Mexico | 0200 | 0.9693 | 0.9693 | 10740
32010 | Catron County, New Mexico | 32 | 0.8571 | 0.8644 | 99932
32020 | Chaves County, New Mexico | 32 | 0.8571 | 0.8644 | 99932
32025 | Cibola County, New Mexico | 32 | 0.8571 | 0.8644 | 99932
32030 | Colfax County, New Mexico | 32 | 0.8571 | 0.8644 | 99932
32040 | Curry County, New Mexico | 32 | 0.8571 | 0.8644 | 99932
32050 | De Baca County, New Mexico | 32 | 0.8571 | 0.8644 | 99932
32060 | Dona Ana County, New Mexico | 4100 | 0.8475 | 0.8475 | 29740
32070 | Eddy County, New Mexico | 32 | 0.8571 | 0.8644 | 99932
32080 | Grant County, New Mexico | 32 | 0.8571 | 0.8644 | 99932
32090 | Guadalupe County, New Mexico | 32 | 0.8571 | 0.8644 | 99932
32100 | Harding County, New Mexico | 32 | 0.8571 | 0.8644 | 99932
32110 | Hidalgo County, New Mexico | 32 | 0.8571 | 0.8644 | 99932
32120 | Lea County, New Mexico | 32 | 0.8571 | 0.8644 | 99932
32130 | Lincoln County, New Mexico | 32 | 0.8571 | 0.8644 | 99932
32131 | Los Alamos County, New Mexico | 7490 | 1.0759 | 0.8644 | 99932
32140 | Luna County, New Mexico | 32 | 0.8571 | 0.8644 | 99932
32150 | Mc Kinley County, New Mexico | 32 | 0.8571 | 0.8644 | 99932
32160 | Mora County, New Mexico | 32 | 0.8571 | 0.8644 | 99932
32170 | Otero County, New Mexico | 32 | 0.8571 | 0.8644 | 99932
32180 | Quay County, New Mexico | 32 | 0.8571 | 0.8644 | 99932
32190 | Rio Arriba County, New Mexico | 32 | 0.8571 | 0.8644 | 99932
32200 | Roosevelt County, New Mexico | 32 | 0.8571 | 0.8644 | 99932
32210 | Sandoval County, New Mexico | 0200 | 0.9693 | 0.9693 | 10740
32220 | San Juan County, New Mexico | 32 | 0.8571 | 0.8518 | 22140
32230 | San Miguel County, New Mexico | 32 | 0.8571 | 0.8644 | 99932
32240 | Santa Fe County, New Mexico | 7490 | 1.0759 | 1.0931 | 42140
32250 | Sierra County, New Mexico | 32 | 0.8571 | 0.8644 | 99932
32260 | Socorro County, New Mexico | 32 | 0.8571 | 0.8644 | 99932
32270 | Taos County, New Mexico | 32 | 0.8571 | 0.8644 | 99932
32280 | Torrance County, New Mexico | 32 | 0.8571 | 0.9693 | 10740
32290 | Union County, New Mexico | 32 | 0.8571 | 0.8644 | 99932
32300 | Valencia County, New Mexico | 0200 | 0.9693 | 0.9693 | 10740
33000 | Albany County, New York | 0160 | 0.8518 | 0.8545 | 10580
33010 | Allegany County, New York | 33 | 0.8395 | 0.8157 | 99933
33020 | Bronx County, New York | 5600 | 1.3465 | 1.3185 | 35644
33030 | Broome County, New York | 0960 | 0.8571 | 0.8571 | 13780
33040 | Cattaraugus County, New York | 33 | 0.8395 | 0.8157 | 99933
33050 | Cayuga County, New York | 8160 | 0.9499 | 0.8157 | 99933
33060 | Chautauqua County, New York | 3610 | 0.7552 | 0.8157 | 99933
33070 | Chemung County, New York | 2335 | 0.8259 | 0.8259 | 21300
33080 | Chenango County, New York | 33 | 0.8395 | 0.8157 | 99933
33090 | Clinton County, New York | 33 | 0.8395 | 0.8157 | 99933
33200 | Columbia County, New York | 33 | 0.8395 | 0.8157 | 99933
33210 | Cortland County, New York | 33 | 0.8395 | 0.8157 | 99933
33220 | Delaware County, New York | 33 | 0.8395 | 0.8157 | 99933
33230 | Dutchess County, New York | 2281 | 1.0183 | 1.0766 | 39100
33240 | Erie County, New York | 1280 | 0.8889 | 0.8889 | 15380
33260 | Essex County, New York | 33 | 0.8395 | 0.8157 | 99933
33270 | Franklin County, New York | 33 | 0.8395 | 0.8157 | 99933
33280 | Fulton County, New York | 33 | 0.8395 | 0.8157 | 99933
33290 | Genesee County, New York | 6840 | 0.9044 | 0.8157 | 99933
33300 | Greene County, New York | 33 | 0.8395 | 0.8157 | 99933
33310 | Hamilton County, New York | 33 | 0.8395 | 0.8157 | 99933
33320 | Herkimer County, New York | 8680 | 0.8293 | 0.8293 | 46540
33330 | Jefferson County, New York | 33 | 0.8395 | 0.8157 | 99933
33331 | Kings County, New York | 5600 | 1.3465 | 1.3185 | 35644
33340 | Lewis County, New York | 33 | 0.8395 | 0.8157 | 99933
33350 | Livingston County, New York | 6840 | 0.9044 | 0.9115 | 40380
33360 | Madison County, New York | 8160 | 0.9499 | 0.9581 | 45060
33370 | Monroe County, New York | 6840 | 0.9044 | 0.9115 | 40380
33380 | Montgomery County, New York | 0160 | 0.8518 | 0.8157 | 99933
33400 | Nassau County, New York | 5380 | 1.2760 | 1.2760 | 35004
33420 | New York County, New York | 5600 | 1.3465 | 1.3185 | 35644
33500 | Niagara County, New York | 1280 | 0.8889 | 0.8889 | 15380
33510 | Oneida County, New York | 8680 | 0.8293 | 0.8293 | 46540
33520 | Onondaga County, New York | 8160 | 0.9499 | 0.9581 | 45060
33530 | Ontario County, New York | 6840 | 0.9044 | 0.9115 | 40380
33540 | Orange County, New York | 5660 | 1.1218 | 1.0766 | 39100
33550 | Orleans County, New York | 6840 | 0.9044 | 0.9115 | 40380
33560 | Oswego County, New York | 8160 | 0.9499 | 0.9581 | 45060
33570 | Otsego County, New York | 33 | 0.8395 | 0.8157 | 99933
33580 | Putnam County, New York | 5600 | 1.3465 | 1.3185 | 35644
33590 | Queens County, New York | 5600 | 1.3465 | 1.3185 | 35644
33600 | Rensselaer County, New York | 0160 | 0.8518 | 0.8545 | 10580
33610 | Richmond County, New York | 5600 | 1.3465 | 1.3185 | 35644
33620 | Rockland County, New York | 5600 | 1.3465 | 1.3185 | 35644
33630 | St Lawrence County, New York | 33 | 0.8395 | 0.8157 | 99933
33640 | Saratoga County, New York | 0160 | 0.8518 | 0.8545 | 10580
33650 | Schenectady County, New York | 0160 | 0.8518 | 0.8545 | 10580
33660 | Schoharie County, New York | 0160 | 0.8518 | 0.8545 | 10580
33670 | Schuyler County, New York | 33 | 0.8395 | 0.8157 | 99933
33680 | Seneca County, New York | 33 | 0.8395 | 0.8157 | 99933
33690 | Steuben County, New York | 33 | 0.8395 | 0.8157 | 99933
33700 | Suffolk County, New York | 5380 | 1.2760 | 1.2760 | 35004
33710 | Sullivan County, New York | 33 | 0.8395 | 0.8157 | 99933
33720 | Tioga County, New York | 0960 | 0.8571 | 0.8571 | 13780
33730 | Tompkins County, New York | 33 | 0.8395 | 0.9803 | 27060
33740 | Ulster County, New York | 33 | 0.8395 | 0.9257 | 28740
33750 | Warren County, New York | 2975 | 0.8567 | 0.8567 | 24020
33760 | Washington County, New York | 2975 | 0.8567 | 0.8567 | 24020
33770 | Wayne County, New York | 6840 | 0.9044 | 0.9115 | 40380
33800 | Westchester County, New York | 5600 | 1.3465 | 1.3185 | 35644
33900 | Wyoming County, New York | 33 | 0.8395 | 0.8157 | 99933
33910 | Yates County, New York | 33 | 0.8395 | 0.8157 | 99933
34000 | Alamance County, N Carolina | 3120 | 0.9027 | 0.8914 | 15500
34010 | Alexander County, N Carolina | 3290 | 0.8922 | 0.8922 | 25860
34020 | Alleghany County, N Carolina | 34 | 0.8490 | 0.8567 | 99934
34030 | Anson County, N Carolina | 34 | 0.8490 | 0.9760 | 16740
34040 | Ashe County, N Carolina | 34 | 0.8490 | 0.8567 | 99934
34050 | Avery County, N Carolina | 34 | 0.8490 | 0.8567 | 99934
34060 | Beaufort County, N Carolina | 34 | 0.8490 | 0.8567 | 99934
34070 | Bertie County, N Carolina | 34 | 0.8490 | 0.8567 | 99934
34080 | Bladen County, N Carolina | 34 | 0.8490 | 0.8567 | 99934
34090 | Brunswick County, N Carolina | 9200 | 0.9592 | 0.9592 | 48900
34100 | Buncombe County, N Carolina | 0480 | 0.9747 | 0.9294 | 11700
34110 | Burke County, N Carolina | 3290 | 0.8922 | 0.8922 | 25860
34120 | Cabarrus County, N Carolina | 1520 | 0.9725 | 0.9760 | 16740
34130 | Caldwell County, N Carolina | 3290 | 0.8922 | 0.8922 | 25860
34140 | Camden County, N Carolina | 34 | 0.8490 | 0.8567 | 99934
34150 | Carteret County, N Carolina | 34 | 0.8490 | 0.8567 | 99934
34160 | Caswell County, N Carolina | 34 | 0.8490 | 0.8567 | 99934
34170 | Catawba County, N Carolina | 3290 | 0.8922 | 0.8922 | 25860
34180 | Chatham County, N Carolina | 6640 | 1.0087 | 1.0303 | 20500
34190 | Cherokee County, N Carolina | 34 | 0.8490 | 0.8567 | 99934
34200 | Chowan County, N Carolina | 34 | 0.8490 | 0.8567 | 99934
34210 | Clay County, N Carolina | 34 | 0.8490 | 0.8567 | 99934
34220 | Cleveland County, N Carolina | 34 | 0.8490 | 0.8567 | 99934
34230 | Columbus County, N Carolina | 34 | 0.8490 | 0.8567 | 99934
34240 | Craven County, N Carolina | 34 | 0.8490 | 0.8567 | 99934
34250 | Cumberland County, N Carolina | 2560 | 0.9426 | 0.9426 | 22180
34251 | Currituck County, N Carolina | 5720 | 0.8808 | 0.8808 | 47260
34270 | Dare County, N Carolina | 34 | 0.8490 | 0.8567 | 99934
34280 | Davidson County, N Carolina | 3120 | 0.9027 | 0.8567 | 99934
34290 | Davie County, N Carolina | 3120 | 0.9027 | 0.8953 | 49180
34300 | Duplin County, N Carolina | 34 | 0.8490 | 0.8567 | 99934
34310 | Durham County, N Carolina | 6640 | 1.0087 | 1.0303 | 20500
34320 | Edgecombe County, N Carolina | 6895 | 0.8924 | 0.8924 | 40580
34330 | Forsyth County, N Carolina | 3120 | 0.9027 | 0.8953 | 49180
34340 | Franklin County, N Carolina | 6640 | 1.0087 | 0.9733 | 39580
34350 | Gaston County, N Carolina | 1520 | 0.9725 | 0.9760 | 16740
34360 | Gates County, N Carolina | 34 | 0.8490 | 0.8567 | 99934
34370 | Graham County, N Carolina | 34 | 0.8490 | 0.8567 | 99934
34380 | Granville County, N Carolina | 34 | 0.8490 | 0.8567 | 99934
34390 | Greene County, N Carolina | 34 | 0.8490 | 0.9434 | 24780
34400 | Guilford County, N Carolina | 3120 | 0.9027 | 0.9113 | 24660
34410 | Halifax County, N Carolina | 34 | 0.8490 | 0.8567 | 99934
34420 | Harnett County, N Carolina | 34 | 0.8490 | 0.8567 | 99934
34430 | Haywood County, N Carolina | 34 | 0.8490 | 0.9294 | 11700
34440 | Henderson County, N Carolina | 34 | 0.8490 | 0.9294 | 11700
34450 | Hertford County, N Carolina | 34 | 0.8490 | 0.8567 | 99934
34460 | Hoke County, N Carolina | 34 | 0.8490 | 0.9426 | 22180
34470 | Hyde County, N Carolina | 34 | 0.8490 | 0.8567 | 99934
34480 | Iredell County, N Carolina | 34 | 0.8490 | 0.8567 | 99934
34490 | Jackson County, N Carolina | 34 | 0.8490 | 0.8567 | 99934
34500 | Johnston County, N Carolina | 6640 | 1.0087 | 0.9733 | 39580
34510 | Jones County, N Carolina | 34 | 0.8490 | 0.8567 | 99934
34520 | Lee County, N Carolina | 34 | 0.8490 | 0.8567 | 99934
34530 | Lenoir County, N Carolina | 34 | 0.8490 | 0.8567 | 99934
34540 | Lincoln County, N Carolina | 1520 | 0.9725 | 0.8567 | 99934
34550 | Mc Dowell County, N Carolina | 34 | 0.8490 | 0.8567 | 99934
34560 | Macon County, N Carolina | 34 | 0.8490 | 0.8567 | 99934
34570 | Madison County, N Carolina | 0480 | 0.9747 | 0.9294 | 11700
34580 | Martin County, N Carolina | 34 | 0.8490 | 0.8567 | 99934
34590 | Mecklenburg County, N Carolina | 1520 | 0.9725 | 0.9760 | 16740
34600 | Mitchell County, N Carolina | 34 | 0.8490 | 0.8567 | 99934
34610 | Montgomery County, N Carolina | 34 | 0.8490 | 0.8567 | 99934
34620 | Moore County, N Carolina | 34 | 0.8490 | 0.8567 | 99934
34630 | Nash County, N Carolina | 6895 | 0.8924 | 0.8924 | 40580
34640 | New Hanover County, N Carolina | 9200 | 0.9592 | 0.9592 | 48900
34650 | Northampton County, N Carolina | 34 | 0.8490 | 0.8567 | 99934
34660 | Onslow County, N Carolina | 3605 | 0.8244 | 0.8244 | 27340
34670 | Orange County, N Carolina | 6640 | 1.0087 | 1.0303 | 20500
34680 | Pamlico County, N Carolina | 34 | 0.8490 | 0.8567 | 99934
34690 | Pasquotank County, N Carolina | 34 | 0.8490 | 0.8567 | 99934
34700 | Pender County, N Carolina | 34 | 0.8490 | 0.9592 | 48900
34710 | Perquimans County, N Carolina | 34 | 0.8490 | 0.8567 | 99934
34720 | Person County, N Carolina | 34 | 0.8490 | 1.0303 | 20500
34730 | Pitt County, N Carolina | 3150 | 0.9434 | 0.9434 | 24780
34740 | Polk County, N Carolina | 34 | 0.8490 | 0.8567 | 99934
34750 | Randolph County, N Carolina | 3120 | 0.9027 | 0.9113 | 24660
34760 | Richmond County, N Carolina | 34 | 0.8490 | 0.8567 | 99934
34770 | Robeson County, N Carolina | 34 | 0.8490 | 0.8567 | 99934
34780 | Rockingham County, N Carolina | 34 | 0.8490 | 0.9113 | 24660
34790 | Rowan County, N Carolina | 1520 | 0.9725 | 0.8567 | 99934
34800 | Rutherford County, N Carolina | 34 | 0.8490 | 0.8567 | 99934
34810 | Sampson County, N Carolina | 34 | 0.8490 | 0.8567 | 99934
34820 | Scotland County, N Carolina | 34 | 0.8490 | 0.8567 | 99934
34830 | Stanly County, N Carolina | 1520 | 0.9725 | 0.9760 | 16740
34840 | Stokes County, N Carolina | 3120 | 0.9027 | 0.8953 | 49180
34850 | Surry County, N Carolina | 34 | 0.8490 | 0.8567 | 99934
34860 | Swain County, N Carolina | 34 | 0.8490 | 0.8567 | 99934
34870 | Transylvania County, N Carolina | 34 | 0.8490 | 0.8567 | 99934
34880 | Tyrrell County, N Carolina | 34 | 0.8490 | 0.8567 | 99934
34890 | Union County, N Carolina | 1520 | 0.9725 | 0.9760 | 16740
34900 | Vance County, N Carolina | 34 | 0.8490 | 0.8567 | 99934
34910 | Wake County, N Carolina | 6640 | 1.0087 | 0.9733 | 39580
34920 | Warren County, N Carolina | 34 | 0.8490 | 0.8567 | 99934
34930 | Washington County, N Carolina | 34 | 0.8490 | 0.8567 | 99934
34940 | Watauga County, N Carolina | 34 | 0.8490 | 0.8567 | 99934
34950 | Wayne County, N Carolina | 2980 | 0.8784 | 0.8784 | 24140
34960 | Wilkes County, N Carolina | 34 | 0.8490 | 0.8567 | 99934
34970 | Wilson County, N Carolina | 34 | 0.8490 | 0.8567 | 99934
34980 | Yadkin County, N Carolina | 3120 | 0.9027 | 0.8953 | 49180
34981 | Yancey County, N Carolina | 34 | 0.8490 | 0.8567 | 99934
35000 | Adams County, N Dakota | 35 | 0.7268 | 0.7268 | 99935
35010 | Barnes County, N Dakota | 35 | 0.7268 | 0.7268 | 99935
35020 | Benson County, N Dakota | 35 | 0.7268 | 0.7268 | 99935
35030 | Billings County, N Dakota | 35 | 0.7268 | 0.7268 | 99935
35040 | Bottineau County, N Dakota | 35 | 0.7268 | 0.7268 | 99935
35050 | Bowman County, N Dakota | 35 | 0.7268 | 0.7268 | 99935
35060 | Burke County, N Dakota | 35 | 0.7268 | 0.7268 | 99935
35070 | Burleigh County, N Dakota | 1010 | 0.7519 | 0.7519 | 13900
35080 | Cass County, N Dakota | 2520 | 0.8495 | 0.8495 | 22020
35090 | Cavalier County, N Dakota | 35 | 0.7268 | 0.7268 | 99935
35100 | Dickey County, N Dakota | 35 | 0.7268 | 0.7268 | 99935
35110 | Divide County, N Dakota | 35 | 0.7268 | 0.7268 | 99935
35120 | Dunn County, N Dakota | 35 | 0.7268 | 0.7268 | 99935
35130 | Eddy County, N Dakota | 35 | 0.7268 | 0.7268 | 99935
35140 | Emmons County, N Dakota | 35 | 0.7268 | 0.7268 | 99935
35150 | Foster County, N Dakota | 35 | 0.7268 | 0.7268 | 99935
35160 | Golden Valley County, N Dakota | 35 | 0.7268 | 0.7268 | 99935
35170 | Grand Forks County, N Dakota | 2985 | 1.1516 | 1.1516 | 24220
35180 | Grant County, N Dakota | 35 | 0.7268 | 0.7268 | 99935
35190 | Griggs County, N Dakota | 35 | 0.7268 | 0.7268 | 99935
35200 | Hettinger County, N Dakota | 35 | 0.7268 | 0.7268 | 99935
35210 | Kidder County, N Dakota | 35 | 0.7268 | 0.7268 | 99935
35220 | La Moure County, N Dakota | 35 | 0.7268 | 0.7268 | 99935
35230 | Logan County, N Dakota | 35 | 0.7268 | 0.7268 | 99935
35240 | Mc Henry County, N Dakota | 35 | 0.7268 | 0.7268 | 99935
35250 | Mc Intosh County, N Dakota | 35 | 0.7268 | 0.7268 | 99935
35260 | Mc Kenzie County, N Dakota | 35 | 0.7268 | 0.7268 | 99935
35270 | Mc Lean County, N Dakota | 35 | 0.7268 | 0.7268 | 99935
35280 | Mercer County, N Dakota | 35 | 0.7268 | 0.7268 | 99935
35290 | Morton County, N Dakota | 1010 | 0.7519 | 0.7519 | 13900
35300 | Mountrail County, N Dakota | 35 | 0.7268 | 0.7268 | 99935
35310 | Nelson County, N Dakota | 35 | 0.7268 | 0.7268 | 99935
35320 | Oliver County, N Dakota | 35 | 0.7268 | 0.7268 | 99935
35330 | Pembina County, N Dakota | 35 | 0.7268 | 0.7268 | 99935
35340 | Pierce County, N Dakota | 35 | 0.7268 | 0.7268 | 99935
35350 | Ramsey County, N Dakota | 35 | 0.7268 | 0.7268 | 99935
35360 | Ransom County, N Dakota | 35 | 0.7268 | 0.7268 | 99935
35370 | Renville County, N Dakota | 35 | 0.7268 | 0.7268 | 99935
35380 | Richland County, N Dakota | 35 | 0.7268 | 0.7268 | 99935
35390 | Rolette County, N Dakota | 35 | 0.7268 | 0.7268 | 99935
35400 | Sargent County, N Dakota | 35 | 0.7268 | 0.7268 | 99935
35410 | Sheridan County, N Dakota | 35 | 0.7268 | 0.7268 | 99935
35420 | Sioux County, N Dakota | 35 | 0.7268 | 0.7268 | 99935
35430 | Slope County, N Dakota | 35 | 0.7268 | 0.7268 | 99935
35440 | Stark County, N Dakota | 35 | 0.7268 | 0.7268 | 99935
35450 | Steele County, N Dakota | 35 | 0.7268 | 0.7268 | 99935
35460 | Stutsman County, N Dakota | 35 | 0.7268 | 0.7268 | 99935
35470 | Towner County, N Dakota | 35 | 0.7268 | 0.7268 | 99935
35480 | Traill County, N Dakota | 35 | 0.7268 | 0.7268 | 99935
35490 | Walsh County, N Dakota | 35 | 0.7268 | 0.7268 | 99935
35500 | Ward County, N Dakota | 35 | 0.7268 | 0.7268 | 99935
35510 | Wells County, N Dakota | 35 | 0.7268 | 0.7268 | 99935
35520 | Williams County, N Dakota | 35 | 0.7268 | 0.7268 | 99935
36000 | Adams County, Ohio | 36 | 0.8886 | 0.8786 | 99936
36010 | Allen County, Ohio | 4320 | 0.9128 | 0.9234 | 30620
36020 | Ashland County, Ohio | 36 | 0.8886 | 0.8786 | 99936
36030 | Ashtabula County, Ohio | 1680 | 0.9174 | 0.8786 | 99936
36040 | Athens County, Ohio | 36 | 0.8886 | 0.8786 | 99936
36050 | Auglaize County, Ohio | 4320 | 0.9128 | 0.8786 | 99936
36060 | Belmont County, Ohio | 9000 | 0.7168 | 0.7168 | 48540
36070 | Brown County, Ohio | 1640 | 0.9742 | 0.9623 | 17140
36080 | Butler County, Ohio | 3200 | 0.8960 | 0.9623 | 17140
36090 | Carroll County, Ohio | 1320 | 0.8944 | 0.8944 | 15940
36100 | Champaign County, Ohio | 36 | 0.8886 | 0.8786 | 99936
36110 | Clark County, Ohio | 2000 | 0.8989 | 0.8404 | 44220
36120 | Clermont County, Ohio | 1640 | 0.9742 | 0.9623 | 17140
36130 | Clinton County, Ohio | 36 | 0.8886 | 0.8786 | 99936
36140 | Columbiana County, Ohio | 9320 | 0.8857 | 0.8786 | 99936
36150 | Coshocton County, Ohio | 36 | 0.8886 | 0.8786 | 99936
36160 | Crawford County, Ohio | 4800 | 0.8886 | 0.8786 | 99936
36170 | Cuyahoga County, Ohio | 1680 | 0.9174 | 0.9204 | 17460
36190 | Darke County, Ohio | 36 | 0.8886 | 0.8786 | 99936
36200 | Defiance County, Ohio | 36 | 0.8886 | 0.8786 | 99936
36210 | Delaware County, Ohio | 1840 | 0.9864 | 0.9850 | 18140
36220 | Erie County, Ohio | 36 | 0.8886 | 0.9025 | 41780
36230 | Fairfield County, Ohio | 1840 | 0.9864 | 0.9850 | 18140
36240 | Fayette County, Ohio | 36 | 0.8886 | 0.8786 | 99936
36250 | Franklin County, Ohio | 1840 | 0.9864 | 0.9850 | 18140
36260 | Fulton County, Ohio | 8400 | 0.9584 | 0.9584 | 45780
36270 | Gallia County, Ohio | 36 | 0.8886 | 0.8786 | 99936
36280 | Geauga County, Ohio | 1680 | 0.9174 | 0.9204 | 17460
36290 | Greene County, Ohio | 2000 | 0.8989 | 0.9073 | 19380
36300 | Guernsey County, Ohio | 36 | 0.8886 | 0.8786 | 99936
36310 | Hamilton County, Ohio | 1640 | 0.9742 | 0.9623 | 17140
36330 | Hancock County, Ohio | 36 | 0.8886 | 0.8786 | 99936
36340 | Hardin County, Ohio | 36 | 0.8886 | 0.8786 | 99936
36350 | Harrison County, Ohio | 36 | 0.8886 | 0.8786 | 99936
36360 | Henry County, Ohio | 36 | 0.8886 | 0.8786 | 99936
36370 | Highland County, Ohio | 36 | 0.8886 | 0.8786 | 99936
36380 | Hocking County, Ohio | 36 | 0.8886 | 0.8786 | 99936
36390 | Holmes County, Ohio | 36 | 0.8886 | 0.8786 | 99936
36400 | Huron County, Ohio | 36 | 0.8886 | 0.8786 | 99936
36410 | Jackson County, Ohio | 36 | 0.8886 | 0.8786 | 99936
36420 | Jefferson County, Ohio | 8080 | 0.7827 | 0.7827 | 48260
36430 | Knox County, Ohio | 36 | 0.8886 | 0.8786 | 99936
36440 | Lake County, Ohio | 1680 | 0.9174 | 0.9204 | 17460
36450 | Lawrence County, Ohio | 3400 | 0.9486 | 0.9486 | 26580
36460 | Licking County, Ohio | 1840 | 0.9864 | 0.9850 | 18140
36470 | Logan County, Ohio | 36 | 0.8886 | 0.8786 | 99936
36480 | Lorain County, Ohio | 1680 | 0.9174 | 0.9204 | 17460
36490 | Lucas County, Ohio | 8400 | 0.9584 | 0.9584 | 45780
36500 | Madison County, Ohio | 1840 | 0.9864 | 0.9850 | 18140
36510 | Mahoning County, Ohio | 9320 | 0.8857 | 0.8611 | 49660
36520 | Marion County, Ohio | 36 | 0.8886 | 0.8786 | 99936
36530 | Medina County, Ohio | 1680 | 0.9174 | 0.9204 | 17460
36540 | Meigs County, Ohio | 36 | 0.8886 | 0.8786 | 99936
36550 | Mercer County, Ohio | 36 | 0.8886 | 0.8786 | 99936
36560 | Miami County, Ohio | 2000 | 0.8989 | 0.9073 | 19380
36570 | Monroe County, Ohio | 36 | 0.8886 | 0.8786 | 99936
36580 | Montgomery County, Ohio | 2000 | 0.8989 | 0.9073 | 19380
36590 | Morgan County, Ohio | 36 | 0.8886 | 0.8786 | 99936
36600 | Morrow County, Ohio | 36 | 0.8886 | 0.9850 | 18140
36610 | Muskingum County, Ohio | 36 | 0.8886 | 0.8786 | 99936
36620 | Noble County, Ohio | 36 | 0.8886 | 0.8786 | 99936
36630 | Ottawa County, Ohio | 36 | 0.8886 | 0.9584 | 45780
36640 | Paulding County, Ohio | 36 | 0.8886 | 0.8786 | 99936
36650 | Perry County, Ohio | 36 | 0.8886 | 0.8786 | 99936
36660 | Pickaway County, Ohio | 1840 | 0.9864 | 0.9850 | 18140
36670 | Pike County, Ohio | 36 | 0.8886 | 0.8786 | 99936
36680 | Portage County, Ohio | 0080 | 0.8991 | 0.8991 | 10420
36690 | Preble County, Ohio | 36 | 0.8886 | 0.9073 | 19380
36700 | Putnam County, Ohio | 36 | 0.8886 | 0.8786 | 99936
36710 | Richland County, Ohio | 4800 | 0.8886 | 0.8887 | 31900
36720 | Ross County, Ohio | 36 | 0.8886 | 0.8786 | 99936
36730 | Sandusky County, Ohio | 36 | 0.8886 | 0.8786 | 99936
36740 | Scioto County, Ohio | 36 | 0.8886 | 0.8786 | 99936
36750 | Seneca County, Ohio | 36 | 0.8886 | 0.8786 | 99936
36760 | Shelby County, Ohio | 36 | 0.8886 | 0.8786 | 99936
36770 | Stark County, Ohio | 1320 | 0.8944 | 0.8944 | 15940
36780 | Summit County, Ohio | 0080 | 0.8991 | 0.8991 | 10420
36790 | Trumbull County, Ohio | 9320 | 0.8857 | 0.8611 | 49660
36800 | Tuscarawas County, Ohio | 36 | 0.8886 | 0.8786 | 99936
36810 | Union County, Ohio | 36 | 0.8886 | 0.9850 | 18140
36820 | Van Wert County, Ohio | 36 | 0.8886 | 0.8786 | 99936
36830 | Vinton County, Ohio | 36 | 0.8886 | 0.8786 | 99936
36840 | Warren County, Ohio | 1640 | 0.9742 | 0.9623 | 17140
36850 | Washington County, Ohio | 6020 | 0.8278 | 0.8278 | 37620
36860 | Wayne County, Ohio | 36 | 0.8886 | 0.8786 | 99936
36870 | Williams County, Ohio | 36 | 0.8886 | 0.8786 | 99936
36880 | Wood County, Ohio | 8400 | 0.9584 | 0.9584 | 45780
36890 | Wyandot County, Ohio | 36 | 0.8886 | 0.8786 | 99936
37000 | Adair County, Oklahoma | 37 | 0.7450 | 0.7589 | 99937
37010 | Alfalfa County, Oklahoma | 37 | 0.7450 | 0.7589 | 99937
37020 | Atoka County, Oklahoma | 37 | 0.7450 | 0.7589 | 99937
37030 | Beaver County, Oklahoma | 37 | 0.7450 | 0.7589 | 99937
37040 | Beckham County, Oklahoma | 37 | 0.7450 | 0.7589 | 99937
37050 | Blaine County, Oklahoma | 37 | 0.7450 | 0.7589 | 99937
37060 | Bryan County, Oklahoma | 37 | 0.7450 | 0.7589 | 99937
37070 | Caddo County, Oklahoma | 37 | 0.7450 | 0.7589 | 99937
37080 | Canadian County, Oklahoma | 5880 | 0.9034 | 0.9040 | 36420
37090 | Carter County, Oklahoma | 37 | 0.7450 | 0.7589 | 99937
37100 | Cherokee County, Oklahoma | 37 | 0.7450 | 0.7589 | 99937
37110 | Choctaw County, Oklahoma | 37 | 0.7450 | 0.7589 | 99937
37120 | Cimarron County, Oklahoma | 37 | 0.7450 | 0.7589 | 99937
37130 | Cleveland County, Oklahoma | 5880 | 0.9034 | 0.9040 | 36420
37140 | Coal County, Oklahoma | 37 | 0.7450 | 0.7589 | 99937
37150 | Comanche County, Oklahoma | 4200 | 0.7880 | 0.7880 | 30020
37160 | Cotton County, Oklahoma | 37 | 0.7450 | 0.7589 | 99937
37170 | Craig County, Oklahoma | 37 | 0.7450 | 0.7589 | 99937
37180 | Creek County, Oklahoma | 8560 | 0.8322 | 0.8286 | 46140
37190 | Custer County, Oklahoma | 37 | 0.7450 | 0.7589 | 99937
37200 | Delaware County, Oklahoma | 37 | 0.7450 | 0.7589 | 99937
37210 | Dewey County, Oklahoma | 37 | 0.7450 | 0.7589 | 99937
37220 | Ellis County, Oklahoma | 37 | 0.7450 | 0.7589 | 99937
37230 | Garfield County, Oklahoma | 2340 | 0.8675 | 0.7589 | 99937
37240 | Garvin County, Oklahoma | 37 | 0.7450 | 0.7589 | 99937
37250 | Grady County, Oklahoma | 37 | 0.7450 | 0.9040 | 36420
37260 | Grant County, Oklahoma | 37 | 0.7450 | 0.7589 | 99937
37270 | Greer County, Oklahoma | 37 | 0.7450 | 0.7589 | 99937
37280 | Harmon County, Oklahoma | 37 | 0.7450 | 0.7589 | 99937
37290 | Harper County, Oklahoma | 37 | 0.7450 | 0.7589 | 99937
37300 | Haskell County, Oklahoma | 37 | 0.7450 | 0.7589 | 99937
37310 | Hughes County, Oklahoma | 37 | 0.7450 | 0.7589 | 99937
37320 | Jackson County, Oklahoma | 37 | 0.7450 | 0.7589 | 99937
37330 | Jefferson County, Oklahoma | 37 | 0.7450 | 0.7589 | 99937
37340 | Johnston County, Oklahoma | 37 | 0.7450 | 0.7589 | 99937
37350 | Kay County, Oklahoma | 37 | 0.7450 | 0.7589 | 99937
37360 | Kingfisher County, Oklahoma | 37 | 0.7450 | 0.7589 | 99937
37370 | Kiowa County, Oklahoma | 37 | 0.7450 | 0.7589 | 99937
37380 | Latimer County, Oklahoma | 37 | 0.7450 | 0.7589 | 99937
37390 | Le Flore County, Oklahoma | 37 | 0.7450 | 0.8214 | 22900
37400 | Lincoln County, Oklahoma | 37 | 0.7450 | 0.9040 | 36420
37410 | Logan County, Oklahoma | 5880 | 0.9034 | 0.9040 | 36420
37420 | Love County, Oklahoma | 37 | 0.7450 | 0.7589 | 99937
37430 | Mc Clain County, Oklahoma | 5880 | 0.9034 | 0.9040 | 36420
37440 | Mc Curtain County, Oklahoma | 37 | 0.7450 | 0.7589 | 99937
37450 | Mc Intosh County, Oklahoma | 37 | 0.7450 | 0.7589 | 99937
37460 | Major County, Oklahoma | 37 | 0.7450 | 0.7589 | 99937
37470 | Marshall County, Oklahoma | 37 | 0.7450 | 0.7589 | 99937
37480 | Mayes County, Oklahoma | 37 | 0.7450 | 0.7589 | 99937
37490 | Murray County, Oklahoma | 37 | 0.7450 | 0.7589 | 99937
37500 | Muskogee County, Oklahoma | 37 | 0.7450 | 0.7589 | 99937
37510 | Noble County, Oklahoma | 37 | 0.7450 | 0.7589 | 99937
37520 | Nowata County, Oklahoma | 37 | 0.7450 | 0.7589 | 99937
37530 | Okfuskee County, Oklahoma | 37 | 0.7450 | 0.7589 | 99937
37540 | Oklahoma County, Oklahoma | 5880 | 0.9034 | 0.9040 | 36420
37550 | Okmulgee County, Oklahoma | 37 | 0.7450 | 0.8286 | 46140
37560 | Osage County, Oklahoma | 8560 | 0.8322 | 0.8286 | 46140
37570 | Ottawa County, Oklahoma | 37 | 0.7450 | 0.7589 | 99937
37580 | Pawnee County, Oklahoma | 37 | 0.7450 | 0.8286 | 46140
37590 | Payne County, Oklahoma | 37 | 0.7450 | 0.7589 | 99937
37600 | Pittsburg County, Oklahoma | 37 | 0.7450 | 0.7589 | 99937
37610 | Pontotoc County, Oklahoma | 37 | 0.7450 | 0.7589 | 99937
37620 | Pottawatomie County, Oklahoma | 5880 | 0.9034 | 0.7589 | 99937
37630 | Pushmataha County, Oklahoma | 37 | 0.7450 | 0.7589 | 99937
37640 | Roger Mills County, Oklahoma | 37 | 0.7450 | 0.7589 | 99937
37650 | Rogers County, Oklahoma | 8560 | 0.8322 | 0.8286 | 46140
37660 | Seminole County, Oklahoma | 37 | 0.7450 | 0.7589 | 99937
37670 | Sequoyah County, Oklahoma | 2720 | 0.8229 | 0.8214 | 22900
37680 | Stephens County, Oklahoma | 37 | 0.7450 | 0.7589 | 99937
37690 | Texas County, Oklahoma | 37 | 0.7450 | 0.7589 | 99937
37700 | Tillman County, Oklahoma | 37 | 0.7450 | 0.7589 | 99937
37710 | Tulsa County, Oklahoma | 8560 | 0.8322 | 0.8286 | 46140
37720 | Wagoner County, Oklahoma | 8560 | 0.8322 | 0.8286 | 46140
37730 | Washington County, Oklahoma | 37 | 0.7450 | 0.7589 | 99937
37740 | Washita County, Oklahoma | 37 | 0.7450 | 0.7589 | 99937
37750 | Woods County, Oklahoma | 37 | 0.7450 | 0.7589 | 99937
37760 | Woodward County, Oklahoma | 37 | 0.7450 | 0.7589 | 99937
38000 | Baker County, Oregon | 38 | 1.0057 | 0.9830 | 99938
38010 | Benton County, Oregon | 1890 | 1.0739 | 1.0739 | 18700
38020 | Clackamas County, Oregon | 6440 | 1.1260 | 1.1260 | 38900
38030 | Clatsop County, Oregon | 38 | 1.0057 | 0.9830 | 99938
38040 | Columbia County, Oregon | 6440 | 1.1260 | 1.1260 | 38900
38050 | Coos County, Oregon | 38 | 1.0057 | 0.9830 | 99938
38060 | Crook County, Oregon | 38 | 1.0057 | 0.9830 | 99938
38070 | Curry County, Oregon | 38 | 1.0057 | 0.9830 | 99938
38080 | Deschutes County, Oregon | 38 | 1.0057 | 1.0796 | 13460
38090 | Douglas County, Oregon | 38 | 1.0057 | 0.9830 | 99938
38100 | Gilliam County, Oregon | 38 | 1.0057 | 0.9830 | 99938
38110 | Grant County, Oregon | 38 | 1.0057 | 0.9830 | 99938
38120 | Harney County, Oregon | 38 | 1.0057 | 0.9830 | 99938
38130 | Hood River County, Oregon | 38 | 1.0057 | 0.9830 | 99938
38140 | Jackson County, Oregon | 4890 | 1.0235 | 1.0235 | 32780
38150 | Jefferson County, Oregon | 38 | 1.0057 | 0.9830 | 99938
38160 | Josephine County, Oregon | 38 | 1.0057 | 0.9830 | 99938
38170 | Klamath County, Oregon | 38 | 1.0057 | 0.9830 | 99938
38180 | Lake County, Oregon | 38 | 1.0057 | 0.9830 | 99938
38190 | Lane County, Oregon | 2400 | 1.0829 | 1.0829 | 21660
38200 | Lincoln County, Oregon | 38 | 1.0057 | 0.9830 | 99938
38210 | Linn County, Oregon | 38 | 1.0057 | 0.9830 | 99938
38220 | Malheur County, Oregon | 38 | 1.0057 | 0.9830 | 99938
38230 | Marion County, Oregon | 7080 | 1.0452 | 1.0452 | 41420
38240 | Morrow County, Oregon | 38 | 1.0057 | 0.9830 | 99938
38250 | Multnomah County, Oregon | 6440 | 1.1260 | 1.1260 | 38900
38260 | Polk County, Oregon | 7080 | 1.0452 | 1.0452 | 41420
38270 | Sherman County, Oregon | 38 | 1.0057 | 0.9830 | 99938
38280 | Tillamook County, Oregon | 38 | 1.0057 | 0.9830 | 99938
38290 | Umatilla County, Oregon | 38 | 1.0057 | 0.9830 | 99938
38300 | Union County, Oregon | 38 | 1.0057 | 0.9830 | 99938
38310 | Wallowa County, Oregon | 38 | 1.0057 | 0.9830 | 99938
38320 | Wasco County, Oregon | 38 | 1.0057 | 0.9830 | 99938
38330 | Washington County, Oregon | 6440 | 1.1260 | 1.1260 | 38900
38340 | Wheeler County, Oregon | 38 | 1.0057 | 0.9830 | 99938
38350 | Yamhill County, Oregon | 6440 | 1.1260 | 1.1260 | 38900
39000 | Adams County, Pennsylvania | 39 | 0.8331 | 0.8302 | 99939
39010 | Allegheny County, Pennsylvania | 6280 | 0.8868 | 0.8853 | 38300
39070 | Armstrong County, Pennsylvania | 39 | 0.8331 | 0.8853 | 38300
39080 | Beaver County, Pennsylvania | 6280 | 0.8868 | 0.8853 | 38300
39100 | Bedford County, Pennsylvania | 39 | 0.8331 | 0.8302 | 99939
39110 | Berks County, Pennsylvania | 6680 | 0.9696 | 0.9696 | 39740
39120 | Blair County, Pennsylvania | 0280 | 0.8953 | 0.8953 | 11020
39130 | Bradford County, Pennsylvania | 39 | 0.8331 | 0.8302 | 99939
39140 | Bucks County, Pennsylvania | 6160 | 1.0926 | 1.1040 | 37964
39150 | Butler County, Pennsylvania | 6280 | 0.8868 | 0.8853 | 38300
39160 | Cambria County, Pennsylvania | 3680 | 0.8094 | 0.8362 | 27780
39180 | Cameron County, Pennsylvania | 39 | 0.8331 | 0.8302 | 99939
39190 | Carbon County, Pennsylvania | 0240 | 0.9855 | 0.9828 | 10900
39200 | Centre County, Pennsylvania | 8050 | 0.8364 | 0.8364 | 44300
39210 | Chester County, Pennsylvania | 6160 | 1.0926 | 1.1040 | 37964
39220 | Clarion County, Pennsylvania | 39 | 0.8331 | 0.8302 | 99939
39230 | Clearfield County, Pennsylvania | 39 | 0.8331 | 0.8302 | 99939
39240 | Clinton County, Pennsylvania | 39 | 0.8331 | 0.8302 | 99939
39250 | Columbia County, Pennsylvania | 7560 | 0.8533 | 0.8302 | 99939
39260 | Crawford County, Pennsylvania | 39 | 0.8331 | 0.8302 | 99939
39270 | Cumberland County, Pennsylvania | 3240 | 0.9242 | 0.9322 | 25420
39280 | Dauphin County, Pennsylvania | 3240 | 0.9242 | 0.9322 | 25420
39290 | Delaware County, Pennsylvania | 6160 | 1.0926 | 1.1040 | 37964
39310 | Elk County, Pennsylvania | 39 | 0.8331 | 0.8302 | 99939
39320 | Erie County, Pennsylvania | 2360 | 0.8746 | 0.8746 | 21500
39330 | Fayette County, Pennsylvania | 6280 | 0.8868 | 0.8853 | 38300
39340 | Forest County, Pennsylvania | 39 | 0.8331 | 0.8302 | 99939
39350 | Franklin County, Pennsylvania | 39 | 0.8331 | 0.8302 | 99939
39360 | Fulton County, Pennsylvania | 39 | 0.8331 | 0.8302 | 99939
39370 | Greene County, Pennsylvania | 39 | 0.8331 | 0.8302 | 99939
39380 | Huntingdon County, Pennsylvania | 39 | 0.8331 | 0.8302 | 99939
39390 | Indiana County, Pennsylvania | 39 | 0.8331 | 0.8302 | 99939
39400 | Jefferson County, Pennsylvania | 39 | 0.8331 | 0.8302 | 99939
39410 | Juniata County, Pennsylvania | 39 | 0.8331 | 0.8302 | 99939
39420 | Lackawanna County, Pennsylvania | 7560 | 0.8533 | 0.8548 | 42540
39440 | Lancaster County, Pennsylvania | 4000 | 0.9704 | 0.9704 | 29540
39450 | Lawrence County, Pennsylvania | 39 | 0.8331 | 0.8302 | 99939
39460 | Lebanon County, Pennsylvania | 3240 | 0.9242 | 0.8468 | 30140
39470 | Lehigh County, Pennsylvania | 0240 | 0.9855 | 0.9828 | 10900
39480 | Luzerne County, Pennsylvania | 7560 | 0.8533 | 0.8548 | 42540
39510 | Lycoming County, Pennsylvania | 9140 | 0.8377 | 0.8377 | 48700
39520 | Mc Kean County, Pennsylvania | 39 | 0.8331 | 0.8302 | 99939
39530 | Mercer County, Pennsylvania | 7610 | 0.7801 | 0.8611 | 49660
39540 | Mifflin County, Pennsylvania | 39 | 0.8331 | 0.8302 | 99939
39550 | Monroe County, Pennsylvania | 39 | 0.8331 | 0.8302 | 99939
39560 | Montgomery County, Pennsylvania | 6160 | 1.0926 | 1.1040 | 37964
39580 | Montour County, Pennsylvania | 39 | 0.8331 | 0.8302 | 99939
39590 | Northampton County, Pennsylvania | 0240 | 0.9855 | 0.9828 | 10900
39600 | Northumberland County, Pennsylvania | 39 | 0.8331 | 0.8302 | 99939
39610 | Perry County, Pennsylvania | 3240 | 0.9242 | 0.9322 | 25420
39620 | Philadelphia County, Pennsylvania | 6160 | 1.0926 | 1.1040 | 37964
39630 | Pike County, Pennsylvania | 5660 | 1.1218 | 1.2195 | 35084
39640 | Potter County, Pennsylvania | 39 | 0.8331 | 0.8302 | 99939
39650 | Schuylkill County, Pennsylvania | 39 | 0.8331 | 0.8302 | 99939
39670 | Snyder County, Pennsylvania | 39 | 0.8331 | 0.8302 | 99939
39680 | Somerset County, Pennsylvania | 3680 | 0.8094 | 0.8302 | 99939
39690 | Sullivan County, Pennsylvania | 39 | 0.8331 | 0.8302 | 99939
39700 | Susquehanna County, Pennsylvania | 39 | 0.8331 | 0.8302 | 99939
39710 | Tioga County, Pennsylvania | 39 | 0.8331 | 0.8302 | 99939
39720 | Union County, Pennsylvania | 39 | 0.8331 | 0.8302 | 99939
39730 | Venango County, Pennsylvania | 39 | 0.8331 | 0.8302 | 99939
39740 | Warren County, Pennsylvania | 39 | 0.8331 | 0.8302 | 99939
39750 | Washington County, Pennsylvania | 6280 | 0.8868 | 0.8853 | 38300
39760 | Wayne County, Pennsylvania | 39 | 0.8331 | 0.8302 | 99939
39770 | Westmoreland County, Pennsylvania | 6280 | 0.8868 | 0.8853 | 38300
39790 | Wyoming County, Pennsylvania | 7560 | 0.8533 | 0.8548 | 42540
39800 | York County, Pennsylvania | 9280 | 0.9420 | 0.9420 | 49620
40010 | Adjuntas County, Puerto Rico | 40 | 0.3608 | 0.4047 | 99940
40020 | Aguada County, Puerto Rico | 0060 | 0.4881 | 0.4743 | 10380
40030 | Aguadilla County, Puerto Rico | 0060 | 0.4881 | 0.4743 | 10380
40040 | Aguas Buenas County, Puerto Rico | 7440 | 0.4855 | 0.4686 | 41980
40050 | Aibonito County, Puerto Rico | 40 | 0.3608 | 0.4686 | 41980
40060 | Anasco County, Puerto Rico | 4840 | 0.4246 | 0.4743 | 10380
40070 | Arecibo County, Puerto Rico | 0470 | 0.4116 | 0.4686 | 41980
40080 | Arroyo County, Puerto Rico | 40 | 0.3608 | 0.3184 | 25020
40090 | Barceloneta County, Puerto Rico | 7440 | 0.4855 | 0.4686 | 41980
40100 | Barranquitas County, Puerto Rico | 40 | 0.3608 | 0.4686 | 41980
40110 | Bayamon County, Puerto Rico | 7440 | 0.4855 | 0.4686 | 41980
40120 | Cabo Rojo County, Puerto Rico | 4840 | 0.4246 | 0.4655 | 41900
40130 | Caguas County, Puerto Rico | 1310 | 0.4020 | 0.4686 | 41980
40140 | Camuy County, Puerto Rico | 0470 | 0.4116 | 0.4686 | 41980
40145 | Canovanas County, Puerto Rico | 7440 | 0.4855 | 0.4686 | 41980
40150 | Carolina County, Puerto Rico | 7440 | 0.4855 | 0.4686 | 41980
40160 | Catano County, Puerto Rico | 7440 | 0.4855 | 0.4686 | 41980
40170 | Cayey County, Puerto Rico | 1310 | 0.4020 | 0.4686 | 41980
40180 | Ceiba County, Puerto Rico | 7440 | 0.4855 | 0.4157 | 21940
40190 | Ciales County, Puerto Rico | 40 | 0.3608 | 0.4686 | 41980
40200 | Cidra County, Puerto Rico | 1310 | 0.4020 | 0.4686 | 41980
40210 | Coamo County, Puerto Rico | 40 | 0.3608 | 0.4047 | 99940
40220 | Comerio County, Puerto Rico | 7440 | 0.4855 | 0.4686 | 41980
40230 | Corozal County, Puerto Rico | 7440 | 0.4855 | 0.4686 | 41980
40240 | Culebra County, Puerto Rico | 40 | 0.3608 | 0.4047 | 99940
40250 | Dorado County, Puerto Rico | 7440 | 0.4855 | 0.4686 | 41980
40260 | Fajardo County, Puerto Rico | 7440 | 0.4855 | 0.4157 | 21940
40265 | Florida County, Puerto Rico | 7440 | 0.4855 | 0.4686 | 41980
40270 | Guanica County, Puerto Rico | 40 | 0.3608 | 0.4413 | 49500
40280 | Guayama County, Puerto Rico | 40 | 0.3608 | 0.3184 | 25020
40290 | Guayanilla County, Puerto Rico | 6360 | 0.5091 | 0.4413 | 49500
40300 | Guaynabo County, Puerto Rico | 7440 | 0.4855 | 0.4686 | 41980
40310 | Gurabo County, Puerto Rico | 1310 | 0.4020 | 0.4686 | 41980
40320 | Hatillo County, Puerto Rico | 0470 | 0.4116 | 0.4686 | 41980
40330 | Hormigueros County, Puerto Rico | 4840 | 0.4246 | 0.4017 | 32420
40340 | Humacao County, Puerto Rico | 7440 | 0.4855 | 0.4686 | 41980
40350 | Isabela County, Puerto Rico | 40 | 0.3608 | 0.4743 | 10380
40360 | Jayuya County, Puerto Rico | 40 | 0.3608 | 0.4047 | 99940
40370 | Juana Diaz County, Puerto Rico | 6360 | 0.5091 | 0.5177 | 38660
40380 | Juncos County, Puerto Rico | 7440 | 0.4855 | 0.4686 | 41980
40390 | Lajas County, Puerto Rico | 40 | 0.3608 | 0.4655 | 41900
40400 | Lares County, Puerto Rico | 40 | 0.3608 | 0.4743 | 10380
40410 | Las Marias County, Puerto Rico | 40 | 0.3608 | 0.4047 | 99940
40420 | Las Piedras County, Puerto Rico | 7440 | 0.4855 | 0.4686 | 41980
40430 | Loiza County, Puerto Rico | 7440 | 0.4855 | 0.4686 | 41980
40440 | Luquillo County, Puerto Rico | 7440 | 0.4855 | 0.4157 | 21940
40450 | Manati County, Puerto Rico | 7440 | 0.4855 | 0.4686 | 41980
40460 | Maricao County, Puerto Rico | 40 | 0.3608 | 0.4047 | 99940
40470 | Maunabo County, Puerto Rico | 40 | 0.3608 | 0.4686 | 41980
40480 | Mayaguez County, Puerto Rico | 4840 | 0.4246 | 0.4017 | 32420
40490 | Moca County, Puerto Rico | 0060 | 0.4881 | 0.4743 | 10380
40500 | Morovis County, Puerto Rico | 7440 | 0.4855 | 0.4686 | 41980
40510 | Naguabo County, Puerto Rico | 7440 | 0.4855 | 0.4686 | 41980
40520 | Naranjito County, Puerto Rico | 7440 | 0.4855 | 0.4686 | 41980
40530 | Orocovis County, Puerto Rico | 40 | 0.3608 | 0.4686 | 41980
40540 | Patillas County, Puerto Rico | 40 | 0.3608 | 0.3184 | 25020
40550 | Penuelas County, Puerto Rico | 6360 | 0.5091 | 0.4413 | 49500
40560 | Ponce County, Puerto Rico | 6360 | 0.5091 | 0.5177 | 38660
40570 | Quebradillas County, Puerto Rico | 40 | 0.3608 | 0.4686 | 41980
40580 | Rincon County, Puerto Rico | 40 | 0.3608 | 0.4743 | 10380
40590 | Rio Grande County, Puerto Rico | 7440 | 0.4855 | 0.4686 | 41980
40610 | Sabana Grande County, Puerto Rico | 4840 | 0.4246 | 0.4655 | 41900
40620 | Salinas County, Puerto Rico | 40 | 0.3608 | 0.4047 | 99940
40630 | San German County, Puerto Rico | 4840 | 0.4246 | 0.4655 | 41900
40640 | San Juan County, Puerto Rico | 7440 | 0.4855 | 0.4686 | 41980
40650 | San Lorenzo County, Puerto Rico | 1310 | 0.4020 | 0.4686 | 41980
40660 | San Sebastian County, Puerto Rico | 40 | 0.3608 | 0.4743 | 10380
40670 | Santa Isabel County, Puerto Rico | 40 | 0.3608 | 0.4047 | 99940
40680 | Toa Alta County, Puerto Rico | 7440 | 0.4855 | 0.4686 | 41980
40690 | Toa Baja County, Puerto Rico | 7440 | 0.4855 | 0.4686 | 41980
40700 | Trujillo Alto County, Puerto Rico | 7440 | 0.4855 | 0.4686 | 41980
40710 | Utuado County, Puerto Rico | 40 | 0.3608 | 0.4047 | 99940
40720 | Vega Alta County, Puerto Rico | 7440 | 0.4855 | 0.4686 | 41980
40730 | Vega Baja County, Puerto Rico | 7440 | 0.4855 | 0.4686 | 41980
40740 | Vieques County, Puerto Rico | 40 | 0.3608 | 0.4047 | 99940
40750 | Villalba County, Puerto Rico | 6360 | 0.5091 | 0.5177 | 38660
40760 | Yabucoa County, Puerto Rico | 7440 | 0.4855 | 0.4686 | 41980
40770 | Yauco County, Puerto Rico | 6360 | 0.5091 | 0.4413 | 49500
41000 | Bristol County, Rhode Island | 6483 | 1.1060 | 1.0966 | 39300
41010 | Kent County, Rhode Island | 6483 | 1.1060 | 1.0966 | 39300
41020 | Newport County, Rhode Island | 6483 | 1.1060 | 1.0966 | 39300
41030 | Providence County, Rhode Island | 6483 | 1.1060 | 1.0966 | 39300
41050 | Washington County, Rhode Island | 6483 | 1.1060 | 1.0966 | 39300
42000 | Abbeville County, S Carolina | 42 | 0.8634 | 0.8641 | 99942
42010 | Aiken County, S Carolina | 0600 | 0.9619 | 0.9565 | 12260
42020 | Allendale County, S Carolina | 42 | 0.8634 | 0.8641 | 99942
42030 | Anderson County, S Carolina | 3160 | 0.9677 | 0.8897 | 11340
42040 | Bamberg County, S Carolina | 42 | 0.8634 | 0.8641 | 99942
42050 | Barnwell County, S Carolina | 42 | 0.8634 | 0.8641 | 99942
42060 | Beaufort County, S Carolina | 42 | 0.8634 | 0.8641 | 99942
42070 | Berkeley County, S Carolina | 1440 | 0.9438 | 0.9438 | 16700
42080 | Calhoun County, S Carolina | 42 | 0.8634 | 0.9047 | 17900
42090 | Charleston County, S Carolina | 1440 | 0.9438 | 0.9438 | 16700
42100 | Cherokee County, S Carolina | 3160 | 0.9677 | 0.8641 | 99942
42110 | Chester County, S Carolina | 42 | 0.8634 | 0.8641 | 99942
42120 | Chesterfield County, S Carolina | 42 | 0.8634 | 0.8641 | 99942
42130 | Clarendon County, S Carolina | 42 | 0.8634 | 0.8641 | 99942
42140 | Colleton County, S Carolina | 42 | 0.8634 | 0.8641 | 99942
42150 | Darlington County, S Carolina | 42 | 0.8634 | 0.8964 | 22500
42160 | Dillon County, S Carolina | 42 | 0.8634 | 0.8641 | 99942
42170 | Dorchester County, S Carolina | 1440 | 0.9438 | 0.9438 | 16700
42180 | Edgefield County, S Carolina | 0600 | 0.9619 | 0.9565 | 12260
42190 | Fairfield County, S Carolina | 42 | 0.8634 | 0.9047 | 17900
42200 | Florence County, S Carolina | 2655 | 0.9060 | 0.8964 | 22500
42210 | Georgetown County, S Carolina | 42 | 0.8634 | 0.8641 | 99942
42220 | Greenville County, S Carolina | 3160 | 0.9677 | 1.0165 | 24860
42230 | Greenwood County, S Carolina | 42 | 0.8634 | 0.8641 | 99942
42240 | Hampton County, S Carolina | 42 | 0.8634 | 0.8641 | 99942
42250 | Horry County, S Carolina | 5330 | 0.8873 | 0.8873 | 34820
42260 | Jasper County, S Carolina | 42 | 0.8634 | 0.8641 | 99942
42270 | Kershaw County, S Carolina | 42 | 0.8634 | 0.9047 | 17900
42280 | Lancaster County, S Carolina | 42 | 0.8634 | 0.8641 | 99942
42290 | Laurens County, S Carolina | 42 | 0.8634 | 1.0165 | 24860
42300 | Lee County, S Carolina | 42 | 0.8634 | 0.8641 | 99942
42310 | Lexington County, S Carolina | 1760 | 0.9071 | 0.9047 | 17900
42320 | Mc Cormick County, S Carolina | 42 | 0.8634 | 0.8641 | 99942
42330 | Marion County, S Carolina | 42 | 0.8634 | 0.8641 | 99942
42340 | Marlboro County, S Carolina | 42 | 0.8634 | 0.8641 | 99942
42350 | Newberry County, S Carolina | 42 | 0.8634 | 0.8641 | 99942
42360 | Oconee County, S Carolina | 42 | 0.8634 | 0.8641 | 99942
42370 | Orangeburg County, S Carolina | 42 | 0.8634 | 0.8641 | 99942
42380 | Pickens County, S Carolina | 3160 | 0.9677 | 1.0165 | 24860
42390 | Richland County, S Carolina | 1760 | 0.9071 | 0.9047 | 17900
42400 | Saluda County, S Carolina | 42 | 0.8634 | 0.9047 | 17900
42410 | Spartanburg County, S Carolina | 3160 | 0.9677 | 0.9181 | 43900
42420 | Sumter County, S Carolina | 8140 | 0.8386 | 0.8386 | 44940
42430 | Union County, S Carolina | 42 | 0.8634 | 0.8641 | 99942
42440 | Williamsburg County, S Carolina | 42 | 0.8634 | 0.8641 | 99942
42450 | York County, S Carolina | 1520 | 0.9725 | 0.9760 | 16740
43010 | Aurora County, S Dakota | 43 | 0.8476 | 0.8484 | 99943
43020 | Beadle County, S Dakota | 43 | 0.8476 | 0.8484 | 99943
43030 | Bennett County, S Dakota | 43 | 0.8476 | 0.8484 | 99943
43040 | Bon Homme County, S Dakota | 43 | 0.8476 | 0.8484 | 99943
43050 | Brookings County, S Dakota | 43 | 0.8476 | 0.8484 | 99943
43060 | Brown County, S Dakota | 43 | 0.8476 | 0.8484 | 99943
43070 | Brule County, S Dakota | 43 | 0.8476 | 0.8484 | 99943
43080 | Buffalo County, S Dakota | 43 | 0.8476 | 0.8484 | 99943
43090 | Butte County, S Dakota | 43 | 0.8476 | 0.8484 | 99943
43100 | Campbell County, S Dakota | 43 | 0.8476 | 0.8484 | 99943
43110 | Charles Mix County, S Dakota | 43 | 0.8476 | 0.8484 | 99943
43120 | Clark County, S Dakota | 43 | 0.8476 | 0.8484 | 99943
43130 | Clay County, S Dakota | 43 | 0.8476 | 0.8484 | 99943
43140 | Codington County, S Dakota | 43 | 0.8476 | 0.8484 | 99943
43150 | Corson County, S Dakota | 43 | 0.8476 | 0.8484 | 99943
43160 | Custer County, S Dakota | 43 | 0.8476 | 0.8484 | 99943
43170 | Davison County, S Dakota | 43 | 0.8476 | 0.8484 | 99943
43180 | Day County, S Dakota | 43 | 0.8476 | 0.8484 | 99943
43190 | Deuel County, S Dakota | 43 | 0.8476 | 0.8484 | 99943
43200 | Dewey County, S Dakota | 43 | 0.8476 | 0.8484 | 99943
43210 | Douglas County, S Dakota | 43 | 0.8476 | 0.8484 | 99943
43220 | Edmunds County, S Dakota | 43 | 0.8476 | 0.8484 | 99943
43230 | Fall River County, S Dakota | 43 | 0.8476 | 0.8484 | 99943
43240 | Faulk County, S Dakota | 43 | 0.8476 | 0.8484 | 99943
43250 | Grant County, S Dakota | 43 | 0.8476 | 0.8484 | 99943
43260 | Gregory County, S Dakota | 43 | 0.8476 | 0.8484 | 99943
43270 | Haakon County, S Dakota | 43 | 0.8476 | 0.8484 | 99943
43280 | Hamlin County, S Dakota | 43 | 0.8476 | 0.8484 | 99943
43290 | Hand County, S Dakota | 43 | 0.8476 | 0.8484 | 99943
43300 | Hanson County, S Dakota | 43 | 0.8476 | 0.8484 | 99943
43310 | Harding County, S Dakota | 43 | 0.8476 | 0.8484 | 99943
43320 | Hughes County, S Dakota | 43 | 0.8476 | 0.8484 | 99943
43330 | Hutchinson County, S Dakota | 43 | 0.8476 | 0.8484 | 99943
43340 | Hyde County, S Dakota | 43 | 0.8476 | 0.8484 | 99943
43350 | Jackson County, S Dakota | 43 | 0.8476 | 0.8484 | 99943
43360 | Jerauld County, S Dakota | 43 | 0.8476 | 0.8484 | 99943
43370 | Jones County, S Dakota | 43 | 0.8476 | 0.8484 | 99943
43380 | Kingsbury County, S Dakota | 43 | 0.8476 | 0.8484 | 99943
43390 | Lake County, S Dakota | 43 | 0.8476 | 0.8484 | 99943
43400 | Lawrence County, S Dakota | 43 | 0.8476 | 0.8484 | 99943
43410 | Lincoln County, S Dakota | 7760 | 0.9645 | 0.9645 | 43620
43420 | Lyman County, S Dakota | 43 | 0.8476 | 0.8484 | 99943
43430 | Mc Cook County, S Dakota | 43 | 0.8476 | 0.9645 | 43620
43440 | Mc Pherson County, S Dakota | 43 | 0.8476 | 0.8484 | 99943
43450 | Marshall County, S Dakota | 43 | 0.8476 | 0.8484 | 99943
43460 | Meade County, S Dakota | 43 | 0.8476 | 0.9021 | 39660
43470 | Mellette County, S Dakota | 43 | 0.8476 | 0.8484 | 99943
43480 | Miner County, S Dakota | 43 | 0.8476 | 0.8484 | 99943
43490 | Minnehaha County, S Dakota | 7760 | 0.9645 | 0.9645 | 43620
43500 | Moody County, S Dakota | 43 | 0.8476 | 0.8484 | 99943
43510 | Pennington County, S Dakota | 6660 | 0.9021 | 0.9021 | 39660
43520 | Perkins County, S Dakota | 43 | 0.8476 | 0.8484 | 99943
43530 | Potter County, S Dakota | 43 | 0.8476 | 0.8484 | 99943
43540 | Roberts County, S Dakota | 43 | 0.8476 | 0.8484 | 99943
43550 | Sanborn County, S Dakota | 43 | 0.8476 | 0.8484 | 99943
43560 | Shannon County, S Dakota | 43 | 0.8476 | 0.8484 | 99943
43570 | Spink County, S Dakota | 43 | 0.8476 | 0.8484 | 99943
43580 | Stanley County, S Dakota | 43 | 0.8476 | 0.8484 | 99943
43590 | Sully County, S Dakota | 43 | 0.8476 | 0.8484 | 99943
43600 | Todd County, S Dakota | 43 | 0.8476 | 0.8484 | 99943
43610 | Tripp County, S Dakota | 43 | 0.8476 | 0.8484 | 99943
43620 | Turner County, S Dakota | 43 | 0.8476 | 0.9645 | 43620
43630 | Union County, S Dakota | 43 | 0.8476 | 0.9376 | 43580
43640 | Walworth County, S Dakota | 43 | 0.8476 | 0.8484 | 99943
43650 | Washabaugh County, S Dakota | 43 | 0.8476 | 0.8484 | 99943
43670 | Yankton County, S Dakota | 43 | 0.8476 | 0.8484 | 99943
43680 | Ziebach County, S Dakota | 43 | 0.8476 | 0.8484 | 99943
44000 | Anderson County, Tennessee | 3840 | 0.8411 | 0.8454 | 28940
44010 | Bedford County, Tennessee | 44 | 0.7988 | 0.7888 | 99944
44020 | Benton County, Tennessee | 44 | 0.7988 | 0.7888 | 99944
44030 | Bledsoe County, Tennessee | 44 | 0.7988 | 0.7888 | 99944
44040 | Blount County, Tennessee | 3840 | 0.8411 | 0.8454 | 28940
44050 | Bradley County, Tennessee | 44 | 0.7988 | 0.8141 | 17420
44060 | Campbell County, Tennessee | 44 | 0.7988 | 0.7888 | 99944
44070 | Cannon County, Tennessee | 44 | 0.7988 | 0.9769 | 34980
44080 | Carroll County, Tennessee | 44 | 0.7988 | 0.7888 | 99944
44090 | Carter County, Tennessee | 3660 | 0.8015 | 0.7945 | 27740
44100 | Cheatham County, Tennessee | 5360 | 0.9787 | 0.9769 | 34980
44110 | Chester County, Tennessee | 3580 | 0.8973 | 0.8973 | 27180
44120 | Claiborne County, Tennessee | 44 | 0.7988 | 0.7888 | 99944
44130 | Clay County, Tennessee | 44 | 0.7988 | 0.7888 | 99944
44140 | Cocke County, Tennessee | 44 | 0.7988 | 0.7888 | 99944
44150 | Coffee County, Tennessee | 44 | 0.7988 | 0.7888 | 99944
44160 | Crockett County, Tennessee | 44 | 0.7988 | 0.7888 | 99944
44170 | Cumberland County, Tennessee | 44 | 0.7988 | 0.7888 | 99944
44180 | Davidson County, Tennessee | 5360 | 0.9787 | 0.9769 | 34980
44190 | Decatur County, Tennessee | 44 | 0.7988 | 0.7888 | 99944
44200 | De Kalb County, Tennessee | 44 | 0.7988 | 0.7888 | 99944
44210 | Dickson County, Tennessee | 5360 | 0.9787 | 0.9769 | 34980
44220 | Dyer County, Tennessee | 44 | 0.7988 | 0.7888 | 99944
44230 | Fayette County, Tennessee | 4920 | 0.9360 | 0.9341 | 32820
44240 | Fentress County, Tennessee | 44 | 0.7988 | 0.7888 | 99944
44250 | Franklin County, Tennessee | 44 | 0.7988 | 0.7888 | 99944
44260 | Gibson County, Tennessee | 44 | 0.7988 | 0.7888 | 99944
44270 | Giles County, Tennessee | 44 | 0.7988 | 0.7888 | 99944
44280 | Grainger County, Tennessee | 44 | 0.7988 | 0.8753 | 34100
44290 | Greene County, Tennessee | 44 | 0.7988 | 0.7888 | 99944
44300 | Grundy County, Tennessee | 44 | 0.7988 | 0.7888 | 99944
44310 | Hamblen County, Tennessee | 44 | 0.7988 | 0.8753 | 34100
44320 | Hamilton County, Tennessee | 1560 | 0.9098 | 0.9098 | 16860
44330 | Hancock County, Tennessee | 44 | 0.7988 | 0.7888 | 99944
44340 | Hardeman County, Tennessee | 44 | 0.7988 | 0.7888 | 99944
44350 | Hardin County, Tennessee | 44 | 0.7988 | 0.7888 | 99944
44360 | Hawkins County, Tennessee | 3660 | 0.8015 | 0.8062 | 28700
44370 | Haywood County, Tennessee | 44 | 0.7988 | 0.7888 | 99944
44380 | Henderson County, Tennessee | 44 | 0.7988 | 0.7888 | 99944
44390 | Henry County, Tennessee | 44 | 0.7988 | 0.7888 | 99944
44400 | Hickman County, Tennessee | 44 | 0.7988 | 0.9769 | 34980
44410 | Houston County, Tennessee | 44 | 0.7988 | 0.7888 | 99944
44420 | Humphreys County, Tennessee | 44 | 0.7988 | 0.7888 | 99944
44430 | Jackson County, Tennessee | 44 | 0.7988 | 0.7888 | 99944
44440 | Jefferson County, Tennessee | 44 | 0.7988 | 0.8753 | 34100
44450 | Johnson County, Tennessee | 44 | 0.7988 | 0.7888 | 99944
44460 | Knox County, Tennessee | 3840 | 0.8411 | 0.8454 | 28940
44470 | Lake County, Tennessee | 44 | 0.7988 | 0.7888 | 99944
44480 | Lauderdale County, Tennessee | 44 | 0.7988 | 0.7888 | 99944
44490 | Lawrence County, Tennessee | 44 | 0.7988 | 0.7888 | 99944
44500 | Lewis County, Tennessee | 44 | 0.7988 | 0.7888 | 99944
44510 | Lincoln County, Tennessee | 44 | 0.7988 | 0.7888 | 99944
44520 | Loudon County, Tennessee | 3840 | 0.8411 | 0.8454 | 28940
44530 | Mc Minn County, Tennessee | 44 | 0.7988 | 0.7888 | 99944
44540 | Mc Nairy County, Tennessee | 44 | 0.7988 | 0.7888 | 99944
44550 | Macon County, Tennessee | 44 | 0.7988 | 0.9769 | 34980
44560 | Madison County, Tennessee | 3580 | 0.8973 | 0.8973 | 27180
44570 | Marion County, Tennessee | 1560 | 0.9098 | 0.9098 | 16860
44580 | Marshall County, Tennessee | 44 | 0.7988 | 0.7888 | 99944
44590 | Maury County, Tennessee | 44 | 0.7988 | 0.7888 | 99944
44600 | Meigs County, Tennessee | 44 | 0.7988 | 0.7888 | 99944
44610 | Monroe County, Tennessee | 44 | 0.7988 | 0.7888 | 99944
44620 | Montgomery County, Tennessee | 1660 | 0.8292 | 0.8292 | 17300
44630 | Moore County, Tennessee | 44 | 0.7988 | 0.7888 | 99944
44640 | Morgan County, Tennessee | 44 | 0.7988 | 0.7888 | 99944
44650 | Obion County, Tennessee | 44 | 0.7988 | 0.7888 | 99944
44660 | Overton County, Tennessee | 44 | 0.7988 | 0.7888 | 99944
44670 | Perry County, Tennessee | 44 | 0.7988 | 0.7888 | 99944
44680 | Pickett County, Tennessee | 44 | 0.7988 | 0.7888 | 99944
44690 | Polk County, Tennessee | 44 | 0.7988 | 0.8141 | 17420
44700 | Putnam County, Tennessee | 44 | 0.7988 | 0.7888 | 99944
44710 | Rhea County, Tennessee | 44 | 0.7988 | 0.7888 | 99944
44720 | Roane County, Tennessee | 44 | 0.7988 | 0.7888 | 99944
44730 | Robertson County, Tennessee | 5360 | 0.9787 | 0.9769 | 34980
44740 | Rutherford County, Tennessee | 5360 | 0.9787 | 0.9769 | 34980
44750 | Scott County, Tennessee | 44 | 0.7988 | 0.7888 | 99944
44760 | Sequatchie County, Tennessee | 44 | 0.7988 | 0.9098 | 16860
44770 | Sevier County, Tennessee | 3840 | 0.8411 | 0.7888 | 99944
44780 | Shelby County, Tennessee | 4920 | 0.9360 | 0.9341 | 32820
44790 | Smith County, Tennessee | 44 | 0.7988 | 0.9769 | 34980
44800 | Stewart County, Tennessee | 44 | 0.7988 | 0.8292 | 17300
44810 | Sullivan County, Tennessee | 3660 | 0.8015 | 0.8062 | 28700
44820 | Sumner County, Tennessee | 5360 | 0.9787 | 0.9769 | 34980
44830 | Tipton County, Tennessee | 4920 | 0.9360 | 0.9341 | 32820
44840 | Trousdale County, Tennessee | 44 | 0.7988 | 0.9769 | 34980
44850 | Unicoi County, Tennessee | 3660 | 0.8015 | 0.7945 | 27740
44860 | Union County, Tennessee | 3840 | 0.8411 | 0.8454 | 28940
44870 | Van Buren County, Tennessee | 44 | 0.7988 | 0.7888 | 99944
44880 | Warren County, Tennessee | 44 | 0.7988 | 0.7888 | 99944
44890 | Washington County, Tennessee | 3660 | 0.8015 | 0.7945 | 27740
44900 | Wayne County, Tennessee | 44 | 0.7988 | 0.7888 | 99944
44910 | Weakley County, Tennessee | 44 | 0.7988 | 0.7888 | 99944
44920 | White County, Tennessee | 44 | 0.7988 | 0.7888 | 99944
44930 | Williamson County, Tennessee | 5360 | 0.9787 | 0.9769 | 34980
44940 | Wilson County, Tennessee | 5360 | 0.9787 | 0.9769 | 34980
45000 | Anderson County, Texas | 45 | 0.7936 | 0.8007 | 99945
45010 | Andrews County, Texas | 45 | 0.7936 | 0.8007 | 99945
45020 | Angelina County, Texas | 45 | 0.7936 | 0.8007 | 99945
45030 | Aransas County, Texas | 45 | 0.7936 | 0.8559 | 18580
45040 | Archer County, Texas | 9080 | 0.8373 | 0.8294 | 48660
45050 | Armstrong County, Texas | 45 | 0.7936 | 0.9166 | 11100
45060 | Atascosa County, Texas | 45 | 0.7936 | 0.8989 | 41700
45070 | Austin County, Texas | 45 | 0.7936 | 1.0005 | 26420
45080 | Bailey County, Texas | 45 | 0.7936 | 0.8007 | 99945
45090 | Bandera County, Texas | 45 | 0.7936 | 0.8989 | 41700
45100 | Bastrop County, Texas | 0640 | 0.9450 | 0.9450 | 12420
45110 | Baylor County, Texas | 45 | 0.7936 | 0.8007 | 99945
45113 | Bee County, Texas | 45 | 0.7936 | 0.8007 | 99945
45120 | Bell County, Texas | 3810 | 0.8535 | 0.8535 | 28660
45130 | Bexar County, Texas | 7240 | 0.8993 | 0.8989 | 41700
45140 | Blanco County, Texas | 45 | 0.7936 | 0.8007 | 99945
45150 | Borden County, Texas | 45 | 0.7936 | 0.8007 | 99945
45160 | Bosque County, Texas | 45 | 0.7936 | 0.8007 | 99945
45170 | Bowie County, Texas | 8360 | 0.8291 | 0.8291 | 45500
45180 | Brazoria County, Texas | 1145 | 0.8572 | 1.0005 | 26420
45190 | Brazos County, Texas | 1260 | 0.8909 | 0.8909 | 17780
45200 | Brewster County, Texas | 45 | 0.7936 | 0.8007 | 99945
45201 | Briscoe County, Texas | 45 | 0.7936 | 0.8007 | 99945
45210 | Brooks County, Texas | 45 | 0.7936 | 0.8007 | 99945
45220 | Brown County, Texas | 45 | 0.7936 | 0.8007 | 99945
45221 | Burleson County, Texas | 45 | 0.7936 | 0.8909 | 17780
45222 | Burnet County, Texas | 45 | 0.7936 | 0.8007 | 99945
45223 | Caldwell County, Texas | 0640 | 0.9450 | 0.9450 | 12420
45224 | Calhoun County, Texas | 45 | 0.7936 | 0.8168 | 47020
45230 | Callahan County, Texas | 45 | 0.7936 | 0.7904 | 10180
45240 | Cameron County, Texas | 1240 | 0.9822 | 0.9822 | 15180
45250 | Camp County, Texas | 45 | 0.7936 | 0.8007 | 99945
45251 | Carson County, Texas | 45 | 0.7936 | 0.9166 | 11100
45260 | Cass County, Texas | 45 | 0.7936 | 0.8007 | 99945
45270 | Castro County, Texas | 45 | 0.7936 | 0.8007 | 99945
45280 | Chambers County, Texas | 3360 | 1.0101 | 1.0005 | 26420
45281 | Cherokee County, Texas | 45 | 0.7936 | 0.8007 | 99945
45290 | Childress County, Texas | 45 | 0.7936 | 0.8007 | 99945
45291 | Clay County, Texas | 45 | 0.7936 | 0.8294 | 48660
45292 | Cochran County, Texas | 45 | 0.7936 | 0.8007 | 99945
45300 | Coke County, Texas | 45 | 0.7936 | 0.8007 | 99945
45301 | Coleman County, Texas | 45 | 0.7936 | 0.8007 | 99945
45310 | Collin County, Texas | 1920 | 1.0211 | 1.0233 | 19124
45311 | Collingsworth County, Texas | 45 | 0.7936 | 0.8007 | 99945
45312 | Colorado County, Texas | 45 | 0.7936 | 0.8007 | 99945
45320 | Comal County, Texas | 7240 | 0.8993 | 0.8989 | 41700
45321 | Comanche County, Texas | 45 | 0.7936 | 0.8007 | 99945
45330 | Concho County, Texas | 45 | 0.7936 | 0.8007 | 99945
45340 | Cooke County, Texas | 45 | 0.7936 | 0.8007 | 99945
45341 | Coryell County, Texas | 3810 | 0.8535 | 0.8535 | 28660
45350 | Cottle County, Texas | 45 | 0.7936 | 0.8007 | 99945
45360 | Crane County, Texas | 45 | 0.7936 | 0.8007 | 99945
45361 | Crockett County, Texas | 45 | 0.7936 | 0.8007 | 99945
45362 | Crosby County, Texas | 45 | 0.7936 | 0.8792 | 31180
45370 | Culberson County, Texas | 45 | 0.7936 | 0.8007 | 99945
45380 | Dallam County, Texas | 45 | 0.7936 | 0.8007 | 99945
45390 | Dallas County, Texas | 1920 | 1.0211 | 1.0233 | 19124
45391 | Dawson County, Texas | 45 | 0.7936 | 0.8007 | 99945
45392 | Deaf Smith County, Texas | 45 | 0.7936 | 0.8007 | 99945
45400 | Delta County, Texas | 45 | 0.7936 | 1.0233 | 19124
45410 | Denton County, Texas | 1920 | 1.0211 | 1.0233 | 19124
45420 | De Witt County, Texas | 45 | 0.7936 | 0.8007 | 99945
45421 | Dickens County, Texas | 45 | 0.7936 | 0.8007 | 99945
45430 | Dimmit County, Texas | 45 | 0.7936 | 0.8007 | 99945
45431 | Donley County, Texas | 45 | 0.7936 | 0.8007 | 99945
45440 | Duval County, Texas | 45 | 0.7936 | 0.8007 | 99945
45450 | Eastland County, Texas | 45 | 0.7936 | 0.8007 | 99945
45451 | Ector County, Texas | 5800 | 0.9751 | 0.9894 | 36220
45460 | Edwards County, Texas | 45 | 0.7936 | 0.8007 | 99945
45470 | Ellis County, Texas | 1920 | 1.0211 | 1.0233 | 19124
45480 | El Paso County, Texas | 2320 | 0.8924 | 0.8924 | 21340
45490 | Erath County, Texas | 45 | 0.7936 | 0.8007 | 99945
45500 | Falls County, Texas | 45 | 0.7936 | 0.8007 | 99945
45510 | Fannin County, Texas | 45 | 0.7936 | 0.8007 | 99945
45511 | Fayette County, Texas | 45 | 0.7936 | 0.8007 | 99945
45520 | Fisher County, Texas | 45 | 0.7936 | 0.8007 | 99945
45521 | Floyd County, Texas | 45 | 0.7936 | 0.8007 | 99945
45522 | Foard County, Texas | 45 | 0.7936 | 0.8007 | 99945
45530 | Fort Bend County, Texas | 3360 | 1.0101 | 1.0005 | 26420
45531 | Franklin County, Texas | 45 | 0.7936 | 0.8007 | 99945
45540 | Freestone County, Texas | 45 | 0.7936 | 0.8007 | 99945
45541 | Frio County, Texas | 45 | 0.7936 | 0.8007 | 99945
45542 | Gaines County, Texas | 45 | 0.7936 | 0.8007 | 99945
45550 | Galveston County, Texas | 2920 | 0.9645 | 1.0005 | 26420
45551 | Garza County, Texas | 45 | 0.7936 | 0.8007 | 99945
45552 | Gillespie County, Texas | 45 | 0.7936 | 0.8007 | 99945
45560 | Glasscock County, Texas | 45 | 0.7936 | 0.8007 | 99945
45561 | Goliad County, Texas | 45 | 0.7936 | 0.8168 | 47020
45562 | Gonzales County, Texas | 45 | 0.7936 | 0.8007 | 99945
45563 | Gray County, Texas | 45 | 0.7936 | 0.8007 | 99945
45564 | Grayson County, Texas | 7640 | 0.9516 | 0.9516 | 43300
45570 | Gregg County, Texas | 4420 | 0.8897 | 0.8739 | 30980
45580 | Grimes County, Texas | 45 | 0.7936 | 0.8007 | 99945
45581 | Guadaloupe County, Texas | 7240 | 0.8993 | 0.8989 | 41700
45582 | Hale County, Texas | 45 | 0.7936 | 0.8007 | 99945
45583 | Hall County, Texas | 45 | 0.7936 | 0.8007 | 99945
45590 | Hamilton County, Texas | 45 | 0.7936 | 0.8007 | 99945
45591 | Hansford County, Texas | 45 | 0.7936 | 0.8007 | 99945
45592 | Hardeman County, Texas | 45 | 0.7936 | 0.8007 | 99945
45600 | Hardin County, Texas | 0840 | 0.8421 | 0.8421 | 13140
45610 | Harris County, Texas | 3360 | 1.0101 | 1.0005 | 26420
45620 | Harrison County, Texas | 4420 | 0.8897 | 0.8007 | 99945
45621 | Hartley County, Texas | 45 | 0.7936 | 0.8007 | 99945
45630 | Haskell County, Texas | 45 | 0.7936 | 0.8007 | 99945
45631 | Hays County, Texas | 0640 | 0.9450 | 0.9450 | 12420
45632 | Hemphill County, Texas | 45 | 0.7936 | 0.8007 | 99945
45640 | Henderson County, Texas | 1920 | 1.0211 | 0.8007 | 99945
45650 | Hidalgo County, Texas | 4880 | 0.8943 | 0.8943 | 32580
45651 | Hill County, Texas | 45 | 0.7936 | 0.8007 | 99945
45652 | Hockley County, Texas | 45 | 0.7936 | 0.8007 | 99945
45653 | Hood County, Texas | 2800 | 0.9545 | 0.8007 | 99945
45654 | Hopkins County, Texas | 45 | 0.7936 | 0.8007 | 99945
45660 | Houston County, Texas | 45 | 0.7936 | 0.8007 | 99945
45661 | Howard County, Texas | 45 | 0.7936 | 0.8007 | 99945
45662 | Hudspeth County, Texas | 45 | 0.7936 | 0.8007 | 99945
45670 | Hunt County, Texas | 1920 | 1.0211 | 1.0233 | 19124
45671 | Hutchinson County, Texas | 45 | 0.7936 | 0.8007 | 99945
45672 | Irion County, Texas | 45 | 0.7936 | 0.8280 | 41660
45680 | Jack County, Texas | 45 | 0.7936 | 0.8007 | 99945
45681 | Jackson County, Texas | 45 | 0.7936 | 0.8007 | 99945
45690 | Jasper County, Texas | 45 | 0.7936 | 0.8007 | 99945
45691 | Jeff Davis County, Texas | 45 | 0.7936 | 0.8007 | 99945
45700 | Jefferson County, Texas | 0840 | 0.8421 | 0.8421 | 13140
45710 | Jim Hogg County, Texas | 45 | 0.7936 | 0.8007 | 99945
45711 | Jim Wells County, Texas | 45 | 0.7936 | 0.8007 | 99945
45720 | Johnson County, Texas | 2800 | 0.9545 | 0.9510 | 23104
45721 | Jones County, Texas | 45 | 0.7936 | 0.7904 | 10180
45722 | Karnes County, Texas | 45 | 0.7936 | 0.8007 | 99945
45730 | Kaufman County, Texas | 1920 | 1.0211 | 1.0233 | 19124
45731 | Kendall County, Texas | 45 | 0.7936 | 0.8989 | 41700
45732 | Kenedy County, Texas | 45 | 0.7936 | 0.8007 | 99945
45733 | Kent County, Texas | 45 | 0.7936 | 0.8007 | 99945
45734 | Kerr County, Texas | 45 | 0.7936 | 0.8007 | 99945
45740 | Kimble County, Texas | 45 | 0.7936 | 0.8007 | 99945
45741 | King County, Texas | 45 | 0.7936 | 0.8007 | 99945
45742 | Kinney County, Texas | 45 | 0.7936 | 0.8007 | 99945
45743 | Kleberg County, Texas | 45 | 0.7936 | 0.8007 | 99945
45744 | Knox County, Texas | 45 | 0.7936 | 0.8007 | 99945
45750 | Lamar County, Texas | 45 | 0.7936 | 0.8007 | 99945
45751 | Lamb County, Texas | 45 | 0.7936 | 0.8007 | 99945
45752 | Lampasas County, Texas | 45 | 0.7936 | 0.8535 | 28660
45753 | La Salle County, Texas | 45 | 0.7936 | 0.8007 | 99945
45754 | Lavaca County, Texas | 45 | 0.7936 | 0.8007 | 99945
45755 | Lee County, Texas | 45 | 0.7936 | 0.8007 | 99945
45756 | Leon County, Texas | 45 | 0.7936 | 0.8007 | 99945
45757 | Liberty County, Texas | 3360 | 1.0101 | 1.0005 | 26420
45758 | Limestone County, Texas | 45 | 0.7936 | 0.8007 | 99945
45759 | Lipscomb County, Texas | 45 | 0.7936 | 0.8007 | 99945
45760 | Live Oak County, Texas | 45 | 0.7936 | 0.8007 | 99945
45761 | Llano County, Texas | 45 | 0.7936 | 0.8007 | 99945
45762 | Loving County, Texas | 45 | 0.7936 | 0.8007 | 99945
45770 | Lubbock County, Texas | 4600 | 0.8792 | 0.8792 | 31180
45771 | Lynn County, Texas | 45 | 0.7936 | 0.8007 | 99945
45772 | Mc Culloch County, Texas | 45 | 0.7936 | 0.8007 | 99945
45780 | Mc Lennan County, Texas | 8800 | 0.8527 | 0.8527 | 47380
45781 | Mc Mullen County, Texas | 45 | 0.7936 | 0.8007 | 99945
45782 | Madison County, Texas | 45 | 0.7936 | 0.8007 | 99945
45783 | Marion County, Texas | 45 | 0.7936 | 0.8007 | 99945
45784 | Martin County, Texas | 45 | 0.7936 | 0.8007 | 99945
45785 | Mason County, Texas | 45 | 0.7936 | 0.8007 | 99945
45790 | Matagorda County, Texas | 45 | 0.7936 | 0.8007 | 99945
45791 | Maverick County, Texas | 45 | 0.7936 | 0.8007 | 99945
45792 | Medina County, Texas | 45 | 0.7936 | 0.8989 | 41700
45793 | Menard County, Texas | 45 | 0.7936 | 0.8007 | 99945
45794 | Midland County, Texas | 5800 | 0.9751 | 0.9523 | 33260
45795 | Milam County, Texas | 45 | 0.7936 | 0.8007 | 99945
45796 | Mills County, Texas | 45 | 0.7936 | 0.8007 | 99945
45797 | Mitchell County, Texas | 45 | 0.7936 | 0.8007 | 99945
45800 | Montague County, Texas | 45 | 0.7936 | 0.8007 | 99945
45801 | Montgomery County, Texas | 3360 | 1.0101 | 1.0005 | 26420
45802 | Moore County, Texas | 45 | 0.7936 | 0.8007 | 99945
45803 | Morris County, Texas | 45 | 0.7936 | 0.8007 | 99945
45804 | Motley County, Texas | 45 | 0.7936 | 0.8007 | 99945
45810 | Nacogdoches County, Texas | 45 | 0.7936 | 0.8007 | 99945
45820 | Navarro County, Texas | 45 | 0.7936 | 0.8007 | 99945
45821 | Newton County, Texas | 45 | 0.7936 | 0.8007 | 99945
45822 | Nolan County, Texas | 45 | 0.7936 | 0.8007 | 99945
45830 | Nueces County, Texas | 1880 | 0.8559 | 0.8559 | 18580
45831 | Ochiltree County, Texas | 45 | 0.7936 | 0.8007 | 99945
45832 | Oldham County, Texas | 45 | 0.7936 | 0.8007 | 99945
45840 | Orange County, Texas | 0840 | 0.8421 | 0.8421 | 13140
45841 | Palo Pinto County, Texas | 45 | 0.7936 | 0.8007 | 99945
45842 | Panola County, Texas | 45 | 0.7936 | 0.8007 | 99945
45843 | Parker County, Texas | 2800 | 0.9545 | 0.9510 | 23104
45844 | Parmer County, Texas | 45 | 0.7936 | 0.8007 | 99945
45845 | Pecos County, Texas | 45 | 0.7936 | 0.8007 | 99945
45850 | Polk County, Texas | 45 | 0.7936 | 0.8007 | 99945
45860 | Potter County, Texas | 0320 | 0.9166 | 0.9166 | 11100
45861 | Presidio County, Texas | 45 | 0.7936 | 0.8007 | 99945
45870 | Rains County, Texas | 45 | 0.7936 | 0.8007 | 99945
45871 | Randall County, Texas | 0320 | 0.9166 | 0.9166 | 11100
45872 | Reagan County, Texas | 45 | 0.7936 | 0.8007 | 99945
45873 | Real County, Texas | 45 | 0.7936 | 0.8007 | 99945
45874 | Red River County, Texas | 45 | 0.7936 | 0.8007 | 99945
45875 | Reeves County, Texas | 45 | 0.7936 | 0.8007 | 99945
45876 | Refugio County, Texas | 45 | 0.7936 | 0.8007 | 99945
45877 | Roberts County, Texas | 45 | 0.7936 | 0.8007 | 99945
45878 | Robertson County, Texas | 45 | 0.7936 | 0.8909 | 17780
45879 | Rockwall County, Texas | 1920 | 1.0211 | 1.0233 | 19124
45880 | Runnels County, Texas | 45 | 0.7936 | 0.8007 | 99945
45881 | Rusk County, Texas | 45 | 0.7936 | 0.8739 | 30980
45882 | Sabine County, Texas | 45 | 0.7936 | 0.8007 | 99945
45883 | San Augustine County, Texas | 45 | 0.7936 | 0.8007 | 99945
45884 | San Jacinto County, Texas | 45 | 0.7936 | 1.0005 | 26420
45885 | San Patricio County, Texas | 1880 | 0.8559 | 0.8559 | 18580
45886 | San Saba County, Texas | 45 | 0.7936 | 0.8007 | 99945
45887 | Schleicher County, Texas | 45 | 0.7936 | 0.8007 | 99945
45888 | Scurry County, Texas | 45 | 0.7936 | 0.8007 | 99945
45889 | Shackelford County, Texas | 45 | 0.7936 | 0.8007 | 99945
45890 | Shelby County, Texas | 45 | 0.7936 | 0.8007 | 99945
45891 | Sherman County, Texas | 45 | 0.7936 | 0.8007 | 99945
45892 | Smith County, Texas | 8640 | 0.9307 | 0.9307 | 46340
45893 | Somervell County, Texas | 45 | 0.7936 | 0.8007 | 99945
45900 | Starr County, Texas | 45 | 0.7936 | 0.8007 | 99945
45901 | Stephens County, Texas | 45 | 0.7936 | 0.8007 | 99945
45902 | Sterling County, Texas | 45 | 0.7936 | 0.8007 | 99945
45903 | Stonewall County, Texas | 45 | 0.7936 | 0.8007 | 99945
45904 | Sutton County, Texas | 45 | 0.7936 | 0.8007 | 99945
45905 | Swisher County, Texas | 45 | 0.7936 | 0.8007 | 99945
45910 | Tarrant County, Texas | 2800 | 0.9545 | 0.9510 | 23104
45911 | Taylor County, Texas | 0040 | 0.8062 | 0.7904 | 10180
45912 | Terrell County, Texas | 45 | 0.7936 | 0.8007 | 99945
45913 | Terry County, Texas | 45 | 0.7936 | 0.8007 | 99945
45920 | Throckmorton County, Texas | 45 | 0.7936 | 0.8007 | 99945
45921 | Titus County, Texas | 45 | 0.7936 | 0.8007 | 99945
45930 | Tom Green County, Texas | 7200 | 0.8280 | 0.8280 | 41660
45940 | Travis County, Texas | 0640 | 0.9450 | 0.9450 | 12420
45941 | Trinity County, Texas | 45 | 0.7936 | 0.8007 | 99945
45942 | Tyler County, Texas | 45 | 0.7936 | 0.8007 | 99945
45943 | Upshur County, Texas | 4420 | 0.8897 | 0.8739 | 30980
45944 | Upton County, Texas | 45 | 0.7936 | 0.8007 | 99945
45945 | Uvalde County, Texas | 45 | 0.7936 | 0.8007 | 99945
45946 | Val Verde County, Texas | 45 | 0.7936 | 0.8007 | 99945
45947 | Van Zandt County, Texas | 45 | 0.7936 | 0.8007 | 99945
45948 | Victoria County, Texas | 8750 | 0.8168 | 0.8168 | 47020
45949 | Walker County, Texas | 45 | 0.7936 | 0.8007 | 99945
45950 | Waller County, Texas | 3360 | 1.0101 | 1.0005 | 26420
45951 | Ward County, Texas | 45 | 0.7936 | 0.8007 | 99945
45952 | Washington County, Texas | 45 | 0.7936 | 0.8007 | 99945
45953 | Webb County, Texas | 4080 | 0.8076 | 0.8076 | 29700
45954 | Wharton County, Texas | 45 | 0.7936 | 0.8007 | 99945
45955 | Wheeler County, Texas | 45 | 0.7936 | 0.8007 | 99945
45960 | Wichita County, Texas | 9080 | 0.8373 | 0.8294 | 48660
45961 | Wilbarger County, Texas | 45 | 0.7936 | 0.8007 | 99945
45962 | Willacy County, Texas | 45 | 0.7936 | 0.8007 | 99945
45970 | Williamson County, Texas | 0640 | 0.9450 | 0.9450 | 12420
45971 | Wilson County, Texas | 7240 | 0.8993 | 0.8989 | 41700
45972 | Winkler County, Texas | 45 | 0.7936 | 0.8007 | 99945
45973 | Wise County, Texas | 45 | 0.7936 | 0.9510 | 23104
45974 | Wood County, Texas | 45 | 0.7936 | 0.8007 | 99945
45980 | Yoakum County, Texas | 45 | 0.7936 | 0.8007 | 99945
45981 | Young County, Texas | 45 | 0.7936 | 0.8007 | 99945
45982 | Zapata County, Texas | 45 | 0.7936 | 0.8007 | 99945
45983 | Zavala County, Texas | 45 | 0.7936 | 0.8007 | 99945
46000 | Beaver County, Utah | 46 | 0.8779 | 0.8126 | 99946
46010 | Box Elder County, Utah | 46 | 0.8779 | 0.8126 | 99946
46020 | Cache County, Utah | 46 | 0.8779 | 0.9173 | 30860
46030 | Carbon County, Utah | 46 | 0.8779 | 0.8126 | 99946
46040 | Daggett County, Utah | 46 | 0.8779 | 0.8126 | 99946
46050 | Davis County, Utah | 7160 | 0.9350 | 0.9038 | 36260
46060 | Duchesne County, Utah | 46 | 0.8779 | 0.8126 | 99946
46070 | Emery County, Utah | 46 | 0.8779 | 0.8126 | 99946
46080 | Garfield County, Utah | 46 | 0.8779 | 0.8126 | 99946
46090 | Grand County, Utah | 46 | 0.8779 | 0.8126 | 99946
46100 | Iron County, Utah | 46 | 0.8779 | 0.8126 | 99946
46110 | Juab County, Utah | 46 | 0.8779 | 0.9510 | 39340
46120 | Kane County, Utah | 2620 | 1.1857 | 0.8126 | 99946
46130 | Millard County, Utah | 46 | 0.8779 | 0.8126 | 99946
46140 | Morgan County, Utah | 46 | 0.8779 | 0.9038 | 36260
46150 | Piute County, Utah | 46 | 0.8779 | 0.8126 | 99946
46160 | Rich County, Utah | 46 | 0.8779 | 0.8126 | 99946
46170 | Salt Lake County, Utah | 7160 | 0.9350 | 0.9433 | 41620
46180 | San Juan County, Utah | 46 | 0.8779 | 0.8126 | 99946
46190 | Sanpete County, Utah | 46 | 0.8779 | 0.8126 | 99946
46200 | Sevier County, Utah | 46 | 0.8779 | 0.8126 | 99946
46210 | Summit County, Utah | 46 | 0.8779 | 0.9433 | 41620
46220 | Tooele County, Utah | 46 | 0.8779 | 0.9433 | 41620
46230 | Uintah County, Utah | 46 | 0.8779 | 0.8126 | 99946
46240 | Utah County, Utah | 6520 | 0.9510 | 0.9510 | 39340
46250 | Wasatch County, Utah | 46 | 0.8779 | 0.8126 | 99946
46260 | Washington County, Utah | 46 | 0.8779 | 0.9402 | 41100
46270 | Wayne County, Utah | 46 | 0.8779 | 0.8126 | 99946
46280 | Weber County, Utah | 7160 | 0.9350 | 0.9038 | 36260
47000 | Addison County, Vermont | 47 | 0.9840 | 0.9840 | 99947
47010 | Bennington County, Vermont | 47 | 0.9840 | 0.9840 | 99947
47020 | Caledonia County, Vermont | 47 | 0.9840 | 0.9840 | 99947
47030 | Chittenden County, Vermont | 1303 | 0.9446 | 0.9446 | 15540
47040 | Essex County, Vermont | 47 | 0.9840 | 0.9840 | 99947
47050 | Franklin County, Vermont | 1303 | 0.9446 | 0.9446 | 15540
47060 | Grand Isle County, Vermont | 1303 | 0.9446 | 0.9446 | 15540
47070 | Lamoille County, Vermont | 47 | 0.9840 | 0.9840 | 99947
47080 | Orange County, Vermont | 47 | 0.9840 | 0.9840 | 99947
47090 | Orleans County, Vermont | 47 | 0.9840 | 0.9840 | 99947
47100 | Rutland County, Vermont | 47 | 0.9840 | 0.9840 | 99947
47110 | Washington County, Vermont | 47 | 0.9840 | 0.9840 | 99947
47120 | Windham County, Vermont | 47 | 0.9840 | 0.9840 | 99947
47130 | Windsor County, Vermont | 47 | 0.9840 | 0.9840 | 99947
49000 | Accomack County, Virginia | 49 | 0.8420 | 0.8012 | 99949
49010 | Albemarle County, Virginia | 1540 | 1.0234 | 1.0234 | 16820
49011 | Alexandria City County, Virginia | 8840 | 1.0983 | 1.0932 | 47894
49020 | Alleghany County, Virginia | 49 | 0.8420 | 0.8012 | 99949
49030 | Amelia County, Virginia | 49 | 0.8420 | 0.9338 | 40060
49040 | Amherst County, Virginia | 4640 | 0.8700 | 0.8700 | 31340
49050 | Appomattox County, Virginia | 49 | 0.8420 | 0.8700 | 31340
49060 | Arlington County, Virginia | 8840 | 1.0983 | 1.0932 | 47894
49070 | Augusta County, Virginia | 49 | 0.8420 | 0.8012 | 99949
49080 | Bath County, Virginia | 49 | 0.8420 | 0.8012 | 99949
49088 | Bedford City County, Virginia | 4640 | 0.8700 | 0.8700 | 31340
49090 | Bedford County, Virginia | 4640 | 0.8700 | 0.8700 | 31340
49100 | Bland County, Virginia | 49 | 0.8420 | 0.8012 | 99949
49110 | Botetourt County, Virginia | 6800 | 0.8395 | 0.8383 | 40220
49111 | Bristol City County, Virginia | 3660 | 0.8015 | 0.8062 | 28700
49120 | Brunswick County, Virginia | 49 | 0.8420 | 0.8012 | 99949
49130 | Buchanan County, Virginia | 49 | 0.8420 | 0.8012 | 99949
49140 | Buckingham County, Virginia | 49 | 0.8420 | 0.8012 | 99949
49141 | Buena Vista City County, Virginia | 49 | 0.8420 | 0.8012 | 99949
49150 | Campbell County, Virginia | 4640 | 0.8700 | 0.8700 | 31340
49160 | Caroline County, Virginia | 49 | 0.8420 | 0.9338 | 40060
49170 | Carroll County, Virginia | 49 | 0.8420 | 0.8012 | 99949
49180 | Charles City County, Virginia | 6760 | 0.9338 | 0.9338 | 40060
49190 | Charlotte County, Virginia | 49 | 0.8420 | 0.8012 | 99949
49191 | Charlottesville City County, Virginia | 1540 | 1.0234 | 1.0234 | 16820
49194 | Chesapeake County, Virginia | 5720 | 0.8808 | 0.8808 | 47260
49200 | Chesterfield County, Virginia | 6760 | 0.9338 | 0.9338 | 40060
49210 | Clarke County, Virginia | 8840 | 1.0983 | 1.0932 | 47894
49211 | Clifton Forge City County, Virginia | 49 | 0.8420 | 0.8012 | 99949
49212 | Colonial Heights County, Virginia | 6760 | 0.9338 | 0.9338 | 40060
49213 | Covington City County, Virginia | 49 | 0.8420 | 0.8012 | 99949
49220 | Craig County, Virginia | 49 | 0.8420 | 0.8383 | 40220
49230 | Culpeper County, Virginia | 8840 | 1.0983 | 0.8012 | 99949
49240 | Cumberland County, Virginia | 49 | 0.8420 | 0.9338 | 40060
49241 | Danville City County, Virginia | 1950 | 0.8497 | 0.8497 | 19260
49250 | Dickenson County, Virginia | 49 | 0.8420 | 0.8012 | 99949
49260 | Dinniddie County, Virginia | 6760 | 0.9338 | 0.9338 | 40060
49270 | Emporia County, Virginia | 49 | 0.8420 | 0.8012 | 99949
49280 | Essex County, Virginia | 49 | 0.8420 | 0.8012 | 99949
49288 | Fairfax City County, Virginia | 8840 | 1.0983 | 1.0932 | 47894
49290 | Fairfax County, Virginia | 8840 | 1.0983 | 1.0932 | 47894
49291 | Falls Church City County, Virginia | 8840 | 1.0983 | 1.0932 | 47894
49300 | Fauquier County, Virginia | 8840 | 1.0983 | 1.0932 | 47894
49310 | Floyd County, Virginia | 49 | 0.8420 | 0.8012 | 99949
49320 | Fluvanna County, Virginia | 1540 | 1.0234 | 1.0234 | 16820
49328 | Franklin City County, Virginia | 49 | 0.8420 | 0.8012 | 99949
49330 | Franklin County, Virginia | 49 | 0.8420 | 0.8383 | 40220
49340 | Frederick County, Virginia | 49 | 0.8420 | 1.0224 | 49020
49342 | Fredericksburg City County, Virginia | 8840 | 1.0983 | 1.0932 | 47894
49343 | Galax City County, Virginia | 49 | 0.8420 | 0.8012 | 99949
49350 | Giles County, Virginia | 49 | 0.8420 | 0.7962 | 13980
49360 | Gloucester County, Virginia | 5720 | 0.8808 | 0.8808 | 47260
49370 | Goochland County, Virginia | 6760 | 0.9338 | 0.9338 | 40060
49380 | Grayson County, Virginia | 49 | 0.8420 | 0.8012 | 99949
49390 | Greene County, Virginia | 1540 | 1.0234 | 1.0234 | 16820
49400 | Greensville County, Virginia | 49 | 0.8420 | 0.8012 | 99949
49410 | Halifax County, Virginia | 49 | 0.8420 | 0.8012 | 99949
49411 | Hampton City County, Virginia | 5720 | 0.8808 | 0.8808 | 47260
49420 | Hanover County, Virginia | 6760 | 0.9338 | 0.9338 | 40060
49421 | Harrisonburg City County, Virginia | 49 | 0.8420 | 0.9098 | 25500
49430 | Henrico County, Virginia | 6760 | 0.9338 | 0.9338 | 40060
49440 | Henry County, Virginia | 49 | 0.8420 | 0.8012 | 99949
49450 | Highland County, Virginia | 49 | 0.8420 | 0.8012 | 99949
49451 | Hopewell City County, Virginia | 6760 | 0.9338 | 0.9338 | 40060
49460 | Isle Of Wight County, Virginia | 5720 | 0.8808 | 0.8808 | 47260
49470 | James City Co County, Virginia | 5720 | 0.8808 | 0.8808 | 47260
49480 | King And Queen County, Virginia | 49 | 0.8420 | 0.9338 | 40060
49490 | King George County, Virginia | 8840 | 1.0983 | 0.8012 | 99949
49500 | King William County, Virginia | 49 | 0.8420 | 0.9338 | 40060
49510 | Lancaster County, Virginia | 49 | 0.8420 | 0.8012 | 99949
49520 | Lee County, Virginia | 49 | 0.8420 | 0.8012 | 99949
49522 | Lexington County, Virginia | 49 | 0.8420 | 0.8012 | 99949
49530 | Loudoun County, Virginia | 8840 | 1.0983 | 1.0932 | 47894
49540 | Louisa County, Virginia | 49 | 0.8420 | 0.9338 | 40060
49550 | Lunenburg County, Virginia | 49 | 0.8420 | 0.8012 | 99949
49551 | Lynchburg City County, Virginia | 4640 | 0.8700 | 0.8700 | 31340
49560 | Madison County, Virginia | 49 | 0.8420 | 0.8012 | 99949
49561 | Martinsville City County, Virginia | 49 | 0.8420 | 0.8012 | 99949
49563 | Manassas City County, Virginia | 8840 | 1.0983 | 1.0932 | 47894
49565 | Manassas Park City County, Virginia | 8840 | 1.0983 | 1.0932 | 47894
49570 | Mathews County, Virginia | 5720 | 0.8808 | 0.8808 | 47260
49580 | Mecklenburg County, Virginia | 49 | 0.8420 | 0.8012 | 99949
49590 | Middlesex County, Virginia | 49 | 0.8420 | 0.8012 | 99949
49600 | Montgomery County, Virginia | 49 | 0.8420 | 0.7962 | 13980
49610 | Nansemond County, Virginia | 49 | 0.8420 | 0.8012 | 99949
49620 | Nelson County, Virginia | 49 | 0.8420 | 1.0234 | 16820
49621 | New Kent County, Virginia | 6760 | 0.9338 | 0.9338 | 40060
49622 | Newport News City County, Virginia | 5720 | 0.8808 | 0.8808 | 47260
49641 | Norfolk City County, Virginia | 5720 | 0.8808 | 0.8808 | 47260
49650 | Northampton County, Virginia | 49 | 0.8420 | 0.8012 | 99949
49660 | Northumberland County, Virginia | 49 | 0.8420 | 0.8012 | 99949
49661 | Norton City County, Virginia | 49 | 0.8420 | 0.8012 | 99949
49670 | Nottoway County, Virginia | 49 | 0.8420 | 0.8012 | 99949
49680 | Orange County, Virginia | 49 | 0.8420 | 0.8012 | 99949
49690 | Page County, Virginia | 49 | 0.8420 | 0.8012 | 99949
49700 | Patrick County, Virginia | 49 | 0.8420 | 0.8012 | 99949
49701 | Petersburg City County, Virginia | 6760 | 0.9338 | 0.9338 | 40060
49710 | Pittsylvania County, Virginia | 1950 | 0.8497 | 0.8497 | 19260
49711 | Portsmouth City County, Virginia | 5720 | 0.8808 | 0.8808 | 47260
49712 | Poquoson City County, Virginia | 5720 | 0.8808 | 0.8808 | 47260
49720 | Powhatan County, Virginia | 6760 | 0.9338 | 0.9338 | 40060
49730 | Prince Edward County, Virginia | 49 | 0.8420 | 0.8012 | 99949
49740 | Prince George County, Virginia | 6760 | 0.9338 | 0.9338 | 40060
49750 | Prince William County, Virginia | 8840 | 1.0983 | 1.0932 | 47894
49770 | Pulaski County, Virginia | 49 | 0.8420 | 0.7962 | 13980
49771 | Radford City County, Virginia | 49 | 0.8420 | 0.7962 | 13980
49780 | Rappahannock County, Virginia | 49 | 0.8420 | 0.8012 | 99949
49790 | Richmond County, Virginia | 49 | 0.8420 | 0.8012 | 99949
49791 | Richmond City County, Virginia | 6760 | 0.9338 | 0.9338 | 40060
49800 | Roanoke County, Virginia | 6800 | 0.8395 | 0.8383 | 40220
49801 | Roanoke City County, Virginia | 6800 | 0.8395 | 0.8383 | 40220
49810 | Rockbridge County, Virginia | 49 | 0.8420 | 0.8012 | 99949
49820 | Rockingham County, Virginia | 49 | 0.8420 | 0.9098 | 25500
49830 | Russell County, Virginia | 49 | 0.8420 | 0.8012 | 99949
49838 | Salem County, Virginia | 6800 | 0.8395 | 0.8383 | 40220
49840 | Scott County, Virginia | 3660 | 0.8015 | 0.8062 | 28700
49850 | Shenandoah County, Virginia | 49 | 0.8420 | 0.8012 | 99949
49860 | Smyth County, Virginia | 49 | 0.8420 | 0.8012 | 99949
49867 | South Boston City County, Virginia | 49 | 0.8420 | 0.8012 | 99949
49870 | Southampton County, Virginia | 49 | 0.8420 | 0.8012 | 99949
49880 | Spotsylvania County, Virginia | 8840 | 1.0983 | 1.0932 | 47894
49890 | Stafford County, Virginia | 8840 | 1.0983 | 1.0932 | 47894
49891 | Staunton City County, Virginia | 49 | 0.8420 | 0.8012 | 99949
49892 | Suffolk City County, Virginia | 5720 | 0.8808 | 0.8808 | 47260
49900 | Surry County, Virginia | 49 | 0.8420 | 0.8808 | 47260
49910 | Sussex County, Virginia | 49 | 0.8420 | 0.9338 | 40060
49920 | Tazewell County, Virginia | 49 | 0.8420 | 0.8012 | 99949
49921 | Virginia Beach City County, Virginia | 5720 | 0.8808 | 0.8808 | 47260
49930 | Warren County, Virginia | 8840 | 1.0983 | 1.0932 | 47894
49950 | Washington County, Virginia | 3660 | 0.8015 | 0.8062 | 28700
49951 | Waynesboro City County, Virginia | 49 | 0.8420 | 0.8012 | 99949
49960 | Westmoreland County, Virginia | 49 | 0.8420 | 0.8012 | 99949
49961 | Williamsburg City County, Virginia | 5720 | 0.8808 | 0.8808 | 47260
49962 | Winchester City County, Virginia | 49 | 0.8420 | 1.0224 | 49020
49970 | Wise County, Virginia | 49 | 0.8420 | 0.8012 | 99949
49980 | Wythe County, Virginia | 49 | 0.8420 | 0.8012 | 99949
49981 | York County, Virginia | 5720 | 0.8808 | 0.8808 | 47260
50000 | Adams County, Washington | 50 | 1.0194 | 1.0458 | 99950
50010 | Asotin County, Washington | 50 | 1.0194 | 0.9896 | 30300
50020 | Benton County, Washington | 6740 | 1.0630 | 1.0630 | 28420
50030 | Chelan County, Washington | 50 | 1.0194 | 1.0080 | 48300
50040 | Clallam County, Washington | 50 | 1.0194 | 1.0458 | 99950
50050 | Clark County, Washington | 6440 | 1.1260 | 1.1260 | 38900
50060 | Columbia County, Washington | 50 | 1.0194 | 1.0458 | 99950
50070 | Cowlitz County, Washington | 50 | 1.0194 | 0.9523 | 31020
50080 | Douglas County, Washington | 50 | 1.0194 | 1.0080 | 48300
50090 | Ferry County, Washington | 50 | 1.0194 | 1.0458 | 99950
50100 | Franklin County, Washington | 6740 | 1.0630 | 1.0630 | 28420
50110 | Garfield County, Washington | 50 | 1.0194 | 1.0458 | 99950
50120 | Grant County, Washington | 50 | 1.0194 | 1.0458 | 99950
50130 | Grays Harbor County, Washington | 50 | 1.0194 | 1.0458 | 99950
50140 | Island County, Washington | 7600 | 1.1579 | 1.0458 | 99950
50150 | Jefferson County, Washington | 50 | 1.0194 | 1.0458 | 99950
50160 | King County, Washington | 7600 | 1.1579 | 1.1589 | 42644
50170 | Kitsap County, Washington | 1150 | 1.0686 | 1.0686 | 14740
50180 | Kittitas County, Washington | 50 | 1.0194 | 1.0458 | 99950
50190 | Klickitat County, Washington | 50 | 1.0194 | 1.0458 | 99950
50200 | Lewis County, Washington | 50 | 1.0194 | 1.0458 | 99950
50210 | Lincoln County, Washington | 50 | 1.0194 | 1.0458 | 99950
50220 | Mason County, Washington | 50 | 1.0194 | 1.0458 | 99950
50230 | Okanogan County, Washington | 50 | 1.0194 | 1.0458 | 99950
50240 | Pacific County, Washington | 50 | 1.0194 | 1.0458 | 99950
50250 | Pend Oreille County, Washington | 50 | 1.0194 | 1.0458 | 99950
50260 | Pierce County, Washington | 8200 | 1.0753 | 1.0753 | 45104
50270 | San Juan County, Washington | 50 | 1.0194 | 1.0458 | 99950
50280 | Skagit County, Washington | 50 | 1.0194 | 1.0465 | 34580
50290 | Skamania County, Washington | 50 | 1.0194 | 1.1260 | 38900
50300 | Snohomish County, Washington | 7600 | 1.1579 | 1.1589 | 42644
50310 | Spokane County, Washington | 7840 | 1.0916 | 1.0916 | 44060
50320 | Stevens County, Washington | 50 | 1.0194 | 1.0458 | 99950
50330 | Thurston County, Washington | 5910 | 1.0938 | 1.0938 | 36500
50340 | Wahkiakum County, Washington | 50 | 1.0194 | 1.0458 | 99950
50350 | Walla Walla County, Washington | 50 | 1.0194 | 1.0458 | 99950
50360 | Whatcom County, Washington | 0860 | 1.1743 | 1.1743 | 13380
50370 | Whitman County, Washington | 50 | 1.0194 | 1.0458 | 99950
50380 | Yakima County, Washington | 9260 | 1.0165 | 1.0165 | 49420
51000 | Barbour County, W Virginia | 51 | 0.7908 | 0.7725 | 99951
51010 | Berkeley County, W Virginia | 8840 | 1.0983 | 0.9499 | 25180
51020 | Boone County, W Virginia | 51 | 0.7908 | 0.8428 | 16620
51030 | Braxton County, W Virginia | 51 | 0.7908 | 0.7725 | 99951
51040 | Brooke County, W Virginia | 8080 | 0.7827 | 0.7827 | 48260
51050 | Cabell County, W Virginia | 3400 | 0.9486 | 0.9486 | 26580
51060 | Calhoun County, W Virginia | 51 | 0.7908 | 0.7725 | 99951
51070 | Clay County, W Virginia | 51 | 0.7908 | 0.8428 | 16620
51080 | Doddridge County, W Virginia | 51 | 0.7908 | 0.7725 | 99951
51090 | Fayette County, W Virginia | 51 | 0.7908 | 0.7725 | 99951
51100 | Gilmer County, W Virginia | 51 | 0.7908 | 0.7725 | 99951
51110 | Grant County, W Virginia | 51 | 0.7908 | 0.7725 | 99951
51120 | Greenbrier County, W Virginia | 51 | 0.7908 | 0.7725 | 99951
51130 | Hampshire County, W Virginia | 51 | 0.7908 | 1.0224 | 49020
51140 | Hancock County, W Virginia | 8080 | 0.7827 | 0.7827 | 48260
51150 | Hardy County, W Virginia | 51 | 0.7908 | 0.7725 | 99951
51160 | Harrison County, W Virginia | 51 | 0.7908 | 0.7725 | 99951
51170 | Jackson County, W Virginia | 51 | 0.7908 | 0.7725 | 99951
51180 | Jefferson County, W Virginia | 8840 | 1.0983 | 1.0932 | 47894
51190 | Kanawha County, W Virginia | 1480 | 0.8428 | 0.8428 | 16620
51200 | Lewis County, W Virginia | 51 | 0.7908 | 0.7725 | 99951
51210 | Lincoln County, W Virginia | 51 | 0.7908 | 0.8428 | 16620
51220 | Logan County, W Virginia | 51 | 0.7908 | 0.7725 | 99951
51230 | Mc Dowell County, W Virginia | 51 | 0.7908 | 0.7725 | 99951
51240 | Marion County, W Virginia | 51 | 0.7908 | 0.7725 | 99951
51250 | Marshall County, W Virginia | 9000 | 0.7168 | 0.7168 | 48540
51260 | Mason County, W Virginia | 51 | 0.7908 | 0.7725 | 99951
51270 | Mercer County, W Virginia | 51 | 0.7908 | 0.7725 | 99951
51280 | Mineral County, W Virginia | 1900 | 0.9326 | 0.9326 | 19060
51290 | Mingo County, W Virginia | 51 | 0.7908 | 0.7725 | 99951
51300 | Monongalia County, W Virginia | 51 | 0.7908 | 0.8428 | 34060
51310 | Monroe County, W Virginia | 51 | 0.7908 | 0.7725 | 99951
51320 | Morgan County, W Virginia | 51 | 0.7908 | 0.9499 | 25180
51330 | Nicholas County, W Virginia | 51 | 0.7908 | 0.7725 | 99951
51340 | Ohio County, W Virginia | 9000 | 0.7168 | 0.7168 | 48540
51350 | Pendleton County, W Virginia | 51 | 0.7908 | 0.7725 | 99951
51360 | Pleasants County, W Virginia | 51 | 0.7908 | 0.8278 | 37620
51370 | Pocahontas County, W Virginia | 51 | 0.7908 | 0.7725 | 99951
51380 | Preston County, W Virginia | 51 | 0.7908 | 0.8428 | 34060
51390 | Putnam County, W Virginia | 1480 | 0.8428 | 0.8428 | 16620
51400 | Raleigh County, W Virginia | 51 | 0.7908 | 0.7725 | 99951
51410 | Randolph County, W Virginia | 51 | 0.7908 | 0.7725 | 99951
51420 | Ritchie County, W Virginia | 51 | 0.7908 | 0.7725 | 99951
51430 | Roane County, W Virginia | 51 | 0.7908 | 0.7725 | 99951
51440 | Summers County, W Virginia | 51 | 0.7908 | 0.7725 | 99951
51450 | Taylor County, W Virginia | 51 | 0.7908 | 0.7725 | 99951
51460 | Tucker County, W Virginia | 51 | 0.7908 | 0.7725 | 99951
51470 | Tyler County, W Virginia | 51 | 0.7908 | 0.7725 | 99951
51480 | Upshur County, W Virginia | 51 | 0.7908 | 0.7725 | 99951
51490 | Wayne County, W Virginia | 3400 | 0.9486 | 0.9486 | 26580
51500 | Webster County, W Virginia | 51 | 0.7908 | 0.7725 | 99951
51510 | Wetzel County, W Virginia | 51 | 0.7908 | 0.7725 | 99951
51520 | Wirt County, W Virginia | 51 | 0.7908 | 0.8278 | 37620
51530 | Wood County, W Virginia | 6020 | 0.8278 | 0.8278 | 37620
51540 | Wyoming County, W Virginia | 51 | 0.7908 | 0.7725 | 99951
52000 | Adams County, Wisconsin | 52 | 0.9446 | 0.9480 | 99952
52010 | Ashland County, Wisconsin | 52 | 0.9446 | 0.9480 | 99952
52020 | Barron County, Wisconsin | 52 | 0.9446 | 0.9480 | 99952
52030 | Bayfield County, Wisconsin | 52 | 0.9446 | 0.9480 | 99952
52040 | Brown County, Wisconsin | 3080 | 0.9452 | 0.9452 | 24580
52050 | Buffalo County, Wisconsin | 52 | 0.9446 | 0.9480 | 99952
52060 | Burnett County, Wisconsin | 52 | 0.9446 | 0.9480 | 99952
52070 | Calumet County, Wisconsin | 0460 | 0.9248 | 0.9298 | 11540
52080 | Chippewa County, Wisconsin | 2290 | 0.9210 | 0.9210 | 20740
52090 | Clark County, Wisconsin | 52 | 0.9446 | 0.9480 | 99952
52100 | Columbia County, Wisconsin | 52 | 0.9446 | 1.0635 | 31540
52110 | Crawford County, Wisconsin | 52 | 0.9446 | 0.9480 | 99952
52120 | Dane County, Wisconsin | 4720 | 1.0764 | 1.0635 | 31540
52130 | Dodge County, Wisconsin | 52 | 0.9446 | 0.9480 | 99952
52140 | Door County, Wisconsin | 52 | 0.9446 | 0.9480 | 99952
52150 | Douglas County, Wisconsin | 2240 | 1.0223 | 1.0209 | 20260
52160 | Dunn County, Wisconsin | 52 | 0.9446 | 0.9480 | 99952
52170 | Eau Claire County, Wisconsin | 2290 | 0.9210 | 0.9210 | 20740
52180 | Florence County, Wisconsin | 52 | 0.9446 | 0.9480 | 99952
52190 | Fond Du Lac County, Wisconsin | 52 | 0.9446 | 0.9650 | 22540
52200 | Forest County, Wisconsin | 52 | 0.9446 | 0.9480 | 99952
52210 | Grant County, Wisconsin | 52 | 0.9446 | 0.9480 | 99952
52220 | Green County, Wisconsin | 52 | 0.9446 | 0.9480 | 99952
52230 | Green Lake County, Wisconsin | 52 | 0.9446 | 0.9480 | 99952
52240 | Iowa County, Wisconsin | 52 | 0.9446 | 1.0635 | 31540
52250 | Iron County, Wisconsin | 52 | 0.9446 | 0.9480 | 99952
52260 | Jackson County, Wisconsin | 52 | 0.9446 | 0.9480 | 99952
52270 | Jefferson County, Wisconsin | 52 | 0.9446 | 0.9480 | 99952
52280 | Juneau County, Wisconsin | 52 | 0.9446 | 0.9480 | 99952
52290 | Kenosha County, Wisconsin | 3800 | 0.9770 | 1.0440 | 29404
52300 | Kewaunee County, Wisconsin | 52 | 0.9446 | 0.9452 | 24580
52310 | La Crosse County, Wisconsin | 3870 | 0.9573 | 0.9573 | 29100
52320 | Lafayette County, Wisconsin | 52 | 0.9446 | 0.9480 | 99952
52330 | Langlade County, Wisconsin | 52 | 0.9446 | 0.9480 | 99952
52340 | Lincoln County, Wisconsin | 52 | 0.9446 | 0.9480 | 99952
52350 | Manitowoc County, Wisconsin | 52 | 0.9446 | 0.9480 | 99952
52360 | Marathon County, Wisconsin | 8940 | 0.9600 | 0.9600 | 48140
52370 | Marinette County, Wisconsin | 52 | 0.9446 | 0.9480 | 99952
52380 | Marquette County, Wisconsin | 52 | 0.9446 | 0.9480 | 99952
52381 | Menominee County, Wisconsin | 52 | 0.9446 | 0.9480 | 99952
52390 | Milwaukee County, Wisconsin | 5080 | 1.0106 | 1.0106 | 33340
52400 | Monroe County, Wisconsin | 52 | 0.9446 | 0.9480 | 99952
52410 | Oconto County, Wisconsin | 52 | 0.9446 | 0.9452 | 24580
52420 | Oneida County, Wisconsin | 52 | 0.9446 | 0.9480 | 99952
52430 | Outagamie County, Wisconsin | 0460 | 0.9248 | 0.9298 | 11540
52440 | Ozaukee County, Wisconsin | 5080 | 1.0106 | 1.0106 | 33340
52450 | Pepin County, Wisconsin | 52 | 0.9446 | 0.9480 | 99952
52460 | Pierce County, Wisconsin | 5120 | 1.1078 | 1.1078 | 33460
52470 | Polk County, Wisconsin | 52 | 0.9446 | 0.9480 | 99952
52480 | Portage County, Wisconsin | 52 | 0.9446 | 0.9480 | 99952
52490 | Price County, Wisconsin | 52 | 0.9446 | 0.9480 | 99952
52500 | Racine County, Wisconsin | 6600 | 0.9006 | 0.9006 | 39540
52510 | Richland County, Wisconsin | 52 | 0.9446 | 0.9480 | 99952
52520 | Rock County, Wisconsin | 3620 | 0.9547 | 0.9547 | 27500
52530 | Rusk County, Wisconsin | 52 | 0.9446 | 0.9480 | 99952
52540 | St Croix County, Wisconsin | 5120 | 1.1078 | 1.1078 | 33460
52550 | Sauk County, Wisconsin | 52 | 0.9446 | 0.9480 | 99952
52560 | Sawyer County, Wisconsin | 52 | 0.9446 | 0.9480 | 99952
52570 | Shawano County, Wisconsin | 52 | 0.9446 | 0.9480 | 99952
52580 | Sheboygan County, Wisconsin | 7620 | 0.8920 | 0.8920 | 43100
52590 | Taylor County, Wisconsin | 52 | 0.9446 | 0.9480 | 99952
52600 | Trempealeau County, Wisconsin | 52 | 0.9446 | 0.9480 | 99952
52610 | Vernon County, Wisconsin | 52 | 0.9446 | 0.9480 | 99952
52620 | Vilas County, Wisconsin | 52 | 0.9446 | 0.9480 | 99952
52630 | Walworth County, Wisconsin | 52 | 0.9446 | 0.9480 | 99952
52640 | Washburn County, Wisconsin | 52 | 0.9446 | 0.9480 | 99952
52650 | Washington County, Wisconsin | 5080 | 1.0106 | 1.0106 | 33340
52660 | Waukesha County, Wisconsin | 5080 | 1.0106 | 1.0106 | 33340
52670 | Waupaca County, Wisconsin | 52 | 0.9446 | 0.9480 | 99952
52680 | Waushara County, Wisconsin | 52 | 0.9446 | 0.9480 | 99952
52690 | Winnebago County, Wisconsin | 0460 | 0.9248 | 0.9192 | 36780
52700 | Wood County, Wisconsin | 52 | 0.9446 | 0.9480 | 99952
53000 | Albany County, Wyoming | 53 | 0.9214 | 0.9214 | 99953
53010 | Big Horn County, Wyoming | 53 | 0.9214 | 0.9214 | 99953
53020 | Campbell County, Wyoming | 53 | 0.9214 | 0.9214 | 99953
53030 | Carbon County, Wyoming | 53 | 0.9214 | 0.9214 | 99953
53040 | Converse County, Wyoming | 53 | 0.9214 | 0.9214 | 99953
53050 | Crook County, Wyoming | 53 | 0.9214 | 0.9214 | 99953
53060 | Fremont County, Wyoming | 53 | 0.9214 | 0.9214 | 99953
53070 | Goshen County, Wyoming | 53 | 0.9214 | 0.9214 | 99953
53080 | Hot Springs County, Wyoming | 53 | 0.9214 | 0.9214 | 99953
53090 | Johnson County, Wyoming | 53 | 0.9214 | 0.9214 | 99953
53100 | Laramie County, Wyoming | 1580 | 0.8784 | 0.8784 | 16940
53110 | Lincoln County, Wyoming | 53 | 0.9214 | 0.9214 | 99953
53120 | Natrona County, Wyoming | 1350 | 0.9035 | 0.9035 | 16220
53130 | Niobrara County, Wyoming | 53 | 0.9214 | 0.9214 | 99953
53140 | Park County, Wyoming | 53 | 0.9214 | 0.9214 | 99953
53150 | Platte County, Wyoming | 53 | 0.9214 | 0.9214 | 99953
53160 | Sheridan County, Wyoming | 53 | 0.9214 | 0.9214 | 99953
53170 | Sublette County, Wyoming | 53 | 0.9214 | 0.9214 | 99953
53180 | Sweetwater County, Wyoming | 53 | 0.9214 | 0.9214 | 99953
53190 | Teton County, Wyoming | 53 | 0.9214 | 0.9214 | 99953
53200 | Uinta County, Wyoming | 53 | 0.9214 | 0.9214 | 99953
53210 | Washakie County, Wyoming | 53 | 0.9214 | 0.9214 | 99953
53220 | Weston County, Wyoming | 53 | 0.9214 | 0.9214 | 99953

[FR Doc. 05-9934 Filed 5-13-05; 4:15 pm]

BILLING CODE 4120-01-P